DEPARTMENT OF HEALTH AND HUMAN SERVICES

Centers for Medicare & Medicaid Services

42 CFR Parts 411, 412, 413, and 489

[CMS-1533-CN2]

RIN 0938-A070

Medicare Program; Changes to the Hospital Inpatient Prospective Payment Systems and Fiscal Year 2008 Rates; Correction

AGENCY: Centers for Medicare & Medicaid Services (CMS), HHS.

ACTION: Correction of final rule with comment period.

SUMMARY: This document corrects technical errors that appeared in the final rule with comment period entitled “Medicare Program; Changes to the Hospital Inpatient Prospective Payment Systems and Fiscal Year 2008 Rates” that appeared in the August 22, 2007 Federal Register.

DATES: This correction is effective October 1, 2007.

FOR FURTHER INFORMATION CONTACT: Eric Ruiz, (410) 786-0247.

SUPPLEMENTARY INFORMATION:

I. Background

In FR Doc. 07-3820 of August 22, 2007 (72 FR 47130), there were a number of technical errors that are identified and corrected in the Correction of Errors section of this notice. We issued the fiscal year (FY) 2008 hospital inpatient prospective payment systems (IPPS) final rule with comment period on August 1, 2007. The FY 2008 IPPS final rule with comment period appeared in the August 22, 2007 Federal Register.

II. Summary of Errors

We recently discovered that an inadvertent technical error was made in the calculation of hospital specific rates for sole community hospitals (SCHs) and Medicare-dependent hospitals (MDHs). Although we did not publish these hospital specific rates in the FY 2008 IPPS final rule, hospital specific rates affect our calculation of budget neutrality factors for DRG recalibration, the wage index, geographic reclassification, and the rural floor. Accordingly, we have recalculated these budget neutrality factors. Because we recalculated these budget neutrality factors, we also recalculated the standardized amounts and outlier threshold. These changes decreased the standardized amounts slightly and reduce the final FY 2008 outlier threshold by $175. In addition, we are correcting unintentional technical errors in the geographic classification or reclassification for several providers. Therefore, in this notice we are making the following corrections:

• Outlier threshold.

• Recalibration, wage and recalibration, geographic reclassification, and rural floor budget neutrality factors.

• Tables 1A through 1D, 2, 4A, 4C, 4J, 9A, 9C, and 10.

• Impact analysis tables (Tables I, II, III, and IV).

In addition, we have posted these corrected tables on our Web site at http://www.cms.hhs.gov/AcuteInpatientPPS/WIFN/list.asp.

This notice also corrects other technical and typographical errors including the following:

• Date that mediastinitis will be listed on the major complication or comorbidity (MCC) list.

• Tables 5 and 11.

III. Correction of Errors

In FR Doc. 07-3820 of August 22, 2007 (72 FR 47130), make the following corrections:

A. Corrections to the Preamble

1. On page 47142, 3rd column, 2nd full paragraph, lines 1 and 2, the phrase “Division of Acute Care, Center for Medicaid Management” is corrected to read “Division of Acute Care, Center for Medicare Management.”

2. On page 47162, 1st column, 2nd full paragraph, lines 6 and 7, the sentence “The MS DRGs have 3,342 codes on the MCC list and 4,922 codes on the CC list.” is corrected to read “The MS-DRGs have 1584 codes on the MCC list and 3343 codes on the CC list”.

3. On page 47186, 3rd column, 1st partial paragraph, line 20, the figure “$22,650” is corrected to read “$22,460”.

4. On page 47207, 3rd column, last paragraph, lines 4 through 6, the phrase, “injection, transfusion, and vaccination (ventilator-associated pneumonia is also included here).” is corrected to read “injection, transfusion, and vaccination”.

5. On page 47208, 2nd column, 1st full paragraph, lines 4 through 6, the phrase “injection, transfusion, and vaccination (ventilator-associated pneumonia is also indexed here).” is corrected to read “injection, transfusion, and vaccination.”

6. On page 47213, 2nd column, 3rd full paragraph, line 14, the date “October 1, 2009” is corrected to read “October 1, 2008.”

7. On page 47251, top of the page, the table “DRGs Subject to Final Policy”, after line 31 (MDC 5, MS-DRG 242, 243, and 244) is corrected by adding the following entry:

DRGs Subject to Final Policy
MDC | MS-DRG | Narrative description of DRG
5 | 245 | AICD Lead & Generator Procedures (this is a new DRG, with procedures moved from CMS DRG 551, Permanent Cardiac Pacemaker Implant with Major Cardiovascular Diagnosis or AICD Lead or Generator).

8. On page 47387, 3rd column, 1st partial paragraph, line 9, after the phrase “outpatient visit. ” is corrected by adding a sentence to read as follows: “In § 489.20(u), we also added language to specify that § 482.13(b)(2) pertains to the right of the patient to make informed decision regarding his or her care.”

9. On page 47388, 2nd column, 3rd full paragraph, line 8, the phrase “would condition consumers” access to” is corrected to read “would condition consumers' access to”.

10. On page 47391,

a. Third column, 1st full paragraph, line 28 after the phrase “regulatory text we originally proposed.” is corrected by adding a sentence to read as follows: “In § 489.20(v), we also added language to specify that § 482.13(b)(2) pertains to the right of the patient to make informed decision regarding his or her care.”

B. Corrections to the Regulations Text

§ 412.2 [Corrected]

1. On page 47410, 1st column, 2nd paragraph, the section heading “§ 412.2 Basis for payment.” is corrected to read “§ 412.2 Basis of payment.”

C. Corrections to the Addendum

1. On page 47416,

a. First column,

(1) Second full paragraph,

(a) Line 15, the figure “0.996563” is corrected to read “0.996383.”

(b) Line 21, the figure “0.995913.” is corrected to read “0.995743.”

(c) Line 31, the figure “0.995913” is corrected to read “0.995743.”

b. Second column, 1st full paragraph, line 29, the figure “0.991695” is corrected to read “0.991290”.

c. Third column, 1st partial paragraph, line 5, the figure “0.999318” is corrected to read “0.999265.”

2. On page 47419,

a. First column, 1st partial paragraph, line 4, the figure “$22,635.” is corrected to read “$22,460.”

b. Third column,

(1) First full paragraph, line 15, the figure “4.83” is corrected to read “4.87”.

(2) Third full paragraph, after line 7, the figures in the table are corrected to read as follows:

| Operating standardized amounts | Capital federal rate
National | 0.949015 | 0.951251
Puerto Rico | 0.964149 | 0.958732

3. On page 47420, 3rd column, 1st partial paragraph, last line, the figure “0.999903.” is corrected to read “0.999902”.

4. On page 47421, bottom half of the page, in the table Comparison of FY 2007 Standardized Amounts to the FY 2008 Single Standardized Amount with Full Update and Reduced Update, the figures in the listed entries are corrected to read as follows:

Comparison of FY 2007 Standardized Amounts to the FY 2008 Single Standardized Amount With Full Update and Reduced Update
| Full update (3.3 percent); wage index is greater than 1.0000 | Full update (3.3 percent); wage index is less than 1.0000 | Reduced update (1.3 percent); wage index is greater than 1.0000 | Reduced update (1.3 percent); wage index is less than 1.0000
FY 2007 Base Rate, after removing reclassification budget neutrality, demonstration budget neutrality, wage index transition budget neutrality factors and outlier offset (based on the labor and market share percentage for FY 2008) | Labor: $3,609.23 Nonlabor: $1,569.01 | Labor: $3,609.23 Nonlabor: $1,569.01 | Labor: $3,609.23 Nonlabor: $1,569.01 | Labor: $3,609.23. Nonlabor: $1,569.01.
FY 2008 Update Factor | 1.033 | 1.033 | 1.013 | 1.013.
FY 2008 DRG Recalibrations and Wage Index Budget Neutrality Factor | 0.996383 | 0.996383 | 0.996563 | 0.996563.
FY 2008 Reclassification Budget Neutrality Factor | 0.991290 | 0.991290 | 0.991290 | 0.991290.
Adjusted for Blend of FY 2007 DRG Recalibration and Wage Index Budget Neutrality Factors | Labor: $3,682.49 Nonlabor: $1,600.86 | Labor: $3,275.68 Nonlabor: $2,007.67 | Labor: $3,611.20 Nonlabor: $1,569.86 | Labor: $3,212.26. Nonlabor: $1,968.80.
Imputed Rural Floor Budget Neutrality Factor | 0.999265 | 0.999265 | 0.999265 | 0.999265.
FY 2008 Outlier Factor | 0.949015 | 0.949015 | 0.949015 | 0.949015.
Rural Demonstration Budget Neutrality Factor | 0.999902 | 0.999902 | 0.999902 | 0.999902.
FY 2008 Documentation and Coding Adjustment | 0.988 | 0.988 | 0.988 | 0.988.
Rural Floor Adjustment | 1.002214 | 1.002214 | 1.002214 | 1.002214.
Rate for FY 2008 | Labor: $3,457.57 Nonlabor: $1,503.07 | Labor: $3,075.60 Nonlabor: $1,885.04 | Labor: $3,390.63 Nonlabor: $1,473.97 | Labor: $3,016.05. Nonlabor: $1,848.55.

5. On page 47423, 1st column, 3rd full paragraph, line 14, the figure “0.983962.” is corrected to read “0.983794.”

6. On page 47424, 3rd column, 2nd full paragraph, last line, the figure “0.86” is corrected to read “0.91”.

7. On page 47428,

a. First column,

(1) First full paragraph,

(a) Line 13, the figure “4.83” is corrected to read “4.87”.

(b) Line 16, the figure “0.9517” is corrected to read “0.9513.”

(2) Second full paragraph,

(a) Lines 5 and 6, the phrase, “0.9517 is a −0.53 percent” is corrected to read “0.9513 is −0.57 percent”.

(b) Lines 10 and 11, the figures “0.9947(0.9517/0.9568).” are corrected to read “0.9943(0.9513/0.9568).”

(c) Line 13, the figure “0.53” is corrected to read “0.57”.

b. Third column,

(1) First full paragraph,

(a) Line 9, the phrase “FY 2008 relative weights” is corrected to read, “FY 2007 relative weights”.

(b) Line 22, the figure “1.0018” is corrected to read “1.0017”.

(c) Line 25, the phrase “adjustment of 0.9924” is corrected to read “adjustment of 0.9923”.

(2) Second full paragraph,

(a) Line 4, the date “FY 2007 GAF” is corrected to read “FY 2008 GAF”.

(b) Line 15, the figure “0.9903” is corrected to read “0.9902.”

8. On page 47429, in the table Budget Neutrality Adjustment for DRG Reclassifications and Recalibration and the Geographic Adjustment Factors, the listed entry is corrected to read as follows:

Fiscal year | National: Incremental adjustment: Geographic adjustment factor | National: Incremental adjustment: DRG reclassifications and recalibration | National: Incremental adjustment: Combined | National: Cumulative
2008 | 1.00172 | 0.99792 | 0.99963 | 0.99021

9. On page 47430, 1st column, 2nd full paragraph,

(1) Line 8, the figure “0.9997.” is corrected to read “0.9996.”

(2) Line 20, the figure “0.9997.” is corrected to read “0.9996.”

(3) Line 22, the figure “0.9903” is corrected to read “0.9902.”

10. On page 47431,

a. Second column,

(2) Second full paragraph, line 6, the figure “0.9997.” is corrected to read “0.9996.”

(3) Third full paragraph, line 2, the figure “0.9517.” is corrected to read “0.9513.”

b. Third column,

(1) First paragraph,

(a) Line 10, the figure “0.03” is corrected to read, “0.04”.

(b) Line 13, the figure “0.53” is corrected to read, “0.57”.

(c) Lines 33, the figure “0.86” is corrected to read, “0.91”.

c. Bottom half of the page, the table Comparison of Factors and Adjustments: FY 2007 Capital Federal Rate and FY 2008 Capital Federal Rate, the table and footnotes are corrected to read as follows:

Comparison of Factors and Adjustments: FY 2007 Capital Federal Rate and FY 2008 Capital Federal Rate
| FY 2007 | FY 2008 ⁴ | Change | Percent change ⁵
Update Factor ¹ | 1.0110 | 1.0090 | 1.0090 | 0.00
GAF/DRG Adjustment Factor ¹ | 0.9986 | 0.9996 | 0.9996 | −0.04
Outlier Adjustment Factor ² | 0.9568 | 0.9513 | 0.9943 | −0.57
Exceptions Adjustment Factor ² | 0.9997 | 0.9997 | 1.0000 | 0.00
MS-DRG Upcoding Adjustment Factor ³ |  | 0.9880 | 0.9880 | −1.20
Capital Federal Rate | $427.03 | $423.13 | 0.9909 | −0.91
¹ The update factor and the GAF/DRG budget neutrality factors are built permanently into the capital rates. Thus, for example, the incremental change from FY 2007 to FY 2008 resulting from the application of the 0.9996 GAF/DRG budget neutrality factor for FY 2008 is 0.9996.
² The outlier reduction factor and the exceptions adjustment factor are not built permanently into the capital rates; that is, these factors are not applied cumulatively in determining the capital rates. Thus, for example, the net change resulting from the application of the FY 2008 outlier adjustment factor is 0.9513/0.9568, or 0.9943.
³ Adjustment to FY 2008 IPPS rates to account for upcoding expected to result from the adoption of the MS-DRGs, as discussed above in section III. of the Addendum to this final rule with comment period.
⁴ Factors for FY 2008, as discussed above in section III. of the Addendum to this final rule with comment period.
⁵ Percent change of individual factors may not sum due to rounding.

11. On page 47432,

a. Top of the page, the table Comparison of Factors and Adjustments: Proposed FY 2008 Capital Federal Rate and Final FY 2008 Capital Federal Rate, the table is corrected to read as follows:

Comparison of Factors and Adjustments: Proposed FY 2008 Capital Federal Rate and Final FY 2008 Capital Federal Rate
| Proposed FY 2008 for rural hospitals | Proposed FY 2008 for urban hospitals | Final FY 2008 for all hospitals* | Percent change for rural hospitals** | Percent change for urban hospitals**
Update Factor | 1.0080 | 1.0000 | 1.0090 | 0.10 | 0.90
GAF/DRG Adjustment Factor | 1.0018 | 1.0018 | 0.9996 | −0.22 | −0.22
Outlier Adjustment Factor | 0.9484 | 0.9484 | 0.9513 | 0.31 | 0.31
Exceptions Adjustment Factor | 0.9997 | 0.9997 | 0.9997 | 0.00 | 0.00
MS-DRG Upcoding Adjustment Factor | 0.9760 | 0.9760 | 0.9880 | 1.23 | 1.23
Capital Federal Rate | $417.26 | $413.87 | $423.13 | 1.41 | 2.24

b. Second column, 2nd full paragraph, line 10, the figure “$199.80.” is corrected to read “$200.32.”

c. Third column, 4th full paragraph, line 16, the figure “$22,635.” is corrected to read “$22,460.”

12. On page 47435,

a. In Table 1A.—National Adjusted Operating Standardized Amounts, Labor/Nonlabor (69.7 Percent Labor Share/30.3 Percent Nonlabor Share if Wage Index Greater Than 1), the table is corrected to read as follows:

Table 1A.—National Adjusted Operating Standardized Amounts; Labor/Nonlabor
[(69.7 Percent labor share/30.3 percent nonlabor share if wage index greater than 1)]
Full update (3.3 percent): Labor-related | Full update (3.3 percent): Nonlabor-related | Reduced update (1.3 percent): Labor-related | Reduced update (1.3 percent): Nonlabor-related
$3,457.57 | $1,503.07 | $3,390.63 | $1,473.97

b. In Table 1B.—National Adjusted Operating Standardized Amounts, Labor/Nonlabor (62 Percent Labor Share/38 Percent Nonlabor Share if Wage Index Less Than or Equal to 1), the table is corrected to read as follows:

Table 1B.—National Adjusted Operating Standardized Amounts, Labor/Nonlabor
[(62 Percent labor share/38 percent nonlabor share if wage index less than or equal to 1)]
Full update (3.3 percent): Labor-related | Full update (3.3 percent): Nonlabor-related | Reduced update (1.3 percent): Labor-related | Reduced update (1.3 percent): Nonlabor-related
$3,075.60 | $1,885.04 | $3,016.05 | $1,848.55

c. In Table 1C.—Adjusted Operating Standardized Amounts for Puerto Rico Labor, Labor/Nonlabor, the table is corrected to read as follows:

Table 1C.—Adjusted Operating Standardized Amounts for Puerto Rico, Labor/Nonlabor
| Rates if wage index greater than 1: Labor | Rates if wage index greater than 1: Nonlabor | Rates if wage index less than or equal to 1: Labor | Rates if wage index less than or equal to 1: Nonlabor
National | $3,457.57 | $1,503.07 | $3,075.60 | $1,885.04
Puerto Rico | 1,453.58 | 890.90 | 1,376.21 | 968.27

d. In Table 1D.—Capital Standard Federal Payment Rate, the table is corrected to read as follows:

Table 1D.—Capital Standard Federal Payment Rate
| Rate
National | $423.13
Puerto Rico | $200.32

13. On pages 47435 through 47496, in Table 2.—Hospital Case-Mix Indexes for Discharges Occurring in Federal Fiscal Year 2006; Hospital Wage Indexes for Federal Fiscal Year 2008; Hospital Average Hourly Wages for Federal Fiscal Years 2006 (2002 Wage Data), 2007 (2003 Wage Data), and 2008 (2004 Wage Data); and 3-Year Average of Hospital Average Hourly Wages, the wage index for the listed provider numbers are corrected to read as follows:

Table 2.—Hospital Case-Mix Indexes for Discharges Occuring in Federal Fiscal Year 2006; Hospital Wage Indexes for Federal Fiscal Year 2008; Hospital Average Hourly Wages for Federal Fiscal Years 2006 (2002 Wage Data), 2007 (2003 Wage Data), and 2008 (2004 Wage Data); and 3-Year Average of Hospital Average Hourly Wages
Provider No. | Case-mix index ² | FY 2008 wage index | Average hourly wage FY 2006 | Average hourly wage FY 2007 | Average hourly wage FY 2008 ¹ | Average hourly wage **(3 years)
010001 | 1.5191 | 0.7567 | 21.6546 | 22.1989 | 23.2195 | 22.3615
010005 | 1.1378 | 0.8690 | 22.4906 | 23.6022 | 23.0203 | 23.0415
010006 | 1.5126 | 0.7693 | 23.4823 | 23.4975 | 23.7502 | 23.5724
010007 | 1.0207 | 0.7567 | 18.2429 | 19.9329 | 21.3492 | 19.8699
010008 | 1.0417 | 0.7741 | 20.4591 | 17.9533 | 22.0793 | 19.9268
010009 | 0.9702 | 0.8725 | 23.2228 | 23.5626 | 25.9011 | 24.2272
010010 | 1.1043 | 0.8690 | 21.4974 | 27.0385 | 22.8602 | 23.5943
010011 | 1.6748 | 0.8856 | 27.4850 | 27.6658 | 27.4668 | 27.5393
010012 | 1.2356 | 0.9388 | 22.7020 | 24.4059 | 25.5767 | 24.1956
010015 | 1.0427 | 0.7613 | 21.5111 | 22.3383 | 27.0806 | 23.3440
010016 | 1.5770 | 0.8856 | 25.1502 | 24.6488 | 26.8611 | 25.5444
010018 | 1.7123 | 0.8856 | 22.2990 | 23.7048 | 24.8974 | 23.6077
010019 | 1.2722 | 0.7693 | 22.0906 | 22.8766 | 23.3460 | 22.7785
010021 | 1.1851 | 0.7567 | 18.6785 | 19.7367 | 21.0624 | 19.7975
010022 | 0.9498 | 0.9813 | 24.5671 | 25.8404 | 27.4318 | 25.9300
010023 | 1.8506 | 0.8112 | 27.6174 | 25.4272 | 26.1739 | 26.4108
010024 | 1.6018 | 0.8112 | 20.7265 | 22.0819 | 25.0715 | 22.5306
010025 | 1.3028 | 0.8588 | 21.2674 | 22.7635 | 23.6186 | 22.5541
010027 | 0.7634 | 0.7567 | 15.3705 | 16.4682 | 17.0513 | 16.2718
010029 | 1.5710 | 0.8588 | 22.6976 | 23.9007 | 25.0468 | 23.9133
010032 | 0.9313 | 0.7892 | 19.1555 | 19.3311 | 18.5545 | 19.0122
010033 | 2.0854 | 0.8856 | 26.3784 | 27.4181 | 29.1471 | 27.6506
010034 | 1.0453 | 0.8112 | 16.9686 | 17.7457 | 19.1549 | 17.9513
010035 | 1.3134 | 0.8690 | 22.2870 | 24.2425 | 24.2746 | 23.6062
010036 | 1.1619 | 0.7567 | 22.9747 | 21.5796 | 24.2887 | 22.9479
010038 | 1.2689 | 0.8023 | 21.4509 | 23.7039 | 27.0752 | 24.1209
010039 | 1.6606 | 0.9018 | 25.8820 | 26.9919 | 28.6462 | 27.1994
010040 | 1.6563 | 0.8144 | 22.8851 | 24.3207 | 24.7657 | 23.9967
010043 | 1.0807 | 0.8856 | 22.5944 | 21.9774 | 23.9121 | 22.8205
010044 | 1.0847 | 0.8690 | 21.4036 | 22.5009 | 24.4276 | 22.7205
010045 | 1.2233 | 0.8690 | 19.8803 | 20.4927 | 23.1695 | 21.0755
010046 | 1.5335 | 0.8144 | 21.6965 | 23.4219 | 25.9105 | 23.5410
010047 | 0.8960 | 0.7694 | 21.0605 | 26.4851 | 19.7542 | 21.9502
010049 | 1.1433 | 0.7567 | 20.2413 | 21.7888 | 22.4248 | 21.5072
010050 | 1.0408 | 0.8856 | 22.1584 | 22.9620 | 24.4060 | 23.1658
010051 | 0.8299 | 0.8531 | 15.2207 | 18.7701 | 18.0305 | 17.3881
010052 | 0.8767 | 0.7670 | 16.4958 | 25.9233 | 36.3638 | 26.9159
010053 | *** | * | 19.0108 | * | * | 19.0108
010054 | 1.0736 | 0.8725 | 22.5554 | 23.3624 | 24.4810 | 23.4780
010055 | 1.6124 | 0.7567 | 22.3800 | 22.5396 | 22.4145 | 22.4451
010056 | 1.6378 | 0.8856 | 23.7144 | 23.7398 | 24.5754 | 24.0311
010058 | 1.0119 | 0.8856 | 18.5538 | 19.5092 | 17.0150 | 18.2415
010059 | 1.0245 | 0.8725 | 21.3237 | 23.0012 | 24.8199 | 23.0577
010061 | 0.9828 | 0.8109 | 21.9370 | 24.1185 | 25.2454 | 23.7791
010062 | 1.0225 | 0.7567 | 18.3435 | 21.4805 | 21.7112 | 20.4976
010064 | 1.6963 | 0.8856 | 26.1110 | 24.8155 | 27.6149 | 26.1441
010065 | 1.5265 | 0.8690 | 21.3785 | 23.0477 | 24.3346 | 22.9447
010066 | 0.8369 | 0.7567 | 17.6152 | 19.8692 | 25.4612 | 20.9377
010068 | *** | * | 19.0789 | 22.7156 | 24.4145 | 22.0070
010069 | 1.0252 | 0.7567 | 21.3609 | 23.1243 | 23.6272 | 22.6667
010072 | *** | * | 21.8169 | 24.4989 | * | 23.1419
010073 | 0.9793 | 0.7567 | 16.4168 | 18.3963 | 19.0046 | 17.9415
010078 | 1.6180 | 0.8023 | 21.6857 | 23.5279 | 24.3828 | 23.2230
010079 | 1.2228 | 0.9018 | 21.8199 | 22.7337 | 22.3034 | 22.2840
010083 | 1.1887 | 0.8123 | 22.3040 | 22.4279 | 24.0036 | 22.9553
010084 | 1.3254 | 0.8856 | 24.7127 | 26.3238 | 26.5079 | 25.8383
010085 | 1.3335 | 0.8725 | 24.4710 | 24.2609 | 23.6280 | 24.1072
010086 | 1.0994 | 0.7567 | 18.6081 | 22.2096 | 21.5584 | 20.7409
010087 | 1.9947 | 0.7948 | 22.5225 | 22.4318 | 24.8320 | 23.2268
010089 | 1.2932 | 0.8856 | 22.8448 | 25.0811 | 26.2628 | 24.6788
010090 | 1.7444 | 0.8540 | 23.6948 | 26.0494 | 26.3957 | 25.3396
010091 | 0.9568 | 0.7613 | 18.6912 | 23.1310 | 22.5272 | 21.3026
010092 | 1.5529 | 0.8531 | 24.4592 | 26.6796 | 26.9959 | 26.0279
010095 | 0.8468 | 0.8531 | 13.9326 | 16.5250 | 17.0024 | 15.8689
010097 | 0.7113 | 0.8112 | 16.7549 | 19.4511 | 19.2481 | 18.5000
010098 | 0.9805 | * | 14.3076 | * | * | 14.3076
010099 | 0.9660 | 0.7567 | 18.7910 | 20.8383 | 20.6736 | 20.0891
010100 | 1.6851 | 0.8123 | 21.2915 | 23.8919 | 25.1460 | 23.5431
010101 | 1.1060 | 0.8690 | 21.6593 | 24.2575 | 25.0974 | 23.6323
010102 | 0.9334 | 0.7567 | 21.0902 | 25.6158 | 26.9859 | 24.5977
010103 | 1.8910 | 0.8856 | 26.1163 | 27.8272 | 28.9636 | 27.5991
010104 | 1.8838 | 0.8856 | 24.7394 | 27.6471 | 28.3126 | 26.8465
010108 | 1.0938 | 0.8112 | 28.4624 | 24.6740 | 25.4325 | 26.1487
010109 | 0.9828 | 0.8018 | 21.6194 | 17.6733 | 21.0449 | 20.0231
010110 | 0.7586 | 0.7782 | 17.5957 | 26.0038 | 19.8738 | 20.8832
010112 | 0.9652 | 0.7567 | 16.8902 | 17.1833 | 20.4027 | 18.1182
010113 | 1.6646 | 0.7948 | 21.4121 | 22.3282 | 24.7170 | 22.7864
010114 | 1.3662 | 0.8856 | 22.3752 | 25.6152 | 25.7090 | 24.6272
010115 | 0.6881 | * | 21.7477 | * | * | 21.7477
010118 | 1.2151 | 0.8162 | 19.7673 | 21.4630 | 22.7191 | 21.2742
010120 | 0.9625 | 0.7567 | 20.9450 | 20.9019 | 22.1868 | 21.3553
010121 | *** | * | 24.0867 | * | * | 24.0867
010125 | 1.0635 | 0.8043 | 18.4113 | 21.5123 | 22.8911 | 20.8639
010126 | 1.1765 | 0.8112 | 23.1381 | 23.9327 | 24.4957 | 23.8552
010128 | 0.8778 | 0.7613 | 21.4200 | 23.6647 | 24.9881 | 23.3836
010129 | 1.0394 | 0.7701 | 21.3555 | 22.1574 | 21.8502 | 21.7888
010130 | 1.0252 | 0.8856 | 23.2488 | 23.7528 | 24.5644 | 23.8767
010131 | 1.3963 | 0.9018 | 25.7837 | 26.4297 | 27.2707 | 26.5327
010137 | 1.2204 | 0.8856 | 24.7366 | 27.5782 | 28.5843 | 26.9190
010138 | 0.6023 | 0.7633 | 13.8476 | 16.7602 | 14.5551 | 15.1032
010139 | 1.5875 | 0.8856 | 25.3014 | 26.8726 | 28.1473 | 26.8270
010143 | 1.2118 | 0.8690 | 22.0215 | 26.2762 | 24.0674 | 24.0861
010144 | 1.6376 | 0.7948 | 20.8209 | 22.5133 | 22.3916 | 21.9338
010145 | 1.4727 | 0.8531 | 24.9531 | 24.5092 | 25.8293 | 25.1083
010146 | 1.0794 | 0.8023 | 20.8917 | 22.6586 | 22.6879 | 22.1063
010148 | 0.8692 | 0.7567 | 20.5589 | 23.9246 | 23.5714 | 22.6800
010149 | 1.2877 | 0.8112 | 26.5854 | 24.4805 | 25.4354 | 25.4861
010150 | 1.0284 | 0.8112 | 21.6377 | 23.6080 | 24.4098 | 23.2040
010152 | 1.2978 | 0.7948 | 22.6202 | 22.4075 | 23.7803 | 22.9411
010157 | 1.1357 | 0.7693 | 24.3559 | 23.3828 | 24.2206 | 23.9837
010158 | 1.1916 | 0.7832 | 24.3531 | 23.5533 | 25.5905 | 24.4669
010162 | *** | * | * | 33.8777 | * | 33.8777
010163 | *** | * | * | * | 34.0325 | 34.0325
010164 | 1.1737 | 0.7976 | * | * | 23.2447 | 23.2447
010165 | *** | * | * | * | 28.8040 | 28.8040
010166 | *** | * | * | * | 29.7256 | 29.7256
010167 | 1.4919 | 0.8856 | * | * | * | *
010168 | 1.1249 | 0.9020 | * | * | * | *
020001 | 1.7991 | 1.2084 | 32.8120 | 35.4232 | 36.5298 | 34.9510
020004 | 1.1287 | * | 32.0966 | 31.8004 | * | 31.9467
020006 | 1.3160 | 1.2084 | 36.0540 | 34.3752 | 37.0211 | 35.7758
020008 | 1.2411 | 1.2084 | 35.9236 | 36.1250 | 39.3432 | 37.1503
020012 | 1.3780 | 1.2084 | 31.8995 | 32.5975 | 33.9375 | 32.8391
020014 | 1.1294 | 1.2084 | 32.0894 | 29.4472 | 30.9722 | 30.8221
020017 | 1.9188 | 1.2084 | 33.5852 | 35.4119 | 35.8804 | 34.9149
020018 | 0.9273 | 1.9280 | * | * | * | *
020019 | 0.8687 | 1.9280 | * | * | * | *
020024 | 1.1780 | 1.2084 | 33.0644 | 29.5195 | 38.6934 | 33.4500
020026 | 1.4935 | 1.9280 | * | * | * | *
020027 | 0.9341 | 1.9280 | * | * | * | *
030001 | 1.5488 | 1.0111 | 29.9840 | 32.4791 | 33.4178 | 31.9042
030002 | 2.0931 | 1.0111 | 29.0519 | 30.2200 | 31.0818 | 30.0874
030006 | 1.6975 | 0.9417 | 25.8872 | 27.0599 | 27.7421 | 26.9373
030007 | 1.4495 | 1.1187 | 29.6174 | 31.1928 | 33.7213 | 31.5818
030009 | *** | * | 22.3993 | 26.5408 | * | 23.8204
030010 | 1.4087 | 0.9417 | 24.8275 | 28.5684 | 30.6261 | 28.0431
030011 | 1.4962 | 0.9417 | 25.1361 | 28.1423 | 28.8203 | 27.4688
030012 | 1.3876 | 0.9961 | 26.3859 | 27.3895 | 29.1042 | 27.6846
030013 | 1.4744 | 1.0086 | 25.7050 | 27.0111 | 31.2815 | 28.0280
030014 | 1.5918 | 1.0111 | 25.6259 | 29.6582 | 29.8296 | 28.4308
030016 | 1.2374 | 1.0111 | 26.7003 | 29.1980 | 30.7896 | 28.9890
030017 | 2.0652 | 1.0111 | 26.2452 | 30.6007 | 34.4852 | 30.7776
030018 | 1.3205 | 1.0111 | 28.9476 | 29.4566 | 31.8056 | 30.0512
030019 | 1.3316 | 1.0111 | 27.3156 | 29.5921 | 30.1934 | 29.0814
030022 | 1.5703 | 1.0111 | 26.4404 | 30.5710 | 30.3746 | 29.2068
030023 | 1.7873 | 1.1552 | 33.8333 | 34.2142 | 35.8287 | 34.6826
030024 | 2.0639 | 1.0111 | 31.6658 | 31.9247 | 33.1797 | 32.2883
030027 | 0.9709 | * | 20.4032 | * | * | 20.4032
030030 | 1.5768 | 1.0111 | 30.2712 | 32.0994 | 34.4166 | 32.2546
030033 | 1.2960 | 1.1187 | 26.6531 | 28.7508 | 29.9383 | 28.4685
030036 | 1.4588 | 1.0111 | 30.3521 | 30.9834 | 33.0523 | 31.6117
030037 | 2.1478 | 1.0111 | 28.6453 | 31.2877 | 34.1079 | 31.4098
030038 | 1.6801 | 1.0111 | 29.5509 | 29.9314 | 31.7238 | 30.2225
030040 | 0.9098 | * | 24.8145 | 27.5322 | * | 26.1823
030043 | 1.2683 | 0.8855 | 24.7932 | 26.5834 | 27.3856 | 26.2806
030055 | 1.4591 | 0.9577 | 24.5202 | 27.1473 | 27.1621 | 26.3554
030060 | 1.0894 | * | 24.3523 | 24.8373 | * | 24.5964
030061 | 1.6799 | 1.0111 | 25.5529 | 28.0696 | 28.1337 | 27.3140
030062 | 1.2025 | 0.8855 | 23.8068 | 26.6880 | 28.9587 | 26.5838
030064 | 1.9657 | 0.9417 | 25.4922 | 28.3853 | 29.8226 | 28.0126
030065 | 1.5912 | 1.0111 | 27.1646 | 29.5883 | 31.0817 | 29.3880
030067 | 1.0582 | 0.9153 | 20.4376 | 20.7591 | 27.4497 | 22.9601
030068 | 1.1135 | 0.8855 | 20.8846 | 23.1394 | 23.8792 | 22.6625
030069 | 1.4256 | 0.9334 | 26.3518 | 30.2224 | 29.7802 | 28.7293
030071 | 0.8920 | 1.4401 | * | * | * | *
030073 | 1.0393 | 1.4401 | * | * | * | *
030074 | 0.8727 | 1.4401 | * | * | * | *
030077 | 0.7686 | 1.4401 | * | * | * | *
030078 | 0.9911 | 1.4401 | * | * | * | *
030080 | 1.5497 | 0.9417 | 25.2077 | 27.1360 | 28.6568 | 27.0149
030083 | 1.4230 | 1.0111 | 27.5353 | 27.4983 | 33.5302 | 29.3979
030084 | 0.9008 | 1.4401 | * | * | * | *
030085 | 1.5896 | 0.9417 | 24.5792 | 26.8364 | 28.1388 | 26.6166
030087 | 1.6937 | 1.0111 | 26.6594 | 29.5962 | 31.2331 | 29.4038
030088 | 1.3707 | 1.0111 | 26.6796 | 27.8604 | 29.9758 | 28.2309
030089 | 1.6397 | 1.0111 | 27.1835 | 28.9068 | 30.1591 | 28.8100
030092 | 1.4993 | 1.0111 | 27.3203 | 31.7512 | 30.6343 | 30.0167
030093 | 1.2962 | 1.0111 | 25.8955 | 26.4430 | 27.8821 | 26.8453
030094 | 1.4039 | 1.0111 | 29.5948 | 31.5422 | 33.4050 | 31.6120
030099 | 0.8736 | 0.8855 | 26.3236 | 27.1402 | 26.9227 | 26.8026
030100 | 2.0564 | 0.9417 | 29.0691 | 31.5628 | 34.7532 | 31.7816
030101 | 1.4424 | 1.1223 | 26.1927 | 27.8302 | 30.6764 | 28.3394
030102 | 2.3653 | 1.0111 | 29.0942 | 31.6285 | 33.6247 | 31.5058
030103 | 1.7635 | 1.0111 | 30.1994 | 31.7322 | 32.2833 | 31.3997
030105 | 2.2401 | 1.0111 | 31.3094 | 31.2970 | 32.7449 | 31.8780
030106 | 1.7527 | 1.0111 | 34.7221 | 32.9840 | 36.4667 | 34.9449
030107 | 1.9168 | 1.0111 | * | 35.6197 | 35.5386 | 35.5721
030108 | 2.0446 | 1.0111 | * | * | 29.9395 | 29.9395
030109 | *** | * | * | 16.5906 | * | 16.5906
030110 | 1.6188 | 1.0111 | * | 31.4852 | 29.7949 | 30.5015
030111 | 1.0309 | 0.9417 | * | * | 33.3711 | 33.3711
030112 | 1.9762 | 1.0111 | * | * | 36.6601 | 36.6601
030113 | 0.8959 | 1.4401 | * | * | * | *
030114 | 1.3883 | 0.9417 | * | * | * | *
030115 | 1.3514 | 1.0111 | * | * | * | *
030117 | 1.1079 | 0.9334 | * | * | * | *
030118 | 1.0969 | 0.9961 | * | * | * | *
030119 | 1.1665 | 1.0111 | * | * | * | *
040001 | 1.0776 | 0.8872 | 23.7718 | 22.9327 | 22.9948 | 23.2132
040002 | 1.2042 | 0.7516 | 20.1384 | 21.2020 | 25.0000 | 22.0327
040004 | 1.7265 | 0.8872 | 25.0286 | 27.1741 | 28.1117 | 26.7791
040007 | 1.7562 | 0.8961 | 25.7142 | 40.1291 | 29.1941 | 31.6856
040010 | 1.4682 | 0.8872 | 23.0274 | 24.2315 | 26.5287 | 24.6226
040011 | 1.0455 | 0.7516 | 20.3970 | 21.0967 | 22.2431 | 21.2830
040014 | 1.3571 | 0.8725 | 25.3451 | 26.4777 | 28.9855 | 26.8514
040015 | 0.9961 | 0.7516 | 19.2831 | 20.4279 | 20.1061 | 19.9379
040016 | 1.7616 | 0.8961 | 22.1228 | 25.8056 | 26.5911 | 24.8386
040017 | 1.0969 | 0.8715 | 21.9875 | 21.9147 | 23.8768 | 22.5741
040018 | 1.0812 | 0.8053 | 23.6044 | 24.0026 | 25.6751 | 24.3852
040019 | 1.1088 | 0.8964 | 23.7328 | 23.8706 | 24.9113 | 24.1695
040020 | 1.5861 | 0.8964 | 21.6603 | 22.6497 | 23.9470 | 22.7542
040021 | 1.5370 | 0.8961 | 25.6917 | 25.4046 | 26.1853 | 25.7538
040022 | 1.5695 | 0.8872 | 25.4052 | 29.5000 | 27.9902 | 27.5948
040026 | 1.5090 | 0.9106 | 25.4072 | 27.7931 | 29.5299 | 27.6091
040027 | 1.4827 | 0.8620 | 21.1412 | 21.4252 | 23.8220 | 22.1274
040029 | 1.4947 | 0.8961 | 24.0704 | 24.8409 | 25.1479 | 24.6992
040036 | 1.6105 | 0.8961 | 26.3226 | 27.6234 | 29.7150 | 27.9675
040039 | 1.2755 | 0.8153 | 19.5998 | 21.2712 | 21.4819 | 20.7976
040041 | 1.1732 | 0.8725 | 22.1531 | 23.7787 | 26.4964 | 24.1438
040042 | 1.3805 | 0.9314 | 19.9627 | 21.1716 | 19.8709 | 20.3344
040045 | 1.0416 | * | 17.2281 | * | * | 17.2281
040047 | 1.1288 | 0.7633 | 21.9163 | 22.4249 | 23.0358 | 22.4531
040050 | 1.2290 | 0.7516 | 16.3930 | 17.6906 | 18.5119 | 17.5660
040051 | 0.9632 | 0.7516 | 19.1400 | 21.3342 | 22.0394 | 20.8386
040053 | *** | * | 20.7823 | * | * | 20.7823
040054 | *** | * | 18.2685 | 18.0509 | 19.5353 | 18.6008
040055 | 1.5244 | 0.8053 | 23.3156 | 23.0448 | 24.9164 | 23.7097
040062 | 1.6625 | 0.8053 | 23.3082 | 23.8994 | 25.2303 | 24.1355
040067 | 1.1373 | 0.7523 | 16.8800 | 19.0471 | 18.9872 | 18.2681
040069 | 1.0183 | 0.8964 | 24.4662 | 24.8060 | 24.9996 | 24.7603
040071 | 1.4578 | 0.8725 | 24.3824 | 25.4680 | 25.2840 | 25.0575
040072 | 1.1153 | 0.7516 | 19.9009 | 22.4741 | 22.1058 | 21.4220
040074 | 1.1975 | 0.8961 | 25.2423 | 25.2699 | 26.2661 | 25.5884
040075 | *** | * | 18.3253 | * | * | 18.3253
040076 | 1.0000 | 0.8725 | 20.6272 | 23.5742 | 23.0954 | 22.4197
040077 | 0.9991 | * | 18.2082 | * | * | 18.2082
040078 | 1.5994 | 0.9106 | 24.5377 | 23.5915 | 26.1937 | 24.6735
040080 | 1.0440 | 0.8503 | 22.3392 | 24.1921 | 24.8760 | 23.8555
040081 | 0.8581 | 0.7873 | 15.1081 | 16.8437 | 17.2536 | 16.4124
040084 | 1.1949 | 0.8961 | 24.7225 | 27.7626 | 26.6449 | 26.4201
040085 | 0.9758 | 0.8964 | 29.8444 | 22.9916 | 25.7215 | 25.8637
040088 | 1.4610 | 0.7765 | 22.6183 | 22.4860 | 23.6276 | 22.9191
040091 | 1.1764 | 0.7782 | 23.1320 | 24.2398 | 23.1913 | 23.5100
040100 | 1.3403 | 0.8725 | 20.0460 | 21.3051 | 22.6131 | 21.3769
040105 | 1.0556 | * | 18.2182 | * | * | 18.2182
040109 | 1.1066 | * | 22.8801 | * | * | 22.8801
040114 | 1.8129 | 0.8961 | 24.8992 | 26.7581 | 27.7928 | 26.5383
040118 | 1.4728 | 0.8503 | 24.7363 | 26.0388 | 26.8908 | 25.8812
040119 | 1.4205 | 0.8725 | 21.0103 | 24.3680 | 24.2419 | 23.2187
040126 | *** | * | 14.0700 | 15.6985 | 17.3715 | 15.6137
040132 | *** | * | 28.1393 | * | 22.0054 | 24.3534
040134 | 2.3671 | 0.8961 | 27.3412 | 31.9325 | 32.2832 | 30.5661
040137 | 1.3102 | 0.8961 | 25.2907 | 25.9979 | 27.7360 | 26.2750
040138 | 1.4215 | 0.8872 | 25.7513 | 27.8584 | 28.3342 | 27.5137
040141 | 0.8436 | 0.8872 | 24.0901 | 26.1041 | 30.3475 | 26.8847
040142 | 1.4672 | 0.9106 | 27.9696 | 21.4222 | 23.8620 | 24.1239
040143 | *** | * | * | 37.1976 | * | 37.1976
040144 | *** | * | * | 21.4008 | * | 21.4008
040145 | 1.7860 | 0.8503 | * | * | 24.4367 | 24.4367
040146 | *** | * | * | * | 33.7876 | 33.7876
040147 | 1.7139 | 0.8961 | * | * | * | *
050002 | 1.3854 | 1.5354 | 34.1948 | 35.5184 | 41.7336 | 37.3207
050006 | 1.6408 | 1.2652 | 30.5373 | 33.5751 | 37.1639 | 33.5391
050007 | 1.4971 | 1.4948 | 38.7033 | 43.4440 | 45.8773 | 42.7095
050008 | 1.2726 | 1.4828 | 39.1539 | 49.3167 | 46.8706 | 45.1816
050009 | 1.8133 | 1.4268 | 39.6393 | 43.0584 | 46.2186 | 43.0443
050013 | 1.9732 | 1.4268 | 31.9837 | 35.7591 | 43.5623 | 36.9784
050014 | 1.2471 | 1.2919 | 33.0373 | 36.0305 | 37.4135 | 35.5238
050015 | 1.3247 | * | 30.7940 | 32.2188 | * | 31.5274
050016 | 1.3297 | 1.2055 | 26.2161 | 24.5768 | 31.0653 | 27.2795
050017 | 1.9740 | 1.3068 | 36.6593 | 39.6653 | 42.2200 | 39.5192
050018 | 1.1994 | 1.1736 | 22.3472 | 23.3204 | 31.8310 | 25.3549
050022 | 1.5661 | 1.1736 | 29.8632 | 31.6467 | 33.0592 | 31.4883
050024 | 1.1366 | 1.1736 | 27.5587 | 29.4062 | 33.4334 | 30.2003
050025 | 1.8859 | 1.1736 | 36.1622 | 33.5466 | 32.7476 | 34.1071
050026 | 1.5103 | 1.1736 | 28.3027 | 31.5250 | 33.1277 | 31.0373
050028 | 1.2341 | 1.1736 | 26.6160 | 27.3826 | 28.5736 | 27.5339
050030 | 1.2224 | 1.1736 | 24.9707 | 27.2945 | 30.9014 | 27.6434
050036 | 1.5133 | 1.1736 | 32.7929 | 33.8000 | 36.0905 | 34.2482
050038 | 1.6423 | 1.5441 | 38.7527 | 44.2265 | 48.7483 | 44.0206
050039 | 1.6082 | 1.1736 | 31.6734 | 35.2630 | 36.6943 | 34.5173
050040 | 1.2674 | 1.1736 | 34.3279 | 35.8322 | 35.7054 | 35.3257
050042 | 1.5020 | 1.2652 | 33.9415 | 37.3760 | 40.3326 | 37.2065
050043 | 1.6341 | 1.5354 | 43.1589 | 45.4887 | 48.2283 | 45.6945
050045 | 1.3077 | 1.1736 | 23.8408 | 25.0150 | 27.0676 | 25.4080
050046 | 1.1412 | 1.1736 | 25.6875 | 26.1926 | 29.1125 | 26.9715
050047 | 1.7685 | 1.4828 | 40.9874 | 55.9367 | 45.1675 | 47.4627
050054 | 1.1914 | 1.1736 | 24.1262 | 21.3650 | 24.0338 | 23.1316
050055 | 1.3290 | 1.4828 | 37.5879 | 42.9516 | 44.2926 | 41.4282
050056 | 1.3794 | 1.1736 | 27.9330 | 30.6126 | 32.7693 | 30.4552
050057 | 1.6643 | 1.1736 | 29.4351 | 30.0236 | 31.7467 | 30.4506
050058 | 1.6021 | 1.1736 | 33.8215 | 33.1409 | 37.2538 | 34.6985
050060 | 1.4479 | 1.1736 | 27.3282 | 29.9762 | 32.0196 | 29.7255
050061 | *** | * | 32.2172 | * | * | 32.2172
050063 | 1.3845 | 1.1736 | 33.3039 | 34.0906 | 36.3085 | 34.5048
050065 | *** | * | 34.0280 | 34.9110 | 38.2421 | 35.7006
050067 | 1.1973 | 1.2020 | 31.9597 | 38.8070 | 40.1393 | 37.4080
050069 | 1.7482 | 1.1736 | 31.2172 | 34.6353 | 35.3850 | 33.8185
050070 | 1.2780 | 1.4948 | 45.3382 | 47.4099 | 46.4009 | 46.4522
050071 | 1.2898 | 1.5344 | 44.9464 | 50.7602 | 49.6495 | 48.7326
050072 | 1.3417 | 1.5344 | 44.2651 | 49.4344 | 50.0343 | 48.1855
050073 | 1.3036 | 1.5344 | 45.9765 | 49.9730 | 49.0069 | 48.5026
050075 | 1.3055 | 1.5354 | 47.2356 | 54.4089 | 49.8290 | 50.5649
050076 | 1.8910 | 1.5344 | 46.4991 | 52.3788 | 50.2039 | 49.9372
050077 | 1.6158 | 1.1736 | 32.0245 | 34.8660 | 36.5384 | 34.5331
050078 | 1.2608 | 1.1736 | 31.1425 | 32.0133 | 30.4274 | 31.1478
050079 | 1.5056 | 1.5344 | 47.8597 | 47.3449 | 48.8994 | 47.9784
050082 | 1.6846 | 1.1736 | 37.7783 | 38.2878 | 37.8905 | 37.9882
050084 | 1.5633 | 1.1942 | 33.0179 | 35.5196 | 39.5748 | 36.0222
050088 | *** | * | 25.7385 | * | * | 25.7385
050089 | 1.3519 | 1.1736 | 33.5324 | 33.9593 | 36.4018 | 34.5988
050090 | 1.2783 | 1.4802 | 32.9584 | 33.8953 | 37.7421 | 34.8400
050091 | 1.0225 | 1.1736 | 30.8560 | 32.1301 | 37.1223 | 33.3203
050093 | 1.5015 | 1.1736 | 33.4118 | 36.9481 | 36.8486 | 35.7397
050096 | 1.2246 | 1.1736 | 24.6679 | 34.9237 | 33.1322 | 30.9608
050099 | 1.4850 | 1.1736 | 31.0437 | 33.4174 | 32.0650 | 32.2103
050100 | 1.8315 | 1.1736 | 29.6949 | 31.4404 | 33.3959 | 31.5609
050101 | 1.2932 | 1.5344 | 40.3195 | 42.4589 | 47.9327 | 43.6371
050102 | 1.2847 | 1.1736 | 29.1364 | 32.0617 | 32.8434 | 31.6405
050103 | 1.5381 | 1.1736 | 34.2529 | 34.0935 | 35.6773 | 34.7050
050104 | 1.4331 | 1.1736 | 29.7326 | 32.3043 | 33.6204 | 31.9100
050107 | 1.5168 | 1.1736 | 33.1358 | 32.5846 | 33.5687 | 33.0959
050108 | 1.9263 | 1.3068 | 35.5711 | 38.8672 | 42.0131 | 38.9520
050110 | 1.2783 | 1.1736 | 26.1453 | 26.8408 | 28.0670 | 27.0290
050111 | 1.2625 | 1.1736 | 28.1588 | 28.7875 | 31.8766 | 29.6686
050112 | 1.5360 | 1.1736 | 36.8026 | 37.7281 | 38.9483 | 37.8620
050113 | 1.2266 | 1.4948 | 33.8064 | 39.4882 | 42.8884 | 38.6364
050114 | 1.4296 | 1.1736 | 31.1295 | 34.0309 | 35.7274 | 33.6746
050115 | 1.4671 | 1.1736 | 30.9288 | 28.8051 | 32.5257 | 30.7642
050116 | 1.7151 | 1.1736 | 34.5109 | 36.8825 | 37.6018 | 36.4210
050117 | *** | * | 32.4413 | 34.2020 | 35.0531 | 33.2964
050118 | 1.2250 | 1.2020 | 35.4044 | 39.9683 | 41.6701 | 39.0065
050121 | 1.2978 | 1.1736 | 27.9537 | 30.6105 | 34.6244 | 31.1240
050122 | 1.5193 | 1.1942 | 34.2416 | 33.9812 | 34.0259 | 34.0785
050124 | 1.2869 | 1.1736 | 28.0288 | 30.2522 | 29.9944 | 29.4697
050125 | 1.5000 | 1.5441 | 41.7020 | 44.9523 | 47.7578 | 44.7946
050126 | 1.4916 | 1.1736 | 29.3360 | 31.7619 | 32.6686 | 31.2868
050127 | 1.3314 | 1.3068 | 26.1222 | 32.0355 | 40.7610 | 31.7807
050128 | 1.4725 | 1.1736 | 31.0662 | 31.1308 | 33.4233 | 31.8929
050129 | 1.8417 | 1.1736 | 32.2680 | 34.7359 | 36.9887 | 34.5850
050131 | 1.3370 | 1.4802 | 40.5321 | 45.3152 | 47.5257 | 44.5040
050132 | 1.4264 | 1.1736 | 35.1544 | 35.9199 | 39.6807 | 36.9017
050133 | 1.5413 | 1.2919 | 31.3530 | 31.9527 | 33.1814 | 32.2802
050135 | 1.0333 | 1.1736 | 24.3927 | 25.1813 | 25.3209 | 25.0624
050136 | 1.3553 | 1.4802 | 37.4560 | 43.3747 | 46.6619 | 42.5341
050137 | 1.4485 | 1.1736 | 38.4827 | 39.1496 | 40.2457 | 39.4250
050138 | 1.7510 | 1.1736 | 46.9557 | 45.3727 | 40.6343 | 43.8129
050139 | 1.3026 | 1.1736 | 37.6217 | 37.8986 | 38.7385 | 38.1892
050140 | 1.3857 | 1.1736 | 39.6269 | 40.9725 | 39.4954 | 39.9747
050144 | *** | * | 33.5109 | 33.6662 | 38.2424 | 35.1804
050145 | 1.4357 | 1.4594 | 42.3134 | 42.2921 | 48.0796 | 44.3363
050146 | 1.7450 | * | * | * | * | *
050148 | 1.0844 | * | 27.3005 | 28.2305 | * | 27.7734
050149 | 1.4992 | 1.1736 | 33.2270 | 35.8821 | 37.3616 | 35.7587
050150 | 1.2109 | 1.2919 | 31.7560 | 33.6583 | 37.9946 | 34.4499
050152 | 1.4661 | 1.4828 | 43.6487 | 46.1553 | 51.6567 | 47.1769
050153 | 1.4470 | 1.5441 | 43.3190 | 42.8955 | 47.6374 | 44.7563
050155 | *** | * | 21.8550 | 16.9516 | 16.7756 | 18.0652
050158 | 1.3557 | 1.1736 | 35.1326 | 35.7805 | 39.9160 | 36.9712
050159 | 1.4329 | 1.1736 | 31.3199 | 32.5704 | 34.6915 | 32.9769
050167 | 1.3248 | 1.1942 | 28.5179 | 31.4798 | 34.0418 | 31.2303
050168 | 1.6239 | 1.1736 | 33.2506 | 37.9784 | 40.5973 | 37.3823
050169 | 1.4402 | 1.1736 | 27.4644 | 29.4693 | 31.4115 | 29.5647
050172 | *** | * | 28.5604 | * | * | 28.5604
050173 | 1.3511 | 1.1736 | 30.3582 | 29.0576 | 31.6717 | 30.3454
050174 | 1.5310 | 1.4802 | 40.1747 | 44.4199 | 48.1740 | 44.3520
050175 | *** | * | 30.5733 | 33.3061 | 35.0152 | 32.9392
050177 | *** | * | 25.1442 | 24.0717 | * | 24.6196
050179 | 1.2416 | 1.2020 | 27.1155 | 30.4973 | 31.6651 | 30.0130
050180 | 1.5481 | 1.5344 | 40.2504 | 42.0358 | 45.7099 | 42.7961
050188 | 1.4245 | 1.5441 | 39.5110 | 41.0943 | 43.7381 | 41.3973
050189 | 1.0027 | 1.4594 | 29.1279 | 30.1155 | 28.7580 | 29.3259
050191 | 1.5039 | 1.1736 | 34.2091 | 37.7805 | 37.8756 | 36.5700
050192 | 0.9795 | 1.1736 | 27.0424 | 27.1400 | 27.8386 | 27.3401
050193 | 1.2009 | 1.1736 | 29.6421 | 33.9520 | 29.0623 | 30.7523
050194 | 1.3918 | 1.5721 | 40.9096 | 44.7107 | 49.0030 | 44.8987
050195 | 1.5358 | 1.5354 | 48.4358 | 48.8595 | 53.5583 | 50.3395
050196 | 1.0252 | 1.1736 | 32.1933 | 34.0956 | 32.8293 | 33.0383
050197 | 2.1090 | 1.5344 | 48.9053 | 50.0728 | 52.9998 | 50.6892
050204 | 1.4292 | 1.1736 | 28.6423 | 32.0121 | 35.3954 | 32.0139
050205 | 1.4338 | 1.1736 | 27.8611 | 29.3334 | 30.6322 | 29.3026
050207 | *** | * | 29.5214 | 30.0062 | 31.3431 | 30.2629
050211 | 1.2807 | 1.5354 | 41.2166 | 35.0515 | 35.0289 | 36.9047
050214 | *** | * | 23.9972 | 25.4647 | * | 24.7211
050215 | *** | * | 43.7985 | 48.8112 | 50.7578 | 47.7260
050219 | 1.2434 | 1.1736 | 22.4065 | 26.4143 | 25.8378 | 24.8927
050222 | 1.7011 | 1.1736 | 29.1094 | 32.3882 | 33.7510 | 31.8388
050224 | 1.7135 | 1.1736 | 29.3143 | 32.5010 | 35.7280 | 32.5355
050225 | 1.4565 | 1.1736 | 29.9656 | 34.0836 | 35.1227 | 33.2224
050226 | 1.6587 | 1.1736 | 30.5867 | 32.4411 | 35.4597 | 32.8050
050228 | 1.2780 | 1.4828 | 42.4226 | 43.7939 | 47.1430 | 44.4650
050230 | 1.5630 | 1.1736 | 32.9555 | 34.0600 | 35.8490 | 34.3219
050231 | 1.6220 | 1.1736 | 30.9607 | 32.1813 | 33.7139 | 32.3034
050232 | 1.7586 | 1.2055 | 27.4099 | 26.3004 | 34.3242 | 29.3642
050234 | 1.1638 | 1.1736 | 29.6561 | 32.3726 | 34.8308 | 32.2031
050235 | 1.5172 | 1.1736 | 29.2979 | 30.5405 | 37.0858 | 32.3689
050236 | 1.4069 | 1.1736 | 32.1647 | 33.0686 | 32.6462 | 32.6402
050238 | 1.5198 | 1.1736 | 31.1764 | 33.3346 | 34.0823 | 32.9745
050239 | 1.6081 | 1.1736 | 31.0963 | 33.1148 | 35.9041 | 33.4240
050240 | *** | * | 35.5735 | 36.1154 | 40.7427 | 37.4962
050242 | 1.3910 | 1.5721 | 44.3130 | 46.4844 | 50.9882 | 47.3502
050243 | 1.6367 | 1.1736 | 31.4883 | 32.9385 | 36.1209 | 33.6114
050245 | 1.3986 | 1.1736 | 28.6527 | 27.3866 | 33.2556 | 29.8371
050248 | 1.0733 | 1.4594 | 35.3864 | * | 40.4941 | 37.6896
050251 | *** | * | 27.2675 | 27.8452 | * | 27.5819
050253 | *** | * | 24.0044 | 23.5381 | * | 23.7879
050254 | 1.2483 | 1.3068 | 27.0041 | 31.2386 | 33.0865 | 30.5679
050256 | *** | * | 29.8194 | 29.6793 | 32.7159 | 30.6561
050257 | 0.9657 | 1.1736 | 21.3216 | 20.1829 | 24.0737 | 21.8495
050261 | 1.3143 | 1.1736 | 27.3234 | 29.2150 | 30.8704 | 29.2688
050262 | 2.1509 | 1.1736 | 44.0256 | 39.9946 | 41.4835 | 41.8533
050264 | 1.3224 | 1.5354 | 41.1211 | 47.7024 | 43.4181 | 44.0806
050270 | *** | * | 32.4812 | 33.6855 | 36.0111 | 34.0811
050272 | 1.3840 | 1.1736 | 27.1989 | 29.4671 | 30.9290 | 29.2682
050276 | 1.1508 | 1.5344 | 39.3778 | 41.1406 | 43.7943 | 41.5076
050277 | 1.0162 | 1.1736 | 32.5213 | 35.4443 | 35.0079 | 34.2968
050278 | 1.5556 | 1.1736 | 29.9244 | 31.8712 | 34.3798 | 32.1741
050279 | 1.1670 | 1.1736 | 27.6573 | 29.7118 | 31.6738 | 29.7052
050280 | 1.6965 | 1.2810 | 35.2030 | 38.8341 | 41.3912 | 38.4324
050281 | 1.3944 | 1.1736 | 27.3824 | 29.4882 | 31.6639 | 29.5782
050283 | 1.4818 | 1.5354 | 43.0638 | 44.3122 | 43.6855 | 43.6928
050289 | 1.6753 | 1.4948 | 41.1774 | 44.2814 | 50.1762 | 45.4611
050290 | 1.7010 | 1.1736 | 34.5482 | 37.3563 | 40.6192 | 37.4597
050291 | 1.9433 | 1.4802 | 35.3653 | 38.4365 | 41.2100 | 38.2986
050292 | 1.0703 | 1.1736 | 26.8879 | 26.9786 | 27.3365 | 27.0752
050295 | 1.4721 | 1.1736 | 36.1950 | 34.7382 | 38.4256 | 36.5470
050296 | 1.1731 | 1.5441 | 39.0060 | 39.9842 | 42.5405 | 40.5415
050298 | 1.1699 | 1.1736 | 27.7416 | 30.2022 | 33.7864 | 30.5471
050299 | *** | * | 31.5435 | 35.1249 | 32.3707 | 32.9747
050300 | 1.4383 | 1.1736 | 30.7148 | 30.2874 | 33.6821 | 31.6610
050301 | 1.2929 | 1.4147 | 31.9995 | 35.9491 | 37.1103 | 35.1041
050305 | 1.4781 | 1.5354 | 44.8630 | 44.9681 | 48.5339 | 46.1773
050308 | 1.5103 | 1.5441 | 43.0691 | 43.7413 | 46.4180 | 44.3895
050309 | 1.4582 | 1.3068 | 34.4145 | 38.2659 | 40.1499 | 37.7086
050312 | *** | * | 33.9022 | 36.8498 | * | 35.1423
050313 | 1.2035 | 1.1942 | 31.8003 | 35.0478 | 37.5024 | 34.9828
050315 | 1.2649 | 1.1736 | 28.5933 | 33.2038 | 32.5538 | 31.5496
050320 | 1.3051 | 1.5354 | 40.2352 | 45.7686 | 46.2071 | 44.0268
050324 | 1.7775 | 1.1736 | 32.9792 | 34.5503 | 36.3474 | 34.6949
050325 | 1.2706 | 1.1769 | 30.6116 | 31.3730 | 37.0441 | 33.1665
050327 | 1.7326 | 1.1736 | 33.0087 | 33.9507 | 35.9349 | 34.3185
050329 | 1.2912 | 1.1736 | 26.2121 | 23.2927 | 33.0390 | 27.5539
050331 | 1.1678 | * | 20.2692 | * | * | 20.2692
050333 | 1.0046 | 1.1736 | 23.4009 | 19.6352 | 18.6534 | 20.3803
050334 | 1.6297 | 1.4594 | 40.7467 | 43.9656 | 47.2968 | 44.0650
050335 | 1.3979 | 1.1769 | 28.9403 | 30.9928 | 34.7192 | 31.6181
050336 | 1.2364 | 1.1942 | 28.5659 | 30.4664 | 31.5480 | 30.2596
050342 | 1.2383 | 1.1736 | 26.8507 | 29.2244 | 30.4226 | 28.9062
050348 | 1.7681 | 1.1736 | 37.7898 | 31.5156 | 32.7107 | 33.8510
050349 | 0.9573 | 1.1736 | 17.4791 | 24.4863 | 25.4266 | 22.6536
050350 | 1.3644 | 1.1736 | 31.1833 | 31.0136 | 31.7908 | 31.3398
050351 | 1.5102 | 1.1736 | 30.8661 | 30.6599 | 33.3064 | 31.6205
050352 | 1.3903 | 1.3068 | 33.9362 | 36.7673 | 37.0807 | 35.9210
050353 | 1.4804 | 1.1736 | 31.8291 | 29.4215 | 30.4206 | 30.5535
050357 | 1.4436 | 1.1736 | 32.3095 | 32.6763 | 36.2089 | 33.9116
050359 | 1.1695 | 1.1736 | 25.7739 | 29.8345 | 31.3391 | 29.0490
050360 | 1.4971 | 1.4802 | 37.0769 | 47.4497 | 52.3811 | 45.4210
050366 | 1.1802 | 1.1751 | 31.1854 | 33.6714 | 37.1527 | 33.8230
050367 | 1.4016 | 1.5344 | 38.7727 | 38.6330 | 40.1904 | 39.2572
050369 | 1.4153 | 1.1736 | 29.5697 | 30.6439 | 32.2467 | 30.8346
050373 | 1.5107 | 1.1736 | 31.9271 | 35.1380 | 34.3737 | 33.8407
050376 | 1.5472 | 1.1736 | 32.9393 | 34.3539 | 35.2837 | 34.2241
050378 | 0.9463 | 1.1736 | 34.2417 | 37.9904 | 40.1923 | 37.5531
050379 | *** | * | 32.9576 | * | * | 32.9576
050380 | 1.6789 | 1.5441 | 42.0781 | 46.0276 | 49.4258 | 45.7911
050382 | 1.3885 | 1.1736 | 29.4323 | 30.4014 | 32.6683 | 30.8167
050385 | 1.3083 | 1.4802 | 34.5183 | 36.8107 | 36.4188 | 35.9492
050390 | 1.1270 | 1.1736 | 26.0066 | 27.3183 | 27.9359 | 27.0767
050391 | *** | * | 18.1005 | 17.2141 | * | 17.6460
050393 | 1.4101 | 1.1736 | 30.0661 | 34.1743 | 35.6356 | 33.2874
050394 | 1.6049 | 1.1736 | 27.5061 | 27.4861 | 32.1894 | 29.1045
050396 | 1.6109 | 1.1736 | 33.5699 | 32.4918 | 37.3972 | 34.4575
050397 | 0.7608 | 1.1736 | 28.1639 | 28.3671 | 29.6825 | 28.7688
050407 | 1.1110 | 1.4828 | 37.9066 | 42.2748 | 44.6839 | 41.6954
050410 | *** | * | 21.3814 | * | * | 21.3814
050411 | 1.3617 | 1.1736 | 37.8064 | 38.8294 | 38.6328 | 38.4664
050414 | 1.3219 | 1.3068 | 34.6672 | 38.7585 | 41.8688 | 38.5190
050417 | 1.2763 | 1.1736 | 29.5031 | 32.9341 | 36.1222 | 32.8901
050419 | 0.8450 | * | 33.3124 | * | * | 33.3124
050420 | *** | * | 24.9401 | 35.2869 | 39.9237 | 32.7481
050423 | 1.0733 | 1.1736 | 30.6416 | 28.3768 | 31.9751 | 30.4055
050424 | 1.9946 | 1.1736 | 31.0730 | 34.5680 | 36.6091 | 34.1652
050425 | 1.3231 | 1.3068 | 42.4177 | 49.2245 | 46.6628 | 46.3213
050426 | 1.4953 | 1.1736 | 30.6899 | 33.2031 | 34.9855 | 32.9985
050430 | 0.9678 | 1.1736 | 25.0604 | 23.9045 | 24.5327 | 24.4191
050432 | *** | * | 30.8030 | 33.1876 | 35.2416 | 33.0686
050433 | 1.6238 | 1.1736 | 23.0807 | 21.3573 | 21.1287 | 21.8785
050434 | 1.0477 | 1.1736 | 26.1622 | 32.6255 | 33.7794 | 31.2611
050435 | 1.2745 | 1.1736 | 28.0305 | 30.6530 | 33.0372 | 30.6068
050438 | 1.5345 | 1.1736 | 27.2662 | 36.3026 | 36.2044 | 33.3758
050441 | 1.9501 | 1.5441 | 42.9765 | 44.5694 | 46.6160 | 44.7589
050444 | 1.3280 | 1.2214 | 30.5504 | 34.6313 | 37.6821 | 34.7268
050447 | 0.9382 | 1.1736 | 25.2573 | 26.7960 | 29.0780 | 27.0889
050448 | 1.3449 | 1.1736 | 27.9759 | 30.6201 | 32.7748 | 30.3937
050454 | 1.9048 | 1.4828 | 43.5311 | 38.5833 | 40.2811 | 40.7579
050455 | 1.6157 | 1.1736 | 22.7235 | 30.4606 | 34.5445 | 29.0773
050456 | 1.2382 | 1.1736 | 22.5630 | 21.6261 | 27.7659 | 24.0209
050457 | 1.6411 | 1.4828 | 45.5828 | 47.8947 | 50.0282 | 47.8438
050464 | 1.6927 | 1.2020 | 37.3692 | 38.3058 | 41.6235 | 39.0262
050468 | 1.5316 | 1.1736 | 29.5448 | 31.1111 | 35.7409 | 32.2602
050469 | 1.0345 | * | 28.9080 | 30.6502 | * | 29.7684
050470 | 1.1011 | 1.1736 | 24.6755 | 27.8678 | 31.0466 | 28.1052
050471 | 1.7531 | 1.1736 | 34.5211 | 35.4768 | 36.8680 | 35.6234
050476 | 1.4502 | 1.4147 | 34.6585 | 38.7856 | 41.1042 | 38.1894
050477 | *** | * | 34.6995 | 37.7668 | 40.1566 | 37.8028
050478 | 0.9888 | 1.1736 | 33.3999 | 40.2558 | 41.1668 | 38.4344
050481 | 1.4426 | 1.1736 | 33.7445 | 36.1394 | 38.8650 | 36.2140
050485 | 1.6524 | 1.1736 | 31.4233 | 36.1488 | 34.6219 | 34.0204
050488 | 1.3381 | 1.5354 | 42.9904 | 42.6854 | 45.0630 | 43.6228
050491 | *** | * | 32.1379 | 34.3598 | * | 33.1420
050492 | 1.2500 | 1.1736 | 27.1540 | 28.0826 | 30.7718 | 28.6561
050494 | 1.3595 | 1.2919 | 35.9910 | 38.1177 | 40.6384 | 38.1894
050496 | 1.7137 | 1.5344 | 42.2672 | 48.2468 | 51.6363 | 47.5810
050498 | 1.3353 | 1.3068 | 33.0298 | 37.1667 | 41.0350 | 37.0348
050502 | 1.7120 | 1.1736 | 29.5616 | 28.7046 | 31.8872 | 30.0325
050503 | 1.5059 | 1.1736 | 31.6418 | 34.0994 | 37.3605 | 34.4052
050506 | 1.6121 | 1.2055 | 36.0164 | 37.7420 | 39.8586 | 37.9166
050510 | 1.1736 | 1.5344 | 47.5510 | 52.5376 | 49.4533 | 49.9483
050512 | 1.4090 | 1.5354 | 46.9233 | 50.9264 | 48.8057 | 49.0411
050515 | 1.4085 | 1.1736 | 38.9978 | 38.9542 | 40.2957 | 39.4965
050516 | 1.4990 | 1.3068 | 36.2772 | 39.8161 | 43.0249 | 39.7478
050517 | 1.2487 | 1.1736 | 23.9007 | 20.0213 | 22.4096 | 21.9265
050523 | 1.2609 | 1.5344 | 35.5452 | 40.6535 | 43.4579 | 39.9385
050526 | 1.3236 | 1.1736 | 31.3744 | 28.1997 | 33.3964 | 30.8791
050528 | 1.1384 | 1.1736 | 29.6838 | 31.4941 | 36.2908 | 32.6332
050531 | 1.0427 | 1.1736 | 26.9420 | 27.1974 | 28.3348 | 27.4859
050534 | 1.4830 | 1.1736 | 29.8603 | 33.1666 | 36.6447 | 33.1978
050535 | *** | * | 32.3723 | 34.6143 | 37.8174 | 35.0680
050537 | 1.4153 | 1.3068 | 31.3844 | 34.9931 | 38.2145 | 35.0179
050539 | *** | * | 29.8242 | * | * | 29.8242
050541 | 1.5793 | 1.5344 | 46.1121 | 52.5908 | 48.0867 | 48.9365
050543 | 0.7499 | 1.1736 | 26.1103 | 29.4443 | 24.4913 | 26.5587
050545 | 0.8097 | 1.1736 | 30.5554 | 31.3080 | 35.3209 | 32.3832
050546 | 0.6608 | 1.1736 | 30.2329 | 33.2245 | 36.5099 | 33.2376
050547 | 0.9370 | 1.4802 | 33.2204 | 34.8401 | 33.8036 | 33.9243
050548 | 0.8110 | 1.1736 | 30.3775 | 39.2234 | 41.1075 | 36.6565
050549 | 1.5409 | 1.1736 | 34.9818 | 35.2792 | 38.3927 | 36.2153
050550 | *** | * | 30.2301 | 30.9612 | 34.9476 | 31.9494
050551 | 1.3354 | 1.1736 | 31.6165 | 34.0467 | 37.2506 | 34.3701
050552 | 1.0600 | 1.1736 | 27.1744 | 33.0711 | 33.9810 | 31.2584
050557 | 1.6021 | 1.2020 | 31.8048 | 33.3654 | 35.7023 | 33.6767
050561 | 1.5394 | 1.1736 | 38.8652 | 38.0196 | 38.2543 | 38.3445
050567 | 1.6001 | 1.1736 | 32.9829 | 35.7063 | 37.6384 | 35.4790
050568 | 1.1557 | 1.1736 | 24.4061 | 25.2337 | 26.0908 | 25.2915
050569 | 1.3188 | * | 33.0259 | 31.6785 | * | 32.3431
050570 | 1.5431 | 1.1736 | 34.0171 | 34.5161 | 38.4373 | 35.7023
050571 | *** | * | 33.6156 | 34.7627 | 39.0649 | 35.8458
050573 | 1.6281 | 1.1736 | 34.1991 | 34.7279 | 35.2842 | 34.7594
050575 | 1.2413 | 1.1736 | 25.2513 | 25.1457 | 23.7990 | 24.6725
050577 | *** | * | 30.8841 | 32.3744 | * | 31.6437
050578 | 1.5073 | 1.1736 | 33.8825 | 35.2390 | 31.3639 | 33.5051
050579 | *** | * | 39.4976 | 42.5081 | * | 40.8657
050580 | 1.2333 | 1.1736 | 31.6256 | 31.5806 | 34.1531 | 32.4721
050581 | 1.4916 | 1.1736 | 32.1801 | 34.0136 | 37.7567 | 34.6700
050583 | 1.6463 | 1.1736 | 33.3697 | 34.5747 | 37.4450 | 35.0070
050584 | 1.3197 | 1.1736 | 24.8180 | 30.3434 | 30.7839 | 28.6031
050585 | *** | * | 22.7121 | 22.2521 | * | 22.4798
050586 | 1.2833 | 1.1736 | 27.4173 | 26.4782 | 31.3513 | 28.3870
050588 | 1.3520 | 1.1736 | 32.8212 | 32.7556 | 37.7387 | 34.4140
050589 | 1.1529 | 1.1736 | 30.9546 | 34.5100 | 37.6886 | 34.3942
050590 | 1.2947 | 1.3068 | 32.2142 | 38.4971 | 41.7519 | 37.3616
050591 | *** | * | 28.8549 | 30.6106 | 34.7133 | 31.3307
050592 | *** | * | 24.4542 | 27.3606 | 31.8053 | 27.4568
050594 | *** | * | 34.7946 | 36.5256 | 42.0788 | 37.6355
050597 | 1.2585 | 1.1736 | 27.5691 | 28.8294 | 31.5625 | 29.3959
050599 | 1.8926 | 1.3068 | 38.1975 | 32.7835 | 34.7187 | 35.1751
050601 | 1.5530 | 1.1736 | 34.7409 | 36.0572 | 39.7717 | 36.8588
050603 | 1.4447 | 1.1736 | 30.2464 | 34.0275 | 35.0279 | 33.2305
050604 | 1.3981 | 1.5441 | 49.9428 | 55.0821 | 49.4446 | 51.2951
050608 | 1.2664 | 1.1736 | 23.3630 | 30.4169 | 31.2909 | 28.2962
050609 | 1.2820 | 1.1736 | 41.1797 | 41.7208 | 39.7397 | 40.7273
050613 | *** | * | * | 42.8108 | 42.9930 | 42.8892
050615 | *** | * | 33.2909 | 35.9547 | 39.1299 | 36.0890
050616 | 1.5105 | 1.1736 | 36.9017 | 37.7284 | 37.1200 | 37.2515
050618 | 0.9805 | 1.1736 | 27.4539 | 31.3182 | 33.1472 | 30.7682
050623 | *** | * | 32.0627 | * | * | 32.0627
050624 | 1.2787 | 1.1736 | 32.2907 | 33.9594 | 35.9346 | 34.1566
050625 | 1.7417 | 1.1736 | 36.3631 | 38.6591 | 41.0439 | 38.7106
050630 | *** | * | 30.9410 | * | * | 30.9410
050633 | 1.2282 | 1.2055 | 35.3734 | 36.8302 | 38.4916 | 36.8992
050636 | 1.2917 | 1.1736 | 30.5156 | 32.5576 | 33.0718 | 32.0958
050641 | 1.2925 | 1.1736 | 21.4612 | 39.6921 | 32.3586 | 29.3383
050644 | 0.9879 | 1.1736 | 27.6547 | 28.8237 | 30.7981 | 29.0878
050660 | 1.7387 | * | * | * | * | *
050662 | 0.8701 | 1.5441 | 32.6362 | 33.2446 | 38.3017 | 34.3633
050663 | 1.2787 | 1.1736 | 25.7747 | 27.7334 | 17.7035 | 22.5204
050667 | 0.8474 | 1.4268 | 26.3937 | 24.2771 | 25.9161 | 25.5327
050668 | 1.2080 | 1.4828 | 31.8065 | 56.6555 | 51.6049 | 44.4447
050674 | 1.1462 | 1.3068 | 42.6866 | 48.0893 | 47.0720 | 46.1691
050677 | 1.4838 | 1.1736 | 38.7984 | 38.5770 | 39.2161 | 38.8994
050678 | 1.3184 | 1.1736 | 30.7219 | 32.4473 | 33.7633 | 32.3842
050680 | 1.2329 | 1.5344 | 38.3946 | 38.2871 | 37.9856 | 38.2008
050682 | 0.8469 | 1.1736 | 21.7792 | 17.9077 | 22.2193 | 20.5433
050684 | 1.1133 | 1.1736 | 26.4234 | 27.5256 | 28.8378 | 27.6192
050686 | 1.2184 | 1.1736 | 40.9486 | 41.0188 | 39.7757 | 40.4752
050688 | 1.2024 | 1.5441 | 41.9325 | 44.1510 | 49.4062 | 45.3230
050689 | 1.5246 | 1.5344 | 42.2018 | 45.0951 | 48.8533 | 45.3625
050690 | 1.1505 | 1.4802 | 47.2769 | 50.9094 | 49.0226 | 49.1863
050693 | 1.3838 | 1.1736 | 35.0621 | 34.5797 | 39.6838 | 36.3980
050694 | 1.0491 | 1.1736 | 28.9544 | 30.7858 | 32.1065 | 30.6719
050695 | *** | * | 35.6548 | 39.6004 | 49.0340 | 41.9291
050696 | 2.2803 | 1.1736 | 35.9220 | 37.3837 | 39.8963 | 37.7297
050697 | 1.1042 | 1.2810 | 25.1984 | 16.6605 | 22.1441 | 20.8111
050699 | *** | * | 26.8211 | 28.9083 | 21.5725 | 25.9115
050701 | 1.3268 | 1.1736 | 29.6253 | 31.9529 | 34.9876 | 32.5132
050704 | 1.0048 | 1.1736 | 25.3488 | 29.7740 | 31.6097 | 29.0145
050707 | 1.2478 | 1.4948 | 34.0550 | 35.7311 | 43.5555 | 37.4838
050708 | 1.5880 | 1.1736 | 22.5034 | 30.5860 | 31.8442 | 27.9326
050709 | 1.4145 | 1.1736 | 25.6119 | 26.8549 | 24.5621 | 25.5804
050710 | 1.4535 | 1.1736 | 39.9858 | 45.8022 | 44.2482 | 43.5809
050713 | *** | * | 20.2803 | 21.1273 | 21.4825 | 20.8079
050714 | 1.3819 | 1.5721 | 33.6676 | 31.9527 | 34.1542 | 33.3149
050717 | 1.4472 | 1.1736 | 38.0796 | 39.3227 | 38.8773 | 38.7316
050718 | *** | * | 21.4996 | 25.5140 | 31.9622 | 26.0529
050720 | 0.9087 | 1.1736 | 30.0811 | 29.4726 | 30.3595 | 29.9462
050722 | 0.9937 | 1.1736 | * | 31.4867 | 33.7991 | 32.6970
050723 | 1.3661 | 1.1736 | 35.0119 | 38.5446 | 38.7140 | 37.6299
050724 | 1.9875 | 1.1736 | 34.4267 | 31.6910 | 35.2344 | 33.8380
050725 | 0.8900 | 1.1736 | 21.7816 | 24.3100 | 30.0580 | 25.0169
050726 | 1.4849 | 1.2020 | 27.8433 | 30.6479 | 28.6361 | 29.1183
050727 | 1.2033 | 1.1736 | 24.3026 | 33.9118 | 32.7783 | 30.6217
050728 | *** | * | 36.0820 | 39.3581 | 41.8263 | 38.7034
050729 | *** | * | 34.2580 | 36.5432 | 38.1882 | 36.3976
050730 | *** | * | 51.5425 | 37.0629 | 39.2046 | 42.2691
050732 | 2.3947 | 1.1736 | * | * | 33.6831 | 33.6831
050733 | 1.6531 | 1.2810 | * | * | 40.1517 | 40.1517
050734 | *** | * | * | * | 31.2883 | 31.2883
050735 | 1.3414 | 1.1736 | * | * | * | *
050736 | 1.2215 | 1.1736 | * | * | * | *
050737 | 1.4935 | 1.1736 | * | * | * | *
050738 | 1.3812 | 1.1736 | * | * | * | *
050739 | 1.6758 | 1.1736 | * | * | * | *
050740 | 1.3840 | 1.1736 | * | * | * | *
050741 | 1.4977 | 1.1736 | * | * | * | *
050742 | 1.3973 | 1.1736 | * | * | * | *
050744 | 1.9639 | 1.1736 | * | * | * | *
050745 | 1.3614 | 1.1736 | * | * | * | *
050746 | 1.7868 | 1.1736 | * | * | * | *
050747 | 1.4029 | 1.1736 | * | * | * | *
050748 | 1.0605 | 1.1942 | * | * | * | *
050749 | 1.2549 | 1.1736 | * | * | * | *
050750 | 1.4161 | 1.2020 | * | * | * | *
050751 | 3.3418 | 1.1736 | * | * | * | *
050752 | 1.4159 | 1.1736 | * | * | * | *
050753 | 1.7076 | 1.1736 | * | * | * | *
050754 | 1.2457 | 1.4948 | * | * | * | *
050755 | 1.4141 | 1.1736 | * | * | * | *
050756 | 1.9522 | 1.1736 | * | * | * | *
050758 | 3.6091 | 1.1736 | * | * | * | *
060001 | 1.5654 | 1.0455 | 26.8470 | 29.6191 | 31.0018 | 29.1634
060003 | 1.3970 | 1.0455 | 24.2224 | 29.4809 | 31.3616 | 28.3333
060004 | 1.2505 | 1.0455 | 29.9649 | 32.4609 | 32.0095 | 31.4837
060006 | 1.3300 | 0.9448 | 24.5704 | 25.2139 | 27.2057 | 25.6628
060008 | 1.2032 | 0.9448 | 23.3859 | 23.0947 | 26.5175 | 24.3270
060009 | 1.4945 | 1.0455 | 28.7645 | 31.5210 | 32.4208 | 30.9678
060010 | 1.6912 | 0.9733 | 28.9850 | 27.1916 | 29.5304 | 28.5344
060011 | 1.6330 | 1.0455 | 27.2833 | 35.1573 | 32.1001 | 31.3632
060012 | 1.4825 | 0.9467 | 26.2469 | 27.3885 | 28.7724 | 27.4500
060013 | 1.5046 | 0.9448 | 24.5994 | 26.8675 | 27.9145 | 26.4238
060014 | 1.8610 | 1.0455 | 31.2588 | 31.0542 | 31.9389 | 31.4097
060015 | 1.7851 | 1.0455 | 30.4533 | 32.5285 | 32.2927 | 31.6808
060016 | 1.2417 | 0.9448 | 25.6527 | 26.5427 | 27.1430 | 26.4586
060018 | 1.2836 | 0.9448 | 25.7628 | 24.1086 | 25.3897 | 25.0879
060020 | 1.6165 | 0.9448 | 22.6748 | 24.5992 | 25.9147 | 24.3734
060022 | 1.6516 | 0.9467 | 26.5238 | 28.2944 | 29.3379 | 28.0339
060023 | 1.6699 | 1.0455 | 27.7644 | 29.5760 | 31.1556 | 29.4769
060024 | 1.8432 | 1.0455 | 29.0130 | 30.0279 | 31.5411 | 30.2384
060027 | 1.6691 | 1.0455 | 28.0909 | 29.6121 | 30.9212 | 29.6273
060028 | 1.5125 | 1.0455 | 30.0448 | 31.6900 | 32.1656 | 31.3047
060030 | 1.4488 | 0.9733 | 26.6251 | 27.8642 | 29.9513 | 28.1546
060031 | 1.5591 | 0.9467 | 26.3650 | 27.8345 | 29.3907 | 27.8462
060032 | 1.4850 | 1.0455 | 30.4247 | 31.0686 | 32.7383 | 31.4187
060034 | 1.6640 | 1.0455 | 29.8445 | 30.9359 | 32.1252 | 30.9377
060036 | 1.1018 | 0.9448 | 20.7131 | 20.3226 | 22.8256 | 21.2502
060041 | 0.8785 | 0.9448 | 23.4978 | 24.6142 | 25.9710 | 24.7303
060043 | 1.1879 | 0.9448 | 18.7897 | 18.2143 | 21.9955 | 19.6596
060044 | 1.2127 | 0.9448 | 25.0360 | 26.5611 | 24.8352 | 25.4581
060049 | 1.2787 | 0.9580 | 29.0598 | 29.3724 | 30.2192 | 29.5665
060054 | 1.4508 | 1.0136 | 22.3490 | 24.3389 | 25.0980 | 23.9188
060064 | 1.7308 | 1.0455 | 31.3105 | 32.3681 | 33.2428 | 32.1357
060065 | 1.3983 | 1.0455 | 31.1987 | 32.4735 | 33.8538 | 32.5473
060071 | 1.1697 | 0.9448 | 25.7248 | 27.6657 | 28.1762 | 27.2779
060075 | 1.3389 | 1.0136 | 32.7563 | 32.2545 | 37.6023 | 34.1968
060076 | 1.2662 | 0.9448 | 26.8236 | 26.5631 | 30.7808 | 28.0383
060096 | 1.5564 | 1.0455 | 30.0602 | 32.1310 | 37.8243 | 33.2697
060100 | 1.6916 | 1.0455 | 32.1537 | 32.6104 | 33.2145 | 32.6673
060103 | 1.3607 | 1.0455 | 30.3003 | 31.6314 | 32.9690 | 31.6638
060104 | 1.3818 | 1.0455 | 32.0889 | 32.4232 | 35.4409 | 33.2464
060107 | 1.4409 | 1.0455 | 26.1883 | 26.8388 | 28.0660 | 27.0405
060112 | 1.6549 | 1.0455 | * | 34.9272 | 34.7116 | 34.8116
060113 | 1.4257 | 1.0455 | * | * | 32.6073 | 32.6073
060114 | 1.3815 | 1.0455 | * | * | 34.8536 | 34.8536
060115 | 0.8094 | 0.9448 | * | * | * | *
060116 | 1.4020 | 1.0455 | * | * | * | *
060117 | 1.5297 | 0.9448 | * | * | * | *
060118 | 1.2063 | 0.9448 | * | * | * | *
070001 | 1.6191 | 1.2626 | 34.0302 | 35.8958 | 37.0403 | 35.6798
070002 | 1.7625 | 1.2433 | 31.1530 | 33.4398 | 34.7636 | 33.1056
070003 | 1.1124 | 1.2433 | 32.4197 | 34.1352 | 35.6320 | 34.0741
070004 | 1.1690 | 1.2433 | 29.2544 | 29.4448 | 29.9557 | 29.5654
070005 | 1.3939 | 1.2626 | 32.1668 | 33.7813 | 34.9404 | 33.6347
070006 | 1.3734 | 1.3003 | 36.8469 | 37.9148 | 39.3935 | 38.0396
070007 | 1.3262 | 1.2433 | 31.7125 | 35.9617 | 36.2914 | 34.6709
070008 | 1.1977 | 1.2433 | 26.4806 | 28.5506 | 30.7305 | 28.5900
070009 | 1.1826 | 1.2433 | 30.2706 | 32.9299 | 35.5670 | 32.9116
070010 | 1.7655 | 1.3003 | 32.5798 | 35.3730 | 36.7227 | 34.9766
070011 | 1.4443 | 1.2433 | 29.9105 | 31.8987 | 31.6843 | 31.1785
070012 | 1.2719 | 1.2433 | 44.1424 | 29.4216 | 31.9345 | 33.9309
070015 | 1.3965 | 1.3003 | 33.4595 | 35.3385 | 37.3454 | 35.4457
070016 | 1.5006 | 1.2626 | 31.0904 | 31.4930 | 33.2391 | 31.9056
070017 | 1.3588 | 1.2626 | 31.7223 | 34.0490 | 35.6456 | 33.8516
070018 | 1.4240 | 1.3003 | 37.6081 | 39.7515 | 41.8460 | 39.8228
070019 | 1.3281 | 1.2626 | 31.8148 | 34.5125 | 33.7246 | 33.3670
070020 | 1.3289 | 1.2433 | 31.0935 | 33.6453 | 32.9714 | 32.5833
070021 | 1.1631 | 1.2433 | 33.2357 | 36.9241 | 38.5623 | 36.2063
070022 | 1.6736 | 1.2626 | 35.4120 | 39.0462 | 40.2283 | 38.2889
070024 | 1.3628 | 1.2433 | 32.0430 | 35.2323 | 34.7419 | 34.0490
070025 | 1.8086 | 1.2433 | 30.9938 | 32.4085 | 34.5887 | 32.6669
070027 | 1.4467 | 1.2433 | 31.8018 | 29.8513 | 30.4433 | 30.7112
070028 | 1.5979 | 1.3003 | 31.5035 | 35.1966 | 38.0855 | 34.9184
070029 | 1.3082 | 1.2433 | 27.7213 | 30.9299 | 31.0662 | 29.9131
070031 | 1.2692 | 1.2626 | 28.9189 | 30.1915 | 30.4054 | 29.8553
070033 | 1.4708 | 1.3003 | 37.1929 | 40.1594 | 41.7955 | 39.7822
070034 | 1.3978 | 1.3003 | 36.3899 | 38.3965 | 40.1685 | 38.3201
070035 | 1.2876 | 1.2433 | 27.5585 | 30.7440 | 32.2766 | 30.1626
070036 | 1.6060 | 1.2433 | 36.1610 | 38.3413 | 42.3391 | 39.0110
070038 | 1.3936 | 1.2626 | 25.7516 | 25.7914 | 35.8053 | 27.8684
070039 | 0.9371 | 1.2626 | 31.2269 | 36.1369 | 34.7219 | 33.8193
070040 | 0.9999 | 1.2433 | * | * | * | *
080001 | 1.6247 | 1.0766 | 30.0242 | 32.0105 | 33.5310 | 31.8696
080002 | *** | * | 27.7932 | 29.6800 | 31.3391 | 29.5960
080003 | 1.5716 | 1.0766 | 29.2266 | 30.7697 | 34.3048 | 31.5058
080004 | 1.5142 | 1.0667 | 27.4921 | 30.1094 | 32.2443 | 30.0060
080006 | 1.3077 | 1.0105 | 25.6160 | 27.4749 | 28.8862 | 27.4041
080007 | 1.3915 | 1.0499 | 27.0074 | 30.1100 | 31.1645 | 29.4885
090001 | 1.7715 | 1.0676 | 35.0413 | 36.6577 | 38.3043 | 36.6494
090003 | 1.2497 | 1.0676 | 29.2660 | 31.0419 | 32.1960 | 30.9276
090004 | 1.9608 | 1.0676 | 32.2021 | 35.6964 | 37.3798 | 35.0400
090005 | 1.3882 | 1.0676 | 30.7728 | 33.0178 | 33.7448 | 32.5073
090006 | 1.4079 | 1.0676 | 29.5590 | 29.4912 | 31.3562 | 30.1264
090008 | 1.3376 | 1.0676 | 29.1059 | 32.0745 | 33.7471 | 31.3884
090011 | 2.0575 | 1.1017 | 34.0693 | 36.7579 | 38.0654 | 36.2932
100001 | 1.5331 | 0.9089 | 24.4060 | 26.4631 | 27.2809 | 26.0728
100002 | 1.4368 | 1.0248 | 25.3389 | 27.2350 | 28.7068 | 27.1087
100004 | 0.9210 | * | 16.5974 | * | * | 16.5974
100006 | 1.6452 | 0.9285 | 26.3789 | 29.1505 | 28.3673 | 27.9603
100007 | 1.6373 | 0.9285 | 26.5378 | 28.5702 | 29.0472 | 28.0969
100008 | 1.7213 | 1.0009 | 27.4314 | 29.1705 | 30.3392 | 29.0493
100009 | 1.4490 | 1.0009 | 25.9381 | 27.4424 | 27.8618 | 27.0421
100012 | 1.6154 | 0.9486 | 26.3788 | 28.4600 | 29.8353 | 28.2813
100014 | 1.4083 | 0.9171 | 24.5862 | 25.1524 | 27.4019 | 25.7601
100015 | 1.3028 | 0.9171 | 24.6038 | 26.0916 | 27.2483 | 25.9359
100017 | 1.6275 | 0.9171 | 26.1580 | 27.9654 | 28.2402 | 27.5020
100018 | 1.6508 | 0.9619 | 28.1481 | 30.2423 | 30.6545 | 29.7108
100019 | 1.6608 | 0.9380 | 27.6179 | 28.6630 | 30.3008 | 28.8670
100020 | *** | * | 23.9414 | 27.1257 | * | 25.5458
100022 | 1.7420 | 1.0248 | 29.9345 | 32.8088 | 36.7912 | 33.2233
100023 | 1.5160 | 0.9171 | 23.0074 | 25.2652 | 25.4270 | 24.5739
100024 | 1.1780 | 1.0009 | 30.2395 | 29.1894 | 29.5423 | 29.6470
100025 | 1.6816 | 0.8733 | 22.1580 | 23.3843 | 26.7013 | 24.0625
100026 | 1.5788 | 0.8733 | 21.4703 | 23.4730 | 26.0147 | 23.7184
100027 | *** | * | 16.1223 | 18.9432 | * | 17.4007
100028 | 1.3580 | 0.9380 | 26.8661 | 27.7497 | 27.5664 | 27.4076
100029 | 1.2822 | 1.0009 | 27.5844 | 28.8842 | 30.5382 | 29.0530
100030 | 1.2839 | 0.9285 | 24.0943 | 24.6314 | 25.3513 | 24.7170
100032 | 1.8022 | 0.9171 | 25.2450 | 26.8162 | 26.9275 | 26.3598
100034 | 1.8268 | 1.0009 | 25.9415 | 28.1280 | 27.2915 | 27.0674
100035 | 1.5677 | 0.9771 | 26.9407 | 29.4803 | 30.2382 | 28.8750
100038 | 1.8213 | 1.0248 | 29.8583 | 31.3403 | 31.6657 | 30.9770
100039 | 1.5152 | 1.0248 | 28.4627 | 28.2531 | 29.3699 | 28.6922
100040 | 1.7005 | 0.9089 | 23.6443 | 26.2429 | 27.2835 | 25.7456
100043 | 1.3766 | 0.9171 | 25.2273 | 26.4221 | 27.0054 | 26.2287
100044 | 1.4158 | 1.0036 | 28.3596 | 30.3659 | 33.1141 | 30.6154
100045 | 1.3353 | 0.9171 | 26.9641 | 29.7375 | 26.5413 | 27.7587
100046 | 1.3025 | 0.9171 | 26.3673 | 26.9469 | 26.7702 | 26.6963
100047 | 1.8643 | 0.9771 | 25.0404 | 26.7674 | 29.9729 | 27.2658
100048 | 0.9265 | 0.8733 | 18.8770 | 19.3226 | 20.2657 | 19.5008
100049 | 1.1601 | 0.8835 | 22.9809 | 24.0385 | 24.5571 | 23.8789
100050 | 1.1287 | 1.0009 | 19.8713 | 21.5101 | 25.3354 | 22.2763
100051 | 1.3531 | 0.9285 | 23.1940 | 28.0946 | 28.6225 | 26.7140
100052 | 1.4482 | 0.8835 | 22.3920 | 23.6796 | 23.4036 | 23.1677
100053 | 1.2917 | 1.0009 | 27.3224 | 28.5118 | 31.7415 | 29.1121
100054 | 1.3029 | 0.8733 | 28.0512 | 28.7646 | 30.5515 | 29.0987
100055 | 1.4149 | 0.9171 | 23.5332 | 25.6243 | 27.3826 | 25.3801
100057 | 1.4545 | 0.9285 | 25.3897 | 24.8010 | 26.3134 | 25.5307
100061 | 1.5462 | 1.0009 | 29.2565 | 31.4413 | 30.4528 | 30.3973
100062 | 1.6808 | 0.8733 | 25.2340 | 25.1280 | 25.9597 | 25.4599
100063 | 1.3031 | 0.9171 | 24.7026 | 25.5097 | 26.4139 | 25.5745
100067 | 1.4065 | 0.9171 | 26.1213 | 26.8628 | 27.4762 | 26.8565
100068 | 1.6610 | 0.9171 | 25.9202 | 26.1341 | 27.6576 | 26.5514
100069 | 1.4494 | 0.9171 | 24.7442 | 25.7450 | 27.2108 | 25.8887
100070 | 1.7132 | 0.9771 | 24.8883 | 26.8461 | 29.2005 | 26.9667
100071 | 1.2744 | 0.9171 | 24.9682 | 26.3768 | 25.3667 | 25.5850
100072 | 1.3878 | 0.9171 | 26.0459 | 25.7962 | 27.1889 | 26.3540
100073 | 1.7724 | 1.0248 | 30.3358 | 30.5845 | 29.4165 | 30.1139
100075 | 1.4514 | 0.9171 | 25.1691 | 25.7612 | 27.6534 | 26.2376
100076 | 1.1671 | 1.0009 | 21.9483 | 23.4551 | 24.0412 | 23.1092
100077 | 1.3562 | 0.9771 | 26.0347 | 30.6925 | 30.7564 | 29.1495
100079 | 1.5014 | * | * | * | * | *
100080 | 1.7114 | 1.0248 | 27.0126 | 28.2188 | 29.5346 | 28.2767
100081 | 0.9416 | 0.8733 | 15.6661 | 16.9756 | 19.5711 | 17.4305
100084 | 1.7873 | 0.9285 | 26.3393 | 27.4947 | 32.7503 | 28.7737
100086 | 1.2965 | 1.0248 | 28.2641 | 28.5971 | 29.9072 | 28.9234
100087 | 1.8981 | 0.9771 | 27.1531 | 29.5823 | 30.5938 | 29.1299
100088 | 1.5782 | 0.9089 | 25.9182 | 26.7574 | 28.2825 | 27.0232
100090 | 1.4904 | 0.9089 | 24.2422 | 26.5703 | 27.6175 | 26.1889
100092 | 1.5158 | 0.9380 | 28.4789 | 27.8341 | 26.6315 | 27.6313
100093 | 1.7127 | 0.8733 | 21.3524 | 21.6438 | 22.5555 | 21.8792
100099 | 1.0873 | 0.8835 | 21.3035 | 25.8454 | 26.2395 | 24.4525
100102 | 1.0996 | 0.8858 | 23.8596 | 26.1015 | 27.8551 | 25.9619
100105 | 1.4480 | 0.9852 | 26.8091 | 29.9745 | 30.9915 | 29.2009
100106 | 1.0560 | 0.8733 | 24.0389 | 24.7650 | 24.8098 | 24.5435
100107 | 1.2347 | 0.9486 | 26.1337 | 27.4760 | 30.5764 | 28.1079
100108 | 0.8046 | 0.8733 | 22.0750 | 21.3540 | 22.6270 | 21.9880
100109 | 1.2508 | 0.9171 | 24.9951 | 25.5669 | 26.2446 | 25.6303
100110 | 1.6550 | 0.9285 | 29.1494 | 29.4788 | 29.5985 | 29.4188
100113 | 2.0264 | 0.9302 | 26.3806 | 28.0440 | 29.2429 | 27.9271
100114 | 1.3817 | 1.0009 | 29.2195 | 29.2862 | 30.2544 | 29.5959
100117 | 1.2145 | 0.9089 | 26.4536 | 27.7198 | 28.4928 | 27.6036
100118 | 1.3596 | 0.9089 | 28.0569 | 27.6438 | 27.0981 | 27.5188
100121 | 1.1043 | 0.8835 | 24.8579 | 26.2990 | 27.9353 | 26.4264
100122 | 1.2268 | 0.8733 | 23.4751 | 24.6285 | 26.7175 | 24.9538
100124 | 1.1542 | 0.8733 | 22.7023 | 24.0333 | 24.8880 | 23.9087
100125 | 1.1875 | 1.0009 | 26.7452 | 29.7750 | 31.7749 | 29.5544
100126 | 1.3314 | 0.9171 | 24.4515 | 29.6247 | 28.3213 | 27.4142
100127 | 1.5666 | 0.9171 | 24.4485 | 26.0923 | 27.4632 | 26.0315
100128 | 2.2084 | 0.9171 | 29.4979 | 29.2566 | 30.0324 | 29.6033
100130 | 1.1786 | 1.0248 | 24.2046 | 26.0268 | 28.3651 | 26.1504
100131 | 1.4165 | 1.0009 | 29.2462 | 27.8164 | 29.7647 | 28.9653
100132 | 1.2457 | 0.9171 | 24.3293 | 26.0526 | 27.8180 | 26.1461
100134 | 0.8565 | 0.8733 | 20.9243 | 20.7367 | 21.6544 | 21.1186
100135 | 1.6113 | 0.9028 | 24.0024 | 26.7030 | 29.1856 | 26.5350
100137 | 1.2884 | 0.8835 | 25.1974 | 24.8519 | 26.8391 | 25.6704
100139 | 0.8316 | 0.9302 | 17.5489 | 18.2197 | 21.1310 | 18.9563
100140 | 1.0862 | 0.9089 | 26.4720 | 26.1352 | 27.8352 | 26.8143
100142 | 1.2095 | 0.8733 | 22.9577 | 24.8853 | 25.6999 | 24.5446
100150 | 1.2689 | 1.0009 | 26.1990 | 26.8492 | 27.7740 | 26.9185
100151 | 1.7476 | 0.9089 | 28.1322 | 30.6447 | 29.7267 | 29.4931
100154 | 1.5849 | 1.0009 | 27.6127 | 28.2506 | 29.7332 | 28.5816
100156 | 1.1335 | 0.9302 | 26.7092 | 27.5706 | 28.3927 | 27.6111
100157 | 1.5749 | 0.9171 | 27.3851 | 29.7455 | 30.3086 | 29.2306
100160 | 1.1427 | 0.8733 | 26.9851 | 30.7454 | 30.6902 | 29.5445
100161 | 1.5163 | 0.9285 | 28.8077 | 28.0545 | 29.5673 | 28.8155
100166 | 1.4671 | 0.9771 | 27.9618 | 28.8685 | 30.1811 | 28.9924
100167 | 1.3044 | 1.0248 | 30.3694 | 30.2166 | 31.7813 | 30.8188
100168 | 1.4077 | 1.0248 | 27.1292 | 27.6739 | 27.0938 | 27.2997
100172 | 1.2812 | 1.0009 | 18.2735 | 20.7857 | 22.2183 | 20.2634
100173 | 1.6816 | 0.9171 | 24.8721 | 26.5436 | 28.6402 | 26.6632
100175 | 0.9376 | 0.8733 | 23.5455 | 23.9665 | 25.0913 | 24.2153
100176 | 1.9322 | 1.0248 | 31.2694 | 30.7087 | 33.3181 | 31.7301
100177 | 1.3034 | 0.9380 | 26.6781 | 28.0089 | 29.6284 | 28.1072
100179 | 1.8025 | 0.9089 | 29.5619 | 29.1111 | 29.2795 | 29.3153
100180 | 1.3656 | 0.9171 | 27.1804 | 29.9238 | 31.0099 | 29.4514
100181 | 1.0916 | 1.0009 | 21.8540 | 24.3708 | 23.9656 | 23.5712
100183 | 1.2331 | 1.0009 | 27.4951 | 29.0270 | 30.5042 | 28.9860
100187 | 1.2405 | 1.0009 | 27.3653 | 27.8144 | 30.7705 | 28.5922
100189 | 1.3212 | 1.0248 | 28.4136 | 28.8320 | 29.9376 | 29.0848
100191 | 1.3251 | 0.9171 | 26.6341 | 28.3710 | 29.4533 | 28.2035
100200 | 1.3568 | 1.0248 | 29.8963 | 28.7694 | 29.6400 | 29.4296
100204 | 1.5564 | 0.9302 | 25.7537 | 27.4763 | 27.2819 | 26.8493
100206 | 1.3044 | 0.9171 | 25.2196 | 27.0295 | 27.7551 | 26.6843
100209 | 1.4511 | 1.0009 | 26.6245 | 26.8473 | 28.5336 | 27.3567
100210 | 1.6418 | 1.0248 | 28.9486 | 29.8515 | 32.0830 | 30.2959
100211 | 1.1980 | 0.9171 | 24.7095 | 24.7533 | 26.2859 | 25.2466
100212 | 1.5281 | 0.8733 | 24.7566 | 26.1846 | 27.7960 | 26.2590
100213 | 1.5667 | 0.9771 | 27.1936 | 27.9283 | 29.5218 | 28.1998
100217 | 1.2128 | 0.9852 | 25.2907 | 27.3989 | 27.7683 | 26.8879
100220 | 1.7272 | 0.9486 | 26.0905 | 28.3868 | 29.3601 | 28.0186
100223 | 1.5830 | 0.8733 | 24.7015 | 25.0332 | 26.1115 | 25.3049
100224 | 1.2841 | 1.0248 | 24.8077 | 26.6446 | 28.0455 | 26.4947
100225 | 1.2966 | 1.0248 | 28.4316 | 28.5259 | 30.8782 | 29.2134
100226 | 1.2741 | 0.9089 | 29.3317 | 28.8165 | 28.8791 | 28.9967
100228 | 1.3720 | 1.0248 | 29.8952 | 28.1396 | 30.1635 | 29.3741
100230 | 1.3872 | 1.0248 | 28.1703 | 29.8493 | 31.9448 | 29.9638
100231 | 1.7057 | 0.8733 | 25.5175 | 25.7037 | 26.6773 | 25.9676
100232 | 1.2525 | 0.9302 | 24.9322 | 28.5537 | 28.3892 | 27.3025
100234 | 1.2967 | 1.0248 | 26.3601 | 27.4456 | 28.8835 | 27.5798
100236 | 1.4833 | 0.9771 | 26.6585 | 28.9955 | 28.3017 | 27.9879
100237 | 1.9061 | 1.0248 | 31.3543 | 31.7848 | 33.1536 | 32.0709
100238 | 1.6524 | 0.9171 | 28.4302 | 30.1094 | 31.4198 | 30.0500
100239 | 1.2450 | 0.9771 | 27.7592 | 28.6893 | 29.0650 | 28.5164
100240 | 1.0067 | 1.0009 | 25.3265 | 27.3523 | 29.7000 | 27.5097
100242 | 1.4462 | 0.8733 | 24.0990 | 25.6083 | 26.1988 | 25.3024
100243 | 1.5930 | 0.9171 | 26.1131 | 27.4534 | 28.3894 | 27.3449
100244 | 1.4214 | 0.9486 | 25.2584 | 26.6876 | 28.2881 | 26.8124
100246 | 1.5767 | 1.0036 | 28.9894 | 29.3310 | 30.1061 | 29.4946
100248 | 1.5245 | 0.9171 | 27.7798 | 28.8082 | 30.2133 | 28.9513
100249 | 1.2736 | 0.9171 | 23.2084 | 24.9876 | 26.4676 | 24.9134
100252 | 1.1775 | 0.9852 | 25.8540 | 27.8256 | 27.1639 | 26.9484
100253 | 1.3700 | 1.0248 | 25.7121 | 27.4927 | 28.7770 | 27.3747
100254 | 1.5053 | 0.9028 | 25.7338 | 26.1406 | 27.4900 | 26.4898
100255 | 1.2926 | 0.9171 | 24.4808 | 26.5571 | 27.3866 | 26.1585
100256 | 1.8509 | 0.9171 | 28.8856 | 30.3081 | 30.2093 | 29.8134
100258 | 1.5137 | 1.0248 | 31.2482 | 31.2203 | 33.8630 | 32.1172
100259 | 1.2826 | 0.9171 | 26.0175 | 27.4809 | 29.0612 | 27.5355
100260 | 1.3247 | 1.0036 | 27.5188 | 26.7129 | 28.2301 | 27.4901
100264 | 1.3409 | 0.9171 | 25.5489 | 26.8216 | 28.0370 | 26.7874
100265 | 1.2691 | 0.9171 | 24.1454 | 25.7432 | 26.3326 | 25.4676
100266 | 1.4175 | 0.8733 | 23.2340 | 23.0208 | 24.2517 | 23.5318
100267 | 1.3146 | 0.9771 | 27.3769 | 28.7259 | 28.9674 | 28.3539
100268 | 1.1557 | 1.0248 | 29.2898 | 29.0668 | 30.5750 | 29.6378
100269 | 1.3557 | 1.0248 | 26.7450 | 26.6047 | 27.8407 | 27.0869
100271 | 2.3567 | * | * | * | * | *
100275 | 1.2876 | 1.0248 | 26.0361 | 26.8943 | 28.7797 | 27.3049
100276 | 1.2417 | 1.0248 | 30.0576 | 29.7606 | 30.5720 | 30.1327
100277 | 1.4051 | 1.0009 | 16.5427 | 20.4791 | 24.1122 | 20.4492
100279 | 1.3366 | 0.9486 | 26.8606 | 28.6383 | 29.2257 | 28.2861
100281 | 1.3703 | 1.0248 | 28.6660 | 29.6698 | 30.9131 | 29.8017
100284 | 1.0113 | 1.0009 | 23.8170 | 22.3134 | 25.2637 | 23.6827
100285 | 1.2689 | 1.0248 | * | * | 41.9481 | 41.9481
100286 | 1.6191 | 0.9619 | 29.4284 | 28.3645 | 25.8085 | 27.6610
100287 | 1.3868 | 1.0248 | 28.3427 | 28.1051 | 29.7536 | 28.7018
100288 | 1.5156 | 1.0248 | 33.8141 | 28.7902 | 31.0506 | 31.0802
100289 | 1.6865 | 1.0248 | 29.2915 | 29.6376 | 31.9011 | 30.3063
100290 | 1.1899 | 0.9315 | 23.5080 | 27.1011 | 28.7111 | 26.4179
100291 | 1.2458 | 0.9380 | * | 28.4722 | 28.1515 | 28.2974
100292 | 1.3544 | 0.8733 | * | 26.7063 | 27.7644 | 27.2418
100293 | *** | * | * | 32.7963 | * | 32.7963
100294 | *** | * | * | 30.7557 | * | 30.7557
100295 | *** | * | * | 26.1983 | * | 26.1983
100296 | 1.3408 | 1.0009 | * | * | 29.3870 | 29.3870
100297 | *** | * | * | * | 32.1536 | 32.1536
100298 | 0.8217 | 0.9028 | * | * | 19.0297 | 19.0297
100299 | 1.2623 | 0.9771 | * | * | 34.3697 | 34.3697
100300 | 1.5491 | 0.9771 | * | * | * | *
100301 | 2.4311 | 0.8733 | * | * | * | *
100302 | 1.1232 | 0.9285 | * | * | * | *
110001 | 1.3413 | 0.8583 | 25.3102 | 26.4338 | 26.5640 | 26.1063
110002 | 1.3627 | 0.9813 | 25.3897 | 26.4715 | 26.2228 | 26.0377
110003 | 1.2925 | 0.7861 | 21.4002 | 22.7066 | 24.2097 | 22.7660
110004 | 1.3576 | 0.8963 | 23.9911 | 24.9978 | 25.1846 | 24.7384
110005 | 1.2344 | 0.9813 | 22.8999 | 28.1209 | 27.2826 | 26.2185
110006 | 1.5283 | 0.9997 | 28.6090 | 28.3839 | * | 28.4953
110007 | 1.5851 | 0.8667 | 23.8729 | 26.6396 | 26.3133 | 25.6316
110008 | 1.3081 | 0.9813 | 27.1711 | 29.2947 | 30.9757 | 29.1807
110010 | 2.2316 | 0.9813 | 29.7142 | 31.7185 | 33.2396 | 31.5599
110011 | 1.2246 | 0.9813 | 26.0899 | 28.0598 | 28.5892 | 27.5869
110015 | 1.0599 | 0.9813 | 26.6610 | 28.1274 | 28.8796 | 27.9810
110016 | 1.2630 | 0.8588 | 21.7610 | 22.7263 | 24.3563 | 22.9378
110018 | 1.1608 | 0.9813 | 28.2431 | 26.8016 | 30.1849 | 28.3512
110020 | 1.3212 | 0.9813 | 26.8501 | 28.3822 | 27.5559 | 27.6146
110023 | 1.2983 | 0.9813 | 27.3029 | 29.8061 | 29.3282 | 28.8606
110024 | 1.4918 | 0.8891 | 25.7205 | 27.0225 | 27.3357 | 26.6955
110025 | 1.4750 | 0.9765 | 26.1311 | 31.0703 | 30.2845 | 29.1378
110026 | 1.1088 | 0.7861 | 21.2827 | 21.8018 | 22.8820 | 21.9825
110027 | 1.0967 | 0.7861 | 20.2175 | 22.6058 | 25.5291 | 22.6326
110028 | 1.7895 | 0.9599 | 28.1619 | 30.4641 | 31.4568 | 30.0489
110029 | 1.8257 | 0.9813 | 24.8893 | 27.3618 | 29.2134 | 27.2823
110030 | 1.3179 | 0.9813 | 26.4770 | 29.6841 | 29.9531 | 28.7936
110031 | 1.2864 | 0.9813 | 24.7874 | 27.1989 | 29.5533 | 27.2214
110032 | 1.1823 | 0.7861 | 21.9407 | 23.2586 | 25.1896 | 23.4280
110033 | 1.4755 | 0.9813 | 28.3210 | 30.3415 | 32.4178 | 30.4701
110034 | 1.7240 | 0.9599 | 26.9986 | 27.2338 | 28.7915 | 27.6795
110035 | 1.7468 | 0.9813 | 27.4583 | 28.9408 | 30.1852 | 28.9129
110036 | 1.8443 | 0.8891 | 26.8789 | 26.6664 | 27.2280 | 26.9397
110038 | 1.5056 | 0.8454 | 21.2138 | 22.2720 | 22.9685 | 22.1533
110039 | 1.3676 | 0.9599 | 24.7248 | 26.3503 | 26.2485 | 25.8081
110040 | 1.0900 | 0.9813 | 19.7509 | 20.9487 | 23.9526 | 21.5987
110041 | 1.2685 | 0.9813 | 23.4073 | 24.8864 | 26.1948 | 24.8276
110042 | 1.0546 | 0.9813 | 28.6873 | 34.9954 | 33.4391 | 32.3610
110043 | 1.7588 | 0.8891 | 26.6323 | 27.8477 | 28.8551 | 27.7751
110044 | 1.1550 | 0.7861 | 20.9654 | 23.3039 | 24.3772 | 22.8675
110045 | 1.0604 | 0.9813 | 24.9821 | 24.4275 | 27.7619 | 25.7235
110046 | 1.1564 | 0.9813 | 23.8292 | 26.7464 | * | 25.2689
110050 | 1.0878 | 0.8583 | 26.1319 | 27.5985 | 27.0651 | 26.9506
110051 | 1.1325 | 0.7861 | 19.4276 | 20.1756 | 21.4898 | 20.4314
110054 | 1.3879 | 0.9813 | 25.7085 | 28.9254 | 29.4691 | 28.1296
110059 | 1.1614 | 0.7861 | 20.5565 | 23.2137 | 24.7838 | 22.7781
110064 | 1.5600 | 0.9020 | 24.2739 | 24.1219 | 26.9363 | 25.1484
110069 | 1.3210 | 0.9568 | 24.1669 | 26.2085 | 29.9098 | 26.8651
110071 | 1.1303 | 0.7861 | 18.0224 | 21.3963 | 21.2041 | 20.2222
110073 | 1.0732 | 0.7861 | 18.6336 | 18.5753 | 23.3571 | 20.1191
110074 | 1.5633 | 0.9997 | 27.1207 | 27.9190 | 31.0062 | 28.6224
110075 | 1.2368 | 0.8891 | 22.0935 | 23.7585 | 24.8244 | 23.5723
110076 | 1.4789 | 0.9813 | 26.3506 | 28.7871 | 29.4344 | 28.2028
110078 | 2.0203 | 0.9813 | 29.5779 | 29.9625 | 30.5196 | 30.0318
110079 | 1.4371 | 0.9813 | 23.1024 | 26.8412 | 27.3274 | 25.6718
110080 | *** | * | 22.3213 | 18.4714 | * | 20.3904
110082 | 1.9484 | 0.9813 | 29.8366 | 30.8320 | 30.1072 | 30.2642
110083 | 1.9004 | 0.9813 | 27.8245 | 30.4287 | 34.0610 | 30.7539
110086 | 1.2918 | 0.7861 | 21.1508 | 21.6898 | 22.9959 | 21.9535
110087 | 1.4785 | 0.9813 | 28.0471 | 28.1633 | 31.0403 | 29.1240
110089 | 1.1256 | 0.7861 | 21.9509 | 23.9026 | 24.3327 | 23.4318
110091 | 1.2985 | 0.9813 | 26.5523 | 29.5337 | 27.0994 | 27.7306
110092 | 1.0708 | 0.7861 | 18.5527 | 20.8911 | 21.4168 | 20.2706
110095 | 1.4671 | 0.8667 | 23.4846 | 26.3075 | 28.0526 | 25.9759
110100 | 0.9760 | 0.8651 | 16.5600 | 16.2575 | 20.8201 | 17.8670
110101 | 1.0211 | 0.7928 | 16.4269 | 19.4257 | 21.0983 | 18.9322
110104 | 1.0922 | 0.7861 | 18.7951 | 20.3777 | 21.8966 | 20.4323
110105 | 1.3384 | 0.7861 | 21.1077 | 23.1405 | 23.4010 | 22.5530
110107 | 1.9638 | 0.9749 | 26.2526 | 28.9352 | 30.1027 | 28.5426
110109 | 1.0216 | 0.7861 | 21.4279 | 23.0376 | 21.6023 | 22.0301
110111 | 1.1565 | 0.9599 | 29.2189 | 25.1270 | 25.7084 | 26.4563
110112 | 0.9102 | 0.7861 | 24.2464 | 22.7672 | 26.4089 | 24.5417
110113 | 0.9646 | 0.9599 | 19.1752 | 21.3417 | 22.0793 | 20.8903
110115 | 1.6861 | 0.9813 | 32.0198 | 31.5074 | 32.7927 | 32.1145
110121 | 1.0425 | 0.8454 | 21.6637 | 26.2336 | 23.4571 | 23.8303
110122 | 1.5379 | 0.8454 | 23.7589 | 25.1934 | 25.4439 | 24.7899
110124 | 1.0500 | 0.7861 | 22.7058 | 22.9212 | 22.9571 | 22.8637
110125 | 1.2981 | 0.9568 | 22.4238 | 23.7834 | 24.7347 | 23.6390
110128 | 1.2619 | 0.8891 | 24.4596 | 25.7839 | 25.4190 | 25.2198
110129 | 1.5740 | 0.9020 | 23.3631 | 25.9625 | 30.0444 | 26.3986
110130 | 0.9401 | 0.7861 | 18.7549 | 19.1284 | 20.4349 | 19.4669
110132 | 0.9900 | 0.7861 | 19.2307 | 20.2502 | 21.2642 | 20.2556
110135 | 1.2746 | 0.7861 | 20.4412 | 22.5346 | 24.0945 | 22.4857
110136 | *** | * | 15.8573 | 18.8212 | * | 17.2827
110142 | 0.9496 | 0.8046 | 18.1980 | 21.3935 | 21.6286 | 20.4908
110143 | 1.4032 | 0.9813 | 27.7055 | 28.6583 | 29.9139 | 28.7963
110146 | 1.0451 | 0.9089 | 23.9067 | 27.0987 | 29.0193 | 26.6351
110149 | *** | * | 27.1477 | 28.4040 | * | 27.8380
110150 | 1.3058 | 0.9813 | 22.6624 | 25.3742 | 26.9884 | 24.9555
110153 | 1.1347 | 0.9568 | 24.5368 | 25.7467 | 29.3305 | 26.5481
110161 | 1.5077 | 0.9813 | 29.3201 | 30.4885 | 31.5001 | 30.4389
110163 | 1.4442 | 0.8667 | 26.0764 | 28.2169 | 27.7679 | 27.3543
110164 | 1.6466 | 0.9749 | 27.0600 | 28.8946 | 30.0145 | 28.6658
110165 | 1.3804 | 0.9813 | 26.8378 | 27.0977 | 28.7902 | 27.5702
110166 | *** | * | 26.8070 | * | * | 26.8070
110168 | 1.8202 | 0.9813 | 27.0022 | 28.5700 | 29.7774 | 28.4702
110172 | 1.3257 | 0.9813 | 29.1703 | 31.1234 | 31.3999 | 30.6003
110177 | 1.7868 | 0.9599 | 26.7504 | 28.8356 | 29.7079 | 28.4491
110179 | *** | * | 26.0759 | * | * | 26.0759
110183 | 1.2715 | 0.9813 | 29.6132 | 28.6208 | 28.3505 | 28.8254
110184 | 1.2398 | 0.9813 | 26.5240 | 28.3545 | 29.4071 | 28.1771
110186 | 1.3729 | 0.9020 | 25.0298 | 27.4925 | 28.2880 | 26.9617
110187 | 1.2163 | 0.9813 | 24.2933 | 25.2139 | 26.9638 | 25.5788
110189 | 1.1273 | 0.9813 | 26.7654 | 26.1418 | 26.2799 | 26.3816
110190 | 1.0370 | 0.8102 | 14.2518 | 23.3204 | 24.5224 | 20.0525
110191 | 1.3276 | 0.9813 | 26.8277 | 27.7760 | 30.9481 | 28.4955
110192 | 1.3990 | 0.9813 | 26.7852 | 28.8267 | 30.0843 | 28.6181
110193 | *** | * | 27.3341 | 27.9161 | * | 27.6234
110194 | 0.9359 | 0.7861 | 18.4776 | 19.1920 | 21.0826 | 19.6210
110198 | 1.3957 | 0.9813 | 31.7748 | 31.0557 | 32.8171 | 31.8629
110200 | 1.9226 | 0.9020 | 22.3249 | 24.9236 | 27.2974 | 24.7904
110201 | 1.4598 | 0.9749 | 28.2232 | 31.0841 | 32.0967 | 30.4769
110203 | 0.9675 | 0.9813 | 26.8768 | 29.7888 | 32.3441 | 29.6046
110205 | 1.1514 | 0.8368 | 19.7408 | 22.0207 | 23.9738 | 21.9564
110209 | 0.5324 | 0.7861 | 19.0450 | 21.1534 | 21.2428 | 20.5456
110212 | 1.2000 | 0.8204 | 40.5120 | * | * | 40.5120
110214 | *** | * | * | 37.1450 | * | 37.1450
110215 | 1.2911 | 0.9813 | 25.7886 | 27.5566 | 29.5238 | 27.7250
110219 | 1.4241 | 0.9813 | 27.0362 | 28.8814 | 32.2603 | 29.4317
110220 | *** | * | * | 37.5741 | * | 37.5741
110221 | *** | * | * | 28.0500 | * | 28.0500
110222 | *** | * | * | 35.6189 | * | 35.6189
110223 | *** | * | * | * | 25.3071 | 25.3071
110224 | *** | * | * | * | 33.6464 | 33.6464
110225 | 1.1627 | 0.9813 | * | * | 29.5373 | 29.5373
110226 | 1.1705 | 0.9813 | * | * | * | *
110228 | 0.6858 | 0.9813 | * | * | * | *
120001 | 1.7954 | 1.1306 | 34.7715 | 34.1385 | 39.6348 | 36.0753
120002 | 1.2128 | 1.0741 | 29.9913 | 32.3784 | 34.1709 | 32.1936
120004 | 1.3302 | 1.1306 | 28.6527 | 30.0668 | 31.3555 | 30.0081
120005 | 1.3171 | 1.0741 | 29.3405 | 31.1985 | 33.6942 | 31.4363
120006 | 1.2693 | 1.1306 | 31.2285 | 31.6785 | 34.2231 | 32.3972
120007 | 1.7199 | 1.1306 | 30.4247 | 30.2473 | 30.8773 | 30.5122
120010 | 1.8852 | 1.1306 | 30.1659 | 29.5714 | 30.8526 | 30.1903
120011 | 1.5612 | 1.1306 | 34.1643 | 37.1792 | 39.1941 | 36.8951
120014 | 1.2810 | 1.0741 | 28.6416 | 30.3463 | 30.9839 | 30.0257
120016 | *** | * | 19.6039 | * | * | 19.6039
120019 | 1.1328 | 1.0741 | 30.3809 | 30.4257 | 33.0114 | 31.2831
120022 | 1.9275 | 1.1306 | 26.6100 | 29.9527 | 32.5326 | 29.5914
120025 | *** | * | 30.2367 | * | * | 30.2367
120026 | 1.4060 | 1.1306 | 30.3293 | 32.4566 | 34.2244 | 32.4725
120027 | 1.3547 | 1.1306 | 28.6717 | 28.7905 | 29.5825 | 29.0488
120028 | 1.3018 | 1.1306 | 30.3794 | 32.4847 | 34.0451 | 32.3420
120029 | *** | * | * | * | 44.6382 | 44.6382
130002 | 1.4431 | 0.8707 | 23.6078 | 24.7871 | 24.7266 | 24.4032
130003 | 1.3970 | 0.9615 | 27.6345 | 28.6158 | 28.6136 | 28.2894
130005 | *** | * | 25.7523 | * | * | 25.7523
130006 | 1.7752 | 0.9497 | 25.3221 | 27.2158 | 28.0048 | 26.8675
130007 | 1.8212 | 0.9497 | 24.9562 | 28.7246 | 30.4958 | 27.9567
130013 | 1.3847 | 0.9497 | 27.9209 | 30.9609 | 36.1570 | 31.7470
130014 | 1.2226 | 0.9497 | 24.3885 | 27.2543 | 27.5936 | 26.3567
130018 | 1.7059 | 0.9273 | 26.4125 | 27.3439 | 28.4041 | 27.3783
130021 | *** | * | 16.1658 | * | * | 16.1658
130024 | 1.1822 | 0.8493 | 23.3347 | 23.6212 | 24.8035 | 23.9293
130025 | 1.2426 | 0.7818 | 20.1452 | 21.1998 | 22.7962 | 21.4285
130028 | 1.4835 | 0.9187 | 26.3443 | 27.2195 | 28.4934 | 27.4962
130049 | 1.6067 | 1.0227 | 26.9749 | 27.3597 | 29.0185 | 27.8229
130062 | *** | * | 20.6642 | 25.6467 | 29.1925 | 24.9270
130063 | 1.3933 | 0.9497 | 22.5904 | 26.0955 | 27.7607 | 25.3662
130065 | 1.9742 | 0.9273 | * | 21.9792 | 30.4547 | 26.6750
130066 | 2.0724 | 0.9674 | * | * | 28.9883 | 28.9883
130067 | 0.5728 | 0.9273 | * | * | 21.3867 | 21.3867
130068 | 2.6786 | 0.9674 | * | * | * | *
140001 | 1.3394 | 0.8715 | 22.3170 | 22.3001 | 22.2003 | 22.2726
140002 | 1.3523 | 0.8983 | 24.6954 | 27.0165 | 27.4779 | 26.4101
140007 | 1.4485 | 1.0588 | 28.3482 | 30.7378 | 31.4024 | 30.1866
140008 | 1.5341 | 1.0588 | 28.5297 | 29.1767 | 31.8008 | 29.7872
140010 | 1.5341 | 1.0588 | 35.1024 | 31.8806 | 40.1360 | 35.1264
140B103 | *** | 1.0583 | 35.1024 | 31.8806 | 40.1360 | 35.1264
140011 | 1.1265 | 0.8346 | 22.4091 | 23.8575 | 25.8864 | 24.1284
140012 | 1.1597 | 1.0472 | 28.6564 | 29.0336 | 31.8213 | 29.7772
140013 | 1.4752 | 0.9385 | 23.3065 | 23.9269 | 25.0951 | 24.0826
140015 | 1.4276 | 0.8983 | 23.0600 | 24.4687 | 24.6409 | 24.0661
140016 | 1.0141 | * | 18.1242 | * | * | 18.1242
140018 | 1.4713 | 1.0588 | 27.7548 | 26.3533 | 30.7398 | 28.2267
140019 | 0.9076 | 0.8346 | 18.9228 | 21.3438 | 22.3179 | 20.8686
140024 | *** | * | 17.5249 | * | * | 17.5249
140026 | 1.1369 | 0.8661 | 23.0470 | 25.9669 | 26.0493 | 25.0156
140029 | 1.5629 | 1.0588 | 28.6565 | 30.2688 | 36.7722 | 31.7994
140030 | 1.5605 | 1.0588 | 29.7771 | 30.2776 | 31.6822 | 30.5819
140032 | 1.2251 | 0.8983 | 24.0573 | 26.7310 | 27.5367 | 26.1095
140033 | 0.7592 | 1.0472 | 25.6068 | 27.9993 | 29.5256 | 27.5611
140034 | 1.1489 | 0.8983 | 23.0033 | 24.0470 | 24.4653 | 23.8461
140040 | 1.2143 | 0.9226 | 22.2969 | 23.2293 | 24.5589 | 23.3454
140043 | 1.2831 | 0.8894 | 26.7996 | 27.3469 | 29.8633 | 28.0422
140045 | *** | * | 20.6548 | * | * | 20.6548
140046 | 1.5047 | 0.8983 | 23.2127 | 24.7334 | 25.6230 | 24.5835
140048 | 1.2906 | 1.0588 | 28.2222 | 29.3877 | 30.6686 | 29.4175
140049 | 1.4765 | 1.0588 | 27.4009 | 29.0976 | 30.8617 | 29.2268
140051 | 1.5046 | 1.0588 | 27.7901 | 30.9696 | 32.1730 | 30.2784
140052 | 1.2926 | 0.8983 | 23.5662 | 25.9617 | 26.9907 | 25.5002
140053 | 1.8975 | 0.8943 | 24.8455 | 27.4518 | 28.4513 | 26.9029
140054 | 1.4482 | 1.0588 | 31.8564 | 33.1406 | 34.2378 | 33.0651
140058 | 1.2520 | 0.8983 | 22.8423 | 24.6058 | 25.2568 | 24.2526
140059 | 1.0745 | 0.8983 | 22.4652 | 22.6743 | 21.6230 | 22.2390
140061 | *** | * | 20.8063 | * | * | 20.8063
140062 | 1.3499 | 1.0588 | 34.7704 | 34.1230 | 36.8271 | 35.2283
140063 | 1.4161 | 1.0588 | 27.8306 | 28.6559 | 30.5465 | 28.9957
140064 | 1.1956 | 0.9226 | 22.0407 | 23.8639 | 25.7551 | 23.9579
140065 | 1.4090 | 1.0588 | 29.4678 | 30.1856 | 31.5510 | 30.3798
140066 | 1.0931 | 0.8983 | 21.9771 | 22.1524 | 22.0225 | 22.0498
140067 | 1.8440 | 0.9385 | 25.3986 | 28.3506 | 29.8982 | 27.9265
140068 | 1.2030 | 1.0588 | 27.3956 | 28.3938 | 26.7166 | 27.5195
140075 | 1.3290 | 1.0588 | 27.9325 | 26.2626 | 35.9507 | 29.4588
140077 | 1.0118 | 0.8983 | 19.1363 | 20.3999 | 21.6468 | 20.4044
140080 | 1.4044 | 1.0588 | 23.2575 | 28.8791 | 29.9067 | 27.0464
140082 | 1.5865 | 1.0588 | 25.6645 | 28.3429 | 31.0516 | 28.3204
140083 | 0.9167 | 1.0588 | 26.2972 | 26.8919 | 27.2189 | 26.8114
140084 | 1.3044 | 1.0472 | 29.2515 | 30.5036 | 30.7251 | 30.1522
140088 | 1.9227 | 1.0588 | 32.4978 | 30.5450 | 32.6866 | 31.9069
140089 | 1.2571 | 0.8346 | 23.3401 | 24.1066 | 24.9120 | 24.1080
140091 | 1.7600 | 0.9316 | 26.8518 | 27.8536 | 28.2095 | 27.6630
140093 | 1.2233 | 0.9245 | 25.3127 | 28.3298 | 28.6709 | 27.3188
140094 | 1.0741 | 1.0588 | 27.9273 | 27.3841 | 28.7647 | 28.0321
140095 | 1.1840 | 1.0588 | 27.6799 | 28.7617 | 29.7385 | 28.6923
140100 | 1.4114 | 1.0472 | 37.0820 | 41.3374 | 37.2961 | 38.7112
140101 | 1.2087 | 1.0588 | 28.5365 | 29.4081 | 28.9723 | 28.9915
140103 | 1.1471 | 1.0588 | 23.3258 | 23.6406 | 24.0926 | 23.6947
140105 | 2.4503 | 1.0588 | 27.4531 | 29.5274 | 29.6590 | 28.8385
140109 | 1.2813 | * | 19.5675 | * | * | 19.5675
140110 | 1.1010 | 1.0472 | 27.9844 | 28.6364 | 30.3432 | 29.0082
140113 | 1.6263 | 0.9316 | 26.7969 | 29.5452 | 30.2542 | 28.8718
140114 | 1.4998 | 1.0588 | 28.3014 | 28.2151 | 29.8316 | 28.7971
140115 | 1.1211 | 1.0588 | 25.1498 | 26.0383 | 25.4576 | 25.5430
140116 | 1.2804 | 1.0588 | 31.9902 | 34.5537 | 34.3876 | 33.6671
140117 | 1.5489 | 1.0588 | 26.8802 | 27.7201 | 30.9679 | 28.4756
140118 | 1.5337 | 1.0588 | 29.7570 | 32.5518 | 33.1987 | 31.8004
140119 | 1.8437 | 1.0588 | 36.1419 | 34.2118 | 32.2185 | 34.0199
140120 | 1.2654 | 0.9385 | 22.7375 | 23.9724 | 25.9275 | 24.2583
140122 | 1.4644 | 1.0588 | 28.4188 | 30.5653 | 30.2888 | 29.7419
140124 | 1.2540 | 1.0588 | 36.1327 | 35.7563 | 38.2191 | 36.7032
140125 | 1.1728 | 0.8983 | 20.4014 | 22.7571 | 26.5801 | 23.2037
140127 | 1.5916 | 0.9484 | 24.1658 | 25.6668 | 27.8363 | 25.8841
140130 | 1.2387 | 1.0472 | 29.5247 | 32.6209 | 32.5425 | 31.6158
140133 | 1.2958 | 1.0588 | 28.0339 | 31.0269 | 30.3259 | 29.7606
140135 | 1.4316 | 0.8346 | 22.3264 | 23.3196 | 24.6645 | 23.4680
140137 | 1.0331 | 0.8983 | 21.4699 | 23.4174 | 31.4349 | 24.5880
140141 | *** | * | 21.7872 | * | * | 21.7872
140143 | 1.1598 | 1.0472 | 26.2954 | 27.4499 | 26.1126 | 26.6046
140145 | 1.0894 | 0.8983 | 23.4608 | 26.0875 | 25.2040 | 24.9380
140147 | 1.1114 | 0.8346 | 19.8541 | 21.0686 | 21.1817 | 20.6906
140148 | 1.7334 | 0.8943 | 24.7031 | 25.5677 | 27.0038 | 25.7606
140150 | 1.7108 | 1.0588 | 35.2711 | 52.0970 | 35.5951 | 40.9580
140151 | 0.8038 | 1.0588 | 23.4879 | 27.0312 | 26.0825 | 25.5372
140152 | 1.1775 | 1.0588 | 27.6086 | 30.2209 | 29.8647 | 29.2051
140155 | 1.3616 | 1.0472 | 28.9724 | 29.5734 | 32.7960 | 30.4671
140158 | 1.3843 | 1.0588 | 27.0986 | 27.3721 | 30.4445 | 28.3050
140160 | 1.2234 | 0.9704 | 24.5373 | 25.8684 | 27.6905 | 26.0399
140161 | 1.0989 | 1.0472 | 23.1647 | 25.2898 | 28.8266 | 25.7893
140162 | 1.5902 | 0.9484 | 27.4471 | 29.4121 | 32.1810 | 29.6162
140164 | 1.8223 | 0.8983 | 23.7457 | 24.6009 | 25.9726 | 24.8076
140165 | *** | * | 16.6304 | * | * | 16.6304
140166 | 1.1619 | 0.8346 | 23.1005 | 26.4800 | 26.2875 | 25.2809
140167 | 1.1608 | 0.8346 | 22.8911 | 22.8703 | 24.9904 | 23.5836
140172 | 1.3652 | 1.0588 | 29.8568 | 32.1220 | 33.0926 | 31.7168
140174 | 1.5704 | 1.0588 | 27.8131 | 30.5905 | 31.2231 | 29.9167
140176 | 1.2291 | 1.0588 | 31.3490 | 32.9794 | 32.6145 | 32.3408
140177 | 0.9037 | 1.0588 | 22.5610 | 26.4340 | 25.5725 | 24.9321
140179 | 1.2694 | 1.0588 | 27.6376 | 29.3657 | 30.2944 | 29.1090
140180 | 1.1722 | 1.0588 | 28.3629 | 27.8887 | 29.1352 | 28.4623
140181 | 1.1314 | 1.0588 | 25.0101 | 25.0226 | 27.6835 | 25.9072
140182 | 1.5031 | 1.0588 | 28.2211 | 30.1755 | 32.8972 | 30.2922
140184 | 1.2951 | 0.8346 | 21.1802 | 25.2327 | 26.6104 | 24.4280
140185 | 1.4648 | 0.8983 | 23.8531 | 25.2423 | 26.5398 | 25.2116
140186 | 1.5398 | 1.0472 | 30.6951 | 29.8022 | 30.7212 | 30.4067
140187 | 1.5456 | 0.8983 | 23.2892 | 24.8332 | 25.5873 | 24.5668
140189 | 1.1669 | 0.8346 | 23.7198 | 22.5965 | 24.7013 | 23.6837
140190 | *** | * | 19.8296 | * | * | 19.8296
140191 | 1.3318 | 1.0588 | 25.8678 | 28.5836 | 31.9943 | 28.7069
140197 | 1.2406 | 1.0588 | 23.0684 | 24.0463 | 24.9103 | 23.9565
140199 | 1.0545 | * | 22.0315 | * | * | 22.0315
140200 | 1.4401 | 1.0588 | 26.3379 | 28.8435 | 30.6641 | 28.5880
140202 | 1.5516 | 1.0472 | 29.7870 | 32.7915 | 32.9433 | 31.9581
140206 | 1.2638 | 1.0588 | 30.6561 | 29.7953 | 29.6275 | 30.0202
140207 | 1.2121 | 1.0588 | 24.1048 | 26.0535 | 28.2262 | 26.0084
140208 | 1.6599 | 1.0588 | 29.4708 | 29.5380 | 31.4035 | 30.1416
140209 | 1.5570 | 0.9385 | 24.5376 | 26.3230 | 29.7965 | 26.7808
140210 | 1.0667 | 0.8346 | 19.2640 | 20.6954 | 19.2053 | 19.6895
140211 | 1.3090 | 1.0588 | 29.7054 | 30.3286 | 31.4539 | 30.5683
140213 | 1.2470 | 1.0588 | 30.2945 | 31.6926 | 32.1031 | 31.3688
140217 | 1.5498 | 1.0588 | 31.5324 | 32.1277 | 32.9404 | 32.2271
140223 | 1.4787 | 1.0588 | 30.4923 | 31.7267 | 33.5083 | 31.9322
140224 | 1.3760 | 1.0588 | 28.2177 | 29.6181 | 31.2237 | 29.6765
140228 | 1.5681 | 0.9805 | 25.6419 | 27.9456 | 28.2855 | 27.2863
140231 | 1.4308 | 1.0588 | 30.6410 | 30.0236 | 34.8291 | 31.8587
140233 | 1.6653 | 1.0472 | 28.6305 | 29.7093 | 31.5168 | 29.9830
140234 | 1.0454 | 0.8661 | 23.6928 | 24.5476 | 25.7353 | 24.6552
140239 | 1.5950 | 0.9805 | 29.0092 | 31.1879 | 31.0918 | 30.4218
140240 | 1.4146 | 1.0588 | 28.7310 | 31.5637 | 32.7986 | 30.9712
140242 | 1.5032 | 1.0588 | 32.0522 | 34.6120 | 35.2351 | 33.9225
140250 | 1.2378 | 1.0588 | 28.5971 | 29.6305 | 31.2533 | 29.8441
140251 | 1.3940 | 1.0588 | 27.1687 | 28.0622 | 28.3598 | 27.8740
140252 | 1.4020 | 1.0588 | 33.3351 | 34.4268 | 35.8762 | 34.5480
140258 | 1.5174 | 1.0588 | 30.2639 | 34.2333 | 33.0093 | 32.5353
140275 | 1.3123 | 0.8894 | 26.1473 | 27.8186 | 28.5064 | 27.4339
140276 | 1.8647 | 1.0588 | 29.8325 | 31.6359 | 32.1048 | 31.2217
140280 | 1.4651 | 0.8894 | 23.4447 | 24.9401 | 26.6536 | 24.9140
140281 | 1.7584 | 1.0588 | 30.4838 | 33.3903 | 35.6589 | 33.1771
140285 | *** | * | 20.7576 | * | * | 20.7576
140286 | 1.1539 | 1.0588 | 29.1543 | 30.3237 | 32.0048 | 30.4851
140288 | 1.5228 | 1.0588 | 29.3988 | 31.5197 | 31.5944 | 30.8910
140289 | 1.3067 | 0.8983 | 22.6211 | 23.8452 | 25.6847 | 24.0649
140290 | 1.3576 | 1.0588 | 31.7341 | 31.8135 | 32.5247 | 32.0531
140291 | 1.6115 | 1.0472 | 29.8958 | 31.9052 | 33.8706 | 31.9796
140292 | 1.1022 | 1.0588 | 27.6285 | 28.5094 | 30.6917 | 28.8381
140294 | 1.1266 | 0.8346 | 23.4503 | 24.0750 | 26.1595 | 24.6196
140300 | 1.1884 | 1.0588 | 34.8568 | 35.1494 | 42.5240 | 37.4107
140301 | 1.1568 | 1.0588 | 31.7073 | 49.9507 | 39.4295 | 38.1755
140303 | 2.2073 | 1.0588 | * | 29.6470 | * | 29.6470
150001 | 1.1331 | 0.9718 | 29.6844 | 28.9075 | 31.8089 | 30.1191
150002 | 1.4417 | 1.0472 | 25.0063 | 26.6222 | 27.6481 | 26.6696
150003 | 1.7490 | 0.8677 | 25.3458 | 26.7585 | 26.9771 | 26.3734
150004 | 1.4753 | 1.0472 | 26.8458 | 28.7336 | 30.9626 | 28.8237
150005 | 1.2795 | 0.9718 | 27.2369 | 29.5371 | 30.5367 | 29.1856
150006 | 1.3979 | 0.9504 | 26.4062 | 25.6265 | 27.1364 | 26.4180
150007 | 1.3720 | 0.9464 | 26.6073 | 29.4971 | 30.0500 | 28.8176
150008 | 1.3865 | 1.0472 | 26.6928 | 27.5703 | 27.0525 | 27.1187
150009 | 1.4332 | 0.9030 | 22.2147 | 25.4496 | 25.7616 | 24.5212
150010 | 1.4963 | 0.9464 | 26.8523 | 27.2272 | 28.4118 | 27.4601
150011 | 1.2451 | 0.9590 | 24.3490 | 25.3178 | 26.7686 | 25.4614
150012 | 1.5620 | 0.9643 | 27.3029 | 30.0348 | 31.2282 | 29.5432
150013 | *** | * | 21.8465 | * | * | 21.8465
150015 | 1.3250 | 0.8899 | 26.2434 | 28.0931 | 27.3811 | 27.2243
150017 | 1.8561 | 0.9041 | 25.2342 | 26.3973 | 26.3379 | 26.0051
150018 | 1.7221 | 0.9541 | 26.3289 | 27.3689 | 29.1137 | 27.6515
150021 | 1.8096 | 0.9041 | 29.6967 | 28.9196 | 30.0030 | 29.5366
150022 | 1.0788 | 0.8727 | 22.6773 | 23.1041 | 23.8971 | 23.1999
150023 | 1.5637 | 0.9590 | 23.7159 | 26.9095 | 27.7520 | 25.8891
150024 | 1.4818 | 0.9718 | 27.1589 | 28.1655 | 28.4170 | 27.8897
150026 | 1.3161 | 0.9541 | 28.1127 | 28.6517 | 30.4967 | 29.1723
150027 | 1.0482 | * | 17.4862 | * | * | 17.4862
150029 | 1.4657 | 0.9643 | 26.9680 | 28.7187 | 29.9307 | 28.4271
150030 | 1.1967 | 0.9590 | 26.9534 | 29.1493 | 29.3588 | 28.5143
150033 | 1.5576 | 0.9718 | 27.9995 | 28.6838 | 29.7744 | 28.8059
150034 | 1.4561 | 1.0472 | 26.0465 | 28.6429 | 28.0434 | 27.6127
150035 | 1.5977 | 0.9242 | 26.6620 | 26.9700 | 27.8904 | 27.1979
150037 | 1.3217 | 0.9718 | 28.5451 | 31.0935 | 29.0161 | 29.5237
150038 | 1.1328 | 0.9718 | 28.8054 | 29.3156 | 33.0112 | 30.3936
150042 | 1.3921 | 0.8824 | 23.0102 | 22.8786 | 25.1403 | 23.6714
150044 | 1.3927 | 0.9030 | 23.7066 | 25.2137 | 25.2685 | 24.7693
150045 | 1.0745 | 0.9041 | 25.2225 | 26.9818 | 27.5340 | 26.5867
150046 | 1.4882 | 0.8824 | 21.9369 | 24.5593 | 26.5876 | 24.4158
150047 | 1.7159 | 0.9041 | 25.8348 | 25.5194 | 25.8497 | 25.7351
150048 | 1.3899 | 0.9661 | 27.1817 | 27.1233 | 28.1525 | 27.5023
150049 | 1.3604 | * | 22.3370 | * | * | 22.3370
150051 | 1.6346 | 0.9590 | 23.7061 | 26.5655 | 28.9157 | 26.4848
150052 | 1.0751 | * | 20.6339 | * | * | 20.6339
150056 | 1.9446 | 0.9718 | 28.2842 | 28.8727 | 29.3500 | 28.8453
150057 | 2.0988 | 0.9718 | 24.8605 | 28.9529 | 30.3287 | 27.8807
150058 | 1.5711 | 0.9643 | 27.5341 | 29.1444 | 29.1255 | 28.6425
150059 | 1.5551 | 0.9718 | 28.5715 | 31.4987 | 31.3362 | 30.4971
150060 | *** | * | 24.8544 | * | * | 24.8544
150061 | 1.1275 | 0.8569 | 22.2822 | 21.3711 | 22.6746 | 22.1018
150062 | 1.1339 | * | 24.6088 | * | * | 24.6088
150064 | 1.2000 | 0.8569 | 23.7707 | 25.4987 | 28.7978 | 26.0980
150065 | 1.2625 | 0.9590 | 25.9461 | 27.9283 | 30.2053 | 27.9985
150069 | 1.1757 | 0.9661 | 25.2656 | 26.2028 | 26.0909 | 25.8564
150072 | 1.1657 | 0.8674 | 20.5111 | 21.2120 | 21.7644 | 21.1633
150074 | 1.4427 | 0.9718 | 25.2586 | 25.9321 | 28.5655 | 26.5901
150075 | 1.0975 | 0.9041 | 24.0745 | 25.1568 | 25.7245 | 24.9787
150076 | 1.2881 | 0.9504 | 28.1874 | 29.3249 | 30.1120 | 29.2167
150079 | 1.1099 | * | 21.4067 | * | * | 21.4067
150082 | 1.6825 | 0.8569 | 25.5860 | 28.3494 | 26.4544 | 26.8048
150084 | 1.8395 | 0.9718 | 29.3905 | 31.1720 | 33.1784 | 31.1870
150086 | 1.1722 | 0.9661 | 23.9404 | 25.1992 | 26.6745 | 25.3042
150088 | 1.2748 | 0.9590 | 23.6253 | 27.2103 | 29.1509 | 26.6306
150089 | 1.6023 | 0.8569 | 25.0449 | 24.7233 | 24.8045 | 24.8596
150090 | 1.6407 | 1.0472 | 26.2899 | 30.4835 | 30.6412 | 29.1401
150091 | 1.1638 | 0.9041 | 30.6209 | 30.4234 | 32.1627 | 31.1005
150097 | 1.1290 | 0.9718 | 25.0367 | 27.7468 | 29.1359 | 27.3220
150100 | 1.6877 | 0.8569 | 24.3530 | 25.7997 | 26.9724 | 25.6239
150101 | 1.0665 | 0.9041 | 29.1657 | 29.0301 | 30.5475 | 29.5654
150102 | 1.0330 | 0.9242 | 24.5923 | 25.7424 | 25.8742 | 25.4603
150104 | 1.0856 | 0.9718 | 25.5872 | 28.2552 | 28.7788 | 27.5177
150106 | 1.0158 | * | 20.9387 | * | * | 20.9387
150109 | 1.4641 | 0.8677 | 23.5865 | 25.3367 | 26.8464 | 25.2376
150112 | 1.4978 | 0.9590 | 26.5643 | 28.0068 | 29.8540 | 28.1787
150113 | 1.2888 | 0.9590 | 24.8760 | 24.7960 | 25.9814 | 25.2159
150115 | 1.4230 | 0.8569 | 19.3411 | 22.0747 | 22.5793 | 21.2670
150122 | 1.3185 | * | 26.0173 | * | * | 26.0173
150124 | *** | * | 21.3933 | * | * | 21.3933
150125 | 1.5103 | 1.0472 | 26.7666 | 27.6535 | 29.3596 | 27.9342
150126 | 1.4164 | 1.0472 | 26.9887 | 28.9454 | 29.4300 | 28.4467
150128 | 1.4409 | 0.9718 | 26.4976 | 28.7810 | 29.5008 | 28.2807
150129 | 1.1548 | 0.9718 | 29.9099 | 29.7398 | 31.4317 | 30.3985
150130 | 1.6136 | * | 21.7400 | * | * | 21.7400
150132 | *** | * | 25.6257 | 27.6560 | * | 26.6249
150133 | 1.2457 | 0.9041 | 22.7292 | 25.1322 | 24.2538 | 24.0313
150134 | 1.0198 | 0.9030 | 23.8525 | 26.3249 | 21.6740 | 23.7590
150136 | *** | * | 26.2704 | * | * | 26.2704
150146 | 1.1370 | 0.9041 | 29.3383 | 29.5256 | 30.3343 | 29.7676
150147 | 1.5120 | 1.0472 | 22.8456 | 27.2339 | 26.1646 | 25.6998
150149 | 1.0014 | 0.8569 | 23.6360 | 23.7026 | 24.9629 | 24.1402
150150 | 1.3167 | 0.9041 | 25.5331 | 27.0542 | 26.7700 | 26.4920
150151 | *** | * | 38.1445 | * | * | 38.1445
150152 | *** | * | 44.7145 | * | * | 44.7145
150153 | 2.4172 | 0.9718 | * | 32.1022 | 35.0617 | 33.7428
150154 | 2.5712 | 0.9718 | * | 29.8514 | 29.8894 | 29.8711
150155 | *** | * | * | 45.0121 | * | 45.0121
150156 | *** | * | * | 25.9681 | * | 25.9681
150157 | 1.6761 | 0.9718 | * | * | 32.3106 | 32.3106
150158 | 1.2402 | 0.9718 | * | * | * | *
150160 | 2.0073 | 0.9718 | * | * | * | *
150161 | 1.4755 | 0.9718 | * | * | * | *
150162 | 1.7836 | 0.9718 | * | * | * | *
150163 | 1.1054 | 0.9030 | * | * | * | *
160001 | 1.2039 | 0.9223 | 25.1220 | 24.5108 | 25.7255 | 25.1337
160005 | 1.2097 | 0.8476 | 21.8949 | 23.1034 | 24.7755 | 23.2878
160008 | 1.0516 | 0.8476 | 20.7200 | 22.1402 | 22.4758 | 21.7846
160013 | 1.2974 | 0.8655 | 23.7163 | 24.0956 | 24.4099 | 24.0734
160014 | *** | * | 20.5882 | * | * | 20.5882
160016 | 1.5636 | 0.9223 | 23.3619 | 24.5338 | 27.1460 | 24.9575
160020 | 1.1531 | * | 19.5554 | * | * | 19.5554
160024 | 1.5654 | 0.9158 | 26.2392 | 27.4158 | 29.3756 | 27.6168
160026 | *** | * | 24.7424 | * | * | 24.7424
160028 | 1.3092 | 0.9474 | 26.2948 | 27.8535 | 30.0576 | 28.1943
160029 | 1.6382 | 0.9424 | 27.9277 | 28.7324 | 30.6687 | 29.0931
160030 | 1.3868 | 1.0016 | 26.7068 | 28.7786 | 30.9415 | 28.8521
160031 | 0.7988 | * | 19.7368 | * | * | 19.7368
160032 | 1.0669 | 0.8711 | 23.4727 | 25.4662 | 26.2935 | 25.1093
160033 | 1.7485 | 0.8894 | 24.6768 | 26.5315 | 27.2060 | 26.1337
160034 | 1.0217 | * | 19.3503 | * | * | 19.3503
160039 | 0.9129 | * | 22.1180 | * | * | 22.1180
160040 | 1.2906 | 0.8720 | 23.9053 | 25.9032 | 26.8110 | 25.5671
160045 | 1.6881 | 0.8685 | 25.4153 | 26.6463 | 27.5289 | 26.5339
160047 | 1.3936 | 0.9474 | 25.2072 | 26.0227 | 28.1280 | 26.4469
160048 | *** | * | 19.5831 | * | * | 19.5831
160050 | 1.0566 | * | 24.5402 | * | * | 24.5402
160057 | 1.2590 | 0.9138 | 23.0937 | 25.1272 | 25.6274 | 24.6663
160058 | 1.9710 | 0.9424 | 27.1646 | 28.4167 | 28.9924 | 28.2025
160064 | 1.6011 | 0.9114 | 28.6139 | 28.7668 | 28.4209 | 28.5968
160066 | 0.9354 | * | 22.7709 | * | * | 22.7709
160067 | 1.3637 | 0.8720 | 23.4060 | 24.8137 | 26.0243 | 24.7721
160069 | 1.5286 | 0.8876 | 25.3402 | 27.4473 | 27.6157 | 26.8150
160079 | 1.4774 | 0.8685 | 23.7234 | 24.7372 | 26.1618 | 24.8787
160080 | 1.2832 | 0.8894 | 23.1837 | 25.8252 | 27.2370 | 25.4033
160081 | *** | * | 23.1930 | * | * | 23.1930
160082 | 1.7698 | 0.9158 | 26.4398 | 27.4718 | 28.7831 | 27.5581
160083 | 1.6593 | 0.9158 | 28.2193 | 27.3004 | 28.3921 | 27.9725
160089 | 1.2887 | 0.9138 | 22.6551 | 23.2149 | 23.2888 | 23.0562
160091 | *** | * | 17.9862 | * | * | 17.9862
160101 | 1.0750 | 0.9158 | 25.1000 | 25.0503 | 25.4740 | 25.2122
160104 | 1.6546 | 0.8894 | 24.9134 | 28.1891 | 29.8126 | 27.8799
160110 | 1.5341 | 0.8720 | 24.9434 | 26.6633 | 28.8134 | 26.8749
160112 | 1.2895 | 0.8476 | 23.0672 | 24.7957 | 25.2886 | 24.4326
160117 | 1.3823 | 0.8876 | 25.0278 | 25.4659 | 27.3927 | 25.9740
160118 | *** | * | 19.7764 | * | * | 19.7764
160122 | 1.0947 | 0.8476 | 22.5872 | 23.9177 | 24.4996 | 23.6844
160124 | 1.1525 | 0.8476 | 23.1690 | 22.5482 | 24.3063 | 23.3383
160126 | 1.0265 | * | 19.8323 | * | * | 19.8323
160146 | 1.3905 | 0.9083 | 22.9897 | 22.6949 | 24.8485 | 23.4694
160147 | 1.2941 | 0.9223 | 26.6438 | 28.6303 | 29.8992 | 28.4676
160153 | 1.7364 | 0.9083 | 28.9881 | 29.9378 | 30.6173 | 29.8520
160154 | 1.1302 | * | * | * | * | *
160155 | 1.7147 | 0.8894 | * | * | * | *
170001 | 1.1457 | 0.7980 | 21.9131 | 23.1260 | 23.8863 | 22.9705
170006 | 1.3231 | 0.8967 | 21.9019 | 24.2068 | 27.1033 | 24.4549
170009 | 1.0518 | 0.9319 | 29.2588 | 30.9025 | 29.6386 | 29.9250
170010 | 1.2444 | 0.7980 | 24.0008 | 23.9707 | 25.5573 | 24.5518
170012 | 1.6127 | 0.8718 | 24.7392 | 26.1367 | 27.1195 | 25.9606
170013 | 1.6234 | 0.8718 | 25.0419 | 25.2476 | 26.7124 | 25.6577
170014 | 1.0200 | 0.9319 | 23.5960 | 23.8135 | 24.2322 | 23.8856
170015 | *** | * | 20.2368 | * | * | 20.2368
170016 | 1.6402 | 0.8557 | 25.9482 | 25.8061 | 26.7536 | 26.1671
170017 | 1.0743 | 0.8939 | 24.7771 | 26.9657 | 27.2925 | 26.3737
170019 | 1.1990 | * | 22.0251 | * | * | 22.0251
170020 | 1.5974 | 0.8718 | 23.1800 | 23.2757 | 24.1149 | 23.5243
170022 | 1.1485 | * | 22.2878 | * | * | 22.2878
170023 | 1.4198 | 0.8718 | 23.9808 | 24.0561 | 23.9812 | 24.0054
170027 | 1.3961 | 0.7980 | 22.5103 | 23.1766 | 23.4037 | 23.0169
170033 | 1.3489 | 0.8718 | 20.7864 | 21.9709 | 24.1882 | 22.2852
170039 | 0.9451 | 0.8939 | 21.5203 | 26.9852 | 26.0952 | 24.6299
170040 | 1.9800 | 0.9319 | 28.2856 | 28.4458 | 30.2468 | 29.0256
170049 | 1.5227 | 0.9319 | 24.7895 | 25.2070 | 26.4086 | 25.4876
170052 | *** | * | 18.5291 | * | * | 18.5291
170058 | 1.0973 | 0.9319 | 23.3398 | 22.9210 | 26.5949 | 24.2599
170068 | 1.2243 | 0.9152 | 22.6087 | 23.0635 | 23.8812 | 23.1883
170070 | *** | * | 16.0162 | * | * | 16.0162
170074 | 1.2229 | 0.7980 | 21.0565 | 23.7829 | 23.0567 | 22.6765
170075 | 0.8299 | 0.7980 | 16.5444 | 19.7760 | 19.9351 | 18.7474
170085 | 0.6104 | * | * | * | * | *
170086 | 1.5806 | 0.8557 | 24.0812 | 26.1362 | 26.3615 | 25.5525
170093 | *** | * | 16.5553 | * | * | 16.5553
170094 | 0.9369 | 0.7980 | 21.3887 | 21.5295 | 16.5136 | 19.6903
170098 | *** | * | 20.1242 | * | * | 20.1242
170103 | 1.2869 | 0.8939 | 22.8707 | 23.8042 | 24.2003 | 23.6452
170104 | 1.4622 | 0.9319 | 26.9671 | 26.2990 | 27.6211 | 26.9584
170105 | 1.0944 | 0.7980 | 21.4422 | 21.9606 | 22.7412 | 22.0343
170109 | 1.0365 | 0.9319 | 23.2626 | 23.1088 | 23.8515 | 23.4041
170110 | 0.8838 | 0.7980 | 22.9195 | 23.3260 | 23.9572 | 23.4236
170114 | 0.9064 | * | 18.9158 | * | * | 18.9158
170120 | 1.3860 | 0.8967 | 21.0499 | 22.0253 | 22.2805 | 21.7560
170122 | 1.6825 | 0.8939 | 25.3982 | 26.6605 | 28.7175 | 26.8262
170123 | 1.6951 | 0.8939 | 27.2239 | 27.6653 | 27.0843 | 27.3131
170133 | 1.0455 | 0.9319 | 22.9309 | 23.1226 | 25.2301 | 23.8079
170137 | 1.2778 | 0.7980 | 23.8862 | 24.7096 | 25.3395 | 24.6697
170142 | 1.4000 | 0.8452 | 22.5778 | 23.9527 | 24.6019 | 23.7457
170143 | *** | * | 20.4459 | * | * | 20.4459
170144 | *** | * | 24.6259 | * | * | 24.6259
170145 | 1.0844 | 0.7980 | 21.5756 | 23.2162 | 23.3967 | 22.7065
170146 | 1.5046 | 0.9319 | 29.1358 | 29.8858 | 29.0720 | 29.3567
170147 | *** | * | 21.4753 | 22.4973 | 24.3268 | 22.5630
170150 | 1.1567 | 0.8146 | 18.5744 | 20.9448 | 19.6160 | 19.7250
170166 | 0.9972 | 0.7980 | 19.2842 | 21.0762 | 22.6968 | 21.0440
170175 | 1.4183 | 0.8718 | 23.9304 | 25.6281 | 26.7229 | 25.4235
170176 | 1.5941 | 0.9319 | 26.2366 | 27.2332 | 29.0735 | 27.5811
170180 | *** | * | 25.1368 | 32.5010 | * | 27.5335
170182 | 1.4404 | 0.9319 | 25.7443 | 27.3503 | 28.9710 | 27.3812
170183 | 1.9426 | 0.8939 | 24.5539 | 25.8340 | 26.1890 | 25.5209
170185 | 1.2377 | 0.9319 | 26.7797 | 27.8139 | 28.1780 | 27.6778
170186 | 2.6627 | 0.8939 | 31.7896 | 32.8392 | 30.2613 | 31.6196
170187 | 1.4872 | 0.7980 | 23.3702 | 22.8493 | 24.1461 | 23.4565
170188 | 1.9667 | 0.9319 | 29.9751 | 30.6844 | 32.2573 | 31.0137
170190 | 1.0160 | 0.8452 | 22.8729 | 22.9540 | 26.2625 | 24.0473
170191 | 1.7207 | 0.7980 | 21.3069 | 22.1197 | 24.3813 | 22.6600
170192 | 1.9119 | 0.8939 | 27.9704 | 26.2724 | 27.7421 | 27.3099
170193 | 1.4210 | 0.8718 | 24.7429 | 20.6821 | 24.8531 | 23.2189
170194 | 1.0835 | 0.9319 | 27.9903 | 29.9014 | 27.6989 | 28.5239
170195 | 2.2763 | 0.9319 | * | 30.1001 | 29.5947 | 29.8108
170196 | 2.3666 | 0.8939 | * | * | 32.1832 | 32.1832
180001 | 1.2557 | 0.9661 | 25.4217 | 27.6917 | 29.7423 | 27.6443
180002 | 1.0602 | 0.8074 | 22.9727 | 25.7862 | 26.5488 | 25.1142
180004 | 1.0972 | 0.7810 | 19.5437 | 22.0797 | 20.8805 | 20.8284
180005 | 1.1194 | 0.8725 | 24.5561 | 24.9779 | 25.6159 | 25.0807
180006 | *** | * | 14.8011 | * | * | 14.8011
180007 | 1.5249 | 0.9003 | 22.7606 | 25.7042 | 27.1924 | 25.2359
180009 | 1.7050 | 0.8879 | 25.3837 | 26.4101 | 27.3228 | 26.4316
180010 | 1.8883 | 0.9003 | 24.7256 | 25.6153 | 27.7600 | 26.0458
180011 | 1.5427 | 0.8797 | 22.7364 | 25.5463 | 24.9909 | 24.4168
180012 | 1.4909 | 0.9030 | 24.6642 | 25.6000 | 26.7279 | 25.6690
180013 | 1.5074 | 0.9364 | 22.9512 | 23.7075 | 24.8125 | 23.8157
180016 | 1.3302 | 0.9030 | 23.1832 | 24.8408 | 24.7091 | 24.2487
180017 | 1.3231 | 0.7979 | 20.8630 | 21.8885 | 21.9715 | 21.5934
180018 | 1.3148 | 0.7810 | 19.0992 | 20.9857 | 23.3035 | 21.1384
180019 | 1.0932 | 0.9661 | 24.1342 | 24.0283 | 24.6279 | 24.2639
180020 | 1.0481 | 0.7810 | 21.9494 | 24.6953 | 25.9975 | 24.2711
180021 | 0.9698 | 0.7810 | 18.5966 | 20.7950 | 22.0740 | 20.5368
180024 | 1.1161 | 0.9030 | 32.1824 | 31.1159 | 26.3532 | 29.7120
180025 | 1.1421 | 0.9030 | 19.1543 | 22.6897 | 28.5935 | 23.5037
180026 | 1.0693 | * | 18.2120 | * | * | 18.2120
180027 | 1.2468 | 0.8096 | 23.8763 | 20.8303 | 21.7639 | 22.0496
180028 | 0.9153 | * | 24.7967 | * | * | 24.7967
180029 | 1.3898 | 0.8797 | 23.0536 | 25.6479 | 26.1528 | 24.9999
180035 | 1.6203 | 0.9661 | 29.8438 | 31.0794 | 32.8461 | 31.2815
180036 | 1.2418 | 0.8879 | 25.1154 | 25.2972 | 25.6959 | 25.3664
180037 | 1.3241 | 0.9030 | 25.7361 | 26.3132 | 27.8506 | 26.6118
180038 | 1.5448 | 0.8698 | 24.6348 | 26.0440 | 26.9752 | 25.9113
180040 | 1.9692 | 0.9030 | 26.2125 | 27.9979 | 28.5162 | 27.6103
180043 | 1.1554 | 0.7810 | 19.0617 | 20.9326 | 20.6439 | 20.2180
180044 | 1.7146 | 0.8725 | 23.0971 | 24.4569 | 25.8060 | 24.4869
180045 | 1.3291 | 0.9661 | 25.8349 | 27.4732 | 29.4127 | 27.6339
180046 | 0.9468 | 0.9003 | 27.2244 | 27.1034 | 27.0962 | 27.1405
180047 | *** | * | 21.8036 | * | * | 21.8036
180048 | 1.2971 | 0.9030 | 21.6571 | 23.9230 | 24.3696 | 23.3120
180049 | 1.4467 | 0.8797 | 23.3407 | 22.4769 | 24.3699 | 23.3961
180050 | 1.1550 | 0.7810 | 22.6473 | 26.3604 | 25.9557 | 24.9976
180051 | 1.2878 | 0.8219 | 21.3312 | 23.5299 | 24.3916 | 23.1293
180053 | 0.9914 | 0.7810 | 19.1578 | 21.3044 | 22.1921 | 20.9808
180055 | 1.1922 | * | 20.7237 | * | * | 20.7237
180056 | 1.1773 | 0.8465 | 22.8910 | 24.3074 | 24.5326 | 23.9077
180063 | 1.1034 | * | 17.9741 | * | * | 17.9741
180064 | 1.1693 | 0.8124 | 16.2638 | 17.1009 | 20.1799 | 17.8239
180066 | 1.0839 | 0.9364 | 24.9543 | 22.2713 | 23.7860 | 23.6485
180067 | 2.0260 | 0.9003 | 25.4080 | 26.0238 | 27.9852 | 26.5262
180069 | 1.0876 | 0.8725 | 22.3673 | 26.3701 | 26.6714 | 25.1966
180070 | 1.1689 | 0.8050 | 20.1308 | 20.6741 | 20.2189 | 20.3433
180078 | 1.1526 | 0.8725 | 26.2636 | 27.6806 | 28.2762 | 27.4283
180079 | 1.1914 | 0.8069 | 19.7791 | 20.2100 | 23.6005 | 21.2540
180080 | 1.2789 | 0.8013 | 21.7380 | 21.5818 | 23.7788 | 22.3758
180087 | 1.2564 | 0.7810 | 18.4331 | 20.8841 | 22.0302 | 20.4642
180088 | 1.6692 | 0.9030 | 27.5767 | 28.0916 | 28.6107 | 28.1051
180092 | 1.1840 | 0.9003 | 22.5679 | 23.7909 | 23.7866 | 23.3989
180093 | 1.6493 | 0.8123 | 20.5422 | 20.5807 | 21.4392 | 20.8528
180095 | 1.0472 | 0.7810 | 17.9677 | 17.9146 | 21.5639 | 18.9610
180101 | 1.1640 | 0.9003 | 25.4796 | 27.4506 | 28.1621 | 27.0742
180102 | 1.5933 | 0.8096 | 18.4388 | 21.0896 | 25.2343 | 21.3176
180103 | 2.1748 | 0.9003 | 26.9407 | 28.4583 | 28.1734 | 27.8598
180104 | 1.5693 | 0.8096 | 24.9441 | 25.6157 | 25.9689 | 25.5126
180105 | 0.8863 | 0.7810 | 19.7615 | 21.6002 | 23.1917 | 21.5276
180106 | 0.8981 | 0.7810 | 17.8020 | 20.2884 | 20.7220 | 19.6713
180115 | 0.9198 | 0.7810 | 20.9831 | 20.5539 | 20.3089 | 20.6170
180116 | 1.2129 | 0.8346 | 22.7353 | 23.5354 | 25.8927 | 24.0625
180117 | 0.9573 | 0.7810 | 21.1854 | 22.8469 | 24.7378 | 22.8812
180124 | 1.3102 | 0.9364 | 23.1917 | 24.8292 | 25.4664 | 24.5483
180127 | 1.3502 | 0.9030 | 23.4765 | 24.6774 | 26.3947 | 24.8368
180128 | 0.9285 | 0.7810 | 20.8406 | 22.6056 | 23.8144 | 22.4361
180130 | 1.6785 | 0.9030 | 26.0278 | 27.8900 | 29.1712 | 27.7427
180132 | 1.4705 | 0.8797 | 23.7652 | 24.5105 | 25.3789 | 24.5776
180134 | 0.9988 | * | 18.6779 | * | * | 18.6779
180138 | 1.2338 | 0.9030 | 27.3400 | 28.1901 | 28.6871 | 28.0932
180139 | 0.9711 | 0.7810 | 23.5363 | 23.3569 | 24.7575 | 23.8896
180141 | 1.8039 | 0.9030 | 25.3042 | 25.3357 | 27.5912 | 26.1155
180143 | 1.6427 | 0.9003 | 25.1613 | 28.1924 | 30.8734 | 28.2381
180144 | *** | * | * | 29.5052 | * | 29.5052
180147 | *** | * | * | * | 31.1615 | 31.1615
180148 | *** | * | * | * | 30.1250 | 30.1250
180149 | 0.9785 | 0.7810 | * | * | * | *
190001 | 1.1366 | 0.7586 | 19.7516 | 22.1394 | 22.1569 | 21.3062
190002 | 1.6414 | 0.8323 | 22.0056 | 23.3368 | 24.6984 | 23.3292
190003 | 1.4785 | 0.8323 | 23.4977 | 25.8294 | 26.7844 | 25.3504
190004 | 1.5564 | 0.7976 | 23.3290 | 25.3473 | 25.0803 | 24.6173
190005 | 4.8105 | 0.8712 | 22.3208 | 22.6029 | 24.2899 | 23.0169
190006 | 1.4684 | 0.8323 | 22.2467 | 22.7979 | 24.8836 | 23.2631
190007 | 1.1753 | 0.7586 | 19.7528 | 21.8205 | 23.1426 | 21.5670
190008 | 1.7624 | 0.7976 | 24.0111 | 24.6074 | 26.3638 | 24.9678
190009 | 1.2890 | 0.7978 | 19.8404 | 21.1005 | 24.0696 | 21.5285
190010 | *** | * | 21.6889 | * | * | 21.6889
190011 | 0.9912 | 0.7869 | 19.7319 | 21.4052 | 21.6991 | 20.9430
190013 | 1.4546 | 0.7784 | 20.8626 | 21.4573 | 23.7333 | 22.0204
190014 | 1.1832 | 0.7586 | 22.4596 | 22.7151 | 22.6405 | 22.6128
190015 | 1.3272 | 0.8712 | 22.8875 | 23.7789 | 25.1767 | 23.9766
190017 | 1.3890 | 0.7773 | 21.5033 | 24.5390 | 24.7537 | 23.6080
190019 | 1.7987 | 0.7978 | 23.7168 | 24.0468 | 25.4624 | 24.4141
190020 | 1.2331 | 0.8010 | 21.6136 | 22.1967 | 23.4602 | 22.4018
190025 | 1.3046 | 0.7586 | 20.8950 | 23.5007 | 24.5024 | 22.9204
190026 | 1.6225 | 0.7978 | 22.5087 | 23.7702 | 24.1556 | 23.4858
190027 | 1.6702 | 0.7784 | 21.2526 | 24.3006 | 26.7132 | 24.0310
190034 | 1.2388 | 0.7775 | 19.6943 | 20.7334 | 21.2130 | 20.5411
190036 | 1.6983 | 0.8712 | 24.8152 | 25.4164 | 25.6551 | 25.3044
190037 | 0.6483 | 0.7784 | 18.6393 | 19.4071 | 20.7271 | 19.5622
190039 | 1.6426 | 0.8712 | 25.6665 | 24.4386 | 25.4003 | 25.1722
190040 | 1.3451 | 0.8712 | 26.7428 | 28.6297 | 28.0169 | 27.7947
190041 | 1.4801 | 0.8552 | 24.6734 | 28.5376 | 28.0050 | 27.0392
190043 | *** | * | 17.3477 | * | * | 17.3477
190044 | 1.3206 | 0.7847 | 19.5567 | 20.9993 | 21.2604 | 20.6016
190045 | 1.6104 | 0.8712 | 25.3854 | 25.8238 | 27.1996 | 26.1757
190046 | 1.4983 | 0.8712 | 24.2128 | 23.8552 | 24.7370 | 24.2698
190048 | 1.0173 | * | 19.6288 | * | * | 19.6288
190050 | 1.0996 | 0.7630 | 19.1076 | 21.0259 | 20.9142 | 20.3649
190053 | 1.1445 | 0.7687 | 16.4968 | 17.9788 | 18.5819 | 17.7257
190054 | 1.3646 | 0.7671 | 20.1108 | 23.1471 | 22.7011 | 22.0095
190060 | 1.4954 | 0.7784 | 23.6278 | 23.7393 | 22.6291 | 23.3259
190064 | 1.6406 | 0.8010 | 23.3617 | 23.1358 | 23.7298 | 23.4086
190065 | 1.6036 | 0.8010 | 23.7450 | 22.1880 | 23.1202 | 23.0047
190077 | 0.9332 | * | 18.8409 | * | * | 18.8409
190078 | 1.0556 | 0.7773 | 21.3786 | 22.2431 | 22.2346 | 21.9592
190079 | 1.2228 | 0.8712 | 21.2546 | 24.0985 | 23.8192 | 23.0910
190081 | 0.8766 | 0.7586 | 15.6146 | 20.0121 | 21.4510 | 18.9734
190086 | 1.2998 | 0.7765 | 19.8823 | 22.0610 | 22.2895 | 21.4355
190088 | 1.0983 | 0.8552 | 22.3480 | 23.8562 | 23.1638 | 23.1096
190090 | 1.0644 | 0.7586 | 20.2045 | 23.1241 | 24.3303 | 22.5642
190095 | *** | * | 18.0174 | * | * | 18.0174
190098 | 1.7671 | 0.8552 | 24.6353 | 25.6854 | 25.7449 | 25.3598
190099 | 1.0514 | 0.8010 | 20.4597 | 22.0610 | 23.2343 | 21.9199
190102 | 1.5319 | 0.8323 | 25.2267 | 27.3126 | 26.9700 | 26.4749
190106 | 1.1179 | 0.7978 | 21.7228 | 23.5376 | 26.6227 | 23.8316
190109 | 1.2697 | * | 18.6524 | * | * | 18.6524
190111 | 1.6595 | 0.8552 | 24.4998 | 25.5729 | 26.5722 | 25.5481
190114 | 1.0528 | 0.7586 | 15.8031 | 17.2678 | 19.1586 | 17.4128
190115 | 1.2579 | 0.8552 | 26.6295 | 28.2066 | 26.0797 | 26.9667
190116 | 1.1795 | 0.7671 | 20.3845 | 22.3710 | 23.4013 | 22.0638
190118 | 0.9119 | 0.8552 | 19.7024 | 22.8809 | 21.2580 | 21.3081
190122 | 1.3165 | 0.8010 | 23.7082 | 22.0072 | 22.2371 | 22.6302
190124 | *** | * | 24.6675 | 26.0032 | 27.9484 | 26.2122
190125 | 1.5999 | 0.7869 | 23.9649 | 25.5463 | 24.8256 | 24.7616
190128 | 1.1274 | 0.8010 | 27.9136 | 28.3257 | 29.6682 | 28.6616
190131 | 1.2853 | 0.8010 | 25.1917 | 27.8465 | 28.6795 | 27.2765
190133 | 0.8990 | 0.7688 | 13.6266 | 18.2045 | 22.4311 | 19.4522
190135 | *** | * | 26.8238 | 27.7540 | 30.5646 | 28.1639
190140 | 0.9706 | 0.7621 | 17.6936 | 18.9652 | 23.0485 | 19.9125
190144 | 1.1642 | 0.8552 | 21.7547 | 22.9181 | 23.7875 | 22.8280
190145 | 0.9239 | 0.7676 | 18.9678 | 19.9265 | 20.8579 | 19.9365
190146 | 1.5689 | 0.8712 | 26.1792 | 27.4824 | 28.7200 | 27.4158
190149 | 1.0427 | * | 18.8819 | * | * | 18.8819
190151 | 0.9473 | 0.7586 | 18.6293 | 18.7467 | 18.8391 | 18.7428
190152 | 1.5619 | 0.8712 | 27.6099 | 28.1334 | 30.8512 | 28.8848
190158 | *** | * | 26.3042 | 26.4787 | 30.6450 | 27.6757
190160 | 1.6083 | 0.7869 | 21.6740 | 22.9325 | 24.7822 | 22.9872
190161 | 1.2550 | 0.7784 | 19.1022 | 22.6187 | 22.9035 | 21.4144
190162 | *** | * | 25.0328 | 25.2953 | * | 25.1543
190164 | 1.1717 | 0.8198 | 22.8599 | 25.2560 | 26.6207 | 24.9939
190167 | 1.2689 | 0.8323 | 24.3185 | 26.4669 | 25.3283 | 25.3447
190175 | 1.3803 | 0.8712 | 27.1531 | 26.0547 | 27.4256 | 26.8730
190176 | 1.7567 | 0.8712 | 25.6997 | 25.8826 | 26.2596 | 25.9476
190177 | 1.7190 | 0.8712 | 27.4621 | 27.7792 | 28.2751 | 27.8348
190182 | *** | * | 28.4799 | 27.1682 | 29.8656 | 28.5188
190183 | 1.1703 | 0.7976 | 19.8084 | 22.6928 | 22.0119 | 21.4403
190184 | 1.0091 | 0.7765 | 23.9608 | 24.9476 | 24.1626 | 24.3753
190185 | *** | * | 24.7912 | 25.6394 | 28.9759 | 26.4364
190190 | 0.9347 | 0.7747 | 16.1195 | 24.3327 | 26.7043 | 22.8841
190191 | 1.3288 | 0.8323 | 23.5734 | 24.1923 | 26.1628 | 24.6319
190196 | 0.9294 | 0.8323 | 24.7135 | 24.0385 | 25.8472 | 24.8787
190197 | 1.3883 | 0.7869 | 24.3735 | 25.8071 | 26.4825 | 25.5498
190199 | 1.0219 | 0.8010 | 14.1409 | 27.3304 | 32.0194 | 23.0028
190200 | *** | * | 27.5681 | 28.8173 | 27.4781 | 27.9971
190201 | 1.2441 | 0.7784 | 24.5877 | 25.1010 | 24.4563 | 24.7120
190202 | 1.3990 | 0.8010 | 24.7944 | 27.6084 | 29.6612 | 27.4877
190203 | *** | * | 26.8795 | 28.1832 | 29.9753 | 28.2129
190204 | 1.5165 | 0.8712 | 28.3684 | 28.1033 | 30.5140 | 28.9472
190205 | 1.6775 | 0.8323 | 24.4540 | 26.6832 | 28.2484 | 26.4802
190206 | 1.5731 | 0.8712 | 26.0139 | 26.7401 | 29.2371 | 27.2862
190208 | 0.8612 | 0.7586 | 24.2588 | 28.7308 | 27.9908 | 27.1395
190218 | 1.1033 | 0.8552 | 25.0356 | 26.7262 | 28.1039 | 26.6017
190236 | 1.4943 | 0.8552 | 23.6824 | 24.7142 | 26.4614 | 24.9863
190241 | 1.2264 | 0.7976 | 23.9700 | 25.2123 | 25.7906 | 25.0883
190242 | 1.1676 | 0.8010 | 23.0072 | 24.8461 | 25.0035 | 24.3294
190245 | 1.7027 | 0.7869 | 27.1786 | 25.5751 | 26.7642 | 26.5210
190246 | 1.6612 | 0.7747 | * | * | 22.7833 | 22.7833
190247 | *** | * | * | 32.7499 | * | 32.7499
190248 | *** | * | * | 23.2220 | * | 23.2220
190249 | 1.8972 | 0.8010 | * | 20.0468 | 25.2523 | 22.1292
190250 | 2.1185 | 0.8712 | * | 31.5101 | 33.3302 | 32.3430
190251 | 1.2888 | 0.8010 | * | 21.4464 | 23.8389 | 22.5823
190252 | *** | * | * | 23.6924 | * | 23.6924
190253 | *** | * | * | 22.8060 | 23.8037 | 23.3049
190254 | *** | * | * | 32.9290 | * | 32.9290
190255 | 0.7428 | 0.8323 | * | 22.2412 | 16.1593 | 18.2998
190256 | 0.8040 | 0.8712 | * | * | 25.9577 | 25.9577
190257 | 1.6107 | 0.7647 | * | * | 26.5505 | 26.5505
190258 | 1.0203 | 0.8552 | * | 31.3715 | 26.1141 | 28.3735
190259 | 1.8072 | 0.8323 | * | * | 26.5084 | 26.5084
190260 | *** | * | * | * | 29.3947 | 29.3947
190261 | 1.6813 | 0.7869 | * | * | 27.0441 | 27.0441
190262 | *** | * | * | * | 30.3719 | 30.3719
190263 | 2.4748 | 0.8323 | * | * | 26.4202 | 26.4202
190264 | *** | * | * | * | 26.5842 | 26.5842
190265 | 0.7095 | 0.7869 | * | * | 22.6231 | 22.6231
190266 | 1.9424 | 0.8010 | * | * | * | *
190267 | 1.2028 | 0.8712 | * | * | * | *
190268 | 1.3593 | 0.8323 | * | * | * | *
190270 | 1.7939 | 0.8712 | * | * | * | *
190272 | 1.5530 | 0.8323 | * | * | * | *
190273 | 1.6476 | 0.8010 | * | * | * | *
200001 | 1.3864 | 0.9882 | 25.1144 | 25.2542 | 26.3045 | 25.5700
200002 | 1.0776 | 0.8409 | 25.7478 | 25.7212 | 27.1151 | 26.1903
200008 | 1.3373 | 0.9991 | 27.4412 | 27.7137 | 29.1836 | 28.1476
200009 | 1.9781 | 0.9991 | 31.1056 | 30.7510 | 32.5812 | 31.4774
200012 | 1.3475 | * | 25.7623 | * | * | 25.7623
200013 | *** | * | 24.4131 | * | * | 24.4131
200018 | 1.2583 | 0.8409 | 23.6337 | 23.5632 | 22.5027 | 23.1555
200019 | 1.2478 | 0.9991 | 25.1367 | 25.6649 | 27.7896 | 26.2304
200020 | 1.2349 | 1.0174 | 31.7083 | 32.6436 | 34.0916 | 32.8279
200021 | 1.2526 | 0.9991 | 24.5519 | 27.1381 | 29.2054 | 27.0896
200024 | 1.5917 | 0.9590 | 26.0080 | 27.5410 | 29.7817 | 27.8465
200025 | 1.1475 | 0.9991 | 26.0573 | 26.3124 | 28.5750 | 27.0015
200027 | *** | * | 26.3118 | * | * | 26.3118
200028 | *** | * | 24.3271 | * | * | 24.3271
200031 | 1.2583 | 0.8409 | 21.9489 | 21.2370 | 22.2151 | 21.8012
200032 | 1.1121 | 0.8875 | 25.5227 | 26.3322 | 26.8993 | 26.2493
200033 | 1.8746 | 0.9882 | 28.6479 | 29.3108 | 31.7007 | 29.9421
200034 | 1.3358 | 0.9590 | 26.2926 | 27.0582 | 27.0103 | 26.8004
200037 | 1.2367 | 0.8409 | 23.2333 | 24.1732 | 24.9418 | 24.1299
200039 | 1.3017 | 0.9590 | 25.1196 | 25.1179 | 26.6409 | 25.6399
200040 | 1.2319 | 0.9991 | 25.5405 | 25.9893 | 27.8053 | 26.5224
200041 | 1.1511 | 0.8409 | 24.5532 | 24.9670 | 26.6777 | 25.4297
200050 | 1.2555 | 0.9882 | 26.4992 | 27.6825 | 29.5033 | 27.9408
200052 | 1.0971 | 0.8409 | 21.8726 | 22.5159 | 24.4204 | 22.9910
200063 | 1.1426 | 0.9590 | 25.0167 | 25.8623 | 27.9748 | 26.3221
210001 | 1.3534 | 0.9443 | 27.7561 | 28.2858 | 29.3471 | 28.4871
210002 | 1.9675 | 1.0031 | 26.4992 | 32.3005 | 33.7388 | 30.7141
210003 | 1.6589 | 1.0676 | 29.8684 | 34.1109 | 30.7334 | 31.5417
210004 | 1.4229 | 1.1017 | 34.2392 | 33.6056 | 31.7132 | 33.1035
210005 | 1.2759 | 1.1017 | 28.7557 | 28.9554 | 29.5835 | 29.1066
210006 | 1.0873 | 1.0031 | 25.4081 | 25.9005 | 27.3620 | 26.2242
210007 | 1.8886 | 1.0031 | 30.2548 | 31.8767 | 30.7124 | 30.9328
210008 | 1.3842 | 1.0031 | 25.2833 | 24.3341 | 28.8850 | 26.1403
210009 | 1.6931 | 1.0031 | 26.2360 | 27.7900 | 30.2661 | 28.0855
210010 | *** | * | 25.7775 | * | * | 25.7775
210011 | 1.3772 | 1.0031 | 27.5031 | 30.8575 | 31.0966 | 29.8770
210012 | 1.6040 | 1.0031 | 27.4103 | 30.3078 | 31.1778 | 29.7278
210013 | 1.2771 | 1.0031 | 25.1348 | 28.5328 | 28.9917 | 27.5062
210015 | 1.2770 | 1.0031 | 28.2029 | 29.9261 | 32.2774 | 30.1836
210016 | 1.7522 | 1.1017 | 32.2081 | 32.3506 | 33.5493 | 32.6964
210017 | 1.1905 | 0.8912 | 23.2167 | 25.1890 | 26.8592 | 25.1002
210018 | 1.1898 | 1.1017 | 29.1870 | 29.5533 | 29.6521 | 29.4662
210019 | 1.7927 | 0.8912 | 26.1824 | 27.3731 | 28.7844 | 27.4744
210022 | 1.3934 | 1.1017 | 33.8015 | 35.4727 | 37.3092 | 35.4772
210023 | 1.4341 | 1.0110 | 30.4656 | 32.1812 | 33.0212 | 31.9645
210024 | 1.7296 | 1.0031 | 29.5579 | 30.6359 | 32.9434 | 31.0668
210025 | 1.2742 | 0.8912 | 26.0771 | 23.8552 | 24.8570 | 24.7700
210027 | 1.5326 | 0.8912 | 26.0111 | 24.6343 | 24.4821 | 25.0058
210028 | 1.0538 | 0.9424 | 25.9221 | 26.3469 | 26.7462 | 26.3461
210029 | 1.2601 | 1.0031 | 27.9741 | 31.0266 | 31.8539 | 30.2810
210030 | 1.2157 | 0.8912 | 29.5635 | 26.9763 | 32.2033 | 29.6024
210032 | 1.1523 | 1.0667 | 26.1829 | 27.0727 | 27.9359 | 27.1028
210033 | 1.1658 | 1.0031 | 29.0420 | 28.5534 | 29.2504 | 28.9511
210034 | 1.2970 | 1.0031 | 28.4308 | 30.2908 | 32.3827 | 30.4309
210035 | 1.2764 | 1.0676 | 26.1083 | 28.6484 | 27.3901 | 27.4000
210037 | 1.1898 | 0.8912 | 27.0973 | 27.3287 | 27.8394 | 27.4525
210038 | 1.2307 | 1.0031 | 29.5980 | 29.8121 | 32.3206 | 30.5517
210039 | 1.1414 | 1.0676 | 27.6940 | 30.4991 | 32.4139 | 30.2667
210040 | 1.2133 | 1.0031 | 29.3514 | 28.3559 | 29.2390 | 28.9752
210043 | 1.2979 | 1.0110 | 27.5657 | 26.6524 | 32.6961 | 28.8477
210044 | 1.3213 | 1.0031 | 28.8700 | 29.7339 | 30.3349 | 29.6367
210045 | 0.9662 | 0.8912 | 15.6380 | 14.2223 | 16.3724 | 15.4690
210048 | 1.2751 | 1.0031 | 28.4638 | 27.5043 | 26.0650 | 27.2655
210049 | 1.2023 | 1.0031 | 26.9656 | 26.0900 | 27.0161 | 26.6997
210051 | 1.3644 | 1.0676 | 29.2998 | 29.8892 | 29.5219 | 29.5723
210054 | 1.2933 | 1.0676 | 26.2295 | 27.4328 | 27.7607 | 27.1406
210055 | 1.1642 | 1.0676 | 29.9708 | 30.6941 | 31.4905 | 30.7118
210056 | 1.2997 | 1.0031 | 28.6091 | 30.0810 | 32.3518 | 30.4754
210057 | 1.3572 | 1.1017 | 32.2883 | 31.6787 | 32.8299 | 32.2617
210058 | 1.0863 | 1.0031 | 29.7841 | 31.0873 | 31.1988 | 30.7830
210060 | 1.1804 | 1.0676 | 28.5087 | 27.1764 | 29.9626 | 28.5557
210061 | 1.2433 | 0.8912 | 23.6662 | 23.1645 | 25.0253 | 23.9970
220001 | 1.3836 | 1.1355 | 29.0014 | 30.6070 | 31.2316 | 30.2898
220002 | 1.1827 | 1.1488 | 30.3598 | 32.4356 | 33.6649 | 32.2137
220003 | *** | * | 22.0549 | * | * | 22.0549
220006 | 1.2814 | * | 30.8599 | 30.7673 | 33.6438 | 31.7232
220008 | 1.2471 | 1.1304 | 30.1043 | 31.3385 | 34.7924 | 32.1143
220010 | 1.1289 | 1.1304 | 29.7998 | 30.7804 | 32.0925 | 30.8934
220011 | 1.5403 | 1.1488 | 34.4064 | 34.7655 | 36.5640 | 35.2410
220012 | 1.1909 | 1.2612 | 35.7872 | 37.8763 | 39.7564 | 37.8806
220015 | 1.1221 | 1.0451 | 28.3397 | 29.6315 | 32.4903 | 30.2089
220016 | 1.2751 | 1.0451 | 28.0608 | 30.4813 | 32.5863 | 30.3587
220017 | 1.0840 | 1.1844 | 29.7108 | 31.6170 | 33.3020 | 31.5466
220019 | 1.2035 | 1.1355 | 23.2544 | 24.4009 | 25.7855 | 24.4947
220020 | 1.2983 | 1.1304 | 26.5305 | 28.5288 | 30.8458 | 28.6772
220024 | 1.0403 | 1.0451 | 27.3488 | 28.7342 | 31.9491 | 29.2912
220025 | *** | 1.1355 | 23.0637 | 25.6478 | 30.4369 | 26.1069
220028 | 1.1319 | * | 32.0980 | 31.7122 | 39.3089 | 34.1922
220029 | 1.1315 | 1.1304 | 28.6970 | 30.6935 | 31.6363 | 30.3492
220030 | 1.6670 | 1.0451 | 24.4289 | 26.8849 | 28.1347 | 26.5400
220031 | 1.2129 | 1.1844 | 34.8183 | 36.8477 | 38.9433 | 36.9174
220033 | 1.4179 | 1.1304 | 28.2539 | 31.8249 | 32.3495 | 30.8022
220035 | 1.5119 | 1.1304 | 28.6238 | 31.4470 | 34.8739 | 32.8577
220036 | 1.4766 | 1.1844 | 31.5184 | 33.1436 | 35.9124 | 33.5798
220046 | 1.2148 | 1.0053 | 28.1396 | 30.4460 | 31.4510 | 30.0573
220049 | 1.0817 | 1.1488 | 27.7518 | 30.4740 | 32.4652 | 30.2584
220050 | 1.3058 | 1.0451 | 26.3768 | 28.3434 | 29.5194 | 28.1065
220051 | 1.1342 | 0.9706 | 29.8380 | 30.2552 | 30.1022 | 30.0683
220052 | 0.9584 | 1.1844 | 29.8577 | 32.4130 | 32.3532 | 31.5202
220058 | 1.1735 | 1.1355 | 24.9642 | 25.7247 | 27.8893 | 26.1881
220060 | 0.5718 | 1.1844 | 32.3362 | 32.5477 | 34.7336 | 33.2260
220062 | 1.2551 | 1.1355 | 24.2779 | 25.0766 | 25.4224 | 24.9426
220063 | 1.2422 | 1.1488 | 27.3968 | 30.2866 | 32.9283 | 30.2274
220065 | 1.3440 | 1.0451 | 26.5513 | 27.6009 | 30.1103 | 28.0583
220066 | 1.1846 | 1.0451 | 27.1317 | 27.8073 | 29.9736 | 28.3106
220067 | 1.1331 | 1.1844 | 29.8911 | 30.2222 | 32.4019 | 30.8648
220070 | 1.8639 | 1.1488 | 31.9283 | 33.1299 | 34.2598 | 33.1439
220071 | 1.1778 | 1.1844 | 32.2936 | 36.5065 | 37.4087 | 35.4748
220073 | 1.3058 | 1.1304 | 31.3566 | 34.2989 | 36.0289 | 33.8953
220074 | 1.3058 | 1.0533 | 28.4930 | 30.5607 | 31.4730 | 30.1564
220B744 | *** | 1.1844 | 28.4930 | 30.5607 | 31.4730 | 30.1564
220075 | 1.5116 | 1.1844 | 29.1588 | 30.9175 | 32.2957 | 30.7771
220076 | *** | * | 29.7507 | 27.5148 | * | 28.6235
220077 | 1.6762 | 1.1026 | 30.2684 | 31.7325 | 34.0168 | 32.0323
220080 | 1.2068 | 1.1304 | 28.9835 | 29.9595 | 31.1268 | 30.0450
220082 | 1.2840 | 1.1488 | 26.9841 | 30.0611 | 30.8230 | 29.3142
220083 | 1.0834 | 1.1844 | 32.9143 | 34.5118 | 34.5969 | 33.9912
220084 | 1.2052 | 1.1488 | 32.5711 | 30.9527 | 31.6955 | 31.7158
220086 | 1.8146 | 1.1844 | 34.3667 | 34.2388 | 35.3451 | 34.6686
220088 | 1.8790 | 1.1844 | 28.5462 | 35.8255 | 34.7637 | 32.6700
220089 | *** | * | 31.1708 | 32.6305 | 34.8205 | 32.8410
220090 | 1.1951 | 1.1355 | 30.8685 | 32.9011 | 34.1963 | 32.7325
220095 | 1.1073 | 1.1355 | 27.4273 | 28.0673 | 30.8626 | 28.8006
220098 | 1.1432 | 1.1488 | 28.8314 | 30.5869 | 31.5403 | 30.3885
220100 | 1.3485 | 1.1844 | 29.6912 | 31.9859 | 34.6599 | 32.1947
220101 | 1.2863 | 1.1488 | 33.1690 | 35.3464 | 37.7809 | 35.5307
220105 | 1.2082 | 1.1488 | 31.9421 | 33.2625 | 34.4029 | 33.2435
220108 | 1.1284 | 1.1844 | 30.6252 | 32.6131 | 33.8854 | 32.3646
220110 | 2.0146 | 1.1844 | 36.6084 | 39.2167 | 40.7382 | 38.9261
220111 | 1.2052 | 1.1844 | 31.1850 | 33.6167 | 34.2498 | 33.0681
220116 | 1.9487 | 1.1844 | 32.9988 | 36.4149 | 38.8799 | 36.0050
220119 | 1.0940 | 1.1844 | 30.1056 | 30.9965 | 32.0863 | 31.1230
220126 | 1.1444 | 1.1844 | 28.7805 | 31.4882 | 32.6938 | 30.9694
220133 | *** | * | 33.6003 | 29.4855 | 34.9182 | 32.6345
220135 | 1.3229 | 1.2612 | 33.9866 | 36.0203 | 37.5189 | 35.8946
220153 | *** | * | * | * | 19.8085 | 19.8085
220154 | 0.9781 | 1.1844 | 28.6461 | * | 28.7898 | 28.7112
220162 | 1.6210 | * | * | * | * | *
220163 | 1.5708 | 1.1355 | 33.6484 | 34.4874 | 37.4968 | 35.2942
220171 | 1.7187 | 1.1488 | 30.4036 | 32.7414 | 35.9948 | 33.0860
220174 | 1.2041 | 1.1304 | 31.7572 | 30.0406 | 30.9503 | 30.8602
220175 | 1.2664 | * | * | * | * | *
220176 | 1.6820 | 1.1355 | * | * | * | *
230002 | 1.2938 | 1.0144 | 29.1410 | 32.9010 | 32.7578 | 31.6084
230003 | 1.2256 | 0.9475 | 26.1278 | 27.5824 | 28.4716 | 27.4080
230004 | 1.7418 | 0.9968 | 26.7206 | 29.3934 | 31.5136 | 29.3059
230005 | 1.2619 | 0.9382 | 24.1902 | 25.8768 | 27.7463 | 25.8963
230006 | 1.0740 | * | 23.8835 | * | * | 23.8835
230013 | 1.3243 | 1.0244 | 23.7822 | 24.6511 | 27.2075 | 25.1219
230015 | 1.1456 | 0.9204 | 24.6571 | 26.2782 | 27.2541 | 26.0748
230017 | 1.6997 | 1.0501 | 29.5178 | 31.8821 | 32.5396 | 31.3897
230019 | 1.6525 | 1.0244 | 28.4575 | 32.3401 | 34.3213 | 31.6365
230020 | 1.7510 | 1.0144 | 29.2869 | 28.5646 | 29.5324 | 29.1347
230021 | 1.5938 | 1.0147 | 24.9551 | 26.5659 | 28.6169 | 26.7256
230022 | 1.3116 | 0.9907 | 23.3000 | 25.6683 | 30.1195 | 26.2393
230024 | 1.6711 | 1.0144 | 30.0813 | 32.1483 | 32.5892 | 31.6103
230027 | 1.0649 | * | 23.5511 | * | * | 23.5511
230029 | 1.6033 | 1.0244 | 29.0935 | 32.3538 | 32.3845 | 31.2338
230030 | 1.2720 | 0.8975 | 22.3174 | 23.8082 | 25.1100 | 23.7840
230031 | 1.3712 | 1.0034 | 25.4679 | 29.7232 | 30.0120 | 28.2715
230034 | 1.3767 | 0.8909 | 26.7967 | 24.4845 | 24.4141 | 25.2370
230035 | 1.2614 | 0.9374 | 21.2317 | 24.8822 | 25.6715 | 24.0699
230036 | 1.4568 | 0.9394 | 28.3622 | 29.3754 | 29.9642 | 29.2271
230037 | 1.3478 | 1.0144 | 26.2000 | 28.9244 | 28.5311 | 27.9038
230038 | 1.7887 | 0.9475 | 26.3480 | 28.2012 | 29.1263 | 27.9600
230040 | 1.2065 | 0.9374 | 24.2349 | 25.5154 | 26.3190 | 25.3856
230041 | 1.6028 | 0.9394 | 26.1760 | 27.8853 | 27.9569 | 27.3833
230042 | *** | * | 26.2037 | * | * | 26.2037
230046 | 1.9067 | 1.0499 | 30.3591 | 31.6235 | 32.2924 | 31.4692
230047 | 1.4044 | 1.0096 | 28.1351 | 31.1771 | 31.7075 | 30.3611
230053 | 1.6335 | 1.0144 | 29.8703 | 32.5711 | 32.1566 | 31.5479
230054 | 1.8867 | 0.9357 | 24.9905 | 25.7591 | 26.3251 | 25.7015
230055 | 1.2660 | 0.8909 | 25.4143 | 27.4349 | 28.4787 | 27.1074
230058 | 1.1260 | 0.8909 | 24.0657 | 25.9291 | 27.3156 | 25.7990
230059 | 1.5526 | 0.9475 | 25.5350 | 27.9091 | 28.5875 | 27.3993
230060 | 1.2205 | 0.8909 | 25.5015 | 28.2874 | 27.0288 | 26.9333
230065 | *** | * | 28.4631 | 32.6255 | * | 29.9929
230066 | 1.3080 | 0.9968 | 27.4928 | 30.6184 | 30.2104 | 29.5137
230069 | 1.1594 | 1.0244 | 29.5556 | 30.2663 | 31.3406 | 30.4158
230070 | 1.6379 | 0.9123 | 24.2342 | 25.6778 | 26.8315 | 25.5687
230071 | 0.8679 | 1.0244 | 26.3907 | 28.3064 | 29.6728 | 28.1431
230072 | 1.3908 | 0.9475 | 24.4933 | 26.2838 | 27.4742 | 26.0946
230075 | 1.3788 | 1.0100 | 27.6193 | 28.2540 | 30.9525 | 28.9620
230077 | 1.9004 | 1.0244 | 27.6157 | 29.8538 | 30.5567 | 29.3470
230078 | 1.0892 | 0.8909 | 23.9902 | 25.6809 | 25.7232 | 25.1289
230080 | 1.3052 | 0.9394 | 21.2314 | 24.1573 | 24.5432 | 23.3438
230081 | 1.1911 | 0.8909 | 23.0788 | 24.7374 | 26.4337 | 24.7718
230082 | 1.6774 | * | 22.2165 | * | * | 22.2165
230085 | 1.1931 | 1.0501 | 22.7313 | 23.4959 | 25.4289 | 23.9146
230087 | *** | * | 16.9168 | * | * | 16.9168
230089 | 1.3368 | 1.0144 | 28.7015 | 31.0522 | 32.8450 | 30.6488
230092 | 1.3633 | 1.0144 | 26.3584 | 28.6829 | 29.3442 | 28.2036
230093 | 1.2101 | 0.8967 | 26.4967 | 25.5804 | 27.4463 | 26.5309
230095 | 1.3084 | 0.8909 | 21.3916 | 22.8681 | 25.1854 | 23.1780
230096 | 1.1209 | 1.0147 | 28.7681 | 30.6024 | 31.7399 | 30.4267
230097 | 1.7979 | 0.9374 | 26.5773 | 28.2526 | 29.8962 | 28.2268
230099 | 1.2073 | 1.0144 | 26.4882 | 29.0221 | 29.3720 | 28.3183
230100 | 1.1880 | 0.8909 | 21.8895 | 24.1881 | 25.2118 | 23.7862
230101 | 1.2029 | 0.8909 | 24.3772 | 25.4839 | 28.4372 | 26.1557
230103 | *** | * | 21.6609 | * | * | 21.6609
230104 | 1.5968 | 1.0144 | 30.5570 | 32.4634 | 32.4125 | 31.7994
230105 | 1.8559 | 0.9394 | 27.2705 | 32.4583 | 30.5515 | 30.1274
230106 | 1.1782 | 0.9475 | 24.3980 | 25.3243 | 27.8584 | 25.9492
230108 | 1.1225 | 0.8909 | 18.4064 | 20.2539 | 24.4337 | 20.8956
230110 | 1.2978 | 0.8909 | 28.7704 | 27.0040 | 25.7196 | 27.1027
230117 | 1.8739 | 1.0501 | 29.4775 | 32.7994 | 33.0602 | 31.7183
230118 | 1.0425 | 0.8909 | 22.3636 | 23.6110 | 24.8890 | 23.5923
230119 | 1.3965 | 1.0144 | 30.2441 | 30.7488 | 31.9696 | 31.0539
230120 | 1.1884 | * | 24.1485 | * | * | 24.1485
230121 | 1.2817 | 0.9907 | 24.5220 | 26.4940 | 26.8361 | 25.9746
230130 | 1.7325 | 1.0244 | 26.6076 | 30.1608 | 31.2744 | 29.4079
230132 | 1.4181 | 1.1013 | 30.5318 | 32.3939 | 35.5304 | 32.7891
230133 | 1.3876 | 0.8909 | 24.3174 | 23.9442 | 25.0647 | 24.4539
230135 | 1.4429 | 1.0144 | 25.8407 | 25.9583 | 23.6005 | 25.1118
230141 | 1.6587 | 1.1013 | 28.6326 | 31.6152 | 33.2553 | 31.1646
230142 | 1.2476 | 1.0144 | 26.9433 | 27.8377 | 29.7417 | 28.1870
230143 | *** | * | 21.4083 | * | * | 21.4083
230144 | 2.3494 | 1.0499 | * | * | * | *
230146 | 1.3924 | 1.0144 | 26.3432 | 26.8156 | 27.2621 | 26.8179
230151 | 1.3157 | 1.0244 | 28.2243 | 27.4546 | 29.8366 | 28.4831
230153 | *** | * | 22.8644 | * | * | 22.8644
230156 | 1.6271 | 1.0499 | 31.1909 | 32.3755 | 33.9034 | 32.4969
230165 | 1.6925 | 1.0144 | 28.9636 | 29.6376 | 31.4242 | 30.0168
230167 | 1.6197 | 1.0048 | 27.4562 | 29.8071 | 31.0657 | 29.4630
230169 | *** | * | 31.8442 | * | * | 31.8442
230172 | 1.1867 | * | 25.7402 | * | * | 25.7402
230174 | 1.2752 | 0.9475 | 27.6920 | 30.0563 | 29.7488 | 29.1588
230176 | 1.2853 | 1.0144 | 27.3605 | 28.1498 | 28.9798 | 28.2393
230180 | 1.1328 | 0.8909 | 24.7358 | 26.0707 | 24.9696 | 25.2514
230184 | *** | * | 23.6706 | 34.6295 | * | 25.2502
230186 | *** | * | 26.2282 | * | * | 26.2282
230189 | *** | * | 23.0100 | * | * | 23.0100
230190 | 0.8738 | 1.0501 | 29.9603 | 30.7875 | 33.8229 | 31.5779
230193 | 1.2839 | 1.0034 | 23.3565 | 25.1626 | 26.4728 | 25.0025
230195 | 1.4446 | 1.0096 | 28.2892 | 29.5656 | 30.9702 | 29.6539
230197 | 1.5799 | 1.1013 | 30.0367 | 32.0063 | 33.7128 | 31.9307
230204 | 1.3299 | 1.0096 | 29.1466 | 31.5615 | 32.2882 | 31.0169
230207 | 1.3461 | 1.0244 | 24.5201 | 25.4268 | 25.1983 | 25.0567
230208 | 1.1990 | 0.9374 | 21.9651 | 23.7523 | 24.3476 | 23.3648
230212 | 0.9926 | 1.0499 | 29.7981 | 31.9818 | 32.8567 | 31.5065
230216 | 1.5505 | 1.0034 | 27.5230 | 29.0147 | 29.2061 | 28.5839
230217 | 1.3820 | 1.0100 | 28.6074 | 30.1136 | 31.9732 | 30.2664
230222 | 1.3803 | 0.9394 | 26.9724 | 29.9341 | 30.6482 | 29.2060
230223 | 1.2980 | 1.0244 | 29.2854 | 28.6745 | 29.8430 | 29.2661
230227 | 1.5005 | 1.0096 | 29.5798 | 30.8218 | 33.6716 | 31.2208
230230 | 1.5223 | 1.0048 | 27.9607 | 29.8763 | 31.1712 | 29.6595
230235 | 1.0691 | * | 21.8777 | * | * | 21.8777
230236 | 1.5042 | 0.9475 | 28.4754 | 31.3110 | 30.8556 | 30.2130
230239 | 1.2714 | 0.8909 | 22.1040 | 21.0814 | 22.1579 | 21.7759
230241 | 1.2149 | 1.0034 | 27.4890 | 27.6106 | 28.5516 | 27.9012
230244 | 1.4375 | 1.0144 | 26.4326 | 29.6283 | 30.0405 | 28.6466
230254 | 1.5090 | 1.0244 | 28.1216 | 29.2653 | 29.5874 | 28.9733
230257 | 0.9484 | 1.0096 | 27.8198 | 29.6712 | 30.6372 | 29.3897
230259 | 1.2662 | 1.0499 | 26.8677 | 27.4217 | 27.5982 | 27.2972
230264 | 1.8524 | 1.0096 | 19.2398 | 22.7768 | 28.5416 | 23.0410
230269 | 1.5020 | 1.0244 | 28.8187 | 31.3226 | 31.3800 | 30.6060
230270 | 1.2636 | 1.0144 | 27.8488 | 28.5372 | 28.8173 | 28.4111
230273 | 1.5130 | 1.0144 | 29.9307 | 31.9862 | 31.5396 | 31.1383
230275 | 0.4718 | 0.9123 | 23.1095 | 23.8104 | 25.2133 | 24.0702
230277 | 1.4057 | 1.0244 | 29.1973 | 29.8372 | 31.4023 | 30.1462
230279 | 0.4951 | 1.0244 | 24.7673 | 27.2816 | 27.9726 | 26.6926
230283 | *** | * | 26.2622 | 33.5531 | * | 27.8105
230289 | *** | * | 29.7721 | * | * | 29.7721
230291 | *** | * | 30.9656 | * | * | 30.9656
230292 | *** | * | 31.8943 | * | * | 31.8943
230294 | *** | * | * | 31.6195 | * | 31.6195
230295 | *** | * | * | 27.1298 | * | 27.1298
230296 | *** | * | * | * | 34.2107 | 34.2107
230297 | 1.6768 | 1.0096 | * | * | * | *
230299 | 0.7569 | 1.0096 | * | * | * | *
230300 | 2.9905 | 1.0096 | * | * | * | *
240001 | 1.5368 | 1.0897 | 31.5753 | 33.1499 | 34.7673 | 33.1702
240002 | 1.8838 | 1.0082 | 28.9860 | 31.6000 | 33.1051 | 31.2232
240004 | 1.5928 | 1.0897 | 30.8072 | 32.7010 | 32.5777 | 32.0088
240006 | 1.0956 | 1.0491 | 30.1949 | 31.0777 | 33.4777 | 31.6176
240010 | 2.0512 | 1.0491 | 31.3733 | 33.4668 | 32.7261 | 32.5154
240013 | *** | * | 28.3860 | * | * | 28.3860
240014 | 1.0234 | 1.0897 | 29.8623 | 29.8905 | 30.7519 | 30.1868
240016 | 1.2729 | * | 26.7814 | * | * | 26.7814
240017 | 1.1862 | * | 24.4417 | 24.3596 | * | 24.4015
240018 | 1.2793 | 0.9919 | 25.6236 | 28.1432 | 29.4995 | 27.7723
240019 | 1.0504 | 1.0082 | 28.6723 | 33.7546 | 32.7052 | 31.5906
240020 | 1.0690 | 1.0897 | 31.2443 | 31.3874 | 33.2449 | 31.9653
240021 | 1.0320 | * | 27.1236 | * | * | 27.1236
240022 | 1.0313 | 0.9114 | 25.2066 | 26.1920 | 27.3137 | 26.2644
240027 | 0.9334 | * | 18.2482 | * | * | 18.2482
240029 | 0.9036 | * | 25.3568 | * | * | 25.3568
240030 | 1.3356 | 1.0323 | 24.7154 | 26.5508 | 27.1312 | 26.1217
240031 | *** | * | 26.7778 | * | * | 26.7778
240036 | 1.6944 | 1.1059 | 28.0812 | 32.7028 | 34.2980 | 31.6464
240038 | 1.5433 | 1.0897 | 31.0779 | 31.9891 | 33.0554 | 32.0416
240040 | 1.0727 | 1.0082 | 27.4895 | 27.5074 | 28.9009 | 27.9569
240043 | 1.2167 | 0.9114 | 21.8684 | 23.3489 | 24.0708 | 23.1186
240044 | 1.0578 | 0.9739 | 22.0973 | 25.0988 | 26.8681 | 24.6231
240047 | 1.5014 | 1.0082 | 28.8289 | 28.6406 | 29.7835 | 29.0980
240050 | 1.1121 | 1.0897 | 26.4854 | 27.5553 | 30.9805 | 28.4152
240052 | 1.2203 | 0.9114 | 26.4256 | 28.7206 | 29.4617 | 28.2289
240053 | 1.4790 | 1.0897 | 29.5315 | 31.4324 | 33.1148 | 31.4053
240056 | 1.2476 | 1.0897 | 31.6623 | 33.1728 | 34.0845 | 32.9884
240057 | 1.8390 | 1.0897 | 30.6258 | 30.7703 | 33.4713 | 31.6052
240059 | 1.1410 | 1.0897 | 29.7916 | 31.0911 | 32.4803 | 31.1825
240061 | 1.8232 | 1.0491 | 30.6383 | 33.1799 | 32.0828 | 31.9873
240063 | 1.6425 | 1.0897 | 32.3487 | 33.7895 | 35.2877 | 33.8358
240064 | 1.1840 | 0.9956 | 29.9662 | 34.3757 | 27.2407 | 30.4845
240066 | 1.5079 | 1.0897 | 33.4532 | 35.3441 | 36.0705 | 35.0117
240069 | 1.2056 | 1.0491 | 28.9496 | 29.3718 | 30.9719 | 29.7863
240071 | 1.1303 | 1.0491 | 28.0586 | 28.6950 | 31.7754 | 29.4920
240075 | 1.1560 | 1.0323 | 26.1956 | 27.5039 | 29.1171 | 27.5983
240076 | 1.0339 | 1.0897 | 29.8561 | 30.6936 | 33.1439 | 31.3353
240078 | 1.7528 | 1.0897 | 32.3235 | 32.5785 | 34.6118 | 33.2014
240080 | 1.9192 | 1.0897 | 31.6828 | 32.5725 | 34.8064 | 32.9942
240083 | 1.2282 | * | 26.6582 | * | * | 26.6582
240084 | 1.1711 | 1.0082 | 26.8141 | 26.5975 | 27.0995 | 26.8366
240088 | 1.2869 | 1.0323 | 28.0825 | 28.0603 | 29.1387 | 28.4292
240093 | 1.4134 | 1.0897 | 25.5805 | 27.2928 | 29.1717 | 27.3783
240100 | 1.3073 | 0.9114 | 27.6299 | 30.8391 | 31.5774 | 30.0103
240101 | 1.1570 | 0.9114 | 25.5355 | 25.6963 | 26.8849 | 26.0843
240103 | *** | * | 22.7077 | * | * | 22.7077
240104 | 1.1350 | 1.0897 | 31.4306 | 31.6511 | 35.0736 | 32.8285
240106 | 1.6075 | 1.0897 | 29.3455 | 30.5927 | 32.8156 | 30.9392
240109 | 0.8676 | * | 16.5051 | * | * | 16.5051
240115 | 1.5330 | 1.0897 | 31.3869 | 32.0107 | 33.5288 | 32.3224
240117 | 1.1821 | 0.9641 | 23.6230 | 24.5750 | 27.6950 | 25.3203
240123 | *** | * | 21.7500 | * | * | 21.7500
240128 | *** | * | 21.5791 | 23.3334 | * | 22.4504
240132 | 1.2808 | 1.0897 | 31.7139 | 32.1233 | 34.6191 | 32.7811
240141 | 1.1219 | 1.0897 | 26.4016 | 31.4468 | 32.8689 | 30.5116
240143 | 0.8966 | * | 21.7416 | * | * | 21.7416
240152 | *** | * | 29.6196 | * | * | 29.6196
240162 | *** | * | 22.2722 | * | * | 22.2722
240166 | 1.1560 | 0.9114 | 25.7509 | 27.6987 | 26.5328 | 26.6686
240187 | 1.3285 | 1.0897 | 27.8811 | 27.8844 | 29.1582 | 28.3455
240196 | 0.8200 | 1.0897 | 30.7720 | 31.5965 | 34.3743 | 32.2603
240206 | 0.8831 | 1.4401 | * | * | * | *
240207 | 1.1964 | 1.0897 | 31.7665 | 32.5589 | 34.6792 | 33.0557
240210 | 1.2901 | 1.0897 | 32.1564 | 32.7123 | 34.4184 | 33.1005
240211 | 0.9769 | 0.9926 | 18.8503 | 22.5430 | 17.4044 | 19.3517
240213 | 1.3936 | 1.0897 | 32.7532 | 33.8680 | 35.7818 | 34.1758
250001 | 1.9108 | 0.7951 | 22.7827 | 23.5222 | 23.7773 | 23.3786
250002 | 0.9543 | 0.7752 | 23.3844 | 23.4063 | 25.4201 | 24.0840
250004 | 1.9118 | 0.8964 | 24.1065 | 24.7907 | 25.8722 | 24.9584
250006 | 1.1133 | 0.8964 | 24.0191 | 24.4282 | 25.9199 | 24.8140
250007 | 1.2414 | 0.8608 | 25.8710 | 24.8929 | 27.7665 | 26.1862
250009 | 1.2438 | 0.8435 | 22.2323 | 23.0352 | 23.4866 | 22.9223
250010 | 0.9922 | 0.7752 | 19.4402 | 21.4322 | 21.8665 | 20.9164
250012 | 0.9498 | 0.9314 | 20.2922 | 21.5540 | 23.4837 | 21.7607
250015 | 1.1227 | 0.7752 | 20.7555 | 22.0067 | 22.2803 | 21.6585
250017 | 1.0264 | 0.7752 | 21.3950 | 22.7660 | 33.6840 | 25.4569
250018 | 0.8983 | 0.7752 | 16.6292 | 17.1276 | 17.9025 | 17.2152
250019 | 1.5215 | 0.8608 | 23.9741 | 25.7376 | 26.2199 | 25.3039
250020 | 0.9941 | 0.7752 | 21.4019 | 22.1851 | 23.7245 | 22.4970
250021 | *** | * | 20.3564 | * | * | 20.3564
250023 | 0.8728 | 0.8217 | 16.2418 | 18.0108 | 18.5067 | 17.6056
250025 | 1.0996 | 0.7752 | 20.5258 | 22.5621 | 23.1738 | 22.1091
250027 | 0.9597 | 0.7752 | 17.3481 | 24.4937 | 26.9922 | 22.7357
250031 | 1.3166 | 0.7951 | 21.4326 | 24.8139 | 25.9189 | 23.7971
250034 | 1.5394 | 0.8964 | 24.3189 | 26.1887 | 26.7996 | 25.7643
250035 | 0.8596 | 0.7752 | 17.2046 | 20.1622 | 19.1038 | 18.8948
250036 | 1.0403 | 0.8540 | 19.1975 | 20.3625 | 19.7951 | 19.8104
250037 | 0.9020 | * | 17.4012 | * | * | 17.4012
250038 | 0.9406 | 0.7951 | 18.9050 | 22.2571 | 26.9621 | 22.1505
250039 | 0.9692 | * | 17.3155 | * | * | 17.3155
250040 | 1.4843 | 0.8217 | 23.2285 | 24.5962 | 27.3366 | 25.0602
250042 | 1.2097 | 0.8964 | 23.4135 | 25.6807 | 26.1190 | 25.0569
250043 | 1.0165 | 0.7752 | 19.8097 | 18.8979 | 20.8841 | 19.8723
250044 | 1.0512 | 0.7752 | 23.3862 | 24.0508 | 24.9199 | 24.1132
250045 | 0.8706 | * | 26.3831 | * | * | 26.3831
250048 | 1.6242 | 0.7951 | 22.9765 | 25.2092 | 24.7659 | 24.3112
250049 | 0.8734 | 0.7752 | 17.7005 | 19.1044 | 20.4775 | 19.2031
250050 | 1.1882 | 0.7752 | 19.1467 | 20.8084 | 21.1657 | 20.4032
250051 | 0.8083 | 0.7752 | 10.6095 | 14.3741 | 13.9532 | 12.9323
250057 | 1.1237 | 0.7752 | 20.1900 | 22.7601 | 24.3654 | 22.3993
250058 | 1.2419 | 0.7752 | 18.1704 | 19.2502 | 18.9970 | 18.8129
250059 | 0.9234 | 0.7752 | 19.2976 | 23.8997 | 26.7491 | 23.0906
250060 | 0.8007 | 0.7752 | 16.8247 | 28.1431 | 25.4779 | 22.9648
250061 | 0.9008 | 0.7752 | 12.8174 | 17.8267 | 18.7413 | 16.2215
250067 | 1.0773 | 0.7752 | 21.6911 | 23.1193 | 25.2189 | 23.3711
250069 | 1.4798 | 0.8162 | 22.8162 | 22.6353 | 22.4194 | 22.6160
250072 | 1.6974 | 0.7951 | 24.6587 | 25.8399 | 25.5337 | 25.3438
250077 | 0.9375 | 0.7752 | 14.7632 | 18.3735 | 19.0416 | 17.4307
250078 | 1.6957 | 0.8217 | 20.9354 | 22.1243 | 22.8430 | 21.9367
250079 | 0.8566 | 0.7951 | 38.0032 | 45.5166 | 43.0845 | 42.6371
250081 | 1.3341 | 0.8162 | 24.7031 | 23.9995 | 25.6808 | 24.7915
250082 | 1.4638 | 0.7956 | 19.6966 | 23.0287 | 23.5399 | 22.0713
250084 | 1.2087 | 0.7752 | 18.5775 | 19.6492 | 19.1604 | 19.1217
250085 | 0.9997 | 0.7752 | 19.7008 | 22.5513 | 24.2915 | 22.2573
250093 | 1.1868 | 0.7752 | 21.3237 | 23.0984 | 23.9128 | 22.7658
250094 | 1.7390 | 0.8217 | 22.7312 | 24.1422 | 24.7718 | 23.8835
250095 | 1.0356 | 0.7752 | 21.3511 | 21.7488 | 23.6140 | 22.2444
250096 | 1.1760 | 0.7951 | 22.6298 | 24.9187 | 26.3743 | 24.6259
250097 | 1.6155 | 0.8010 | 20.1687 | 21.8139 | 22.0211 | 21.3430
250099 | 1.2795 | 0.7951 | 19.5797 | 21.1269 | 21.5656 | 20.7220
250100 | 1.4728 | 0.8162 | 24.2209 | 25.6846 | 27.0286 | 25.6566
250101 | *** | * | 19.3543 | * | * | 19.3543
250102 | 1.5957 | 0.7951 | 24.2868 | 24.6652 | 25.4050 | 24.7885
250104 | 1.4888 | 0.8162 | 22.6591 | 23.4303 | 24.4311 | 23.5422
250105 | 0.9250 | * | 18.1195 | * | * | 18.1195
250107 | 0.5882 | * | 17.8999 | * | * | 17.8999
250112 | 0.9893 | 0.7752 | 21.2824 | 24.3069 | 26.3357 | 23.9697
250117 | 1.1062 | 0.8217 | 23.3673 | 22.2450 | 23.7337 | 23.1049
250120 | *** | * | 23.4277 | 24.6370 | 26.6522 | 24.9400
250122 | 1.1115 | 0.7752 | 24.5854 | 27.2795 | 27.4424 | 26.3827
250123 | 1.3323 | 0.8608 | 24.5115 | 26.6221 | 27.9058 | 26.3779
250124 | 0.8198 | 0.7951 | 17.2181 | 20.4394 | 20.5667 | 19.3927
250125 | 1.2242 | 0.8608 | 27.7077 | 27.5158 | 26.7687 | 27.3398
250126 | 0.9523 | 0.9314 | 21.7112 | 24.4126 | 25.0019 | 23.6618
250127 | 0.8846 | 1.4401 | * | * | * | *
250128 | 0.9268 | 0.8198 | 17.6269 | 17.7624 | 21.7882 | 19.2637
250134 | 0.8858 | 0.7951 | 25.8369 | 22.2167 | 21.0211 | 22.9411
250136 | 1.0311 | 0.7951 | 23.0637 | 22.9468 | 25.2241 | 23.7171
250138 | 1.3296 | 0.7951 | 23.8861 | 24.3018 | 25.2642 | 24.4955
250141 | 1.5435 | 0.9314 | 27.6158 | 28.5922 | 30.5112 | 28.9880
250146 | 0.7934 | * | 18.6486 | * | * | 18.6486
250149 | 0.8337 | 0.7752 | 15.0641 | 16.8796 | 17.2268 | 16.4094
250151 | 0.4710 | 0.7752 | 17.2205 | 18.8846 | 22.8238 | 18.4860
250152 | 0.8555 | 0.7951 | 25.7837 | 26.9334 | 26.4559 | 26.3576
250153 | *** | * | 29.0461 | * | * | 29.0461
250155 | *** | * | * | 22.5728 | * | 22.5728
250156 | *** | * | * | * | 16.8659 | 16.8659
250157 | *** | * | * | * | 29.6398 | 29.6398
250160 | 2.3735 | 0.8198 | * | * | * | *
250161 | 2.1565 | 0.7951 | * | * | * | *
260001 | 1.6505 | 0.9212 | 25.9250 | 27.9230 | 29.5271 | 27.7489
260002 | *** | * | 26.4879 | * | * | 26.4879
260004 | 0.9691 | 0.8153 | 16.9422 | 20.3217 | 21.3629 | 19.5753
260005 | 1.5536 | 0.8983 | 26.5773 | 27.7855 | 27.9477 | 27.4315
260006 | 1.4872 | 0.8153 | 26.7587 | 30.3440 | 27.3754 | 28.2413
260008 | *** | * | 18.9522 | * | * | 18.9522
260009 | 1.1605 | 0.9319 | 22.1816 | 24.2360 | 25.7546 | 24.0697
260011 | 1.5003 | 0.8703 | 22.7062 | 25.6387 | 27.5762 | 25.2813
260012 | *** | * | 20.3061 | * | * | 20.3061
260013 | *** | * | 20.5007 | * | * | 20.5007
260015 | 1.0079 | 0.8503 | 22.5409 | 24.6139 | 25.0640 | 24.0564
260017 | 1.3285 | 0.8703 | 22.7022 | 23.5713 | 25.0461 | 23.8093
260018 | 1.0396 | * | 17.0434 | * | * | 17.0434
260020 | 1.7374 | 0.8983 | 26.0407 | 27.4730 | 29.3080 | 27.6649
260021 | 1.3986 | 0.8983 | 27.6329 | 29.3646 | 32.6735 | 29.7171
260022 | 1.4082 | 0.8476 | 22.8085 | 23.3393 | 24.8713 | 23.6527
260023 | 1.3554 | 0.8983 | 21.2077 | 24.3192 | 25.4314 | 23.5901
260024 | 1.1334 | 0.8153 | 18.4829 | 19.4952 | 19.2199 | 19.0583
260025 | 1.3603 | 0.8983 | 22.4645 | 22.2451 | 24.0358 | 22.9418
260027 | 1.6405 | 0.9319 | 25.3348 | 26.3590 | 29.3811 | 27.0039
260032 | 1.8518 | 0.8983 | 23.9478 | 25.6763 | 27.4857 | 25.6996
260034 | 0.9779 | 0.9319 | 24.1143 | 25.0573 | 27.1685 | 25.5196
260035 | *** | * | 17.8741 | * | * | 17.8741
260036 | *** | * | 22.1913 | * | * | 22.1913
260040 | 1.6616 | 0.8791 | 23.3566 | 24.3938 | 25.9074 | 24.5552
260047 | 1.4495 | 0.8703 | 24.4185 | 25.4978 | 26.6343 | 25.5319
260048 | 1.1748 | 0.9319 | 24.3906 | 27.6117 | 28.1515 | 26.7038
260050 | 1.1594 | 0.8827 | 23.6849 | 25.0506 | 26.2346 | 25.0319
260052 | 1.3105 | 0.8983 | 24.5165 | 26.0052 | 27.6360 | 26.0330
260053 | 1.0761 | * | 21.6607 | * | * | 21.6607
260057 | 1.0689 | 0.9319 | 19.3335 | 20.9639 | 21.5925 | 20.6154
260059 | 1.1569 | 0.8230 | 19.7243 | 22.6922 | 22.3885 | 21.6448
260061 | 1.1348 | 0.8153 | 21.5264 | 22.4766 | 22.8589 | 22.2793
260062 | 1.2554 | 0.9319 | 26.4539 | 28.1661 | 28.4975 | 27.7053
260064 | 1.3816 | 0.8538 | 19.0543 | 22.2395 | 23.3498 | 21.5194
260065 | 1.7758 | 0.8791 | 23.0015 | 27.1014 | 29.3564 | 26.5324
260067 | 0.9311 | * | 17.6256 | * | * | 17.6256
260068 | 1.7942 | 0.8538 | 24.9504 | 26.0295 | 27.3475 | 26.1217
260070 | 0.9560 | 0.8153 | 18.4779 | 24.6331 | 21.9701 | 21.9657
260073 | *** | * | 21.6214 | * | * | 21.6214
260074 | 1.2370 | 0.8538 | 24.8655 | 25.6218 | 28.0468 | 26.1521
260077 | 1.6220 | 0.8983 | 25.5782 | 26.7466 | 27.6624 | 26.6607
260078 | 1.2824 | 0.8153 | 19.0802 | 20.1983 | 21.1539 | 20.1477
260080 | 0.9199 | 0.8153 | 14.7774 | 17.9107 | 18.6070 | 17.0074
260081 | 1.5693 | 0.8983 | 26.3969 | 28.1182 | 29.1890 | 27.9120
260085 | 1.5678 | 0.9319 | 25.6302 | 26.6718 | 28.0306 | 26.7545
260086 | 0.9570 | * | 19.1702 | * | * | 19.1702
260091 | 1.5284 | 0.8983 | 27.2407 | 28.0537 | 28.5473 | 27.9539
260094 | 1.7033 | 0.8620 | 23.2544 | 24.1473 | 23.8654 | 23.7602
260095 | 1.3886 | 0.9319 | 25.5668 | 24.2698 | 27.6196 | 25.7194
260096 | 1.5016 | 0.9319 | 27.5592 | 29.7312 | 30.7267 | 29.3752
260097 | 1.2010 | 0.8453 | 21.3957 | 25.0624 | 25.5634 | 24.1104
260102 | 0.9492 | 0.9319 | 24.2368 | 27.2145 | 26.7624 | 26.1065
260104 | 1.5666 | 0.8983 | 26.2867 | 28.6247 | 28.0235 | 27.6814
260105 | 1.8547 | 0.8983 | 28.8849 | 29.8848 | 29.4766 | 29.4216
260107 | 1.2949 | 0.9319 | 26.7781 | 25.8177 | 27.9710 | 26.8276
260108 | 1.8354 | 0.8983 | 24.9880 | 26.6374 | 27.0758 | 26.2658
260110 | 1.6385 | 0.8983 | 23.7978 | 24.7656 | 26.6030 | 25.1086
260113 | 1.1068 | 0.8346 | 20.9644 | 21.2072 | 21.8884 | 21.3627
260115 | 1.1422 | 0.8983 | 21.9858 | 23.1396 | 24.6389 | 23.3012
260116 | 1.0970 | 0.8240 | 18.5076 | 21.3503 | 20.7479 | 20.1811
260119 | 1.3301 | 0.8503 | 24.9937 | 27.9769 | 31.5490 | 28.0677
260122 | *** | * | 20.8015 | * | * | 20.8015
260127 | 0.9486 | * | 21.8533 | * | * | 21.8533
260137 | 1.7241 | 0.9212 | 22.7431 | 24.3273 | 27.6592 | 24.9488
260138 | 1.9932 | 0.9319 | 28.5610 | 30.4410 | 30.6284 | 29.8958
260141 | 1.8464 | 0.8538 | 22.4886 | 24.1555 | 25.5663 | 24.0283
260142 | 1.0863 | 0.8153 | 20.3993 | 21.5923 | 21.7609 | 21.2699
260147 | 0.9227 | 0.8153 | 18.5153 | 21.4235 | 22.1928 | 20.7819
260159 | *** | * | 23.7427 | 22.6276 | 23.9515 | 23.4460
260160 | 1.0727 | 0.8153 | 21.0544 | 23.8257 | 25.5096 | 23.4627
260162 | 1.3822 | 0.8983 | 25.1423 | 27.0236 | 28.4660 | 26.9323
260163 | 1.1447 | 0.8240 | 20.1949 | 21.6408 | 21.5566 | 21.0997
260164 | 1.3771 | * | 19.7068 | * | * | 19.7068
260166 | 1.2270 | 0.9319 | 27.0237 | 29.1225 | 28.5858 | 28.2382
260175 | 1.0781 | 0.9319 | 22.6171 | 25.1817 | 24.6064 | 24.1908
260176 | 1.7021 | 0.8983 | 27.4244 | 29.3034 | 31.1056 | 29.3206
260177 | 1.2063 | 0.9319 | 26.1178 | 27.0185 | 28.7942 | 27.3136
260178 | 1.8398 | 0.8538 | 22.2251 | 25.4782 | 27.1201 | 25.2036
260179 | 1.5496 | 0.8983 | 26.1419 | 26.6069 | 28.3234 | 27.0262
260180 | 1.5401 | 0.8983 | 26.7461 | 28.2931 | 29.3820 | 28.1562
260183 | 1.6674 | 0.8983 | 26.0418 | 27.5577 | 29.2684 | 27.6352
260186 | 1.5439 | 0.8703 | 25.3148 | 26.9797 | 28.8610 | 27.0998
260190 | 1.1950 | 0.9319 | 26.4505 | 27.9137 | 30.5343 | 28.3451
260191 | 1.3649 | 0.8983 | 23.3856 | 24.6973 | 26.3244 | 24.8437
260193 | 1.1902 | 0.9319 | 26.2979 | 26.8922 | 28.1060 | 27.0944
260195 | 1.2138 | 0.8153 | 22.3959 | 22.6870 | 24.0411 | 23.0824
260198 | 0.9613 | 0.8983 | 27.5996 | 28.0021 | 27.2555 | 27.6065
260200 | 1.2664 | 0.8983 | 24.8624 | 28.2453 | 27.4784 | 26.8903
260207 | 1.1544 | 0.8791 | 19.7294 | 22.6109 | 22.9579 | 22.0292
260209 | 1.1052 | 0.8703 | 23.2430 | 25.0098 | 25.0749 | 24.4649
260210 | 1.2687 | 0.8983 | 25.3781 | 26.8745 | 30.5975 | 27.6599
260211 | 1.5777 | 0.9319 | 33.9109 | 40.9821 | 35.9113 | 37.0332
260213 | *** | * | * | * | 34.8953 | 34.8953
260214 | 1.2383 | 0.9319 | * | * | * | *
260215 | 0.8925 | * | * | * | * | *
260216 | 1.1892 | 0.9319 | * | * | * | *
260217 | 1.9096 | 0.8153 | * | * | * | *
270002 | 1.1596 | 0.8336 | 22.7322 | 24.0534 | 25.2907 | 24.0317
270003 | 1.3075 | 0.8761 | 26.4843 | 28.8700 | 29.1938 | 28.2090
270004 | 1.6785 | 0.8871 | 23.5454 | 26.1319 | 26.6779 | 25.4900
270011 | 1.0334 | 0.8336 | 22.1394 | 22.7061 | 24.4696 | 23.0853
270012 | 1.5540 | 0.8761 | 25.2873 | 25.2914 | 26.5854 | 25.7202
270014 | 1.9641 | 0.8738 | 26.2025 | 25.8231 | 27.4811 | 26.5073
270017 | 1.3197 | 0.8738 | 27.5483 | 26.5404 | 27.4150 | 27.1724
270021 | *** | * | 21.7056 | * | * | 21.7056
270023 | 1.5487 | 0.8738 | 26.7576 | 25.5682 | 26.3076 | 26.1917
270032 | 1.0283 | 0.8336 | 19.6212 | 20.3469 | 20.4330 | 20.1359
270036 | *** | * | 20.4241 | * | * | 20.4241
270049 | 1.7517 | 0.8871 | 26.3996 | 27.1634 | 28.6880 | 27.4297
270051 | 1.5580 | 0.8336 | 26.6619 | 26.5621 | 24.9371 | 25.9492
270057 | 1.2534 | 0.8336 | 24.2980 | 25.5811 | 27.1838 | 25.7301
270060 | *** | * | 17.7564 | * | * | 17.7564
270074 | 0.9156 | 1.4401 | * | * | * | *
270081 | 0.9750 | 0.8570 | 17.4862 | 19.5612 | 20.0438 | 18.9885
270086 | 1.0637 | 0.8761 | * | 21.0808 | 20.7976 | 20.9433
270087 | 1.2167 | 0.8336 | * | 25.9772 | 24.8022 | 25.3663
280003 | 1.7479 | 0.9873 | 29.3921 | 30.6124 | 30.1057 | 30.0354
280009 | 1.8630 | 0.9627 | 26.7678 | 27.0705 | 29.3634 | 27.7395
280013 | 1.7335 | 0.9474 | 26.1908 | 27.0250 | 27.9523 | 27.0727
280020 | 1.7374 | 0.9873 | 26.5068 | 27.3284 | 32.3896 | 28.7656
280021 | 1.1678 | * | 22.0489 | * | * | 22.0489
280023 | 1.3669 | 0.9627 | 22.3230 | 26.7980 | 29.5132 | 26.0305
280030 | 1.8904 | 0.9474 | 30.7481 | 29.5102 | 30.6991 | 30.3314
280032 | 1.2987 | 0.9627 | 23.6462 | 24.3995 | 24.7539 | 24.2697
280040 | 1.6380 | 0.9474 | 26.9827 | 28.7207 | 29.5276 | 28.4319
280054 | 1.1439 | * | 23.5665 | * | * | 23.5665
280057 | 0.8606 | * | 20.4830 | * | * | 20.4830
280060 | 1.6779 | 0.9474 | 26.2139 | 27.7496 | 30.3049 | 28.0748
280061 | 1.3957 | 0.9010 | 24.9482 | 26.0208 | 26.4824 | 25.8457
280065 | 1.2385 | 0.9745 | 26.0135 | 28.0581 | 28.0132 | 27.3416
280077 | 1.3374 | 0.8927 | 25.5624 | 27.0860 | 28.2206 | 26.9878
280081 | 1.7068 | 0.9474 | 26.0541 | 28.7464 | 31.1212 | 28.6426
280105 | 1.2617 | 0.9474 | 26.7555 | 27.8599 | 29.8488 | 28.1889
280108 | 1.0740 | * | 23.2503 | * | * | 23.2503
280111 | 1.1900 | 0.8847 | 23.4770 | 24.5617 | 27.4853 | 25.3180
280117 | 1.1038 | * | 24.1521 | * | * | 24.1521
280119 | 0.8357 | 1.4401 | * | * | * | *
280123 | 0.9968 | 0.8970 | * | 15.4047 | 22.2185 | 17.7515
280125 | 1.5929 | 0.8847 | 21.7657 | 22.1345 | 23.2900 | 22.4202
280127 | 1.7915 | 0.9873 | * | 29.3684 | 25.6806 | 27.2615
280128 | 2.9055 | 0.9873 | * | 28.5422 | 28.8734 | 28.7213
280129 | 1.9024 | 0.9474 | * | * | 27.8793 | 27.8793
280130 | 1.3731 | 0.9474 | * | * | 29.8588 | 29.8588
290001 | 1.8514 | 1.1063 | 31.1981 | 36.3129 | 35.5113 | 34.2992
290002 | 0.9058 | 0.9702 | 18.3469 | 17.3876 | 23.9348 | 19.4284
290003 | 1.8286 | 1.1453 | 28.1625 | 30.3373 | 32.8182 | 30.4051
290005 | 1.4267 | 1.1453 | 27.6697 | 28.3366 | 31.7107 | 29.0818
290006 | 1.1835 | 1.0852 | 27.9501 | 31.7301 | 31.9838 | 30.5940
290007 | 1.6319 | 1.1453 | 37.5559 | 38.1938 | 39.7323 | 38.5049
290008 | 1.2061 | 0.9702 | 27.9714 | 27.3019 | 31.1116 | 28.8004
290009 | 1.7155 | 1.1063 | 29.8019 | 36.2724 | 32.3348 | 32.7010
290010 | *** | * | 23.9655 | * | * | 23.9655
290012 | 1.3595 | 1.1453 | 31.0843 | 32.3966 | 35.7988 | 33.1284
290016 | *** | * | 26.1925 | * | * | 26.1925
290019 | 1.4106 | 1.0852 | 28.6158 | 29.3650 | 30.5964 | 29.5670
290020 | 0.9879 | 0.9702 | 21.6993 | 23.2103 | 27.6277 | 23.8492
290021 | 1.7447 | 1.1453 | 33.2116 | 32.7894 | 36.7310 | 34.3050
290022 | 1.6617 | 1.1453 | 29.4422 | 29.9717 | 33.5330 | 30.9653
290027 | 0.8977 | 0.9702 | 15.1448 | 23.9959 | 23.9818 | 21.2171
290032 | 1.4261 | 1.1063 | 31.7105 | 31.6711 | 34.6589 | 32.6749
290039 | 1.5622 | 1.1453 | 31.2941 | 32.1423 | 34.9622 | 32.8643
290041 | 1.3799 | 1.1453 | 33.9877 | 34.2436 | 37.6077 | 35.4456
290042 | *** | * | * | * | 22.4859 | 22.4859
290044 | *** | * | * | 37.1662 | * | 37.1662
290045 | 1.5944 | 1.1453 | 30.9612 | 33.1512 | 34.4584 | 33.0001
290046 | 1.3262 | 1.1453 | * | * | 38.7966 | 38.7966
290047 | 1.4997 | 1.1453 | * | * | 33.4695 | 33.4695
290049 | 1.3649 | 0.9702 | * | * | 26.0725 | 26.0725
290051 | 1.6073 | 0.9702 | * | * | * | *
290052 | 0.9497 | 0.9702 | * | * | * | *
300001 | 1.5464 | 1.1260 | 27.5032 | 29.2260 | 29.8145 | 28.8796
300003 | 2.1048 | 1.1260 | 33.3560 | 34.7900 | 37.0886 | 35.1221
300005 | 1.4049 | 1.1260 | 25.6699 | 27.8000 | 27.8431 | 27.1342
300006 | *** | * | 23.3200 | * | * | 23.3200
300010 | *** | * | 27.5028 | * | * | 27.5028
300011 | 1.2835 | 1.1329 | 28.4044 | 30.9403 | 31.8928 | 30.4453
300012 | 1.3798 | 1.1329 | 30.5198 | 30.4972 | 31.2655 | 30.7729
300014 | 1.1573 | 1.1260 | 27.5151 | 29.7667 | 29.1847 | 28.8592
300017 | 1.3085 | 1.1260 | 29.6957 | 29.9560 | 31.6699 | 30.4413
300018 | 1.4139 | 1.1260 | 29.7209 | 29.4270 | 31.7891 | 30.3785
300019 | 1.2712 | 1.1260 | 25.9656 | 27.5672 | 28.2287 | 27.2950
300020 | 1.1611 | 1.1329 | 28.6723 | 30.8491 | 30.9783 | 30.1937
300023 | 1.3397 | 1.1260 | 28.6309 | 31.0040 | 31.2726 | 30.3861
300029 | 1.7558 | 1.1260 | 29.0806 | 29.8117 | 31.4429 | 30.1534
300034 | 1.9005 | 1.1329 | 29.7484 | 30.7676 | 31.6880 | 30.7463
310001 | 1.7835 | 1.3230 | 35.3612 | 41.7460 | 39.3391 | 38.8076
310002 | 1.8123 | 1.3003 | 37.3461 | 37.9183 | 37.8652 | 37.7010
310003 | 1.1430 | 1.3230 | 32.8935 | 36.2346 | 39.0785 | 36.1404
310005 | 1.3200 | 1.1674 | 29.0084 | 32.1319 | 33.6311 | 31.6195
310006 | 1.2207 | 1.3230 | 27.4545 | 28.4771 | 28.7321 | 28.2234
310008 | 1.3040 | 1.3230 | 31.2579 | 32.6788 | 33.3172 | 32.4236
310009 | 1.3170 | 1.3003 | 32.7384 | 33.6940 | 33.6165 | 33.3550
310010 | 1.2809 | 1.1709 | 28.5852 | 33.9552 | 33.7009 | 32.1235
310011 | 1.2513 | 1.1732 | 30.8612 | 31.2907 | 34.3497 | 32.1653
310012 | 1.6576 | 1.3230 | 34.6882 | 38.3590 | 39.8568 | 37.6617
310013 | 1.3567 | 1.3003 | 30.6248 | 31.0447 | 35.6260 | 32.2970
310014 | 1.9393 | 1.1617 | 29.7204 | 30.0793 | 32.9016 | 30.9529
310015 | 1.9968 | 1.3003 | 36.4776 | 36.8818 | 39.2928 | 37.5859
310016 | 1.3504 | 1.3230 | 33.9862 | 35.6155 | 38.2740 | 36.0399
310017 | 1.3322 | 1.3003 | 30.9233 | 32.2434 | 35.7308 | 32.9489
310018 | 1.1974 | 1.3003 | 30.3381 | 30.3234 | 32.9704 | 31.1743
310019 | 1.5532 | 1.3230 | 29.6592 | 30.3518 | 30.6369 | 30.2334
310020 | 1.5417 | 1.3230 | 30.6722 | 33.5516 | 37.3372 | 35.3958
310021 | 1.6673 | 1.1617 | 31.3410 | 32.1929 | 31.6562 | 31.7278
310022 | 1.2929 | 1.1617 | 28.2024 | 30.4043 | 31.1951 | 29.9534
310024 | 1.2735 | 1.1674 | 30.9171 | 33.3415 | 33.8622 | 32.7353
310025 | 1.3583 | 1.3230 | 31.1274 | 34.3687 | 32.2630 | 32.6293
310026 | 1.1811 | 1.3230 | 27.5171 | 29.1588 | 30.1392 | 28.9609
310027 | 1.3916 | 1.1674 | 28.8314 | 29.7793 | 31.5967 | 30.0516
310028 | 1.1683 | 1.1674 | 31.3849 | 32.2977 | 33.9911 | 32.5804
310029 | 1.9359 | 1.1617 | 30.7707 | 32.9246 | 33.6695 | 32.4534
310031 | 3.0047 | 1.1617 | 33.9685 | 37.0668 | 39.3783 | 36.7939
310032 | 1.3402 | 1.1617 | 27.5232 | 30.7865 | 33.0258 | 30.4634
310034 | 1.3881 | 1.1617 | 29.9162 | 31.7012 | 32.7523 | 31.4431
310037 | 1.3845 | 1.3230 | 35.0329 | 38.5415 | 38.2865 | 37.2934
310038 | 1.9967 | 1.3003 | 33.4822 | 35.9190 | 36.3344 | 35.3017
310039 | 1.2652 | 1.3003 | 28.8292 | 31.4278 | 33.2100 | 31.1031
310040 | 1.3306 | 1.3230 | 34.1113 | 33.8535 | 37.7945 | 35.2738
310041 | 1.3033 | 1.1617 | 32.8085 | 32.8390 | 33.9799 | 33.1814
310042 | *** | * | 30.7357 | 34.4986 | * | 32.5359
310044 | 1.3437 | 1.1709 | 31.3205 | 31.9678 | 33.7614 | 32.3239
310045 | 1.6620 | 1.3230 | 34.1060 | 36.7862 | 38.4424 | 36.4052
310047 | 1.3103 | 1.2064 | 32.7880 | 34.1520 | 37.3695 | 34.8319
310048 | 1.3604 | 1.1617 | 30.2025 | 32.9681 | 33.9506 | 32.4220
310049 | *** | * | 27.8565 | * | * | 27.8565
310050 | 1.2632 | 1.3003 | 27.3033 | 29.1732 | 32.3686 | 29.5226
310051 | 1.4210 | 1.1674 | 33.7168 | 35.0121 | 38.1174 | 35.6230
310052 | 1.3148 | 1.1617 | 30.8036 | 32.5778 | 33.5849 | 32.3047
310054 | 1.3491 | 1.3003 | 34.1860 | 34.4431 | 36.9095 | 35.1806
310057 | 1.3580 | 1.1617 | 29.5221 | 31.1268 | 31.8933 | 30.8472
310058 | 1.0998 | 1.3230 | 28.0815 | 27.1555 | 30.4080 | 28.5500
310060 | 1.2257 | 1.1617 | 25.1575 | 27.3415 | 27.8242 | 26.8643
310061 | 1.2040 | 1.1617 | 28.2129 | 31.6648 | 39.0538 | 32.6390
310063 | 1.3566 | 1.1674 | 31.4884 | 31.9247 | 33.8519 | 32.4001
310064 | 1.5564 | 1.2064 | 33.4440 | 35.7607 | 38.6310 | 36.0389
310069 | 1.2283 | 1.1617 | 28.1681 | 31.7642 | 34.4669 | 31.6153
310070 | 1.4393 | 1.3003 | 33.2310 | 34.3225 | 36.3279 | 34.6577
310073 | 1.9384 | 1.1617 | 32.0328 | 32.6733 | 34.2858 | 33.0132
310074 | 1.4076 | 1.3230 | 29.4834 | 40.3494 | 39.6196 | 36.4297
310075 | 1.3486 | 1.1617 | 31.6869 | 31.5226 | 32.5338 | 31.9060
310076 | 1.6948 | 1.3003 | 36.4280 | 38.0643 | 37.5163 | 37.3327
310077 | *** | * | 32.6644 | 34.6085 | * | 33.6290
310078 | *** | * | 29.8014 | 30.5761 | * | 30.1919
310081 | 1.2435 | 1.1617 | 26.6136 | 30.1561 | 31.0699 | 29.3013
310083 | 1.2967 | 1.3003 | 28.2392 | 30.3580 | 31.9151 | 30.1908
310084 | 1.2495 | 1.1617 | 32.9001 | 33.5941 | 32.6051 | 33.0233
310086 | 1.2196 | 1.1617 | 29.3058 | 29.5566 | 29.8794 | 29.5860
310088 | 1.1944 | 1.2064 | 26.4966 | 29.9929 | 30.3552 | 28.9197
310090 | 1.2491 | 1.1674 | 30.8941 | 32.8191 | 33.4615 | 32.3298
310091 | 1.1872 | 1.1617 | 27.7204 | 29.3969 | 31.9762 | 29.6739
310092 | 1.4211 | 1.1709 | 29.4998 | 29.7958 | 32.7054 | 30.6412
310093 | 1.2376 | 1.3003 | 28.0401 | 29.1288 | 30.2860 | 29.1452
310096 | 2.0682 | 1.3003 | 34.4275 | 34.1524 | 35.0707 | 34.5571
310105 | 1.2642 | 1.3230 | 31.9769 | 30.1069 | 32.5672 | 31.5194
310108 | 1.3920 | 1.3003 | 30.1002 | 33.0172 | 34.5866 | 32.5569
310110 | 1.3054 | 1.1709 | 31.2164 | 33.2246 | 33.4809 | 32.6996
310111 | 1.2374 | 1.1617 | 30.7475 | 31.8393 | 34.8284 | 32.5303
310112 | 1.3369 | 1.1617 | 30.4192 | 31.2372 | 32.2676 | 31.3091
310113 | 1.2469 | 1.1617 | 29.6079 | 31.0436 | 33.6771 | 31.5140
310115 | 1.3257 | 1.1617 | 29.6020 | 29.5320 | 31.9208 | 30.3993
310116 | 1.2613 | 1.3230 | 25.6976 | 29.2748 | 29.8144 | 28.1684
310118 | 1.2995 | 1.3230 | 28.8797 | 31.1803 | 31.2296 | 30.4800
310119 | 1.9452 | 1.3003 | 37.7876 | 43.1238 | 41.5702 | 40.9091
310120 | 1.1067 | 1.1674 | 31.4111 | 29.2535 | 33.3861 | 31.2922
310122 | *** | * | * | * | 41.9029 | 41.9029
310123 | *** | * | * | * | 37.1022 | 37.1022
310124 | *** | * | * | * | 41.8827 | 41.8827
310125 | *** | * | * | * | 36.2186 | 36.2186
310126 | 1.5770 | 1.1674 | * | * | * | *
310127 | 2.1663 | 1.1617 | * | * | * | *
320001 | 1.6904 | 0.9726 | 26.9434 | 29.6182 | 30.0077 | 28.9126
320002 | 1.4655 | 1.0683 | 30.5158 | 32.0477 | 33.1342 | 31.9538
320003 | 1.1309 | 1.0380 | 28.1402 | 27.6222 | 31.4473 | 29.2088
320004 | 1.3372 | 0.8966 | 24.9481 | 24.7803 | 26.2073 | 25.3027
320005 | 1.3986 | 0.9726 | 23.8264 | 24.7543 | 28.7893 | 25.7109
320006 | 1.3191 | 0.9726 | 24.2812 | 26.9080 | 28.0964 | 26.5135
320009 | 1.5653 | 0.9726 | 22.8293 | 32.0116 | 27.8084 | 27.0081
320011 | 1.1591 | 0.9408 | 24.2279 | 25.6693 | 27.9522 | 25.9810
320013 | 1.1095 | 1.0380 | 28.9276 | 22.8283 | 30.5865 | 26.9423
320014 | 1.0798 | 0.8966 | 24.5310 | 27.2806 | 28.7089 | 26.9267
320016 | 1.1809 | 0.8966 | 23.5040 | 25.0835 | 27.1492 | 25.3050
320017 | 1.1952 | 0.9726 | 25.0286 | 31.6357 | 33.3496 | 30.1544
320018 | 1.4708 | 0.8990 | 23.2360 | 26.5109 | 25.9248 | 25.0333
320019 | 1.5804 | 0.9726 | 31.5192 | 27.8067 | 35.0217 | 30.9860
320021 | 1.6072 | 0.9726 | 27.2357 | 26.9918 | 28.8504 | 27.7586
320022 | 1.1616 | 0.8966 | 23.7160 | 23.9595 | 25.3707 | 24.3634
320030 | 1.0991 | 0.8966 | 22.1971 | 21.0378 | 24.4497 | 22.6078
320033 | 1.1954 | 1.0380 | 27.6393 | 31.7114 | 30.1471 | 29.8084
320037 | 1.2522 | 0.9726 | 23.3999 | 24.9657 | 25.2876 | 24.5736
320038 | 1.2776 | 0.8966 | 20.1533 | 21.7022 | 32.7192 | 25.2889
320046 | *** | * | 24.3534 | * | * | 24.3534
320057 | 0.8729 | 1.4401 | * | * | * | *
320058 | 0.7716 | 1.4401 | * | * | * | *
320059 | 0.8739 | 1.4401 | * | * | * | *
320060 | 0.9509 | 1.4401 | * | * | * | *
320061 | 0.8807 | 1.4401 | * | * | * | *
320062 | 0.8932 | 1.4401 | * | * | * | *
320063 | 1.3138 | 0.9523 | 24.4696 | 25.0031 | 26.0104 | 25.1846
320065 | 1.3090 | 0.9523 | 26.6603 | 27.3163 | 25.7945 | 26.5978
320067 | 0.8771 | 0.8966 | 23.7745 | 24.9865 | 24.7025 | 24.5152
320069 | 1.1009 | 0.8966 | 20.9167 | 22.4128 | 23.9863 | 22.4807
320070 | 0.9497 | 1.4401 | * | * | * | *
320074 | 1.1777 | 0.9726 | 22.2175 | 31.1333 | 28.4396 | 27.5523
320079 | 1.0746 | 0.9726 | 25.2105 | 26.1188 | 27.6877 | 26.3861
320083 | 2.5829 | 0.9726 | 28.2114 | 26.6921 | 29.5483 | 28.1910
320084 | 0.9585 | 0.8966 | 17.2511 | 17.5788 | 22.7706 | 19.1172
320085 | 1.6988 | 0.8990 | 24.8752 | 27.9944 | 27.4100 | 26.8654
330001 | *** | * | 33.4718 | * | * | 33.4718
330002 | 1.4701 | 1.3230 | 31.1924 | 30.9600 | 32.1956 | 31.4367
330003 | 1.3898 | 0.8668 | 22.9945 | 24.4326 | 25.2223 | 24.2261
330004 | 1.2772 | 1.0763 | 26.0445 | 28.0594 | 30.2236 | 28.0555
330005 | 1.5846 | 0.9589 | 29.0124 | 30.3200 | 31.5030 | 30.2924
330006 | 1.2549 | 1.3230 | 31.5370 | 33.6284 | 34.2001 | 33.1191
330008 | 1.1962 | 0.9589 | 21.8198 | 23.4429 | 25.2005 | 23.4731
330009 | 1.2209 | 1.3230 | 35.4986 | 36.2820 | 38.9166 | 36.8498
330010 | 0.9609 | 0.8419 | 19.6920 | 20.7476 | 19.7098 | 20.0039
330011 | 1.3861 | 0.9068 | 21.8008 | 25.1308 | 27.4747 | 24.7766
330013 | 1.8871 | 0.8668 | 24.5162 | 26.4578 | 26.8382 | 25.9719
330014 | 1.3021 | 1.3230 | 38.8123 | 42.1759 | 45.7619 | 42.1087
330016 | *** | * | 28.4391 | 22.0493 | 23.0769 | 24.0047
330019 | 1.2350 | 1.3230 | 34.8266 | 38.5368 | 39.7429 | 37.6992
330023 | 1.5532 | 1.2342 | 31.6208 | 35.9428 | 36.4736 | 34.8790
330024 | 1.8568 | 1.3230 | 37.8398 | 42.7691 | 43.2342 | 41.1289
330025 | 1.0759 | 0.9589 | 20.2776 | 21.2565 | 23.2424 | 21.5975
330027 | 1.3410 | 1.3003 | 39.0717 | 42.8000 | 45.1920 | 42.3263
330028 | 1.4248 | 1.3230 | 34.2709 | 36.6498 | 36.2901 | 35.6915
330029 | 0.4658 | 0.9589 | 19.1589 | 23.2039 | 24.0679 | 21.4788
330030 | 1.2420 | 0.8919 | 22.9937 | 24.6175 | 25.3454 | 24.2688
330033 | 1.1925 | 0.8575 | 22.5680 | 24.5510 | 24.8022 | 23.9493
330036 | 1.1741 | 1.3230 | 28.9409 | 29.1884 | 30.3757 | 29.5029
330037 | 1.1940 | 0.8919 | 20.6904 | 22.3689 | 21.9246 | 21.6480
330041 | 1.3233 | 1.3230 | 36.0286 | 37.4883 | 36.9934 | 36.8228
330043 | 1.3835 | 1.2878 | 34.7480 | 39.1643 | 38.8060 | 37.6024
330044 | 1.3073 | 0.8774 | 24.1907 | 26.5669 | 28.2293 | 26.3415
330045 | 1.3333 | 1.2878 | 36.1893 | 38.1269 | 40.0326 | 38.1677
330046 | 1.3813 | 1.3230 | 44.8494 | 50.3152 | 47.4975 | 47.5047
330047 | 1.1878 | 0.8419 | 24.0678 | 24.3932 | 24.9934 | 24.5012
330049 | 1.5198 | 1.2342 | 29.2904 | 29.8350 | 34.8585 | 31.4556
330053 | 1.0489 | 0.8919 | 18.5289 | 20.6272 | 21.8383 | 20.3286
330055 | 1.5717 | 1.3230 | 38.4839 | 41.5934 | 42.2007 | 40.8306
330056 | 1.4406 | 1.3230 | 37.8444 | 36.0136 | 38.8910 | 37.5789
330057 | 1.7329 | 0.8668 | 24.4680 | 26.4989 | 27.7121 | 26.2563
330058 | 1.2624 | 0.8919 | 21.3727 | 22.2524 | 22.6852 | 22.1185
330059 | 1.5241 | 1.3230 | 39.7387 | 41.7343 | 44.9162 | 42.1521
330061 | 1.1882 | 1.3230 | 33.2848 | 36.0587 | 37.8828 | 35.7862
330062 | 2.5188 | * | 21.0464 | * | * | 21.0464
330064 | 1.1797 | 1.3230 | 36.4276 | 38.0437 | 38.2332 | 37.5276
330065 | 1.0343 | 0.9589 | 23.9128 | 25.3043 | 24.4004 | 24.5186
330066 | 1.2786 | 0.8668 | 24.7941 | 29.1780 | 25.8174 | 26.6320
330067 | 1.4312 | 1.2342 | 26.4243 | 27.8900 | 29.2571 | 27.8298
330072 | 1.3677 | 1.3230 | 36.4336 | 37.8505 | 39.6996 | 37.9172
330073 | 1.0856 | 0.8919 | 20.1490 | 22.5592 | 23.4020 | 22.0432
330074 | 1.2120 | 0.8919 | 21.4274 | 22.6629 | 23.4576 | 22.5315
330075 | 1.1282 | 0.9950 | 22.4188 | 23.1592 | 24.2552 | 23.2899
330078 | 1.4627 | 0.9589 | 23.3981 | 25.8073 | 27.2870 | 25.5271
330079 | 1.3912 | 0.9428 | 22.5237 | 24.6054 | 24.9941 | 24.0665
330080 | 1.1613 | 1.3230 | 39.1724 | 39.1417 | 38.9405 | 39.0850
330084 | 1.0884 | 0.8352 | 21.5455 | 22.5573 | 25.6880 | 23.2872
330085 | 1.1341 | 0.9603 | 23.9568 | 25.3285 | 26.6235 | 25.3048
330086 | 1.3276 | 1.3230 | 29.1784 | 32.7675 | 35.5269 | 32.6267
330088 | 1.0140 | 1.2878 | 31.3973 | 34.0789 | 35.3871 | 33.6067
330090 | 1.4711 | 0.8352 | 23.6174 | 25.5351 | 26.8730 | 25.3567
330091 | 1.3626 | 0.9589 | 23.8063 | 25.9378 | 27.0040 | 25.6221
330094 | 1.2531 | 0.9271 | 23.0001 | 25.7116 | 26.9148 | 25.1933
330095 | *** | * | 31.9873 | * | * | 31.9873
330096 | 1.2247 | 0.8352 | 22.0337 | 22.7189 | 24.2422 | 22.9958
330097 | 1.0476 | * | 20.3189 | * | * | 20.3189
330100 | 1.0885 | 1.3230 | 34.4621 | 38.3333 | 39.6244 | 37.5351
330101 | 1.9277 | 1.3230 | 38.7503 | 40.1929 | 43.7944 | 40.9964
330102 | 1.3807 | 0.9589 | 24.8184 | 25.3879 | 26.6887 | 25.6620
330103 | 1.1464 | 0.8352 | 21.1452 | 22.8242 | 24.5585 | 22.8019
330104 | 1.3459 | 1.3230 | 32.8818 | 33.7537 | 35.1076 | 33.9518
330106 | 1.7219 | 1.3003 | 41.4561 | 43.8210 | 46.3657 | 43.9257
330107 | 1.2616 | 1.2878 | 31.3888 | 34.9047 | 35.7384 | 34.0853
330108 | 1.1667 | 0.8352 | 22.2607 | 23.2919 | 23.9368 | 23.1807
330111 | 1.0707 | 0.9589 | 20.9387 | 20.3473 | 40.4349 | 24.2740
330115 | 1.1806 | 0.9950 | 23.3043 | 25.2373 | 23.8235 | 24.1488
330119 | 1.7980 | 1.3230 | 39.1114 | 39.0528 | 42.2901 | 40.1403
330125 | 1.7884 | 0.8919 | 26.7119 | 27.2920 | 28.0584 | 27.3748
330126 | 1.3165 | 1.3003 | 31.6370 | 35.2257 | 36.5689 | 35.2864
330127 | 1.3535 | 1.3230 | 44.6103 | 45.3680 | 45.2993 | 45.0871
330128 | 1.2254 | 1.3230 | 37.7166 | 39.5197 | 41.7790 | 39.6524
330132 | 1.1447 | 0.8483 | 17.4946 | 21.0479 | 21.7648 | 20.0521
330133 | 1.3564 | 1.3230 | 36.6962 | 39.3837 | 38.5228 | 38.1376
330135 | 1.1403 | 1.1625 | 29.0837 | 27.9132 | 32.0525 | 29.6962
330136 | 1.5167 | 0.9603 | 24.2010 | 25.8531 | 26.6680 | 25.5995
330140 | 1.8311 | 0.9950 | 25.7573 | 27.6183 | 29.3461 | 27.5931
330141 | 1.3221 | 1.2878 | 34.8902 | 39.4701 | 39.3741 | 38.0047
330144 | 1.0380 | 0.8352 | 20.9935 | 22.9561 | 23.3874 | 22.4515
330151 | 1.1204 | 0.8352 | 19.1841 | 21.7665 | 19.7959 | 20.1957
330152 | 1.2991 | 1.3230 | 36.5136 | 37.6721 | 38.2079 | 37.4707
330153 | 1.7292 | 0.8668 | 24.5219 | 26.4386 | 28.4446 | 26.4931
330154 | 1.7046 | * | * | * | * | *
330157 | 1.3499 | 0.9603 | 25.2312 | 26.5686 | 27.1432 | 26.3138
330158 | 1.5286 | 1.3230 | 32.2990 | 38.2033 | 41.7010 | 37.3746
330159 | 1.3642 | 0.9950 | 28.9094 | 28.2774 | 31.7835 | 29.5880
330160 | 1.5280 | 1.3230 | 34.1960 | 36.6208 | 37.1915 | 36.0563
330162 | 1.2882 | 1.3230 | 32.1783 | 34.9460 | 37.6226 | 34.8806
330163 | 1.1295 | 0.9589 | 24.0200 | 27.1933 | 28.3910 | 26.5660
330164 | 1.4564 | 0.8919 | 28.8481 | 27.7217 | 27.8746 | 28.1414
330166 | 1.0847 | 0.8352 | 19.4360 | 20.4680 | 20.7121 | 20.1917
330167 | 1.7096 | 1.3003 | 34.4748 | 36.7653 | 39.1251 | 36.7245
330169 | 1.3878 | 1.3230 | 39.3361 | 45.3774 | 46.4939 | 43.5632
330171 | *** | * | 30.0122 | 30.4005 | 35.1577 | 31.6504
330175 | 1.1111 | 0.8612 | 22.2067 | 23.8509 | 24.1005 | 23.3987
330177 | 0.9871 | 0.8352 | 19.6100 | 20.6338 | 22.9834 | 21.0962
330180 | 1.2276 | 0.8668 | 22.1920 | 24.3761 | 25.4170 | 23.9998
330181 | 1.2695 | 1.3003 | 38.5351 | 41.4104 | 43.0977 | 41.0544
330182 | 2.3153 | 1.3003 | 39.6038 | 40.9014 | 41.3033 | 40.6150
330184 | 1.4028 | 1.3230 | 34.4044 | 35.8102 | 39.0437 | 36.4620
330185 | 1.2774 | 1.2878 | 32.3466 | 36.3155 | 38.4002 | 35.8311
330188 | 1.2399 | 0.9589 | 23.9210 | 25.1153 | 27.5988 | 25.5243
330189 | 1.3891 | 0.8668 | 21.6229 | 22.3484 | 22.4383 | 22.1391
330191 | 1.2688 | 0.8668 | 24.0232 | 25.5656 | 26.4328 | 25.3769
330193 | 1.3142 | 1.3230 | 37.1807 | 39.9327 | 39.8910 | 39.0190
330194 | 1.7350 | 1.3230 | 43.9910 | 45.5639 | 46.8880 | 45.5320
330195 | 1.7167 | 1.3230 | 40.0206 | 39.7802 | 41.7885 | 40.5432
330196 | 1.2488 | 1.3230 | 33.2171 | 36.7178 | 38.2525 | 36.0781
330197 | 1.0612 | 0.8352 | 23.4290 | 26.8921 | 25.9872 | 25.4383
330198 | 1.3652 | 1.3003 | 30.5485 | 33.4930 | 34.8985 | 33.0524
330199 | 1.1995 | 1.3230 | 35.0059 | 38.6407 | 40.3948 | 37.9488
330201 | 1.5865 | 1.3230 | 39.3682 | 37.2064 | 42.6707 | 39.7180
330202 | 1.2534 | 1.3230 | 38.0129 | 37.4150 | 37.4158 | 37.6076
330203 | 1.4666 | 0.9950 | 26.5882 | 32.1207 | 34.0499 | 30.8856
330204 | 1.3463 | 1.3230 | 37.6849 | 39.6393 | 41.9953 | 39.7978
330205 | 1.1752 | 1.1625 | 32.1618 | 31.9510 | 33.9418 | 32.7294
330208 | 1.1543 | 1.3230 | 29.6282 | 32.1256 | 33.5287 | 31.7776
330209 | *** | * | 29.7988 | 30.2038 | * | 30.0002
330211 | 1.1591 | 0.8352 | 22.9966 | 24.4470 | 25.8752 | 24.4788
330212 | *** | * | 27.2232 | * | * | 27.2232
330213 | 1.1103 | 0.8352 | 22.5191 | 24.4049 | 27.4890 | 24.8466
330214 | 1.9072 | 1.3230 | 37.8500 | 41.8719 | 42.1339 | 40.5132
330215 | 1.3051 | 0.8774 | 22.6744 | 23.7361 | 23.9583 | 23.4620
330218 | 1.0747 | 0.9950 | 24.1106 | 26.9638 | 26.9982 | 26.0474
330219 | 1.7282 | 0.9589 | 29.3644 | 29.8889 | 32.5658 | 30.5817
330221 | 1.3569 | 1.3230 | 36.5539 | 39.2080 | 40.0514 | 38.6296
330222 | 1.2879 | 0.8668 | 23.9746 | 25.8507 | 27.7198 | 25.9137
330223 | 1.0006 | 0.8352 | 19.4229 | 23.3669 | 26.1264 | 22.8482
330224 | 1.3195 | 1.0763 | 25.7850 | 27.9231 | 29.1738 | 27.6678
330225 | 1.2331 | 1.3003 | 29.2719 | 32.3585 | 35.7651 | 32.4734
330226 | 1.3402 | 0.8919 | 21.8977 | 24.5646 | 24.8471 | 23.8237
330229 | 1.1912 | 0.8352 | 20.6095 | 21.9356 | 23.0577 | 21.8545
330230 | 1.0056 | 1.3230 | 33.3175 | 37.1298 | 38.6569 | 36.3376
330231 | 1.0910 | 1.3230 | 36.9619 | 40.6697 | 44.9422 | 40.8973
330232 | 1.1619 | 0.8668 | 24.4531 | 26.3313 | 27.4639 | 26.1069
330233 | 1.4122 | 1.3230 | 45.5132 | 47.3497 | 52.7070 | 48.3785
330234 | 2.3951 | 1.3230 | 40.6314 | 48.2306 | 49.3219 | 45.8241
330235 | 1.1932 | 0.9603 | 23.3866 | 27.7031 | 29.4346 | 26.7570
330236 | 1.5608 | 1.3230 | 35.6347 | 40.2386 | 42.8981 | 39.6841
330238 | 1.2617 | 0.8919 | 20.8639 | 21.7435 | 21.8386 | 21.4871
330239 | 1.2553 | 0.8352 | 21.5397 | 22.3854 | 23.1885 | 22.3782
330240 | 1.2125 | 1.3230 | 39.9450 | 43.5753 | 40.5001 | 41.3038
330241 | 1.8062 | 0.9950 | 29.0882 | 30.2304 | 32.7683 | 30.7645
330242 | 1.3309 | 1.3230 | 33.6926 | 37.4870 | 36.9015 | 35.9785
330245 | 1.8746 | 0.8774 | 22.8003 | 26.1811 | 27.4326 | 25.5154
330246 | 1.3355 | 1.2878 | 34.6329 | 37.1611 | 35.7416 | 35.8265
330247 | 0.8998 | 1.3230 | 32.2300 | 35.4980 | 39.0219 | 35.4575
330249 | 1.3506 | 0.9950 | 22.9834 | 25.3246 | 24.6091 | 24.2993
330250 | 1.3317 | 0.9585 | 25.1664 | 27.1606 | 29.0080 | 27.1471
330259 | 1.4233 | 1.3003 | 31.9152 | 35.1514 | 36.4788 | 34.5426
330261 | 1.2665 | 1.3230 | 30.7942 | 33.7834 | 40.2579 | 34.7049
330263 | 1.0274 | 0.8352 | 22.4675 | 23.8738 | 24.1333 | 23.5408
330264 | 1.2911 | 1.1625 | 30.0139 | 30.4701 | 31.0557 | 30.7362
330265 | 1.1847 | 0.8919 | 20.4635 | 21.6477 | 23.9081 | 21.9775
330267 | 1.3602 | 1.3230 | 31.5478 | 32.8541 | 34.9885 | 33.1377
330268 | 0.9185 | 0.8352 | 20.9720 | 25.3567 | 23.8793 | 23.3606
330270 | 2.0320 | 1.3230 | 42.2111 | 57.3596 | 55.2136 | 51.3968
330273 | 1.4013 | 1.3230 | 30.4720 | 37.0157 | 35.9298 | 34.5428
330276 | 1.1000 | 0.8388 | 22.2353 | 24.3300 | 26.0935 | 24.2204
330277 | 1.1770 | 0.9710 | 25.3582 | 26.4535 | 30.9053 | 27.3708
330279 | 1.5223 | 0.9589 | 25.2130 | 27.4539 | 29.6385 | 27.5185
330285 | 2.0056 | 0.8919 | 27.9018 | 30.1928 | 31.1235 | 29.7578
330286 | 1.3671 | 1.2878 | 33.3552 | 35.5895 | 37.6040 | 35.5541
330290 | 1.7307 | 1.3230 | 36.9981 | 39.4690 | 40.6933 | 39.0180
330304 | 1.3100 | 1.3230 | 34.5761 | 36.2845 | 37.3537 | 36.1514
330306 | 1.4163 | 1.3230 | 35.6640 | 36.3552 | 38.7713 | 36.9913
330307 | 1.3298 | 0.9710 | 27.5699 | 29.2529 | 29.5885 | 28.8558
330314 | *** | * | 25.5597 | 26.2719 | 28.1788 | 26.6141
330316 | 1.2422 | 1.3230 | 34.8623 | 34.8567 | 37.1766 | 35.6163
330331 | 1.2558 | 1.3003 | 36.1630 | 39.8402 | 41.2694 | 39.1625
330332 | 1.2696 | 1.3003 | 33.3050 | 35.1646 | 37.0111 | 35.2121
330333 | *** | * | 26.1917 | * | * | 26.1917
330338 | *** | * | 31.3761 | 37.7497 | * | 34.6182
330339 | 0.7538 | 0.8668 | 22.6569 | 23.5786 | 24.3066 | 23.5064
330340 | 1.2556 | 1.2878 | 33.9358 | 37.9000 | 37.4161 | 36.3862
330350 | 1.4785 | 1.3230 | 36.6250 | 41.1339 | 44.4617 | 40.7608
330353 | 1.2406 | 1.3230 | 37.6549 | 45.9692 | 45.0977 | 43.0087
330354 | 2.1152 | * | * | * | * | *
330357 | 1.2623 | 1.3230 | 35.5975 | 38.2286 | 40.3850 | 37.9060
330372 | 1.2748 | 1.3003 | 32.6721 | 36.1840 | 35.1297 | 34.7443
330385 | 1.1071 | 1.3230 | 46.3221 | 48.6175 | 49.0859 | 47.9732
330386 | 1.2175 | 1.1571 | 27.9943 | 29.9366 | 33.3216 | 30.4750
330389 | 1.7369 | 1.3230 | 34.7669 | 37.1862 | 39.6871 | 37.2049
330390 | 1.2347 | 1.3230 | 36.0573 | 36.3842 | 35.5562 | 35.9780
330393 | 1.7487 | 1.2878 | 34.8095 | 38.0619 | 39.2186 | 37.4063
330394 | 1.6374 | 0.9068 | 25.2229 | 27.3388 | 28.4597 | 27.0157
330395 | 1.4395 | 1.3230 | 37.3096 | 36.3921 | 37.5791 | 37.0864
330396 | 1.5369 | 1.3230 | 35.0297 | 37.4998 | 39.4904 | 37.3259
330397 | 1.4390 | 1.3230 | 38.4741 | 37.5682 | 41.4448 | 39.1440
330399 | 1.0823 | 1.3230 | 32.3688 | 34.7394 | 36.7626 | 34.6081
330401 | 1.3638 | 1.2878 | 40.6249 | 37.8559 | 40.4485 | 39.6496
330403 | 0.9812 | 0.8919 | 23.1886 | 25.5163 | 25.2937 | 24.6332
330404 | 0.8616 | 1.3230 | * | * | * | *
330405 | 0.8688 | 1.3230 | * | * | * | *
330406 | 0.8696 | 0.8668 | * | * | * | *
340001 | 1.5135 | 0.9506 | 25.0041 | 28.3988 | 29.5709 | 27.7170
340002 | 1.8226 | 0.9202 | 27.3349 | 28.4860 | 29.6622 | 28.5097
340003 | 1.1864 | 0.8604 | 23.3066 | 24.1602 | 26.0888 | 24.5124
340004 | 1.4204 | 0.9078 | 25.4474 | 26.6404 | 27.5283 | 26.5365
340005 | 0.9877 | * | 22.3814 | * | * | 22.3814
340008 | 1.1890 | 0.9342 | 26.6314 | 26.7443 | 27.7206 | 27.0545
340010 | 1.3717 | 0.9475 | 24.5666 | 27.2105 | 28.7544 | 26.8571
340011 | 1.1392 | 0.8604 | 19.9484 | 19.7441 | 22.0047 | 20.5590
340012 | 1.2501 | 0.8604 | 22.7189 | 23.2288 | 24.7576 | 23.5973
340013 | 1.2482 | 0.9342 | 23.0261 | 23.9492 | 26.3607 | 24.4161
340014 | 1.5499 | 0.9078 | 25.1872 | 27.4888 | 27.8384 | 26.8919
340015 | 1.3635 | 0.9342 | 26.2276 | 28.0585 | 28.3928 | 27.5641
340016 | 1.2882 | 0.8604 | 23.0359 | 25.6454 | 27.2365 | 25.3118
340017 | 1.3185 | 0.9202 | 23.8229 | 25.7780 | 27.5672 | 25.7234
340018 | *** | * | 23.7243 | * | * | 23.7243
340020 | 1.2026 | 0.8760 | 23.7995 | 26.4465 | 27.5473 | 25.9059
340021 | 1.3011 | 0.9342 | 26.0995 | 29.4864 | 29.3835 | 28.3680
340023 | 1.3623 | 0.9404 | 24.4896 | 26.4225 | 26.2716 | 25.7465
340024 | 1.1034 | 0.8781 | 22.2522 | 23.6638 | 26.4001 | 24.1341
340025 | 1.3306 | 0.9202 | 21.2276 | 23.5881 | 24.0101 | 22.9999
340027 | 1.1603 | 0.9268 | 23.6326 | 25.5973 | 26.3840 | 25.2711
340028 | 1.5229 | 0.9918 | 26.3298 | 28.0323 | 30.7591 | 28.3770
340030 | 2.0915 | 0.9739 | 29.0122 | 29.6630 | 30.4591 | 29.7351
340032 | 1.4483 | 0.9506 | 26.7475 | 26.5958 | 28.7636 | 27.4150
340035 | 1.0908 | 0.8604 | 23.5476 | 23.9669 | 24.6262 | 24.0395
340036 | 1.3746 | 0.9663 | 25.2077 | 27.2691 | 27.3860 | 26.6516
340037 | 1.1084 | 0.8766 | 21.6411 | 25.6262 | 29.0618 | 25.6372
340038 | 1.2390 | 0.8857 | 14.0713 | 22.4829 | 24.2111 | 19.1097
340039 | 1.2793 | 0.9342 | 27.1275 | 27.4457 | 27.8228 | 27.4762
340040 | 1.9853 | 0.9268 | 26.3325 | 27.6626 | 28.7434 | 27.6121
340041 | 1.1974 | 0.8973 | 23.6600 | 24.3595 | 26.8314 | 25.0117
340042 | 1.2701 | 0.8604 | 23.0236 | 25.0110 | 25.6349 | 24.5586
340045 | *** | * | 23.1918 | * | * | 23.1918
340047 | 1.8409 | 0.9078 | 25.0605 | 27.4022 | 28.4968 | 27.0295
340049 | 1.8539 | 0.9739 | 30.4827 | 30.6791 | 29.6826 | 30.2360
340050 | 1.1118 | 0.9594 | 24.2533 | 26.0365 | 27.5274 | 25.9407
340051 | 1.2249 | 0.8815 | 23.4091 | 23.9612 | 24.4561 | 23.9489
340053 | 1.4951 | 0.9506 | 27.7261 | 27.8577 | 28.9355 | 28.1746
340055 | 1.2468 | 0.8973 | 24.1057 | 26.0647 | 26.5752 | 25.5723
340060 | 1.1417 | 0.9107 | 22.8657 | 22.9097 | 25.1791 | 23.6619
340061 | 1.8143 | 0.9739 | 27.5594 | 27.0089 | 29.8574 | 28.1792
340064 | 1.0718 | 0.8604 | 22.9143 | 23.4233 | 23.9701 | 23.4394
340068 | 1.2500 | 0.9157 | 21.8830 | 22.6814 | 23.6757 | 22.7411
340069 | 1.8788 | 0.9739 | 27.4473 | 29.3439 | 31.4951 | 29.4988
340070 | 1.2881 | 0.9107 | 24.9033 | 25.3226 | 26.6546 | 25.6458
340071 | 1.0900 | 0.9475 | 25.4537 | 26.3921 | 27.9748 | 26.6157
340072 | 1.2076 | 0.8604 | 23.1163 | 25.2493 | 24.1350 | 24.1644
340073 | 1.5996 | 0.9739 | 30.2061 | 30.9849 | 31.6803 | 30.9681
340075 | 1.2344 | 0.8973 | 26.0226 | 25.1551 | 25.1438 | 25.4402
340084 | 1.1981 | 0.9506 | 21.2580 | 21.1363 | 23.1300 | 21.8526
340085 | 1.1465 | 0.9107 | 23.9793 | 26.5164 | 27.9572 | 26.0805
340087 | 1.2855 | 0.8604 | 22.0070 | 22.4287 | 25.4730 | 23.2835
340090 | 1.3673 | 0.9663 | 23.4541 | 26.4031 | 26.7428 | 25.6227
340091 | 1.5783 | 0.9078 | 25.8266 | 27.1285 | 28.8044 | 27.3003
340096 | 1.2025 | 0.9107 | 25.2169 | 24.9036 | 26.5438 | 25.5729
340097 | 1.2782 | 0.8604 | 24.2127 | 26.2228 | 29.8005 | 26.6208
340098 | 1.4555 | 0.9506 | 27.3308 | 28.2493 | 29.7180 | 28.4477
340099 | 1.3045 | 0.8604 | 20.3683 | 21.8564 | 23.9702 | 22.0907
340104 | 0.9032 | 0.8766 | 15.7521 | 16.1204 | 17.0165 | 16.3439
340106 | 1.1098 | 0.8604 | 22.4894 | 26.0892 | 26.1340 | 24.8429
340107 | 1.2251 | 0.9008 | 22.9698 | 24.1762 | 26.5626 | 24.5944
340109 | 1.2621 | 0.8777 | 23.4419 | 25.4464 | 26.6383 | 25.1802
340113 | 1.9376 | 0.9506 | 28.2568 | 28.5587 | 30.3841 | 29.0850
340114 | 1.5717 | 0.9739 | 26.6813 | 28.3222 | 28.1311 | 27.7304
340115 | 1.6237 | 0.9739 | 25.0212 | 26.7592 | 27.2781 | 26.3719
340116 | 1.7673 | 0.8973 | 25.3213 | 27.5881 | 29.3698 | 27.4192
340119 | 1.3174 | 0.9506 | 24.2287 | 25.6226 | 29.4470 | 26.4336
340120 | 1.0111 | 0.8604 | 23.0915 | 25.9134 | 25.5399 | 24.8578
340121 | 1.1158 | 0.9326 | 21.7576 | 23.1343 | 23.8854 | 22.9469
340123 | 1.3425 | 0.9107 | 26.1083 | 26.0637 | 28.5669 | 26.9166
340124 | 1.0382 | 0.9475 | 20.8018 | 22.2988 | 23.5480 | 22.2128
340126 | 1.2869 | 0.9475 | 25.0189 | 26.9866 | 28.2247 | 26.7666
340127 | 1.1535 | 0.9739 | 25.7831 | 26.4746 | 28.2161 | 26.8349
340129 | 1.2620 | 0.9342 | 25.4902 | 25.7976 | 26.7606 | 26.0415
340130 | 1.3501 | 0.9506 | 25.2941 | 26.1717 | 28.1594 | 26.5940
340131 | 1.5008 | 0.9268 | 27.9358 | 27.4750 | 28.8542 | 28.1014
340132 | 1.1997 | 0.8604 | 21.3521 | 23.5856 | 24.6162 | 23.2107
340133 | 1.0172 | 0.8912 | 22.5558 | 23.4678 | 24.8579 | 23.5985
340137 | *** | * | 21.0642 | 22.1741 | 28.9672 | 23.0834
340138 | 0.8513 | 0.9739 | 21.3670 | * | * | 21.3670
340141 | 1.6608 | 0.9326 | 27.3355 | 29.3878 | 29.3171 | 28.6965
340142 | 1.1641 | 0.8604 | 22.9907 | 26.6886 | 27.7555 | 25.9008
340143 | 1.5125 | 0.8973 | 25.3633 | 28.0082 | 27.9777 | 27.1349
340144 | 1.2444 | 0.9342 | 27.2686 | 26.1865 | 27.0150 | 26.8087
340145 | 1.1836 | 0.9342 | 23.7131 | 25.8459 | 26.7482 | 25.4578
340147 | 1.2997 | 0.9475 | 25.4534 | 26.9162 | 28.2626 | 26.9073
340148 | 1.4008 | 0.9078 | 23.5880 | 25.3660 | 25.8325 | 24.9278
340151 | 1.1655 | 0.8656 | 22.0052 | 22.7736 | 23.2158 | 22.6707
340153 | 1.8783 | 0.9506 | 26.4896 | 27.6509 | 28.5979 | 27.6012
340155 | 1.4288 | 0.9739 | 30.4940 | 30.3443 | 30.9501 | 30.6075
340156 | 0.8520 | 1.4401 | * | * | * | *
340158 | 1.1142 | 0.9326 | 26.4849 | 27.7816 | 27.6526 | 27.2851
340159 | 1.2295 | 0.9739 | 23.2991 | 24.2588 | 25.3108 | 24.3176
340160 | 1.3379 | 0.8604 | 20.7525 | 21.7923 | 23.4631 | 22.0123
340166 | 1.2893 | 0.9506 | 26.0558 | 27.1132 | 28.5395 | 27.2674
340168 | 0.3793 | 0.9326 | 17.3249 | * | * | 17.3249
340171 | 1.1727 | 0.9506 | 28.2734 | 27.8539 | 27.4701 | 27.8495
340173 | 1.2942 | 0.9739 | 27.5072 | 28.3502 | 30.2815 | 28.7937
340177 | 1.0970 | * | 24.7471 | 26.7155 | * | 25.7127
340178 | *** | * | 28.7218 | * | * | 28.7218
340179 | *** | * | * | 34.1895 | * | 34.1895
340182 | *** | * | * | 27.8071 | * | 27.8071
340183 | 1.0758 | 0.9506 | * | * | * | *
350002 | 1.8100 | 0.7311 | 22.0283 | 22.4307 | 23.5869 | 22.7218
350003 | 1.1839 | 0.7311 | 21.8061 | 23.9639 | 24.9975 | 23.6038
350006 | 1.5595 | 0.7311 | 19.4985 | 21.2726 | 22.4626 | 21.0496
350009 | 1.1330 | 0.7944 | 23.0873 | 23.8681 | 24.5737 | 23.8529
350010 | 0.9689 | 0.7309 | 19.1964 | 20.1290 | 20.4198 | 19.9342
350011 | 1.9811 | 0.7944 | 23.1947 | 23.8400 | 24.1135 | 23.7260
350014 | 0.9073 | 0.7309 | 17.7565 | 19.1684 | 17.5837 | 18.1607
350015 | 1.6836 | 0.7311 | 20.1161 | 20.9046 | 21.3342 | 20.8695
350017 | 1.2734 | 0.7309 | 21.0243 | 22.4359 | 21.6187 | 21.6699
350019 | 1.6836 | 0.8049 | 22.1960 | 23.2018 | 24.9615 | 23.5379
350030 | 0.9632 | 0.7309 | 18.9978 | 20.2722 | 22.5976 | 20.6218
350061 | 1.4521 | * | 22.0515 | * | * | 22.0515
350063 | 0.8917 | 1.4401 | * | * | * | *
350070 | 1.8140 | 0.7944 | 25.2836 | 25.2365 | 26.2454 | 25.5903
360001 | 1.4384 | 0.9661 | 23.9101 | 25.8669 | 28.8623 | 26.1633
360002 | 1.2621 | 0.8838 | 24.5789 | 24.5155 | 25.4859 | 24.8654
360003 | 1.7764 | 0.9661 | 27.5029 | 28.9672 | 30.7812 | 29.0939
360006 | 1.8868 | 1.0025 | 28.1698 | 30.1363 | 30.9806 | 29.7940
360008 | 1.3246 | 0.8725 | 24.5714 | 26.2632 | 27.5683 | 26.1309
360009 | 1.6060 | 0.9308 | 23.1012 | 25.0007 | 27.0618 | 25.0993
360010 | 1.2245 | 0.8807 | 23.1178 | 23.7825 | 24.7352 | 23.9121
360011 | 1.2621 | 0.9821 | 25.5340 | 27.6036 | 31.5587 | 28.1839
360012 | 1.3982 | 1.0025 | 27.5470 | 30.1416 | 31.0526 | 29.6656
360013 | 1.0958 | 0.9308 | 26.8130 | 27.0893 | 29.8412 | 27.9268
360014 | 1.1327 | 0.9821 | 25.3861 | 27.1017 | 27.0743 | 26.5482
360016 | 1.4372 | 0.9661 | 26.1283 | 27.8031 | 29.6298 | 27.8544
360017 | 1.7047 | 1.0025 | 27.2910 | 29.8525 | 31.7081 | 29.6406
360019 | 1.3006 | 0.9216 | 25.5926 | 26.9178 | 27.2997 | 26.6163
360020 | 1.6208 | 0.9216 | 24.4343 | 23.6400 | 25.6328 | 24.5734
360024 | *** | * | 23.5793 | * | * | 23.5793
360025 | 1.4534 | 0.9269 | 25.5633 | 27.4533 | 27.1546 | 26.7668
360026 | 1.3232 | 0.9279 | 23.5898 | 25.5379 | 25.2945 | 24.8038
360027 | 1.6134 | 0.9216 | 25.4894 | 27.4454 | 28.2923 | 27.0621
360029 | 1.0868 | 0.9269 | 22.7785 | 24.3216 | 26.4208 | 24.5306
360032 | 1.2095 | 0.8697 | 23.2638 | 25.0034 | 25.9916 | 24.7563
360035 | 1.7331 | 1.0025 | 27.5220 | 30.0172 | 31.3181 | 29.6743
360036 | 1.2087 | 0.9216 | 27.6094 | 27.8343 | 29.3514 | 28.2918
360037 | 1.4271 | 0.9345 | 24.3982 | 29.0046 | 30.0446 | 27.6736
360038 | 1.5417 | 0.9661 | 22.8009 | 25.4274 | 31.0611 | 26.3008
360039 | 1.4955 | 0.9821 | 24.0218 | 23.9783 | 24.7873 | 24.2790
360040 | 1.1430 | 0.9084 | 24.0942 | 24.8569 | 25.5337 | 24.8329
360041 | 1.4959 | 0.9345 | 24.1080 | 26.1522 | 26.6755 | 25.6870
360044 | 1.1369 | 0.8824 | 21.8411 | 21.5619 | 24.3840 | 22.5769
360046 | 1.2023 | 0.9661 | 25.0775 | 25.4673 | 26.2417 | 25.5994
360047 | 1.0860 | * | 21.7248 | * | * | 21.7248
360048 | 1.7561 | 0.9269 | 28.8107 | 29.3415 | 29.4378 | 29.2064
360049 | *** | * | 25.8367 | 26.2222 | * | 26.0185
360051 | 1.7003 | 0.9279 | 25.7556 | 26.8501 | 28.1167 | 26.9164
360052 | 1.6091 | 0.9279 | 24.5405 | 26.2066 | 26.8806 | 25.8864
360054 | 1.3924 | 0.8725 | 23.0376 | 22.9359 | 24.8248 | 23.5845
360055 | 1.4142 | 0.8992 | 26.3112 | 27.3941 | 30.0143 | 27.8971
360056 | 1.6185 | 0.9661 | 23.1024 | 26.5318 | 30.3677 | 26.6371
360058 | 1.0590 | 0.8697 | 23.4429 | 23.8119 | 24.5003 | 23.9275
360059 | 1.5014 | 0.9345 | 25.3516 | 29.3624 | 30.6173 | 28.4902
360062 | 1.4838 | 1.0025 | 28.6518 | 31.7422 | 32.8893 | 31.2563
360064 | 1.5933 | 0.8992 | 22.2393 | 25.2336 | 27.7795 | 24.9763
360065 | 1.2190 | 0.9269 | 26.3036 | 28.0405 | 29.7155 | 28.0324
360066 | 1.5166 | 0.9308 | 27.3362 | 27.1436 | 29.7605 | 28.0751
360068 | 1.8866 | 0.9269 | 25.8414 | 26.2065 | 26.6933 | 26.2583
360069 | 1.2464 | * | 24.2444 | * | * | 24.2444
360070 | 1.6587 | 0.8918 | 24.8863 | 27.2389 | 27.8891 | 26.6577
360071 | 1.1157 | 0.8732 | 22.0786 | 23.4619 | 26.4081 | 23.9600
360072 | 1.5232 | 1.0025 | 24.4332 | 25.9589 | 27.2286 | 25.9259
360074 | 1.3002 | 0.9269 | 24.9055 | 25.8959 | 27.5328 | 26.1112
360075 | 1.1472 | 0.9345 | 26.8453 | 26.8925 | 26.1657 | 26.5905
360076 | 1.4890 | 0.9661 | 25.9369 | 28.1013 | 29.0148 | 27.7077
360077 | 1.5236 | 0.9345 | 25.6505 | 28.4449 | 28.0133 | 27.3825
360078 | 1.2784 | 0.9216 | 26.1313 | 25.7885 | 27.4689 | 26.4454
360079 | 1.7865 | 0.9661 | 26.0935 | 27.2437 | 30.1230 | 27.8340
360080 | 1.1302 | 0.8697 | 20.8309 | 21.4526 | 22.7020 | 21.7298
360081 | 1.3518 | 0.9269 | 27.5695 | 29.8366 | 29.5312 | 28.9628
360082 | 1.3503 | 0.9345 | 27.1197 | 29.2561 | 28.7925 | 28.4298
360084 | 1.6077 | 0.8918 | 25.8415 | 27.3917 | 28.5402 | 27.2566
360085 | 2.0267 | 1.0025 | 29.0081 | 31.5800 | 32.8502 | 31.2560
360086 | 1.6601 | 0.9279 | 22.1859 | 25.4218 | 27.3124 | 24.9575
360087 | 1.2859 | 0.9345 | 25.4040 | 29.6579 | 28.4185 | 27.8522
360089 | 1.1454 | 0.8697 | 22.7951 | 25.3465 | 25.5608 | 24.5874
360090 | 1.5834 | 0.9269 | 26.7717 | 29.0199 | 30.7530 | 28.8616
360091 | 1.3288 | 0.9345 | 27.5067 | 25.8657 | 27.6809 | 27.0164
360092 | 1.2652 | 1.0025 | 25.6618 | 25.4954 | 25.4055 | 25.5165
360094 | *** | * | 26.6348 | * | * | 26.6348
360095 | 1.4011 | 0.9269 | 26.1275 | 26.4635 | 29.3787 | 27.2944
360096 | 1.0887 | 0.8698 | 24.6317 | 25.9275 | 26.8653 | 25.8210
360098 | 1.3625 | 0.9345 | 24.8447 | 25.5973 | 26.6382 | 25.7210
360100 | 1.1996 | 0.8918 | 23.0561 | 25.4523 | 23.6167 | 24.0350
360101 | 1.3614 | 0.9345 | 26.6209 | 27.6030 | 29.7817 | 28.0282
360106 | *** | * | 24.1588 | * | * | 24.1588
360107 | 1.1208 | 0.9269 | 25.9697 | 24.6095 | 26.0534 | 25.5448
360109 | 1.0704 | 0.8697 | 25.4184 | 26.3131 | 30.1382 | 27.2363
360112 | 1.9950 | 0.9269 | 28.6784 | 30.5715 | 31.1356 | 30.1179
360113 | 1.3132 | 0.9661 | 25.6493 | 26.6556 | 30.2871 | 27.4975
360115 | 1.2830 | 0.9345 | 24.0052 | 25.9841 | 26.1821 | 25.4599
360116 | 1.1956 | 0.9661 | 18.0655 | 25.1717 | 26.4968 | 23.3911
360118 | 1.5295 | 0.9210 | 27.7289 | 27.3884 | 28.5643 | 27.8933
360121 | 1.3608 | 0.9269 | 24.5593 | 27.4442 | 28.3835 | 26.7824
360123 | 1.4120 | 0.9345 | 22.6523 | 27.1920 | 28.0334 | 25.8336
360125 | 1.1989 | 0.8697 | 22.1096 | 24.1388 | 25.9067 | 23.9904
360128 | *** | * | 21.0067 | * | * | 21.0067
360130 | 1.4726 | 0.9345 | 22.9762 | 25.6570 | 26.3986 | 25.2275
360131 | 1.3046 | 0.8918 | 24.0496 | 25.3719 | 26.6635 | 25.3529
360132 | 1.3628 | 0.9661 | 25.9453 | 27.7724 | 29.4070 | 27.6756
360133 | 1.6044 | 0.9279 | 24.6208 | 29.8684 | 31.7521 | 28.7271
360134 | 1.7956 | 0.9661 | 29.2974 | 27.7339 | 28.5141 | 28.4865
360137 | 1.7456 | 0.9345 | 26.9522 | 26.1250 | 27.6894 | 26.9256
360141 | 1.6591 | 0.8992 | 27.7085 | 29.7937 | 31.1778 | 29.5401
360142 | 1.0665 | * | 22.1610 | * | * | 22.1610
360143 | 1.2889 | 0.9345 | 24.6306 | 28.3057 | 26.9394 | 26.6732
360144 | 1.3635 | 0.9345 | 25.7079 | 28.2473 | 28.9177 | 27.6781
360145 | 1.6717 | 0.9345 | 25.8268 | 27.1908 | 28.1835 | 27.1041
360147 | 1.2487 | 0.8697 | 24.1953 | 25.5854 | 27.5548 | 25.7876
360148 | 1.0887 | 0.8697 | 26.1947 | 26.0837 | 26.3399 | 26.2104
360150 | 1.2305 | 0.9216 | 24.7667 | 25.1217 | 28.2561 | 26.0004
360151 | 1.6215 | 0.8918 | 24.8629 | 25.3780 | 26.5636 | 25.6137
360152 | 1.5002 | 1.0025 | 27.9147 | 29.9425 | 31.5377 | 29.7875
360153 | 0.9761 | 0.8697 | 19.0226 | 19.8499 | 20.2147 | 19.7391
360155 | 1.4482 | 0.9345 | 25.3909 | 26.9127 | 28.9521 | 27.1128
360156 | 1.1513 | 0.8816 | 24.0509 | 24.3281 | 25.0833 | 24.5012
360159 | 1.2600 | 0.9821 | 33.1613 | 29.1529 | 28.6174 | 30.0448
360161 | 1.3687 | 0.8992 | 24.3792 | 25.4433 | 27.0875 | 25.6058
360163 | 1.9109 | 0.9661 | 26.9728 | 28.9742 | 30.0724 | 28.6652
360170 | 1.3064 | 1.0025 | 24.3620 | 28.5474 | 29.5954 | 27.6590
360172 | 1.3789 | 0.9345 | 26.3501 | 27.5669 | 28.8283 | 27.5900
360174 | 1.2823 | 0.9279 | 24.9990 | 26.8586 | 28.3143 | 26.7384
360175 | 1.2416 | 0.9821 | 26.5949 | 28.1531 | 28.3054 | 27.6959
360177 | 1.1565 | * | 24.4712 | * | * | 24.4712
360179 | 1.5935 | 0.9661 | 28.8645 | 30.0311 | 29.8299 | 29.5974
360180 | 2.2518 | 0.9345 | 26.1514 | 29.6633 | 31.4342 | 29.1126
360185 | 1.1985 | 0.8698 | 23.7173 | 25.6800 | 26.1080 | 25.1949
360187 | 1.5390 | 0.9279 | 24.8173 | 24.9353 | 25.7600 | 25.1883
360189 | 1.1090 | 1.0025 | 24.2136 | 26.3756 | 27.5097 | 26.0254
360192 | 1.2911 | 0.9345 | 26.7577 | 26.4616 | 27.5991 | 26.9459
360195 | 1.0872 | 0.9345 | 26.1281 | 25.0922 | 27.6155 | 26.2467
360197 | 1.1402 | 0.9821 | 27.0896 | 28.7580 | 28.9207 | 28.2672
360203 | 1.2426 | 0.8697 | 22.1414 | 24.4433 | 25.3692 | 24.0014
360210 | 1.1670 | 1.0025 | 27.8415 | 28.2976 | 29.6476 | 28.6031
360211 | 1.5603 | 0.8697 | 22.5449 | 25.7053 | 26.5459 | 24.7616
360212 | 1.3242 | 0.9345 | 25.2756 | 25.6080 | 26.6976 | 25.8756
360218 | 1.1993 | 1.0025 | 27.4288 | 29.8662 | 30.0101 | 29.0792
360230 | 1.5553 | 0.9345 | 27.0223 | 28.8018 | 30.0661 | 28.6838
360234 | 1.3345 | 0.9661 | 24.3625 | 25.9360 | 31.0656 | 27.0903
360236 | 1.2595 | 0.9661 | 35.8143 | 25.6728 | 29.5321 | 29.3317
360239 | 1.3150 | 0.9279 | 25.2474 | 27.2939 | 30.7728 | 27.7368
360241 | *** | * | 24.7001 | 23.0662 | 25.7290 | 24.4912
360242 | 1.8984 | * | * | * | * | *
360245 | 0.5514 | 0.9216 | 19.1884 | 20.6504 | 20.3426 | 20.0855
360247 | 0.3793 | 1.0025 | 19.8891 | 19.3677 | * | 19.6148
360253 | 2.4475 | 0.9661 | 30.4276 | 33.2371 | 34.3347 | 32.7151
360259 | 1.2997 | 0.9269 | 25.1338 | 25.9878 | 27.2902 | 26.1980
360260 | *** | * | 27.3903 | * | * | 27.3903
360261 | 1.3966 | 0.8879 | 22.5431 | 22.3614 | 25.6332 | 23.5172
360262 | 1.3198 | 0.9269 | 27.1680 | 28.6995 | 30.1559 | 28.7640
360263 | 1.8173 | 0.9308 | 20.8884 | 25.1652 | 25.4864 | 23.9919
360264 | *** | * | * | 36.0754 | * | 36.0754
360265 | *** | * | * | 36.6265 | * | 36.6265
360266 | 2.1283 | 1.0025 | * | * | 31.7565 | 31.7565
360267 | *** | * | * | * | 34.0936 | 34.0936
360268 | *** | * | * | * | 34.0526 | 34.0526
360269 | 1.7379 | 0.9661 | * | * | 24.8552 | 24.8552
360270 | 1.1031 | 0.8697 | * | * | * | *
360271 | 1.4810 | 0.9661 | * | * | * | *
360273 | 1.6114 | 0.8697 | * | * | * | *
370001 | 1.6338 | 0.8498 | 27.7245 | 26.0194 | 26.8884 | 26.8557
370002 | 1.2199 | 0.7702 | 20.1479 | 22.0476 | 23.6886 | 21.9874
370004 | 1.1264 | 0.8967 | 25.3919 | 26.7434 | 26.8521 | 26.3099
370006 | 1.2636 | 0.8498 | 20.1063 | 22.4802 | 23.9935 | 22.1050
370007 | 1.0754 | 0.7702 | 17.6547 | 19.4036 | 20.3706 | 19.1471
370008 | 1.4650 | 0.8754 | 24.2978 | 25.3352 | 26.6563 | 25.4723
370011 | 0.9793 | 0.8754 | 19.7821 | 21.9649 | 22.3391 | 21.3305
370013 | 1.5642 | 0.8754 | 24.9294 | 26.5364 | 27.2667 | 26.2291
370014 | 1.0076 | 0.8531 | 25.3576 | 25.9393 | 26.4488 | 25.9310
370015 | 1.0126 | 0.8498 | 23.6694 | 24.7547 | 25.5815 | 24.6941
370016 | 1.6363 | 0.8754 | 25.4062 | 26.7938 | 29.8284 | 27.2551
370018 | 1.5056 | 0.8498 | 23.5336 | 25.3573 | 24.6868 | 24.5173
370019 | 1.2501 | 0.7702 | 21.4474 | 22.0221 | 25.2814 | 22.9584
370020 | 1.3498 | 0.7702 | 18.5046 | 20.8723 | 22.7566 | 20.7450
370022 | 1.2123 | 0.8071 | 19.6495 | 24.6099 | 22.2289 | 22.0698
370023 | 1.3515 | 0.7792 | 21.5762 | 23.5170 | 24.0376 | 23.0619
370025 | 1.2921 | 0.8498 | 23.5659 | 23.9873 | 24.5547 | 24.0384
370026 | 1.4287 | 0.8754 | 23.0848 | 25.8428 | 25.5172 | 24.8223
370028 | 1.8823 | 0.8754 | 26.6153 | 27.8621 | 28.5619 | 27.6912
370029 | 1.1357 | 0.7702 | 23.9956 | 26.8508 | 28.5309 | 26.4597
370030 | 1.0197 | 0.7702 | 23.3037 | 24.1483 | 25.8212 | 24.4359
370032 | 1.4561 | 0.8754 | 23.4843 | 24.8626 | 26.2642 | 24.8567
370034 | 1.2239 | 0.7702 | 18.2341 | 19.5099 | 20.4106 | 19.4059
370036 | 1.1140 | 0.7702 | 17.7575 | 19.2318 | 19.8162 | 18.9477
370037 | 1.6244 | 0.8754 | 23.9685 | 24.9553 | 25.2350 | 24.7549
370039 | 1.0453 | 0.8498 | 21.8220 | 23.0254 | 23.5745 | 22.8102
370040 | 0.9665 | 0.8053 | 22.4048 | 22.8356 | 26.7395 | 23.9163
370041 | 0.8802 | 0.8498 | 22.3496 | 22.6731 | 22.9834 | 22.6703
370047 | 1.3852 | 0.8754 | 20.4657 | 24.1991 | 24.4766 | 23.0667
370048 | 1.0400 | 0.7702 | 19.2464 | 21.4543 | 22.0627 | 20.9190
370049 | 1.3123 | 0.8754 | 23.2171 | 23.8844 | 22.8755 | 23.3164
370051 | 1.0605 | 0.7702 | 17.2618 | 19.8329 | 19.3222 | 18.8243
370054 | 1.2315 | 0.7702 | 21.5044 | 22.4652 | 25.2142 | 22.9829
370056 | 1.8623 | 0.8406 | 22.0312 | 24.3986 | 25.5453 | 23.9751
370057 | 0.9775 | 0.8498 | 19.7284 | 19.8683 | 22.1337 | 20.5343
370060 | 0.9969 | 0.8498 | 18.7592 | 19.9025 | 23.3858 | 20.5027
370064 | 0.8912 | * | 14.2053 | * | * | 14.2053
370065 | 1.0064 | 0.7798 | 20.0227 | 21.2343 | 23.5815 | 21.6452
370072 | 0.8046 | 0.7960 | 9.9615 | 11.7942 | 13.0963 | 11.6675
370078 | 1.5643 | 0.8498 | 25.4068 | 27.8611 | 26.6972 | 26.6522
370080 | 0.8711 | 0.7702 | 18.0665 | 19.9595 | 22.4113 | 20.0969
370083 | 0.8983 | 0.7753 | 16.8836 | 19.2568 | 20.9878 | 18.9428
370084 | 1.0004 | 0.7702 | 16.6513 | 19.6230 | 20.7326 | 19.1537
370089 | 1.3096 | 0.7702 | 20.4699 | 20.6153 | 22.1523 | 21.0638
370091 | 1.5772 | 0.8498 | 23.3357 | 24.1438 | 25.8697 | 24.4379
370093 | 1.6183 | 0.8754 | 26.9774 | 26.0459 | 27.5356 | 26.8504
370094 | 1.4254 | 0.8754 | 23.1191 | 24.5555 | 26.5265 | 24.7232
370097 | 1.3201 | 0.8406 | 22.3267 | 26.3168 | 26.8138 | 25.2293
370099 | 1.0702 | 0.7702 | 20.5075 | 24.9971 | 26.7206 | 23.9187
370100 | 0.9272 | 0.7802 | 14.7711 | 17.9732 | 19.4002 | 17.4574
370103 | 1.0057 | 0.7702 | 17.8018 | 18.8933 | 19.4273 | 18.7246
370105 | 1.9411 | 0.8754 | 23.8978 | 26.7973 | 26.6399 | 25.9002
370106 | 1.4001 | 0.8754 | 26.5867 | 27.8979 | 28.5957 | 27.7400
370112 | 0.9493 | 0.8053 | 15.4471 | 16.0592 | 16.7888 | 16.1378
370113 | 1.1439 | 0.8715 | 25.3565 | 26.9720 | 26.4608 | 26.2282
370114 | 1.5812 | 0.8498 | 21.7880 | 23.0006 | 25.9841 | 23.5722
370123 | *** | * | 25.4733 | * | * | 25.4733
370125 | *** | * | 17.1361 | * | * | 17.1361
370138 | 1.0409 | 0.7702 | 18.3113 | 20.2528 | 22.1675 | 20.1246
370139 | 0.9462 | 0.7702 | 18.5226 | 19.4287 | 20.5156 | 19.5063
370148 | 1.5466 | 0.8754 | 25.2348 | 27.0904 | 28.1933 | 26.9006
370149 | 1.2410 | 0.8754 | 22.3537 | 23.3493 | 23.3423 | 23.0330
370153 | 1.1460 | 0.7702 | 19.8349 | 23.2778 | 24.1667 | 22.4460
370156 | 1.0006 | 0.7823 | 19.4743 | 25.2562 | 23.0104 | 22.5304
370158 | 0.9453 | 0.8754 | 18.5578 | 20.7641 | 21.5228 | 20.2578
370166 | 0.8431 | 0.8498 | 23.1682 | 25.1107 | 24.7251 | 24.3434
370169 | 0.8651 | 0.7865 | 15.8002 | 16.8252 | 16.6752 | 16.4258
370170 | 0.9138 | 1.4401 | * | * | * | *
370171 | 0.8794 | 1.4401 | * | * | * | *
370172 | 0.8574 | 1.4659 | * | * | * | *
370173 | 0.9221 | 1.4401 | * | * | * | *
370174 | 0.7942 | 1.4401 | * | * | * | *
370176 | 1.2163 | 0.8498 | 25.0509 | 24.7655 | 24.9650 | 24.9272
370177 | *** | * | 14.7193 | * | * | 14.7193
370178 | 0.8848 | 0.7702 | 14.6070 | 16.0179 | 16.0747 | 15.5714
370179 | 0.8038 | * | 23.5794 | * | * | 23.5794
370180 | 1.0048 | 1.4401 | * | * | * | *
370183 | 0.9349 | 0.8498 | 21.8147 | 24.7103 | 23.8419 | 23.4256
370190 | 1.4244 | 0.8498 | 33.1137 | 29.1568 | 34.6942 | 32.5212
370192 | 1.9787 | 0.8754 | 31.4930 | 27.6367 | 19.0638 | 24.5971
370196 | *** | * | 22.6824 | 22.3498 | 20.8296 | 21.9384
370199 | 0.7713 | 0.8754 | 26.0450 | 23.3989 | 23.7412 | 24.3357
370200 | 1.0462 | 0.7702 | 17.6317 | 20.5175 | 21.7153 | 19.8071
370201 | 1.6809 | 0.8754 | 23.3550 | 23.8090 | 24.2364 | 23.7986
370202 | 1.4316 | 0.8498 | 25.1181 | 26.1132 | 25.7966 | 25.6803
370203 | 2.0618 | 0.8754 | 23.5190 | 22.8869 | 25.7770 | 24.0068
370206 | 1.5795 | 0.8754 | 26.0912 | 26.0353 | 27.5752 | 26.5860
370210 | 2.1527 | 0.8498 | 21.2682 | 23.3786 | 27.2111 | 23.9630
370211 | 1.0812 | 0.8754 | 26.5345 | 27.8737 | 28.6537 | 27.7381
370212 | 1.7251 | 0.8754 | 21.0758 | 19.1720 | 20.3495 | 20.1565
370213 | *** | * | 29.3777 | * | * | 29.3777
370214 | 0.9301 | 0.7823 | * | 20.6217 | 21.0732 | 20.8619
370215 | 2.4407 | 0.8754 | 32.3589 | 31.5652 | 32.4087 | 32.1115
370216 | 2.0115 | 0.8498 | * | 27.2429 | 25.8260 | 26.4854
370217 | *** | * | * | 26.8677 | * | 26.8677
370218 | 2.3278 | 0.8498 | * | * | 30.3445 | 30.3445
370220 | 1.9660 | 0.8754 | * | * | * | *
370222 | 1.8271 | 0.8754 | * | * | * | *
370223 | 0.8903 | 0.8754 | * | * | * | *
370224 | 1.0183 | 0.8754 | * | * | * | *
370225 | 1.6928 | 0.8754 | * | * | * | *
380001 | 1.3077 | 1.1227 | 30.0103 | 29.5842 | 32.0770 | 30.5857
380002 | 1.2470 | 0.9957 | 27.1861 | 30.3385 | 31.5246 | 29.7051
380004 | 1.7238 | 1.1227 | 30.5172 | 32.6901 | 34.5432 | 32.6120
380005 | 1.4137 | 1.0298 | 30.2210 | 30.9087 | 33.2849 | 31.5054
380007 | 2.0505 | 1.1227 | 33.9969 | 33.9601 | 35.1697 | 34.3879
380008 | *** | * | 25.8356 | * | * | 25.8356
380009 | 2.0476 | 1.1227 | 31.7042 | 32.4016 | 34.5635 | 32.8913
380010 | *** | * | 30.2957 | 34.4208 | * | 32.1520
380014 | 1.9251 | 1.0702 | 29.9648 | 33.6078 | 33.1928 | 32.2201
380017 | 1.8286 | 1.1227 | 32.2447 | 34.2605 | 35.3734 | 33.9502
380018 | 1.9115 | 1.0298 | 28.0701 | 30.9923 | 31.8181 | 30.3581
380020 | 1.4164 | 1.1003 | 28.3563 | 29.6053 | 34.6183 | 30.5329
380021 | 1.4801 | 1.1227 | 29.3295 | 29.2164 | 32.6142 | 30.3295
380022 | 1.3408 | 1.0316 | 29.2642 | 30.1742 | 29.6224 | 29.6961
380023 | 1.1613 | * | 26.5439 | * | * | 26.5439
380025 | 1.2143 | 1.1227 | 33.2105 | 35.5084 | 36.4910 | 35.1206
380027 | 1.2897 | 1.0708 | 25.5161 | 26.4982 | 28.0247 | 26.6752
380029 | 1.2690 | 1.0473 | 26.9967 | 28.7994 | 29.4461 | 28.4964
380033 | 1.7458 | 1.1003 | 30.8767 | 33.4828 | 34.0094 | 32.8334
380037 | 1.3197 | 1.1227 | 30.5818 | 32.4033 | 32.7922 | 31.9693
380038 | 1.3171 | 1.1227 | 34.2303 | 34.5971 | 35.1105 | 34.6431
380039 | *** | * | 32.3959 | 38.0989 | * | 34.9720
380040 | 1.4156 | 0.9957 | 32.0103 | 31.2286 | 32.9081 | 32.0782
380047 | 1.8756 | 1.0586 | 29.8627 | 31.0584 | 32.8188 | 31.2891
380050 | 1.4599 | 1.0147 | 25.6190 | 27.1814 | 29.7329 | 27.5476
380051 | 1.6409 | 1.0473 | 29.7219 | 30.8891 | 32.8545 | 31.1841
380052 | 1.2947 | 0.9957 | 24.9476 | 25.6085 | 28.6119 | 26.2866
380056 | 1.1310 | 1.0473 | 25.1475 | 27.7253 | 29.1686 | 27.4847
380060 | 1.4620 | 1.1227 | 30.7041 | 32.0101 | 33.8863 | 32.2260
380061 | 1.6742 | 1.1227 | 29.8217 | 32.3699 | 34.5230 | 32.2744
380071 | 1.3152 | 1.1227 | 30.2304 | 31.7761 | 31.0901 | 31.0382
380075 | 1.3436 | 1.0298 | 29.0368 | 33.8962 | 31.6884 | 31.4882
380081 | 0.6765 | * | 21.8850 | 26.8149 | * | 24.3121
380082 | 1.2709 | 1.1227 | 32.3002 | 35.6708 | 35.7821 | 34.6175
380089 | 1.3136 | 1.1227 | 33.4214 | 34.6015 | 35.4850 | 34.5152
380090 | 1.3036 | 1.0708 | 34.4536 | 33.0990 | 35.5535 | 34.3715
380091 | 1.3645 | 1.1227 | 33.8950 | 39.9703 | 40.5066 | 38.1384
380100 | 1.6492 | 1.1227 | * | * | * | *
390001 | 1.5887 | 0.8346 | 22.5309 | 23.6075 | 24.3251 | 23.4964
390002 | 1.2797 | 0.8391 | 22.4388 | 24.7867 | 25.0860 | 24.1310
390003 | 1.1981 | 0.8339 | 21.6477 | 23.3672 | 24.5099 | 23.1723
390004 | 1.5748 | 0.9231 | 24.3249 | 24.4068 | 25.2424 | 24.6844
390006 | 1.9216 | 0.9116 | 25.1216 | 26.8581 | 28.6926 | 26.9694
390008 | 1.1363 | 0.8399 | 22.2680 | 22.8042 | 22.6297 | 22.5689
390009 | 1.8142 | 0.8503 | 25.5482 | 26.7462 | 26.7234 | 26.3594
390010 | 1.1864 | 0.8391 | 23.5390 | 24.5785 | 24.8196 | 24.2873
390011 | *** | * | 21.9279 | 21.4856 | 20.2291 | 21.2244
390012 | 1.2256 | 1.0892 | 28.5076 | 30.7542 | 32.4856 | 30.5696
390013 | 1.3344 | 0.9116 | 24.0044 | 25.0037 | 26.2323 | 25.0976
390016 | 1.2396 | 0.8698 | 21.9549 | 23.2095 | 24.3488 | 23.2187
390019 | 1.1020 | 1.0004 | 23.4636 | 24.0538 | 25.7515 | 24.3571
390022 | *** | * | 29.0710 | 30.3565 | 29.6308 | 29.6956
390023 | 1.2512 | 1.0892 | 31.7149 | 35.4452 | 34.7787 | 34.0489
390024 | 1.0192 | 1.0892 | 35.3960 | 33.5186 | 38.8750 | 35.7342
390025 | 0.4708 | 1.0892 | 17.2977 | 19.1362 | 20.3878 | 18.9809
390026 | 1.2143 | 1.0892 | 29.5157 | 31.8512 | 31.8309 | 31.0660
390027 | 1.7300 | 1.0892 | 35.8381 | 35.5692 | 39.2158 | 36.9328
390028 | 1.6327 | 0.8391 | 25.7246 | 27.1869 | 27.1451 | 26.6794
390030 | 1.1561 | 1.0004 | 22.1581 | 23.6063 | 24.6343 | 23.4873
390031 | 1.2251 | 0.9414 | 22.6828 | 26.2654 | 27.2033 | 25.3410
390032 | 1.2846 | 0.8391 | 22.7205 | 23.9466 | 24.5243 | 23.7229
390035 | 1.1521 | 1.0892 | 26.2647 | 28.4564 | 29.5417 | 28.1290
390036 | 1.4349 | 0.8391 | 24.6032 | 21.6358 | 24.4917 | 23.5130
390037 | 1.4058 | 0.8391 | 24.7820 | 25.4290 | 25.2296 | 25.1464
390039 | 1.1400 | 0.8339 | 20.3787 | 22.0208 | 23.2300 | 21.8622
390041 | 1.2825 | 0.8391 | 21.5925 | 22.9814 | 24.2257 | 22.9573
390042 | 1.3541 | 0.8391 | 25.6328 | 28.3633 | 28.0996 | 27.3605
390043 | 1.2010 | 0.8339 | 22.2549 | 23.2378 | 24.2087 | 23.2256
390044 | 1.6735 | 1.0766 | 27.1505 | 28.7758 | 29.4057 | 28.4751
390045 | 1.5824 | 0.8339 | 23.0712 | 23.9343 | 24.6495 | 23.8980
390046 | 1.6539 | 0.9650 | 27.2630 | 29.6574 | 30.5115 | 29.1858
390048 | 1.0779 | 0.9116 | 24.9759 | 28.5342 | 28.3152 | 27.3378
390049 | 1.5927 | 1.0004 | 27.1366 | 29.6121 | 30.7431 | 29.2428
390050 | 2.0709 | 0.8391 | 26.6931 | 27.2599 | 27.3481 | 27.1028
390052 | 1.1795 | 0.8386 | 23.3474 | 24.9510 | 25.1462 | 24.4784
390054 | *** | * | 22.8087 | 24.4435 | 27.4805 | 24.7389
390055 | *** | * | 25.6945 | * | * | 25.6945
390056 | 1.0637 | 0.8375 | 19.5537 | 23.5077 | 23.5821 | 22.1218
390057 | 1.3198 | 1.0892 | 27.9583 | 29.7982 | 30.9198 | 29.6016
390058 | 1.3192 | 0.9231 | 27.4799 | 26.9546 | 27.7296 | 27.3846
390061 | 1.4184 | 0.9650 | 28.4538 | 29.1318 | 30.0597 | 29.1859
390062 | 1.1289 | 0.8350 | 21.4051 | 21.2999 | 21.0713 | 21.2584
390063 | 1.8024 | 0.8503 | 24.7614 | 26.4998 | 26.8381 | 26.0655
390065 | 1.2588 | 1.0031 | 25.2188 | 27.6249 | 29.5654 | 27.4345
390066 | 1.4275 | 0.9116 | 24.2087 | 25.9645 | 25.4407 | 25.2125
390067 | 1.8076 | 0.9231 | 26.3287 | 29.7234 | 30.6128 | 28.8546
390068 | 1.3348 | 0.9650 | 25.8291 | 26.7358 | 29.0962 | 27.1397
390070 | 1.4189 | 1.0892 | 30.9500 | 33.3185 | 34.4935 | 32.9335
390071 | 1.0314 | 0.8339 | 21.8367 | 24.6462 | 24.8467 | 23.7238
390072 | 1.0757 | 0.8339 | 24.9389 | 25.3029 | 26.2568 | 25.5026
390073 | 1.7402 | 0.8350 | 26.3698 | 25.7822 | 26.4083 | 26.2016
390074 | *** | * | 22.8545 | 23.6500 | 25.4098 | 23.9494
390075 | *** | * | 24.6359 | * | * | 24.6359
390076 | 1.3948 | 1.0892 | 27.9004 | 31.8500 | 32.7671 | 30.8676
390079 | 1.8369 | 0.8775 | 23.3053 | 22.5607 | 24.4452 | 23.4348
390080 | 1.3297 | 1.0892 | 27.2616 | 28.7063 | 29.2645 | 28.4490
390081 | 1.2608 | 1.0892 | 30.3840 | 31.7569 | 33.6247 | 31.9442
390084 | 1.0972 | 0.8339 | 19.8606 | 23.2039 | 24.3372 | 22.4576
390086 | 1.6555 | 0.8339 | 22.5317 | 23.5141 | 25.0992 | 23.7478
390090 | 1.9867 | 0.8391 | 25.2014 | 27.3528 | 27.0122 | 26.5229
390091 | 1.1445 | 0.8698 | 21.5586 | 21.7010 | 23.3562 | 22.1985
390093 | 1.1573 | 0.8391 | 21.4401 | 22.6082 | 22.6023 | 22.2276
390095 | 1.1958 | 0.8346 | 23.6240 | 22.6150 | 24.6290 | 23.6292
390096 | 1.5985 | 1.0766 | 27.0763 | 28.8258 | 28.6055 | 28.1718
390097 | 1.2460 | 1.0892 | 25.6660 | 26.1741 | 27.9858 | 26.5902
390100 | 1.7084 | 0.9650 | 27.7208 | 30.0132 | 30.0234 | 29.3208
390101 | 1.2968 | 0.9426 | 21.9418 | 23.1497 | 24.8377 | 23.3533
390102 | 1.4439 | 0.8391 | 24.8898 | 24.8369 | 24.4589 | 24.7141
390103 | 0.8439 | 0.8391 | 20.6775 | 20.5741 | 20.4446 | 20.5656
390104 | 1.0867 | 0.8339 | 19.6428 | 19.2326 | 19.6630 | 19.5084
390107 | 1.5235 | 0.8391 | 24.1386 | 24.1159 | 24.6565 | 24.3172
390108 | 1.2286 | 1.0892 | 27.2661 | 27.8171 | 28.5928 | 27.9029
390109 | 1.1558 | * | 19.9156 | * | * | 19.9156
390110 | 1.6017 | 0.8391 | 23.9808 | 27.7311 | 25.3407 | 25.6183
390111 | 2.1688 | 1.0892 | 32.6510 | 34.2990 | 34.8756 | 33.9665
390112 | 1.2270 | 0.8339 | 19.2126 | 20.2380 | 21.5439 | 20.3238
390113 | 1.2914 | 0.8698 | 22.2591 | 23.3686 | 24.2593 | 23.3085
390114 | 1.5658 | 0.8391 | 24.0473 | 26.9620 | 27.9184 | 26.3018
390115 | 1.4567 | 1.0892 | 27.7333 | 29.6905 | 30.8063 | 29.4311
390116 | 1.2415 | 1.0892 | 30.2722 | 32.2513 | 33.2562 | 31.9776
390117 | 1.1678 | 0.8341 | 20.3946 | 20.7821 | 21.5038 | 20.9016
390118 | 1.1721 | 0.8339 | 21.5001 | 20.5614 | 21.8917 | 21.3378
390119 | 1.3034 | 0.8346 | 22.2746 | 23.0928 | 24.3245 | 23.2322
390121 | *** | * | 23.1408 | 25.4826 | * | 24.2748
390122 | 1.0755 | 0.8392 | 22.5786 | 23.1866 | 23.3220 | 23.0325
390123 | 1.1927 | 1.0892 | 28.6269 | 32.4528 | 34.0062 | 31.6506
390125 | 1.2633 | 0.8361 | 20.9456 | 22.4033 | 22.8816 | 22.0906
390127 | 1.3311 | 1.0892 | 30.9374 | 31.9091 | 33.6557 | 32.1824
390128 | 1.2534 | 0.8391 | 23.1539 | 24.1628 | 24.1390 | 23.8230
390130 | 1.2885 | 0.8339 | 24.0685 | 23.0592 | 23.2504 | 23.4713
390131 | 1.3317 | 0.8391 | 22.6306 | 23.0577 | 23.5783 | 23.1078
390132 | 1.4484 | 1.0892 | 27.7250 | 29.6396 | 31.1168 | 29.5034
390133 | 1.7272 | 1.0766 | 28.7162 | 31.1083 | 32.9812 | 31.0147
390135 | *** | * | 24.4738 | * | * | 24.4738
390136 | *** | * | 22.1415 | 23.9813 | * | 23.0891
390137 | 1.4885 | 0.8346 | 23.4877 | 24.2878 | 26.1457 | 24.6489
390138 | 1.1933 | 0.9116 | 24.2769 | 25.3410 | 27.4231 | 25.7128
390139 | 1.3716 | 1.0892 | 30.4246 | 34.1447 | 34.0836 | 32.9187
390142 | 1.5243 | 1.0892 | 32.5786 | 33.8224 | 34.5773 | 33.7222
390145 | 1.5357 | 0.8391 | 23.8041 | 24.6672 | 25.6980 | 24.7299
390146 | 1.2173 | 0.8361 | 25.2460 | 22.6752 | 25.1805 | 24.3872
390147 | 1.3581 | 0.8391 | 25.0971 | 26.8522 | 28.6606 | 26.8148
390150 | 1.1275 | 0.8370 | 24.1855 | 22.8228 | 22.7668 | 23.2856
390151 | 1.3563 | 1.1017 | 27.1539 | 29.9254 | 31.4067 | 29.5927
390153 | 1.3460 | 1.0892 | 30.0585 | 32.8234 | 33.2427 | 32.1641
390154 | 1.2246 | 0.8339 | 20.6982 | 22.8391 | 23.3559 | 22.2880
390156 | 1.3798 | 1.0892 | 31.2571 | 32.2688 | 32.8999 | 32.1222
390157 | 1.2696 | 0.8391 | 22.7493 | 21.5923 | 22.1112 | 22.1491
390160 | 1.2522 | 0.8391 | 21.4877 | 24.0208 | 22.9696 | 22.8166
390162 | 1.4950 | 1.1571 | 30.0900 | 35.5057 | 34.5809 | 33.2587
390163 | 1.2334 | 0.8391 | 22.1741 | 23.2055 | 22.8341 | 22.7283
390164 | 2.1784 | 0.8391 | 26.4971 | 26.3087 | 27.1950 | 26.6937
390166 | 1.1701 | 0.8391 | 24.9810 | 20.9272 | 23.3255 | 23.1378
390168 | 1.5193 | 0.8391 | 24.5820 | 26.1365 | 26.9816 | 25.9249
390169 | 1.4279 | 0.8346 | 27.2242 | 26.5514 | 26.2643 | 26.6875
390173 | 1.1827 | 0.8339 | 22.8220 | 23.9927 | 25.6455 | 24.1670
390174 | 1.7008 | 1.0892 | 32.6265 | 34.2069 | 34.8999 | 33.9342
390176 | 1.0494 | 0.8391 | * | 23.9779 | 24.1247 | 24.0545
390178 | 1.3615 | 0.8992 | 20.7270 | 22.6006 | 23.1452 | 22.1438
390179 | 1.4427 | 1.0892 | 27.2222 | 28.0688 | 30.1219 | 28.5194
390180 | 1.4067 | 1.0892 | 32.4375 | 34.9832 | 35.5291 | 34.3065
390181 | 1.1036 | 0.8623 | 24.4573 | 25.9871 | 26.6021 | 25.6300
390183 | 1.1415 | 0.8339 | 25.6554 | 27.0122 | 27.8358 | 26.8139
390184 | 1.1037 | 0.8391 | 22.5519 | 22.7451 | 23.9736 | 23.0652
390185 | 1.2675 | 0.8339 | 23.0202 | 25.4256 | 27.1119 | 25.2267
390189 | 1.1565 | 0.8339 | 22.3722 | 22.6796 | 23.6215 | 22.9388
390191 | 1.1480 | * | 20.8761 | * | * | 20.8761
390192 | 0.9882 | 0.8346 | 21.2619 | 20.5459 | 23.6171 | 21.8230
390193 | *** | * | 20.1024 | * | * | 20.1024
390194 | 1.1194 | 1.0004 | 25.4235 | 27.5890 | 26.3152 | 26.4435
390195 | 1.6293 | 1.0892 | 31.0019 | 34.2980 | 34.5594 | 33.3475
390196 | 1.6590 | * | * | * | * | *
390197 | 1.3808 | 1.0004 | 25.7739 | 26.8270 | 27.2455 | 26.6103
390198 | 1.0933 | 0.8503 | 18.7222 | 20.5979 | 20.4350 | 19.9087
390199 | 1.1701 | 0.8339 | 21.3157 | 22.3224 | 23.0046 | 22.2038
390200 | *** | * | 23.7471 | * | * | 23.7471
390201 | 1.3003 | 0.9509 | 26.3658 | 27.0054 | 27.3542 | 26.9245
390203 | 1.6204 | 1.0892 | 28.9054 | 29.4930 | 29.1370 | 29.1781
390204 | 1.3007 | 1.0892 | 28.6829 | 29.5251 | 30.7346 | 29.6944
390211 | 1.2565 | 0.8992 | 23.1450 | 25.1689 | 26.5052 | 24.9533
390215 | *** | * | 28.0403 | * | * | 28.0403
390217 | 1.2433 | 0.8391 | 24.3610 | 23.5879 | 24.1886 | 24.0513
390219 | 1.3175 | 0.8391 | 25.1705 | 25.4886 | 26.1196 | 25.5763
390220 | 1.1218 | 1.0892 | 41.6138 | 28.9128 | 30.7435 | 32.7176
390222 | 1.2954 | 1.0892 | 28.7488 | 30.9464 | 31.7361 | 30.5072
390223 | 2.0325 | 1.0892 | 27.6407 | 30.2523 | 34.3280 | 30.7325
390224 | *** | * | 18.7624 | * | * | 18.7624
390225 | 1.2242 | 0.9650 | 24.9391 | 27.5803 | 27.2555 | 26.6147
390226 | 1.7798 | 1.0892 | 28.5890 | 32.6658 | 32.6508 | 31.2960
390228 | 1.3965 | 0.8391 | 23.3078 | 23.9845 | 24.2242 | 23.8474
390231 | 1.4031 | 1.0892 | 29.2653 | 30.9339 | 32.8353 | 30.9985
390233 | 1.3802 | 0.9426 | 24.8690 | 25.6904 | 27.2597 | 25.9607
390236 | 0.9660 | 0.8342 | 21.9169 | 22.1144 | 23.1290 | 22.3771
390237 | 1.6164 | 0.8346 | 26.9533 | 27.4944 | 28.4337 | 27.5819
390246 | 1.1272 | 0.8339 | 20.1581 | 25.1956 | 26.0179 | 23.4882
390256 | 1.9087 | 0.9231 | 26.3619 | 28.0617 | 28.8970 | 27.8209
390258 | 1.5082 | 1.0892 | 29.4626 | 30.4142 | 31.7164 | 30.6076
390263 | 1.5401 | 1.0004 | 26.0170 | 28.5864 | 29.9850 | 28.3002
390265 | 1.5075 | 0.8391 | 23.4836 | 24.0675 | 25.0166 | 24.2007
390266 | 1.1586 | 0.8992 | 20.3918 | 20.8789 | 22.2228 | 21.1792
390267 | 1.2789 | 0.8391 | 23.1051 | 24.2428 | 24.8309 | 24.0577
390268 | 1.3894 | 0.8620 | 25.0021 | 25.6643 | 26.7342 | 25.8430
390270 | 1.6238 | 0.8346 | 24.1496 | 24.9510 | 26.5010 | 25.2638
390272 | 0.5343 | 1.0892 | * | * | * | *
390278 | 0.5326 | 1.0892 | 23.6843 | 26.6664 | 28.6323 | 26.3012
390279 | *** | * | 17.0012 | * | * | 17.0012
390285 | 1.4953 | 1.0892 | 35.0426 | 36.7163 | 37.6669 | 36.3991
390286 | 1.1875 | 1.0892 | 28.1761 | 29.5281 | 31.3393 | 29.6278
390287 | *** | * | 37.6569 | 39.3176 | 42.2401 | 39.3146
390288 | *** | * | 29.7287 | 30.9701 | * | 30.3388
390289 | *** | * | 28.8826 | 30.7583 | * | 29.8023
390290 | 1.8423 | 1.0892 | 37.9040 | 38.3776 | 41.1426 | 39.1287
390301 | *** | * | 30.9836 | * | * | 30.9836
390302 | 2.0384 | 1.0892 | * | * | * | *
390303 | *** | * | * | 27.5580 | * | 27.5580
390304 | 1.2278 | 1.0892 | * | 30.4832 | 32.1633 | 31.3748
390305 | *** | * | * | * | 29.3217 | 29.3217
390306 | *** | * | * | * | 40.3789 | 40.3789
390307 | 1.9734 | 0.8992 | * | * | 24.5393 | 24.5393
390308 | *** | * | * | * | 36.1737 | 36.1737
390309 | *** | * | * | * | 37.8924 | 37.8924
390310 | *** | * | * | * | 44.3991 | 44.3991
390311 | 2.0736 | 1.0892 | * | * | * | *
390312 | 1.1657 | 1.0892 | * | * | * | *
390313 | 1.1458 | 0.9414 | * | * | * | *
400001 | 1.2874 | 0.4526 | 13.1847 | 13.9386 | 14.9151 | 14.0372
400002 | 1.8558 | 0.4262 | 16.7582 | 15.3833 | 12.9440 | 14.8789
400003 | 1.3831 | 0.4262 | 12.8329 | 13.9258 | 15.7906 | 14.1890
400004 | 1.2271 | 0.4526 | 14.3108 | 12.0923 | 12.5928 | 12.8941
400005 | 1.1236 | 0.4526 | 10.7207 | 10.3505 | 11.1152 | 10.7266
400006 | 1.1844 | 0.4526 | 9.2265 | 8.1841 | 8.1381 | 8.5089
400007 | 1.2015 | 0.4526 | 9.2463 | 11.8203 | 12.0743 | 11.0862
400009 | 1.0128 | 0.2944 | 9.3116 | 9.3834 | 9.5114 | 9.4053
400010 | 0.9325 | 0.3345 | 10.0962 | 9.8132 | 10.7993 | 10.2160
400011 | 1.0606 | 0.4526 | 8.5534 | 9.6641 | 8.5503 | 8.9391
400012 | 1.4705 | 0.4526 | 8.3802 | 12.3362 | 10.1156 | 10.1141
400013 | 1.2469 | 0.4526 | 10.3347 | 11.1414 | 11.4222 | 10.9912
400014 | 1.3700 | 0.3657 | 12.2169 | 10.5286 | 9.9395 | 10.8301
400015 | 1.3221 | 0.4526 | 15.6349 | 13.7043 | 22.2017 | 17.0466
400016 | 1.3958 | 0.4526 | 14.7607 | 16.6472 | 16.1931 | 15.8694
400017 | 0.9861 | 0.4526 | 10.2734 | 10.3123 | 9.9185 | 10.1744
400018 | 1.1688 | 0.4526 | 11.6165 | 11.9184 | 12.3942 | 11.9804
400019 | 1.4371 | 0.4526 | 12.8029 | 12.8380 | 14.7133 | 13.3474
400021 | 1.4337 | 0.4603 | 14.1534 | 14.4549 | 13.9217 | 14.1634
400022 | 1.4167 | 0.4262 | 15.9246 | 14.9089 | 15.3625 | 15.3797
400024 | 0.8912 | 0.3657 | 12.4648 | 10.8439 | 12.6226 | 11.9953
400026 | 1.0823 | 0.2944 | 5.8200 | 9.9262 | 7.1179 | 7.2042
400028 | 1.0970 | 0.4262 | 10.9808 | 11.3260 | 10.6711 | 10.9928
400032 | 1.1389 | 0.4526 | 10.2652 | 10.3736 | 10.7141 | 10.4546
400044 | 1.2868 | 0.4262 | 13.7509 | 14.6420 | 11.3551 | 13.0226
400048 | 1.1723 | 0.4526 | 10.4266 | 9.6416 | 9.6860 | 9.9022
400061 | 1.9960 | 0.4526 | 18.9123 | 18.1303 | 18.0093 | 18.3233
400079 | 1.2424 | 0.3345 | 12.7825 | 9.5296 | 10.4599 | 10.7211
400087 | 1.2021 | 0.4526 | 10.6849 | 11.0377 | 11.4162 | 11.0323
400098 | 1.3680 | 0.4526 | 12.8230 | 13.8034 | 13.7878 | 13.3737
400102 | 1.3126 | 0.4526 | 10.2677 | 10.5879 | 12.1761 | 10.9324
400103 | 1.7531 | 0.3657 | 9.3859 | 10.6971 | 11.7488 | 10.5156
400104 | 1.1987 | 0.4526 | 9.3854 | 11.4322 | 12.8404 | 11.2161
400105 | 1.1555 | 0.4526 | 14.0219 | 15.6626 | 16.9029 | 15.5351
400106 | 1.1103 | 0.4526 | 11.4507 | 13.4097 | 12.9272 | 12.5586
400109 | 1.4443 | 0.4526 | 14.2111 | 14.4386 | 14.8208 | 14.4938
400110 | 1.2255 | 0.3201 | 12.3449 | 11.1812 | 9.9278 | 11.1280
400111 | 1.1556 | 0.3345 | 14.5029 | 14.1718 | 10.2141 | 12.6681
400112 | 1.2246 | 0.4526 | 19.3945 | 10.1512 | 13.5177 | 13.3103
400113 | 1.2963 | 0.4262 | 9.6778 | 10.5305 | 10.9503 | 10.3752
400114 | 1.1415 | 0.4526 | 11.5478 | 10.1379 | 10.8913 | 10.8234
400115 | 1.0288 | 0.4526 | 13.7392 | 12.0713 | 9.6200 | 11.5296
400117 | 1.1103 | 0.4526 | 12.7600 | 9.5929 | 11.6258 | 11.1092
400118 | 1.2476 | 0.4526 | 12.5743 | 12.8692 | 12.7861 | 12.7465
400120 | 1.3549 | 0.4526 | 12.7955 | 13.4069 | 14.0817 | 13.4544
400121 | 1.0490 | 0.4526 | 8.2197 | 9.7427 | 9.1826 | 9.0004
400122 | 1.9051 | 0.4526 | 11.2324 | 8.9478 | 9.5814 | 10.3491
400123 | 1.2168 | 0.3657 | 12.3041 | 12.8317 | 12.5609 | 12.5625
400124 | 2.7715 | 0.4526 | 16.1812 | 17.2139 | 17.9140 | 17.1104
400125 | 1.2089 | 0.4366 | 11.6386 | 11.9787 | 13.5394 | 12.3736
400126 | 1.2018 | 0.4603 | 9.8008 | 14.1062 | 16.5726 | 12.5522
400127 | 1.7702 | 0.4526 | * | 17.8303 | 20.7775 | 19.5304
400128 | 1.0772 | 0.4526 | * | * | 12.3520 | 12.3520
410001 | 1.3001 | 1.1304 | 28.0816 | 29.0877 | 30.0315 | 29.0712
410004 | 1.2507 | 1.1304 | 27.4209 | 29.4953 | 31.3023 | 29.3085
410005 | 1.2514 | 1.1304 | 30.1606 | 28.1141 | 31.4387 | 29.8829
410006 | 1.3446 | 1.0533 | 29.4395 | 30.1855 | 32.8456 | 30.8320
410007 | 1.6590 | 1.1304 | 31.8548 | 33.2896 | 32.0730 | 32.4076
410008 | 1.2339 | 1.0533 | 29.6092 | 30.9505 | 32.5889 | 31.0411
410009 | 1.2457 | 1.0533 | 29.4094 | 31.7300 | 32.8422 | 31.3631
410010 | 1.1816 | 1.1304 | 32.8599 | 32.0704 | 32.7379 | 32.5467
410011 | 1.3898 | 1.1304 | 30.3787 | 33.8781 | 30.1941 | 31.4075
410012 | 1.6846 | 1.1304 | 32.6009 | 33.6072 | 37.0299 | 34.4554
410013 | 1.2109 | 1.1733 | 35.4624 | 35.8075 | 41.0010 | 37.4278
420002 | 1.5892 | 0.9506 | 28.2848 | 29.5592 | 30.5111 | 29.4596
420004 | 1.9968 | 0.9102 | 27.2620 | 28.1455 | 28.9250 | 28.1335
420005 | 1.1298 | 0.8708 | 23.1943 | 25.0420 | 24.6968 | 24.3261
420006 | 1.1030 | 0.9102 | 24.0811 | 26.3293 | 27.7764 | 26.0571
420007 | 1.6204 | 0.9404 | 25.2650 | 26.8165 | 29.0901 | 27.0758
420009 | 1.3844 | 0.9404 | 25.5079 | 27.0147 | 29.9378 | 27.4921
420010 | 1.1454 | 0.8708 | 23.4562 | 25.1452 | 25.5710 | 24.7565
420011 | 1.1700 | 0.9637 | 21.4029 | 22.1787 | 25.5130 | 23.0432
420015 | 1.3564 | 0.9637 | 26.2154 | 24.1685 | 26.3499 | 25.5708
420016 | 0.9729 | 0.8708 | 17.1229 | 21.6266 | 22.5681 | 20.3115
420018 | 1.8351 | 0.8830 | 24.8024 | 25.6687 | 27.5563 | 26.0448
420019 | 1.0975 | 0.8866 | 22.5312 | 22.5489 | 25.4954 | 23.3967
420020 | 1.2783 | 0.9102 | 25.8883 | 28.4344 | 27.5000 | 27.2263
420023 | 1.6931 | 0.9637 | 26.7263 | 27.4589 | 28.9321 | 27.7092
420026 | 1.8832 | 0.8830 | 27.4814 | 27.8986 | 28.0647 | 27.8209
420027 | 1.5863 | 0.9404 | 25.1692 | 26.4472 | 28.5621 | 26.7375
420030 | 1.2459 | 0.9102 | 26.0079 | 27.8435 | 28.4433 | 27.4518
420033 | 1.1206 | 0.9637 | 31.8759 | 30.4162 | 31.1608 | 31.1288
420036 | 1.2393 | 0.9342 | 22.8294 | 23.8742 | 24.6505 | 23.7918
420037 | 1.2991 | 0.9637 | 29.4156 | 29.8321 | 30.9556 | 30.0757
420038 | 1.2506 | 0.9637 | 24.2259 | 24.6642 | 26.6435 | 25.1658
420039 | 1.1502 | 0.9395 | 25.1148 | 28.2220 | 26.5582 | 26.6294
420043 | 1.1014 | 0.8865 | 23.0555 | 24.0971 | 25.7951 | 24.3487
420048 | 1.2704 | 0.8830 | 24.1923 | 25.9610 | 26.9625 | 25.7393
420049 | 1.2503 | 0.8708 | 23.9722 | 26.0953 | 25.7060 | 25.2650
420051 | 1.6618 | 0.8708 | 24.8026 | 25.9056 | 26.4710 | 25.7419
420053 | 1.1266 | 0.8743 | 22.2825 | 23.2246 | 24.4793 | 23.3671
420054 | 1.1343 | 0.8708 | 24.8931 | 25.6779 | 25.6444 | 25.3992
420055 | 1.0788 | 0.8708 | 21.9764 | 24.0965 | 25.1738 | 23.7710
420056 | 1.3331 | 0.8708 | 21.6963 | 27.7250 | 28.4512 | 26.0628
420057 | 1.1850 | 0.8708 | 23.4312 | 24.9313 | 26.2489 | 24.8975
420062 | 1.0478 | 0.9342 | 25.9526 | 26.7467 | 25.9569 | 26.2263
420064 | 1.1878 | 0.8708 | 23.3610 | 24.3540 | 24.6507 | 24.1129
420065 | 1.4423 | 0.9102 | 24.5715 | 25.5483 | 26.8118 | 25.6580
420066 | 1.0102 | 0.8708 | 23.9049 | 25.1062 | 25.0932 | 24.7340
420067 | 1.3642 | 0.8891 | 25.0345 | 25.8561 | 26.5658 | 25.8410
420068 | 1.3736 | 0.9599 | 23.4248 | 25.6857 | 27.7315 | 25.6542
420069 | 1.1727 | 0.8708 | 20.5546 | 22.3445 | 23.7494 | 22.2412
420070 | 1.3002 | 0.8899 | 23.4355 | 24.7899 | 27.5988 | 25.3447
420071 | 1.4324 | 0.9404 | 24.9418 | 25.2862 | 27.6371 | 25.9946
420072 | 1.0648 | 0.8708 | 18.6742 | 17.8019 | 21.6587 | 19.2819
420073 | 1.3853 | 0.8830 | 24.5813 | 25.5204 | 26.1120 | 25.4570
420078 | 1.9234 | 0.9637 | 28.9112 | 29.5135 | 30.9001 | 29.7803
420079 | 1.4833 | 0.9102 | 25.4935 | 27.5439 | 28.6374 | 27.2418
420080 | 1.4399 | 0.8891 | 28.4735 | 28.6060 | 31.5670 | 29.4700
420082 | 1.5176 | 0.9599 | 29.8528 | 31.2671 | 33.9874 | 31.6537
420083 | 1.4753 | 0.9404 | 27.1322 | 26.4932 | 28.9007 | 27.5465
420085 | 1.5552 | 0.9157 | 26.8692 | 27.8386 | 29.1127 | 27.9342
420086 | 1.4543 | 0.8830 | 25.8869 | 28.0485 | 27.9523 | 27.3375
420087 | 1.8316 | 0.9102 | 24.3609 | 25.4697 | 26.8409 | 25.5481
420089 | 1.3966 | 0.9102 | 26.0074 | 28.1855 | 29.5862 | 27.9480
420091 | 1.4220 | 0.8708 | 26.9214 | 26.0592 | 27.2520 | 26.7465
420093 | *** | * | 27.4767 | 28.0765 | 33.0474 | 29.2458
420098 | 1.1886 | 0.8708 | * | 30.7532 | 27.1939 | 28.6282
420099 | *** | * | * | * | 30.3089 | 30.3089
420101 | 1.1325 | 0.8708 | * | * | * | *
430005 | 1.2980 | 0.8344 | 22.3272 | 22.4111 | 23.8694 | 22.8728
430008 | 1.1437 | 0.8879 | 23.3790 | 24.4277 | 26.0873 | 24.5250
430012 | 1.3084 | 0.9373 | 24.0850 | 24.0326 | 25.2030 | 24.4262
430013 | 1.1850 | 0.9373 | 25.1378 | 25.9828 | 27.0427 | 26.0549
430014 | 1.4182 | 0.8344 | 26.4964 | 26.8752 | 27.9288 | 27.1027
430015 | 1.2660 | 0.8344 | 22.7947 | 23.6296 | 26.5787 | 24.3442
430016 | 1.6461 | 0.9554 | 27.8453 | 28.9376 | 32.8765 | 29.8590
430027 | 1.7908 | 0.9554 | 26.2139 | 26.6044 | 27.5759 | 26.8179
430031 | *** | * | 16.0346 | * | * | 16.0346
430047 | 1.0090 | * | 18.8982 | * | * | 18.8982
430048 | 1.2826 | 0.8473 | 23.0782 | 24.1969 | 25.1715 | 24.1632
430060 | 0.8255 | 0.8344 | * | 13.2618 | * | 13.2618
430064 | 1.0352 | 0.8344 | 17.5376 | 18.3125 | 16.4916 | 17.3487
430077 | 1.8125 | 0.8686 | 25.1763 | 25.8572 | 27.2116 | 26.0778
430081 | 0.8813 | 1.4401 | * | * | * | *
430082 | 0.8159 | 1.4401 | * | * | * | *
430083 | 0.8773 | 1.4401 | * | * | * | *
430084 | 0.9191 | 1.4401 | * | * | * | *
430085 | 0.8887 | 1.4401 | * | * | * | *
430089 | 1.8643 | 0.9083 | 22.5625 | 22.3335 | 23.2467 | 22.7178
430090 | 1.4823 | 0.9554 | 25.8460 | 26.4862 | 29.0197 | 27.2002
430091 | 2.1535 | 0.8686 | 24.3021 | 25.1105 | 24.7274 | 24.7230
430092 | 1.8619 | 0.8344 | 20.9486 | 21.6478 | 21.9197 | 21.5136
430093 | 0.8376 | 0.8686 | 29.5244 | 27.5326 | 26.0232 | 27.6512
430094 | 1.6473 | 0.8473 | 18.9099 | 22.9091 | 23.2894 | 21.6362
430095 | 2.4536 | 0.9554 | 28.1749 | 31.3409 | 32.2326 | 30.5986
430096 | 1.8925 | 0.8344 | 21.6997 | 21.6713 | 24.6041 | 22.6698
440001 | 1.1429 | 0.7918 | 19.3100 | 21.2398 | 21.5755 | 20.7297
440002 | 1.7517 | 0.8964 | 24.6664 | 25.7434 | 26.3802 | 25.6181
440003 | 1.3286 | 0.9619 | 25.9209 | 28.4862 | 28.3557 | 27.6397
440006 | 1.5104 | 0.9619 | 28.5951 | 29.7146 | 31.5533 | 29.9429
440007 | 1.0213 | 0.8137 | 25.8236 | 19.9754 | 18.8273 | 20.7872
440008 | 1.0650 | 0.8435 | 23.4301 | 23.2126 | 27.3732 | 24.8411
440009 | 1.2235 | 0.7918 | 21.5970 | 23.9279 | 23.8148 | 23.1556
440010 | 0.9454 | 0.7918 | 17.1803 | 19.3669 | 19.6231 | 18.7390
440011 | 1.3468 | 0.8013 | 22.5068 | 23.6154 | 23.6698 | 23.2734
440012 | 1.5824 | 0.7918 | 22.3029 | 24.0169 | 23.7871 | 23.3709
440015 | 1.8744 | 0.8013 | 23.7422 | 25.0430 | 26.0601 | 24.9723
440016 | 1.0058 | 0.8062 | 22.1645 | 23.0350 | 24.5812 | 23.2195
440017 | 1.8259 | 0.7918 | 22.9364 | 25.0588 | 24.6707 | 24.2298
440018 | 1.1293 | 0.7918 | 23.3445 | 23.2107 | 25.0780 | 23.9426
440019 | 1.7495 | 0.8013 | 25.2553 | 25.3592 | 25.2230 | 25.2804
440020 | 1.0946 | 0.8725 | 23.9475 | 24.0995 | 24.7785 | 24.2807
440024 | 1.2188 | 0.8963 | 23.2717 | 23.9745 | 24.7705 | 24.0299
440025 | 1.1297 | 0.8604 | 20.6798 | 22.5407 | 22.6571 | 21.9869
440026 | 0.6838 | 0.9619 | 26.8986 | 28.0349 | 26.8153 | 27.2470
440029 | 1.3911 | 0.9619 | 28.0779 | 30.1204 | 31.2310 | 29.8864
440030 | 1.3252 | 0.7974 | 22.1217 | 23.7670 | 22.2607 | 22.7230
440031 | 1.1881 | 0.7937 | 19.6684 | 20.8964 | 22.6790 | 21.0762
440032 | 1.2202 | 0.7918 | 18.5277 | 19.7150 | 21.0380 | 19.7424
440033 | 1.0340 | 0.7945 | 20.7917 | 21.1087 | 22.7991 | 21.5097
440034 | 1.6264 | 0.8013 | 23.5403 | 24.6994 | 25.5061 | 24.6085
440035 | 1.4163 | 0.9364 | 24.3752 | 25.9613 | 26.2451 | 25.5505
440039 | 2.1878 | 0.9619 | 28.4678 | 29.8611 | 30.1790 | 29.5489
440040 | 0.9037 | 0.7918 | 17.8509 | 20.8637 | 20.8817 | 19.8822
440041 | 0.9131 | * | 17.9409 | * | * | 17.9409
440046 | 1.2541 | 0.9619 | 26.1341 | 27.9539 | 29.7377 | 27.9640
440047 | 0.9019 | 0.8256 | 21.4280 | 21.7892 | 22.8323 | 22.0491
440048 | 1.8393 | 0.9314 | 27.7560 | 29.4789 | 29.3187 | 28.8706
440049 | 1.6394 | 0.9314 | 25.3043 | 26.4772 | 28.8742 | 26.9261
440050 | 1.3557 | 0.7918 | 23.1363 | 24.4616 | 24.9694 | 24.2238
440051 | 0.9547 | 0.8000 | 21.9108 | 23.9253 | 23.4866 | 23.1295
440052 | 0.9967 | 0.7918 | 21.1133 | 22.8016 | 22.6128 | 22.1807
440053 | 1.2686 | 0.9619 | 25.4345 | 27.1197 | 27.8180 | 26.7576
440054 | 1.1313 | 0.7918 | 21.4400 | 23.5137 | 23.7931 | 22.9260
440056 | 1.1627 | 0.8013 | 22.1067 | 22.7820 | 23.2313 | 22.7147
440057 | 1.0901 | 0.7939 | 16.4451 | 16.6346 | 17.2176 | 16.7762
440058 | 1.1779 | 0.7918 | 22.9263 | 24.3522 | 26.0706 | 24.4599
440059 | 1.4606 | 0.7918 | 26.3551 | 28.3565 | 27.9467 | 27.5547
440060 | 1.1376 | 0.8435 | 23.3014 | 24.1024 | 25.0795 | 24.2308
440061 | 1.1227 | 0.7918 | 21.8274 | 23.9678 | 23.7360 | 23.1109
440063 | 1.5877 | 0.7918 | 22.3256 | 24.2566 | 23.9644 | 23.5409
440064 | 1.0095 | 0.8963 | 22.0955 | 23.7176 | 26.1246 | 23.9669
440065 | 1.2649 | 0.9619 | 22.3247 | 24.6169 | 25.8536 | 24.2955
440067 | 1.1060 | 0.7974 | 23.1089 | 24.4772 | 24.6553 | 24.0987
440068 | 1.1561 | 0.8963 | 24.5972 | 24.8146 | 26.1071 | 25.1514
440070 | 0.9795 | 0.8027 | 19.4372 | 20.0938 | 21.9166 | 20.5440
440072 | 1.1052 | 0.8964 | 27.1442 | 23.9563 | 25.7089 | 25.4880
440073 | 1.4690 | 0.9364 | 23.9198 | 26.3570 | 27.6154 | 25.9562
440081 | 1.1988 | 0.7970 | 19.7878 | 20.7125 | 20.7688 | 20.4356
440082 | 2.1154 | 0.9619 | 27.9724 | 30.6115 | 32.2479 | 30.2297
440083 | 0.9665 | 0.7918 | 17.3329 | 25.6099 | 23.6356 | 22.2415
440084 | 1.1850 | 0.7943 | 16.3738 | 18.6043 | 18.8699 | 17.9500
440091 | 1.7521 | 0.8963 | 25.6797 | 26.5687 | 28.1989 | 26.8422
440102 | 1.1443 | 0.7918 | 17.5261 | 20.7363 | 21.6762 | 19.9759
440104 | 1.7681 | 0.8963 | 25.3739 | 26.5741 | 27.9756 | 26.6322
440105 | 0.8903 | 0.7918 | 22.3438 | 22.9372 | 22.7962 | 22.6994
440109 | 0.9688 | 0.7988 | 18.6720 | 20.8924 | 21.4629 | 20.4136
440110 | 1.1516 | 0.8013 | 21.3287 | 20.9179 | 22.5929 | 21.6231
440111 | 1.2941 | 0.9619 | 28.5705 | 29.0975 | 28.8453 | 28.8380
440114 | *** | * | 24.0146 | * | * | 24.0146
440115 | 1.0084 | 0.8256 | 21.7830 | 23.1409 | 23.7107 | 22.8901
440120 | 1.5807 | 0.8013 | 25.5961 | 25.7161 | 24.7572 | 25.3531
440125 | 1.6030 | 0.8013 | 22.4196 | 22.8097 | 23.6328 | 22.9331
440130 | 1.1080 | 0.7918 | 23.4517 | 23.9955 | 25.1262 | 24.1968
440131 | 1.2044 | 0.9314 | 24.9599 | 25.6666 | 26.9649 | 25.8560
440132 | 1.2396 | 0.7918 | 21.5085 | 23.9410 | 24.0708 | 23.2170
440133 | 1.7123 | 0.9619 | 26.2422 | 29.2829 | 29.6093 | 28.3398
440135 | 0.9966 | 0.7918 | 26.6615 | 28.1925 | 27.7037 | 27.5222
440137 | 1.0789 | 0.8656 | 20.6663 | 22.2538 | 22.9547 | 21.8990
440141 | 0.9681 | 0.7918 | 21.3314 | 24.2406 | 24.9917 | 23.5753
440144 | 1.3047 | 0.9364 | 23.3828 | 23.9241 | 25.2293 | 24.2131
440145 | 1.0761 | * | 20.7875 | * | * | 20.7875
440147 | *** | * | 31.4012 | 33.1756 | 34.8199 | 33.1562
440148 | 1.1125 | 0.9364 | 24.6412 | 23.9810 | 22.6188 | 23.6904
440149 | *** | * | 20.4563 | * | * | 20.4563
440150 | 1.3915 | 0.9619 | 26.8308 | 28.1012 | 29.4381 | 28.1244
440151 | 1.1731 | 0.9364 | 23.9808 | 27.1729 | 28.2203 | 26.4238
440152 | 1.9330 | 0.9314 | 26.5513 | 27.1877 | 28.4612 | 27.4397
440153 | 1.0815 | 0.7925 | 22.2846 | 23.6473 | 24.9388 | 23.5617
440156 | 1.6487 | 0.8963 | 26.9689 | 27.7309 | 28.5645 | 27.7809
440159 | 1.5112 | 0.9314 | 22.8645 | 26.9098 | 25.8289 | 25.2934
440161 | 1.8713 | 0.9619 | 28.6971 | 28.7074 | 29.9894 | 29.1537
440162 | *** | * | 21.1418 | 27.6837 | 24.8705 | 24.4635
440166 | *** | * | 31.0779 | 35.3064 | * | 32.7296
440168 | 0.9656 | 0.9314 | 22.8768 | 28.1215 | 29.4028 | 26.9618
440173 | 1.4384 | 0.8013 | 22.8846 | 23.1167 | 24.0621 | 23.3817
440174 | 0.8948 | 0.8230 | 22.0974 | 25.4829 | 26.2087 | 24.7287
440175 | 1.0346 | 0.9364 | 22.7299 | 24.4848 | 24.7869 | 23.9712
440176 | 1.2755 | 0.7918 | 23.6659 | 22.9631 | 23.7695 | 23.4768
440180 | 1.2910 | 0.7945 | 23.3808 | 24.9841 | 22.3070 | 23.4474
440181 | 0.9194 | 0.8283 | 22.7151 | 24.8857 | 25.9450 | 24.5707
440182 | 0.9950 | 0.8062 | 22.3612 | 24.3302 | 25.0111 | 23.9834
440183 | 1.5965 | 0.9314 | 27.1515 | 29.1982 | 30.6599 | 28.9846
440184 | 0.9643 | 0.7918 | 22.3475 | 24.5786 | 23.3970 | 23.4193
440185 | 1.1494 | 0.8963 | 23.9052 | 25.3817 | 26.7473 | 25.4020
440186 | 0.9670 | 0.9619 | 25.7445 | 27.3733 | 28.9124 | 27.3831
440187 | 1.0855 | 0.7918 | 21.3252 | 24.0723 | 25.8238 | 23.7554
440189 | 1.3573 | 0.8592 | 27.5435 | 28.2621 | 28.8974 | 28.1769
440192 | 1.0837 | 0.9364 | 25.7495 | 27.3917 | 29.6272 | 27.6374
440193 | 1.3504 | 0.9619 | 24.4299 | 24.3622 | 25.2124 | 24.6713
440194 | 1.3046 | 0.9619 | 26.6527 | 29.4706 | 30.8593 | 29.1025
440197 | 1.3634 | 0.9619 | 27.1534 | 29.4275 | 30.1184 | 28.8521
440200 | 0.9727 | 0.9619 | 17.7491 | 21.1860 | 23.8654 | 20.9536
440203 | *** | * | 19.3864 | 23.7451 | 17.9041 | 20.1684
440217 | 1.3218 | 0.9314 | 28.5968 | 28.8641 | 29.8888 | 29.1071
440218 | 2.2001 | 0.9619 | 24.6465 | 23.7257 | 18.7275 | 22.2604
440222 | 1.0526 | 0.9314 | 29.7292 | 28.4664 | 29.0062 | 29.0425
440224 | 0.8974 | 0.9619 | * | * | * | *
440225 | 0.7954 | 0.8013 | * | 24.8328 | 27.8860 | 26.2410
440226 | 1.5468 | 0.8013 | * | 26.5831 | 27.1348 | 26.8601
440227 | 1.3258 | 0.9619 | * | * | 30.7785 | 30.7785
440228 | 1.4404 | 0.9314 | * | * | 28.3687 | 28.3687
450002 | 1.4187 | 0.9141 | 25.7171 | 28.0936 | 28.8521 | 27.4831
450005 | 1.0716 | 0.8616 | 23.5576 | 24.4933 | 24.5405 | 24.1601
450007 | 1.3075 | 0.8896 | 20.7321 | 23.0026 | 23.9490 | 22.5725
450008 | 1.2921 | 0.8304 | 22.9669 | 24.4701 | 24.5965 | 24.0253
450010 | 1.6531 | 0.8203 | 23.7529 | 25.5503 | 25.5582 | 24.9684
450011 | 1.6887 | 0.9172 | 24.8831 | 26.7418 | 28.5329 | 26.6975
450015 | 1.5297 | 0.9786 | 27.4012 | 29.9193 | 29.4919 | 28.9240
450018 | 1.5190 | 0.9997 | 26.7999 | 30.2383 | 30.7852 | 29.2611
450020 | 0.9712 | * | 18.3047 | * | * | 18.3047
450021 | 1.8798 | 0.9786 | 29.1350 | 29.5658 | 31.3107 | 29.9776
450023 | 1.4773 | 0.8198 | 22.0558 | 25.4450 | 25.5346 | 24.3069
450024 | 1.6700 | 0.9141 | 24.4195 | 26.9113 | 28.2047 | 26.6001
450028 | 1.6124 | 0.9193 | 26.8250 | 29.1438 | 29.5792 | 28.4741
450029 | 1.6184 | 0.8501 | 23.2995 | 25.0602 | 26.9361 | 25.0112
450031 | 1.4011 | 0.9786 | 27.9626 | 29.0824 | 30.3542 | 29.1129
450032 | 1.2887 | 0.8552 | 27.0748 | 21.5084 | 25.5785 | 24.5163
450033 | 1.6328 | 0.9193 | 28.4781 | 29.2468 | 27.8680 | 28.5092
450034 | 1.5781 | 0.8616 | 24.1589 | 26.5313 | 27.6929 | 26.1022
450035 | 1.4958 | 0.9997 | 26.2838 | 28.0668 | 28.8049 | 27.6978
450037 | 1.6448 | 0.8872 | 24.2684 | 26.6207 | 28.3403 | 26.4155
450039 | 1.4616 | 0.9681 | 24.7347 | 26.7503 | 28.2081 | 26.5799
450040 | 1.8081 | 0.8642 | 24.9590 | 25.4734 | 26.8412 | 25.7399
450042 | 1.7918 | 0.8594 | 24.1181 | 26.6382 | 26.5429 | 25.7899
450044 | 1.7622 | 0.9786 | 29.4308 | 31.0381 | 29.4293 | 29.9718
450046 | 1.6190 | 0.8456 | 23.4907 | 24.8947 | 25.5903 | 24.6759
450047 | 0.8457 | 0.9193 | 19.8221 | 21.8824 | 23.8457 | 21.9037
450050 | 0.8661 | * | 23.3044 | * | * | 23.3044
450051 | 1.9254 | 0.9786 | 28.0411 | 28.8829 | 29.9038 | 28.9708
450052 | 0.9462 | 0.8198 | 19.7774 | 22.6448 | 23.0007 | 21.3928
450053 | 0.9303 | * | 21.9082 | * | * | 21.9082
450054 | 1.7997 | 0.8304 | 24.2782 | 27.5399 | 26.5599 | 26.0525
450055 | 1.0493 | 0.8198 | 22.1979 | 22.9245 | 23.6382 | 22.9302
450056 | 1.7631 | 0.9502 | 27.0530 | 28.3092 | 31.4971 | 28.7483
450058 | 1.5935 | 0.8896 | 25.9653 | 26.6926 | 26.9918 | 26.5548
450059 | 1.3109 | 0.9502 | 26.6535 | 26.8325 | 27.3856 | 26.9630
450064 | 1.4732 | 0.9681 | 23.8748 | 26.8355 | 28.2786 | 26.2939
450068 | 2.1593 | 0.9997 | 27.9633 | 29.5876 | 30.5001 | 29.3709
450072 | 1.2067 | 0.9997 | 24.0166 | 25.8619 | 27.1081 | 25.6939
450073 | 0.8859 | 0.8198 | 21.7337 | 26.9446 | 26.1567 | 24.8300
450076 | 1.6741 | * | * | * | * | *
450078 | 0.9153 | 0.8198 | 15.8968 | 21.4716 | 20.0758 | 18.9517
450079 | 1.6341 | 0.9786 | 28.1096 | 30.2420 | 30.5968 | 29.6101
450080 | 1.2456 | 0.8872 | 22.9836 | 27.9191 | 26.2439 | 25.6047
450082 | 1.1501 | 0.8198 | 22.0442 | 23.9025 | 24.2018 | 23.3904
450083 | 1.8310 | 0.9182 | 25.8214 | 27.4955 | 32.6462 | 28.5964
450085 | 1.0612 | 0.8198 | 22.0840 | 24.3637 | 25.6440 | 24.0616
450087 | 1.4142 | 0.9681 | 29.1587 | 30.0095 | 31.2668 | 30.1454
450090 | 1.2348 | 0.8848 | 19.4245 | 21.3837 | 21.8839 | 20.8851
450092 | 1.1900 | 0.8198 | 23.2071 | 24.9917 | 26.2781 | 24.8586
450094 | *** | * | 25.2434 | * | * | 25.2434
450096 | *** | * | 24.1618 | 26.5103 | 28.1902 | 26.1065
450097 | 1.4813 | 0.9997 | 26.4965 | 29.0142 | 29.8734 | 28.4576
450098 | 0.9764 | * | 22.6626 | * | * | 22.6626
450099 | 1.2849 | 0.9152 | 26.6796 | 31.3495 | 31.7829 | 29.8766
450101 | 1.6850 | 0.8594 | 23.6905 | 25.4409 | 26.7457 | 25.2723
450102 | 1.7581 | 0.9182 | 24.5503 | 25.6318 | 26.4161 | 25.5272
450104 | 1.1910 | 0.8896 | 23.8469 | 24.6169 | 28.8063 | 25.7441
450107 | 1.5650 | 0.9141 | 25.9326 | 27.6064 | 27.8177 | 27.1285
450108 | 1.2022 | 0.8896 | 19.4935 | 21.6557 | 19.3245 | 20.1295
450113 | *** | * | 54.6663 | * | * | 54.6663
450119 | 1.3059 | 0.9136 | 25.7008 | 27.8027 | 31.1026 | 28.0194
450121 | *** | * | 25.7051 | 29.1296 | 27.7472 | 27.5367
450123 | 1.2261 | 0.8616 | 21.2154 | 24.9674 | 26.2469 | 24.0865
450124 | 1.8807 | 0.9502 | 27.4198 | 28.2571 | 30.9140 | 28.8720
450126 | 1.3811 | 0.9997 | 28.3032 | 29.3768 | 30.5540 | 29.4686
450128 | 1.2606 | 0.9136 | 23.3633 | 25.1122 | 26.3296 | 24.9399
450130 | 1.1622 | 0.8896 | 21.5226 | 24.3295 | 24.3842 | 23.4132
450131 | *** | * | 23.7098 | 25.9494 | * | 24.6979
450132 | 1.5736 | 0.9954 | 28.6954 | 30.1620 | 31.9981 | 30.2616
450133 | 1.5644 | 0.9712 | 26.8344 | 28.4647 | 30.0648 | 28.4860
450135 | 1.7036 | 0.9681 | 26.0755 | 27.8983 | 30.1385 | 28.0791
450137 | 1.7309 | 0.9681 | 30.4254 | 31.4950 | 31.9644 | 31.3195
450143 | 0.9924 | 0.9502 | 21.8705 | 23.4592 | 23.6834 | 23.0250
450144 | 1.0795 | 0.8757 | 21.3289 | 26.2881 | 29.2987 | 25.2285
450147 | 1.5055 | 0.8198 | 23.9771 | 24.3562 | 24.7221 | 24.3818
450148 | 1.2593 | 0.9681 | 25.3498 | 27.0894 | 29.6777 | 27.2884
450151 | *** | * | 22.2915 | 23.9558 | 26.2011 | 24.2451
450152 | 1.2222 | 0.8304 | 22.7463 | 23.3428 | 23.1056 | 23.0676
450154 | 1.3964 | 0.8198 | 21.2021 | 21.7237 | 22.9357 | 21.9527
450155 | 1.1128 | 0.8198 | 18.0588 | 21.7604 | 24.8052 | 21.2762
450162 | 1.3166 | 0.8642 | 30.9903 | 33.3285 | 32.9317 | 32.4581
450163 | 1.0669 | 0.8252 | 23.1400 | 24.1267 | 24.7857 | 24.0374
450165 | 1.1663 | 0.8896 | 24.3242 | 28.6490 | 29.1839 | 27.3457
450176 | 1.3545 | 0.9136 | 20.9297 | 23.1284 | 24.4338 | 22.7670
450177 | 1.1706 | 0.8198 | 21.3322 | 23.7624 | 24.4064 | 23.1608
450178 | 0.9841 | 0.9523 | 24.7301 | 27.8405 | 27.1184 | 26.5678
450184 | 1.5607 | 0.9997 | 26.7821 | 28.5399 | 29.5940 | 28.3021
450187 | 1.1820 | 0.9997 | 25.6787 | 28.3243 | 27.7374 | 27.2569
450188 | 0.9375 | 0.8198 | 20.4070 | 23.0595 | 23.2280 | 22.2802
450191 | 1.1684 | 0.9502 | 26.0298 | 26.5863 | 28.3937 | 27.0037
450192 | 1.1362 | 0.8469 | 22.5880 | 24.1186 | 26.4722 | 24.4203
450193 | 2.0940 | 0.9997 | 32.2964 | 34.4545 | 36.4793 | 34.4413
450194 | 1.3690 | 0.8411 | 24.8972 | 22.9605 | 24.3531 | 24.0550
450196 | 1.4362 | 0.9681 | 24.7557 | 24.0161 | 23.4577 | 24.1010
450200 | 1.5854 | 0.8198 | 23.5344 | 23.5012 | 25.6413 | 24.1114
450201 | 0.9698 | 0.8198 | 20.9810 | 23.2510 | 23.2800 | 22.5466
450203 | 1.1783 | 0.9637 | 24.1675 | 26.5237 | 27.8795 | 26.2148
450209 | 1.9545 | 0.9152 | 26.0958 | 27.5668 | 30.6146 | 28.0394
450210 | 0.9541 | 0.8349 | 19.9832 | 21.8722 | 22.5736 | 21.5263
450211 | 1.3225 | 0.8872 | 23.8230 | 28.4581 | 28.3770 | 26.9047
450213 | 1.9145 | 0.8896 | 23.9676 | 25.9169 | 26.8566 | 25.6079
450214 | 1.2450 | 0.9997 | 25.9598 | 27.4357 | 27.9913 | 27.1357
450219 | 0.9693 | 0.8198 | 21.7934 | 21.9207 | 23.9636 | 22.5469
450221 | 1.1310 | 0.8198 | 20.3186 | 19.3793 | 21.3721 | 20.3738
450222 | 1.6699 | 0.9997 | 27.4426 | 30.0314 | 30.3801 | 29.2831
450224 | 1.3681 | 0.9182 | 24.1956 | 26.8302 | 28.4382 | 26.4258
450229 | 1.6509 | 0.8241 | 21.4459 | 24.4450 | 25.1370 | 23.6500
450231 | 1.6694 | 0.9152 | 25.2852 | 27.1674 | 26.9783 | 26.4822
450234 | 1.0257 | 0.8198 | 18.4451 | 20.6889 | 20.4659 | 19.9283
450235 | 1.0130 | 0.8198 | 21.5138 | 23.5212 | 21.8967 | 22.3104
450236 | 1.0587 | 0.8587 | 22.0788 | 23.5426 | 22.9622 | 22.8816
450237 | 1.6285 | 0.8896 | 24.8901 | 25.7939 | 30.5885 | 26.8889
450239 | 0.9810 | 0.8304 | 21.1945 | 21.2586 | 19.1359 | 20.4359
450241 | 1.0079 | 0.8198 | 18.7958 | 20.8732 | 21.3641 | 20.3133
450243 | 0.9797 | 0.8198 | 15.4636 | 15.4510 | 17.2966 | 16.0870
450253 | 0.9237 | 0.9997 | 20.6124 | 24.2435 | 24.1056 | 23.0166
450270 | 1.1787 | 0.8469 | 14.4325 | 15.2190 | 19.8180 | 16.4159
450271 | 1.2139 | 0.9637 | 21.7719 | 22.7035 | 24.1269 | 22.9111
450272 | 1.2109 | 0.9502 | 25.7392 | 26.2576 | 27.0521 | 26.3732
450276 | *** | * | 16.6319 | * | * | 16.6319
450280 | 1.4744 | 0.9786 | 28.7233 | 29.9730 | 31.6575 | 30.1311
450283 | 1.0394 | 0.9681 | 20.9679 | 22.7938 | 24.1754 | 22.6250
450289 | 1.4188 | 0.9997 | 28.5665 | 32.2645 | 32.6533 | 31.2446
450292 | 1.2700 | 0.9786 | 25.0411 | 26.3242 | 26.8110 | 26.0607
450293 | 0.8636 | 0.8198 | 21.3135 | 23.6413 | 24.0827 | 22.9699
450296 | 1.1003 | 0.9997 | 27.9690 | 30.4324 | 31.5596 | 30.0340
450299 | 1.6637 | 0.9172 | 26.4933 | 27.5797 | 28.4171 | 27.4989
450306 | 0.9541 | 0.8241 | 15.9855 | 21.4558 | 22.9486 | 19.7058
450315 | 1.8055 | 0.9786 | * | 37.1721 | * | 37.1721
450324 | 1.5710 | 0.9681 | 24.9128 | 25.1633 | 26.6093 | 25.5442
450330 | 1.2146 | 0.9997 | 25.5820 | 26.0771 | 27.1100 | 26.2641
450340 | 1.3762 | 0.8659 | 24.0637 | 25.0344 | 25.6791 | 24.9276
450346 | 1.4301 | 0.8616 | 22.2468 | 23.6072 | 23.8720 | 23.2813
450347 | 1.1980 | 0.9997 | 27.2203 | 28.7667 | 30.7825 | 28.9056
450348 | 1.0403 | 0.8198 | 18.7675 | 21.6787 | 21.0484 | 20.5437
450351 | 1.2634 | 0.9637 | 25.6859 | 26.5388 | 29.2560 | 27.1710
450352 | 1.1039 | 0.9786 | 24.8012 | 26.2281 | 27.2983 | 26.1099
450353 | *** | * | 24.4454 | 27.0248 | 27.9576 | 26.5065
450358 | 1.9690 | 0.9997 | 30.4280 | 31.4926 | 32.5922 | 31.5508
450362 | *** | * | 25.4372 | * | * | 25.4372
450369 | 1.0321 | 0.8198 | 18.4848 | 19.9148 | 22.8525 | 20.4182
450370 | 1.1955 | 0.8433 | 20.0832 | 25.5834 | 26.3235 | 23.8014
450372 | 1.3699 | 0.9786 | 28.3359 | 30.8886 | 29.5022 | 29.5636
450373 | 0.8644 | 0.8198 | 22.2213 | 24.8286 | 27.0726 | 24.8206
450374 | 0.9938 | * | 23.2283 | * | * | 23.2283
450378 | 1.4691 | 0.9997 | 30.7684 | 30.3883 | 32.2278 | 31.1287
450379 | 1.3331 | 0.9786 | 30.6071 | 33.7521 | 35.3807 | 33.1822
450381 | 0.9328 | * | 22.0482 | * | * | 22.0482
450388 | 1.6610 | 0.8896 | 25.8674 | 27.4328 | 27.8155 | 27.0481
450389 | 1.1531 | 0.9681 | 23.8764 | 25.6732 | 26.9638 | 25.5406
450393 | 0.5363 | 0.9681 | 18.4551 | 21.9347 | * | 19.7864
450395 | 1.0563 | 0.9997 | 24.8656 | 27.5189 | 26.7743 | 26.5003
450399 | 0.8946 | 0.8198 | 18.2074 | 20.3528 | 22.1731 | 20.1552
450400 | 1.0785 | 0.8198 | 23.1739 | 23.6358 | 26.2871 | 24.2928
450403 | 1.3135 | 0.9786 | 29.3063 | 29.0359 | 29.8643 | 29.4107
450411 | 1.0100 | 0.8198 | 19.6086 | 20.9372 | 21.5746 | 20.7294
450417 | 0.8612 | * | 20.0351 | * | * | 20.0351
450418 | *** | * | 26.8434 | 28.4362 | * | 27.5264
450419 | 1.2724 | 0.9681 | 31.0405 | 31.9966 | 34.2427 | 32.4903
450422 | 1.2225 | 0.9786 | 30.6659 | 34.4331 | 31.3454 | 32.1021
450424 | 1.3422 | 0.9997 | 28.3149 | 28.2463 | 30.7228 | 29.0903
450431 | 1.5882 | 0.9502 | 25.2477 | 26.3263 | 27.3926 | 26.3387
450438 | 1.1315 | 0.9997 | 21.9350 | 27.8659 | 26.5223 | 25.2196
450446 | 0.6348 | 0.9997 | 14.3132 | 17.0691 | 17.2871 | 16.0880
450447 | 1.2608 | 0.9681 | 23.5047 | 25.4200 | 26.5238 | 25.1015
450451 | 1.1286 | 0.8734 | 23.3043 | 24.6201 | 26.5477 | 24.8404
450460 | 0.9645 | 0.8251 | 20.5811 | 22.4227 | 24.9870 | 22.7352
450462 | 1.7180 | 0.9786 | 27.8923 | 29.6069 | 30.1466 | 29.2312
450465 | 1.1121 | 0.9997 | 22.4183 | 26.2759 | 27.0835 | 25.3182
450469 | 1.4937 | 0.9681 | 28.7890 | 26.3262 | 26.3445 | 27.1807
450475 | 1.0922 | 0.8872 | 23.5596 | 23.0942 | 24.5176 | 23.7054
450484 | 1.3677 | 0.8872 | 25.3527 | 26.7242 | 28.3913 | 26.8380
450488 | 1.1516 | 0.8872 | 23.9144 | 22.3981 | 23.7985 | 23.3820
450489 | 0.9930 | 0.8198 | 21.4771 | 23.4806 | 25.2680 | 23.4878
450497 | 1.0142 | 0.8573 | 18.8344 | 22.0918 | 23.1860 | 21.3700
450498 | 0.9453 | 0.8198 | 17.7822 | 18.6563 | 20.2475 | 18.8938
450508 | 1.5958 | 0.8872 | 23.9572 | 28.4471 | 27.2850 | 26.5800
450514 | *** | * | 22.6552 | 26.3704 | 27.3043 | 25.5172
450518 | 1.4357 | 0.8616 | 24.1194 | 28.1755 | 29.1322 | 27.1788
450530 | 1.2777 | 0.9997 | 28.7451 | 29.1349 | 29.9720 | 29.2964
450537 | 1.4003 | 0.9786 | 27.5856 | 27.7757 | 28.7448 | 28.0481
450539 | 1.1985 | 0.8265 | 21.0442 | 23.1829 | 24.2151 | 22.7465
450547 | 0.9648 | 0.8393 | 21.6542 | 23.7820 | 34.3349 | 25.8923
450558 | 1.8257 | 0.8241 | 26.1551 | 26.9407 | 28.0655 | 27.0633
450563 | 1.5242 | 0.9681 | 28.7289 | 30.8332 | 32.0507 | 30.6111
450565 | 1.2522 | 0.8684 | 23.8846 | 26.7942 | 28.1741 | 26.2662
450571 | 1.6028 | 0.8659 | 22.7703 | 25.2108 | 27.4605 | 25.0812
450573 | 1.1240 | 0.8324 | 20.1479 | 22.0797 | 22.1492 | 21.5110
450578 | 0.9614 | 0.8198 | 20.2696 | 22.5167 | 25.0498 | 22.6273
450580 | 1.0846 | 0.8198 | 21.1574 | 22.3886 | 23.9004 | 22.4744
450584 | 1.1124 | 0.8198 | 21.0808 | 20.5257 | 22.5204 | 21.3633
450586 | 0.9374 | 0.8198 | 16.1003 | 18.9107 | 20.6699 | 18.6573
450587 | 1.2013 | 0.8198 | 20.4512 | 23.1202 | 25.0174 | 22.8390
450591 | 1.2595 | 0.9997 | 23.9992 | 25.7031 | 27.1744 | 25.6141
450596 | 1.2190 | 0.9637 | 25.3317 | 27.4011 | 29.8462 | 27.4275
450597 | 0.9772 | 0.8198 | 23.1711 | 24.7853 | 24.2586 | 24.0731
450604 | 1.3501 | 0.8198 | 20.9514 | 24.4743 | 25.9133 | 23.8497
450605 | 0.9405 | 0.8456 | 22.2205 | 20.9276 | 23.9332 | 22.2910
450610 | 1.5912 | 0.9997 | 26.8710 | 27.7317 | 28.3713 | 27.6825
450615 | 0.9878 | 0.8198 | 20.3028 | 21.8442 | 24.1902 | 22.0858
450617 | 1.5092 | 0.9997 | 26.5026 | 28.0225 | 28.8323 | 27.8240
450620 | 1.0024 | 0.8198 | 17.7138 | 18.6183 | 20.3723 | 18.9192
450623 | 1.1755 | * | 28.3552 | * | * | 28.3552
450626 | *** | * | 26.8374 | * | * | 26.8374
450630 | 1.5459 | 0.9997 | 29.6796 | 29.1462 | 29.8431 | 29.5562
450634 | 1.7069 | 0.9786 | 28.1705 | 28.7312 | 30.3274 | 29.0806
450638 | 1.6735 | 0.9997 | 29.6184 | 30.6572 | 32.4911 | 30.8650
450639 | 1.4449 | 0.9681 | 29.2669 | 30.4019 | 32.6255 | 30.7775
450641 | 1.0336 | 0.8573 | 17.5845 | 19.4389 | 20.2483 | 19.0723
450643 | 1.3305 | 0.8501 | 21.1205 | 22.7355 | 24.4999 | 22.7584
450644 | 1.5887 | 0.9997 | 29.0186 | 29.7918 | 30.7815 | 29.8996
450646 | 1.4232 | 0.9141 | 23.8908 | 25.6313 | 26.8060 | 25.4375
450647 | 1.8334 | 0.9786 | 30.7334 | 30.6924 | 32.4236 | 31.2797
450651 | 1.4793 | 0.9786 | 32.4822 | 30.4484 | 31.9261 | 31.6022
450653 | 1.1659 | 0.8198 | 23.2603 | 25.2144 | 26.1756 | 24.8558
450654 | 0.9024 | 0.8198 | 19.9992 | 21.5002 | 22.5447 | 21.4234
450656 | 1.4165 | 0.8872 | 23.8280 | 25.5050 | 28.1493 | 25.7182
450658 | 0.9853 | 0.8198 | 20.5398 | 22.2293 | 24.7856 | 22.5185
450659 | 1.4621 | 0.9997 | 30.1727 | 31.5024 | 34.2380 | 31.8910
450661 | 1.1887 | 0.9954 | 23.2989 | 30.2610 | 30.0751 | 27.8684
450662 | 1.5730 | 0.9193 | 28.0913 | 29.0535 | 29.0532 | 28.7293
450665 | *** | * | 18.6054 | * | * | 18.6054
450668 | 1.5287 | 0.9141 | 26.2375 | 28.8635 | 30.6114 | 28.5378
450669 | 1.2128 | 0.9786 | 27.4507 | 27.9796 | 30.2374 | 28.6058
450670 | 1.4050 | 0.9997 | 25.1575 | 25.9638 | 26.4266 | 25.8773
450672 | 1.8204 | 0.9681 | 27.6359 | 30.1191 | 31.8420 | 29.9422
450674 | 1.0697 | 0.9997 | 28.4416 | 28.7101 | 29.8971 | 29.0121
450675 | 1.3861 | 0.9681 | 28.7765 | 28.9005 | 30.9562 | 29.5682
450677 | 1.2694 | 0.9681 | 27.3728 | 25.9555 | 27.2760 | 26.8379
450678 | 1.5046 | 0.9786 | 30.1500 | 31.1563 | 33.3386 | 31.5036
450683 | 1.1583 | 0.9786 | 24.6609 | 27.4925 | 21.1737 | 24.2967
450684 | 1.2913 | 0.9997 | 27.6789 | 29.3025 | 30.2139 | 29.1278
450686 | 1.5950 | 0.8642 | 23.2367 | 24.2331 | 25.8530 | 24.4614
450688 | 1.1957 | 0.9786 | 27.9057 | 26.8599 | 26.9897 | 27.2212
450690 | 1.3100 | 0.9182 | 28.2531 | 26.5528 | 26.1743 | 27.0377
450694 | 1.1609 | 0.8198 | 23.5789 | 23.9961 | 24.0031 | 23.8670
450697 | 1.4201 | 0.8896 | 23.7155 | 24.8667 | 26.4132 | 25.0106
450698 | 0.8999 | 0.8325 | 18.6494 | 20.0955 | 21.5742 | 20.0867
450702 | 1.7113 | 0.8872 | 25.6147 | 26.8384 | 26.3696 | 26.2787
450709 | 1.3573 | 0.9997 | 25.4855 | 26.8146 | 27.1077 | 26.4651
450711 | 1.4817 | 0.9136 | 28.0104 | 26.7472 | 27.5622 | 27.4437
450713 | 1.5782 | 0.9502 | 27.2801 | 28.8285 | 29.4980 | 28.5539
450715 | 1.2406 | 0.9786 | 28.0365 | 17.3991 | 17.0235 | 19.5811
450716 | 1.3502 | 0.9997 | 30.8440 | 32.3960 | 33.7096 | 32.3143
450718 | 1.3791 | 0.9502 | 27.3408 | 27.3215 | 28.1560 | 27.6253
450723 | 1.4671 | 0.9786 | 28.0812 | 28.5103 | 30.1704 | 28.9694
450730 | 1.3698 | 0.9786 | 29.9430 | 31.3324 | 32.7293 | 31.3334
450733 | *** | * | 26.4977 | * | * | 26.4977
450742 | 1.1911 | 0.9786 | 26.1189 | 27.2023 | 30.0583 | 27.8913
450743 | 1.4606 | 0.9786 | 27.3213 | 28.3362 | 28.4736 | 28.0743
450746 | 0.9233 | 0.8198 | 12.4748 | 20.6343 | 22.7873 | 18.2509
450747 | 1.2814 | 0.9182 | 22.2870 | 23.8314 | 25.8175 | 23.8627
450749 | 0.9915 | 0.8198 | 17.8227 | 20.0487 | 22.1562 | 19.9062
450751 | *** | * | 19.3267 | 18.7456 | 21.4223 | 19.9014
450754 | 0.9275 | 0.8198 | 20.8968 | 22.1819 | 24.7797 | 22.6402
450755 | 0.9393 | 0.8474 | 18.0092 | 19.8988 | 22.2006 | 20.0136
450758 | *** | * | 25.6547 | 28.7342 | 28.2803 | 27.5631
450760 | 1.0564 | 0.9141 | 24.6349 | 24.7489 | 25.1637 | 24.8390
450761 | 0.8818 | * | 15.7483 | * | * | 15.7483
450763 | 1.0706 | * | 22.4905 | * | * | 22.4905
450766 | 1.9348 | 0.9786 | 30.0441 | 30.8004 | 30.2341 | 30.3517
450770 | 1.2421 | 0.9502 | 20.3656 | 24.1647 | 24.3244 | 23.0091
450771 | 1.6716 | 0.9786 | 31.3924 | 30.7105 | 32.0500 | 31.3870
450774 | 1.6363 | 0.9997 | 24.9683 | 27.2080 | 25.7436 | 25.9776
450775 | 1.2932 | 0.9997 | 24.4006 | 28.1428 | 29.8230 | 27.3216
450779 | 1.2689 | 0.9681 | 26.9908 | 29.9674 | 31.8403 | 29.6444
450780 | 2.0442 | 0.8896 | 23.9516 | 26.7611 | 27.0084 | 25.8985
450788 | 1.5555 | 0.8456 | 25.4172 | 26.2840 | 28.3759 | 26.7019
450795 | 1.1878 | 0.9997 | 23.7510 | 25.2007 | 32.9803 | 27.3787
450796 | 1.7336 | 0.9152 | 27.9734 | 36.4073 | 37.6274 | 33.9632
450797 | 1.9643 | 0.9997 | 20.5379 | 24.8950 | 24.8598 | 23.1191
450801 | 1.5000 | 0.8198 | 23.0373 | 24.6328 | 23.6072 | 23.7609
450803 | 1.1830 | 0.9997 | 30.6093 | 28.9235 | 29.0106 | 29.5055
450804 | 1.9178 | 0.9997 | 26.0981 | 27.8775 | 29.1282 | 27.7201
450808 | 1.3367 | 0.9502 | 23.8067 | 21.9793 | 23.0312 | 22.9181
450809 | 1.5667 | 0.9502 | 26.3659 | 26.4223 | 27.3080 | 26.7166
450811 | 1.8166 | 0.9136 | 25.8491 | 27.2584 | 31.2208 | 27.9853
450813 | 1.1710 | 0.8896 | 25.5949 | 20.1710 | 22.9289 | 22.7727
450820 | 1.3250 | 0.9997 | 30.5288 | 31.4666 | 33.9030 | 32.1410
450822 | 1.2857 | 0.9786 | 31.1430 | 32.2968 | 32.2145 | 31.9067
450824 | 2.4889 | 0.9502 | 26.7803 | 31.2375 | 33.3653 | 30.5418
450825 | 1.3904 | 0.9136 | 20.2959 | 20.6457 | 25.1521 | 21.9878
450827 | 1.3878 | 0.8203 | 20.9704 | 23.7554 | 24.1984 | 23.0409
450828 | 1.3241 | 0.8198 | 22.3667 | 24.4740 | 24.8236 | 24.1300
450829 | *** | * | 19.5014 | 20.6016 | 19.5842 | 19.9030
450830 | 1.0196 | 0.9523 | 28.1617 | 28.5902 | 27.8005 | 28.1885
450831 | 1.4011 | 0.9997 | 22.7885 | 23.3880 | 23.9467 | 23.3309
450832 | 1.2704 | 0.9997 | 26.6628 | 26.5229 | 27.3290 | 26.8494
450833 | 1.3222 | 0.9786 | 26.0044 | 27.0133 | 27.9649 | 27.0364
450834 | 1.5971 | 0.9172 | 21.2204 | 20.9607 | 27.4844 | 22.7772
450838 | 1.1492 | 0.8324 | 15.8026 | 19.5754 | 18.9620 | 18.1919
450839 | 0.9901 | 0.8552 | 22.9711 | 25.8222 | 27.2199 | 25.2487
450840 | 1.2906 | 0.9786 | 31.1914 | 30.1743 | 32.2538 | 31.2218
450841 | 1.9165 | 0.9193 | 18.9468 | 20.9410 | 20.9424 | 20.3779
450844 | 1.3117 | 0.9997 | 28.7296 | 30.7887 | 33.7978 | 31.3327
450845 | 1.8432 | 0.9141 | 27.7461 | 29.4933 | 29.9265 | 29.0937
450847 | 1.2710 | 0.9997 | 27.6854 | 28.5548 | 29.7356 | 28.6780
450848 | 1.3004 | 0.9997 | 27.8100 | 29.5355 | 30.5546 | 29.3303
450850 | 1.1195 | 0.9712 | 22.1335 | 21.9266 | 31.9606 | 24.7549
450851 | 2.5542 | 0.9786 | 30.1213 | 32.6950 | 35.1102 | 32.6767
450852 | *** | * | 30.0191 | * | * | 30.0191
450853 | 1.9480 | 0.9786 | * | 36.1169 | 37.1043 | 36.6729
450854 | *** | * | * | 27.1868 | * | 27.1868
450855 | 1.5587 | 0.9193 | * | 30.8855 | 32.6916 | 31.8350
450856 | 1.9053 | 0.8896 | * | 39.0865 | 37.7362 | 38.3791
450857 | *** | * | * | 30.4632 | * | 30.4632
450860 | 1.9631 | 0.9997 | * | 24.0171 | 29.1075 | 26.9551
450861 | *** | * | * | 34.9290 | * | 34.9290
450862 | 1.4560 | 0.9997 | * | 31.2224 | 31.8095 | 31.4630
450863 | *** | * | * | 24.8825 | * | 24.8825
450864 | 2.0615 | 0.9182 | * | 23.3765 | 24.5049 | 24.0210
450865 | 1.0642 | 0.9502 | * | 29.1763 | 29.9559 | 29.5867
450866 | *** | * | * | 15.2959 | * | 15.2959
450867 | 1.1905 | 0.9502 | * | 28.2289 | 29.5879 | 28.9055
450868 | 1.8308 | 0.9954 | * | 27.9579 | 25.3486 | 26.8246
450869 | 2.0516 | 0.9136 | * | 22.6253 | 26.1616 | 24.9911
450870 | *** | * | * | 37.4364 | * | 37.4364
450871 | 1.8016 | 0.9502 | * | * | 28.9150 | 28.9150
450872 | 1.3873 | 0.9681 | * | * | 27.2833 | 27.2833
450873 | *** | * | * | * | 14.8821 | 14.8821
450874 | 1.5449 | 0.9786 | * | * | 34.6083 | 34.6083
450875 | 1.6419 | 0.9152 | * | * | 23.2763 | 23.2763
450876 | 2.0787 | 0.8642 | * | * | 28.4343 | 28.4343
450877 | 1.5503 | 0.9141 | * | * | 26.1867 | 26.1867
450878 | 2.5573 | 0.8896 | * | * | 31.6750 | 31.6750
450879 | 1.2943 | 0.8501 | * | * | 35.5672 | 35.5672
450880 | 1.6570 | 0.9681 | * | * | 35.9572 | 35.9572
450881 | *** | * | * | * | 24.5464 | 24.5464
450882 | *** | * | * | * | 26.6910 | 26.6910
450883 | 2.5235 | 0.9786 | * | * | 35.2646 | 35.2646
450884 | 0.9920 | 0.8921 | * | * | 27.8213 | 27.8213
450885 | 1.4958 | 0.9786 | * | * | 34.1148 | 34.1148
450886 | 1.9602 | 0.9661 | * | * | * | *
450888 | 1.4699 | 0.9661 | * | * | * | *
450889 | 1.5257 | 0.9786 | * | * | * | *
450890 | 2.0976 | 0.9786 | * | * | * | *
450891 | 1.3643 | 0.9786 | * | * | * | *
450893 | 1.2413 | 0.9786 | * | * | * | *
450894 | 1.6453 | 0.9786 | * | * | * | *
450895 | *** | * | * | * | 18.4142 | 18.4142
460001 | 1.8844 | 0.9481 | 27.0757 | 28.7150 | 30.0040 | 28.5953
460003 | 1.5188 | 0.9474 | 26.1372 | 31.4135 | 32.3427 | 29.8772
460004 | 1.7340 | 0.9474 | 26.4498 | 28.2040 | 29.6342 | 28.1012
460005 | 1.4367 | 0.9474 | 23.5633 | 25.0239 | 26.0731 | 24.8800
460006 | 1.3712 | 0.9474 | 25.4787 | 27.1392 | 28.3678 | 27.0132
460007 | 1.3738 | 0.9536 | 25.6686 | 27.1308 | 28.0035 | 26.9931
460008 | 1.4051 | 0.9474 | 26.5672 | 29.5907 | 31.5485 | 29.1771
460009 | 1.9306 | 0.9474 | 26.2833 | 27.2885 | 28.3836 | 27.3958
460010 | 2.0966 | 0.9474 | 27.4648 | 29.0063 | 30.4606 | 29.0099
460011 | 1.3219 | 0.9380 | 23.4023 | 24.4402 | 24.9677 | 24.2736
460013 | 1.4123 | 0.9481 | 25.2448 | 27.7381 | 29.2731 | 27.3708
460014 | 1.1347 | 0.9474 | 24.1412 | 28.2647 | 29.5963 | 27.3277
460015 | 1.3642 | 0.9215 | 25.6576 | 27.2506 | 29.1318 | 27.3614
460017 | 1.3017 | 0.8598 | 23.0388 | 24.3030 | 26.1589 | 24.4636
460018 | 0.9383 | 0.8215 | 20.3756 | 22.0517 | 22.8028 | 21.8351
460019 | 1.1628 | 0.8215 | 19.9901 | 24.3756 | 23.2202 | 22.4677
460020 | 1.0138 | * | 19.5669 | 18.5159 | * | 19.0929
460021 | 1.6953 | 1.1223 | 26.3420 | 28.0291 | 29.5761 | 28.1943
460023 | 1.1931 | 0.9481 | 25.3094 | 26.9512 | 28.5884 | 26.9777
460026 | 1.0465 | 0.9380 | 24.1547 | 26.9295 | 27.9487 | 26.3213
460030 | 1.1801 | 0.8215 | 23.4679 | 23.5942 | 24.4218 | 23.8301
460033 | 0.9138 | 0.8215 | 22.0249 | 25.3422 | 26.6606 | 24.7048
460035 | 0.9489 | 0.8215 | 17.5723 | 20.6322 | 21.9115 | 20.1175
460036 | 1.4454 | * | 27.2866 | * | * | 27.2866
460037 | 0.8447 | * | 21.1035 | * | * | 21.1035
460039 | 1.0867 | 0.9215 | 28.5657 | 29.5651 | 30.4912 | 29.5982
460041 | 1.3585 | 0.9474 | 25.2744 | 26.4640 | 26.3807 | 26.0600
460042 | 1.3922 | 0.9474 | 22.9949 | 24.9454 | 26.8389 | 24.8871
460043 | 1.2796 | 0.9481 | 28.2089 | 28.2008 | 28.6668 | 28.3615
460044 | 1.3080 | 0.9474 | 26.6795 | 27.4928 | 28.7023 | 27.6434
460047 | 1.6733 | 0.9474 | 25.7920 | 28.2336 | 29.9990 | 27.9779
460049 | 1.9973 | 0.9474 | 24.5165 | 26.6702 | 28.4884 | 26.6038
460051 | 1.2366 | 0.9474 | 25.5881 | 27.0160 | 27.8841 | 26.8633
460052 | 1.6315 | 0.9481 | 25.3163 | 26.1629 | 27.1995 | 26.2810
460054 | 1.5951 | 0.9215 | 25.8668 | 24.9926 | 25.7870 | 25.5264
470001 | 1.2942 | 1.0533 | 27.7329 | 28.3017 | 29.7540 | 28.6009
470003 | 1.9037 | 1.0388 | 26.4919 | 28.1137 | 30.1973 | 28.2590
470005 | 1.3059 | 1.0388 | 29.8255 | 30.7872 | 33.1981 | 31.2960
470006 | 1.2524 | * | 26.9651 | * | * | 26.9651
470010 | *** | * | 26.1273 | * | * | 26.1273
470011 | 1.1763 | 1.0388 | 28.3911 | 28.1330 | 29.6269 | 28.7242
470012 | 1.1997 | 1.0388 | 24.3425 | 26.0225 | 27.0751 | 25.8314
470018 | 1.1137 | * | 28.3419 | * | * | 28.3419
470024 | 1.2029 | 1.0388 | 25.2427 | 27.0394 | 26.6351 | 26.3235
490001 | 1.0895 | 0.8074 | 21.9953 | 23.2174 | 24.0368 | 23.1150
490002 | 1.0523 | 0.8074 | 19.5613 | 20.8609 | 21.7092 | 20.6693
490003 | *** | * | 27.3456 | * | * | 27.3456
490004 | 1.3086 | 0.9161 | 25.4597 | 27.1676 | 27.5890 | 26.7640
490005 | 1.6441 | 1.0676 | 28.5744 | 29.8215 | 30.5349 | 29.6413
490007 | 2.1955 | 0.8777 | 26.2481 | 27.6572 | 29.3098 | 27.7576
490009 | 2.0115 | 0.9161 | 29.0740 | 30.4722 | 28.4642 | 29.2905
490011 | 1.5273 | 0.8777 | 24.5687 | 26.4766 | 27.4764 | 26.2051
490012 | 1.0133 | 0.8074 | 19.2276 | 21.0605 | 22.9922 | 21.0354
490013 | 1.3388 | 0.8606 | 22.4771 | 24.7521 | 25.5560 | 24.2699
490017 | 1.5006 | 0.8777 | 24.6845 | 25.8216 | 27.5902 | 26.0271
490018 | 1.3285 | 0.9161 | 24.5196 | 26.2510 | 27.2644 | 26.0551
490019 | 1.1901 | 1.0676 | 25.9761 | 25.9885 | 25.8264 | 25.9276
490020 | 1.2418 | 0.9233 | 24.8001 | 27.3142 | 29.3468 | 27.1254
490021 | 1.4767 | 0.8606 | 24.6440 | 25.7938 | 27.0641 | 25.8484
490022 | 1.4239 | 1.0676 | 28.0749 | 32.2676 | 30.1203 | 30.1142
490023 | 1.3029 | 1.0676 | 29.7774 | 30.3416 | 30.9920 | 30.3866
490024 | 1.7769 | 0.8889 | 23.0982 | 26.1125 | 27.9689 | 25.6684
490027 | 1.0539 | 0.8074 | 18.9409 | 24.0288 | 23.0017 | 21.9123
490031 | *** | * | 22.0579 | * | * | 22.0579
490032 | 1.9605 | 0.9233 | 25.1381 | 25.2654 | 28.5897 | 26.3877
490033 | 1.1087 | 1.0676 | 30.0909 | 31.2922 | 31.8282 | 31.1180
490037 | 1.2021 | 0.8074 | 21.3035 | 24.7711 | 25.2859 | 23.7337
490038 | 1.2579 | 0.8074 | 22.3976 | 21.8509 | 22.6504 | 22.2973
490040 | 1.4791 | 1.0676 | 32.8738 | 32.6564 | 34.1841 | 33.2338
490041 | 1.5154 | 0.8777 | 24.5738 | 26.0897 | 27.1613 | 25.9093
490042 | 1.2791 | 0.8746 | 21.8749 | 24.4650 | 25.7333 | 24.0571
490043 | 1.2495 | 1.0676 | 30.8871 | 33.7096 | 35.8872 | 33.5694
490044 | 1.4481 | 0.8777 | 20.8352 | 23.3527 | 23.3793 | 22.5144
490045 | 1.2631 | 1.0676 | 28.8279 | 32.0937 | 30.3772 | 30.3677
490046 | 1.5195 | 0.8777 | 25.6328 | 26.6517 | 27.9604 | 26.7676
490047 | 1.2301 | * | 22.5423 | * | * | 22.5423
490048 | 1.4179 | 0.8889 | 25.0097 | 26.2828 | 27.0620 | 26.1566
490050 | 1.4893 | 1.0676 | 30.5037 | 31.3885 | 32.2993 | 31.4066
490052 | 1.6975 | 0.8777 | 22.8889 | 23.5973 | 25.0046 | 23.8195
490053 | 1.2133 | 0.8074 | 21.8432 | 23.3315 | 23.8004 | 22.9792
490057 | 1.6174 | 0.8777 | 26.1128 | 26.6898 | 27.4918 | 26.7709
490059 | 1.6486 | 0.9233 | 28.7276 | 27.3611 | 30.8669 | 28.9526
490060 | 1.0549 | 0.8074 | 22.4201 | 23.6113 | 24.3192 | 23.4567
490063 | 1.8511 | 1.0676 | 30.3632 | 31.3619 | 31.6069 | 31.1276
490066 | 1.3599 | 0.8777 | 24.7146 | 27.8250 | 29.5917 | 27.4514
490067 | 1.2606 | 0.9233 | 22.9188 | 24.9021 | 25.9497 | 24.5486
490069 | 1.6019 | 0.9233 | 26.8791 | 27.3181 | 29.1527 | 27.7952
490071 | 1.3192 | 0.9233 | 28.4381 | 29.7186 | 31.7061 | 29.9452
490073 | 2.0908 | 1.0676 | 31.7743 | 33.1829 | 34.5774 | 33.0517
490075 | 1.4337 | 0.8297 | 23.8191 | 25.2022 | 25.7323 | 24.9373
490077 | 1.4152 | 0.9161 | 26.0800 | 26.6806 | 28.1506 | 26.9963
490079 | 1.2496 | 0.9078 | 23.4728 | 25.3103 | 25.2340 | 24.6377
490084 | 1.1764 | 0.8261 | 24.5965 | 24.9007 | 25.7657 | 25.0948
490088 | 1.0999 | 0.8606 | 22.4186 | 24.1471 | 25.0619 | 23.8698
490089 | 1.1022 | 0.8889 | 22.6461 | 24.9438 | 25.9902 | 24.5386
490090 | 1.1083 | 0.8074 | 22.2907 | 25.1157 | 25.5418 | 24.2403
490092 | 1.0916 | 0.9233 | 23.8655 | 23.3439 | 25.7405 | 24.2726
490093 | 1.4715 | 0.8777 | 25.0751 | 25.6531 | 26.7886 | 25.8819
490094 | 0.9845 | 0.9233 | 26.5726 | 28.2165 | 28.9155 | 27.8970
490097 | 1.0621 | 0.9233 | 23.8005 | 26.5322 | 27.1470 | 25.8282
490098 | 1.2546 | 0.8074 | 21.7231 | 23.2782 | 25.1625 | 23.3960
490101 | 1.4004 | 1.0676 | 30.4285 | 31.2377 | 32.3695 | 31.3631
490104 | 0.7733 | 0.9233 | 17.3295 | * | 17.0548 | 17.1728
490105 | 0.7209 | 0.8074 | 24.7922 | 25.5329 | 26.3827 | 25.5156
490106 | 0.9111 | 0.9161 | 23.0199 | 23.8334 | 25.7352 | 23.7423
490107 | 1.3334 | 1.0676 | 29.7000 | 32.2672 | 33.5430 | 31.8922
490108 | 1.0741 | 0.8606 | 22.4345 | 22.9076 | 23.3204 | 22.8878
490109 | 0.8787 | 0.9233 | 21.9877 | 22.7854 | 24.2296 | 22.9554
490110 | 1.3515 | 0.8314 | 22.5974 | 24.2887 | 24.9861 | 24.0085
490111 | 1.1948 | 0.8074 | 22.0199 | 22.1476 | 22.7336 | 22.3108
490112 | 1.7163 | 0.9233 | 26.6453 | 27.1932 | 29.0816 | 27.6672
490113 | 1.3106 | 1.0676 | 29.5698 | 31.8177 | 32.4547 | 31.3270
490114 | 1.1470 | 0.8074 | 20.9116 | 22.5255 | 22.1387 | 21.8658
490115 | 1.1538 | 0.8074 | 21.4666 | 22.4058 | 23.5718 | 22.4670
490116 | 1.1780 | 0.8129 | 22.9017 | 24.2258 | 24.3853 | 23.8567
490117 | 1.1514 | 0.8074 | 18.0277 | 19.6398 | 18.1138 | 18.6020
490118 | 1.6635 | 0.9233 | 27.4050 | 27.6749 | 29.0569 | 28.0591
490119 | 1.3033 | 0.8777 | 25.2549 | 26.5756 | 27.8866 | 26.6080
490120 | 1.3991 | 0.8777 | 24.4434 | 25.8795 | 25.9610 | 25.4137
490122 | 1.5535 | 1.0676 | 31.0449 | 32.0743 | 33.3719 | 32.1673
490123 | 1.1537 | 0.8074 | 23.9233 | 24.3490 | 24.2254 | 24.1638
490126 | 1.1649 | 0.8074 | 22.2859 | 23.6690 | 24.0908 | 23.3598
490127 | 1.1300 | 0.8074 | 20.4289 | 21.3735 | 23.5161 | 21.6359
490130 | 1.2701 | 0.8777 | 22.8512 | 23.9982 | 25.3352 | 24.0816
490133 | *** | * | 26.5684 | * | * | 26.5684
490134 | 0.7623 | 0.8074 | * | * | 33.2405 | 33.2405
490135 | 0.7016 | 0.8889 | * | * | 25.9998 | 25.9998
490136 | 1.4665 | 0.9233 | * | * | * | *
490137 | 1.2895 | 0.8777 | * | * | * | *
500001 | 1.6372 | 1.1363 | 29.3707 | 31.1605 | 33.0901 | 31.2057
500002 | 1.4288 | 1.0559 | 25.3347 | 27.6400 | 29.1448 | 27.3388
500003 | 1.3314 | 1.1209 | 29.6341 | 30.6939 | 32.1262 | 30.7330
500005 | 1.7738 | 1.1363 | 32.0972 | 33.5117 | 35.0997 | 33.5662
500007 | 1.3436 | 1.1209 | 28.0476 | 29.2869 | 30.5263 | 29.3452
500008 | 1.8910 | 1.1363 | 31.8837 | 32.6052 | 33.5666 | 32.7102
500011 | 1.3636 | 1.1363 | 30.6508 | 31.4514 | 32.6223 | 31.5869
500012 | 1.7458 | 1.0559 | 30.6856 | 30.0509 | 33.8101 | 31.3853
500014 | 1.6966 | 1.1363 | 33.7536 | 36.1380 | 36.5833 | 35.5228
500015 | 1.4680 | 1.1363 | 32.0592 | 34.5877 | 37.5724 | 34.7448
500016 | 1.6470 | 1.1209 | 31.4222 | 31.4905 | 32.9177 | 31.9513
500019 | 1.2785 | 1.0690 | 28.6669 | 30.5594 | 31.6242 | 30.2721
500021 | 1.2943 | 1.1209 | 30.1690 | 30.7927 | 32.4702 | 31.1942
500024 | 1.7699 | 1.1420 | 30.7917 | 32.6171 | 36.1647 | 33.1801
500025 | 1.8291 | 1.1363 | 34.7252 | 37.7952 | 40.6369 | 37.5370
500026 | 1.3958 | 1.1363 | 33.2937 | 32.8369 | 34.5881 | 33.5880
500027 | 1.5127 | 1.1363 | 34.2175 | 34.6164 | 39.2906 | 36.0226
500030 | 1.6952 | 1.1258 | 32.7446 | 32.4426 | 34.9174 | 33.4028
500031 | 1.2765 | 1.1288 | 31.2186 | 32.8833 | 33.2391 | 32.4932
500033 | 1.3169 | 1.0559 | 29.4627 | 30.6292 | 31.8891 | 30.6527
500036 | 1.3457 | 1.0559 | 27.0072 | 28.7096 | 30.5938 | 28.8242
500037 | 1.0254 | 1.0559 | 26.9969 | 28.1056 | 31.2654 | 28.7446
500039 | 1.4957 | 1.1209 | 29.8808 | 32.2245 | 33.5606 | 31.9348
500041 | 1.4361 | 1.1227 | 26.7829 | 30.3627 | 34.2017 | 30.2993
500044 | 1.9624 | 1.0559 | 30.3164 | 29.0214 | 31.0936 | 30.1182
500049 | 1.3501 | 1.0559 | 27.1819 | 27.7170 | 29.8189 | 28.3097
500050 | 1.4998 | 1.1227 | 29.9791 | 32.6751 | 33.7713 | 32.1383
500051 | 1.7960 | 1.1363 | 31.9406 | 32.5764 | 34.7610 | 33.0994
500052 | 1.4523 | 1.1363 | * | * | * | *
500053 | 1.2886 | 1.0559 | 28.4130 | 28.2901 | 30.2811 | 28.9866
500054 | 1.9948 | 1.0559 | 30.8067 | 31.6595 | 32.5105 | 31.6694
500058 | 1.6540 | 1.0559 | 30.4699 | 30.7487 | 30.7034 | 30.6484
500060 | 1.3720 | 1.1363 | 34.1523 | 37.4869 | 38.7682 | 36.8223
500064 | 1.7342 | 1.1363 | 31.5371 | 31.6112 | 32.3581 | 31.8431
500072 | 1.2307 | 1.0821 | 33.4863 | 31.2000 | 32.5269 | 32.3949
500077 | 1.4558 | 1.0559 | 29.4199 | 31.6153 | 33.2223 | 31.3945
500079 | 1.3764 | 1.1209 | 29.6623 | 31.3280 | 32.5809 | 31.1946
500084 | 1.3889 | 1.1363 | 29.3484 | 30.2411 | 32.7883 | 30.8053
500088 | 1.3945 | 1.1363 | 33.4302 | 35.3770 | 36.7953 | 35.2133
500108 | 1.6416 | 1.1209 | 29.4244 | 31.8483 | 34.3872 | 31.9459
500119 | 1.3904 | 1.0559 | 30.9999 | 29.7028 | 31.2233 | 30.6358
500122 | 1.3566 | * | 30.1396 | * | * | 30.1396
500124 | 1.4292 | 1.1363 | 31.5438 | 32.3505 | 34.4790 | 32.8210
500129 | 1.5749 | 1.1209 | 30.7536 | 32.1102 | 34.4447 | 32.4986
500134 | 0.4899 | 1.1363 | 26.8607 | 27.2428 | 28.1374 | 27.5278
500138 | 0.8272 | * | * | * | * | *
500139 | 1.5206 | 1.1420 | 31.6591 | 33.9739 | 34.6412 | 33.4188
500141 | 1.3171 | 1.1363 | 30.5456 | 31.3308 | 33.7532 | 31.9223
500143 | 0.4729 | 1.1420 | 22.1419 | 23.6766 | 25.3099 | 23.6848
500147 | 0.8772 | * | 24.5744 | * | * | 24.5744
500148 | 1.1803 | 1.0559 | 22.2161 | 26.4206 | 37.7830 | 30.2231
500150 | 1.2180 | 1.1227 | * | * | * | *
510001 | 1.9238 | 0.8391 | 23.4477 | 25.2973 | 25.8693 | 24.9197
510002 | 1.2871 | 0.8746 | 25.9597 | 23.8921 | 23.7270 | 24.4604
510006 | 1.3370 | 0.8256 | 23.5727 | 24.9627 | 24.8777 | 24.4769
510007 | 1.7232 | 0.8879 | 25.2835 | 24.7264 | 27.1149 | 25.7084
510008 | 1.3059 | 0.9256 | 24.6959 | 26.3554 | 27.5241 | 26.2154
510012 | 0.9599 | 0.7692 | 18.2845 | 18.8984 | 20.8455 | 19.3188
510013 | 1.1244 | 0.7568 | 20.8782 | 22.7882 | 22.8779 | 22.1601
510018 | 1.0596 | 0.8394 | 20.5556 | 22.4597 | 23.1043 | 22.0364
510022 | 1.8444 | 0.8394 | 24.2125 | 26.9511 | 26.8328 | 25.9941
510023 | 1.2839 | 0.7889 | 20.4908 | 20.6435 | 21.0940 | 20.7445
510024 | 1.8414 | 0.8408 | 24.0444 | 25.5634 | 26.6621 | 25.4529
510026 | 0.9983 | 0.7568 | 16.6192 | 17.9908 | 19.2025 | 17.9223
510028 | *** | * | 21.7135 | * | * | 21.7135
510029 | 1.3235 | 0.8394 | 22.4556 | 22.7104 | 24.0872 | 23.0837
510030 | 1.0973 | 0.8256 | 21.5583 | 24.3936 | 24.2007 | 23.3949
510031 | 1.4315 | 0.8394 | 21.7637 | 23.2624 | 24.0237 | 22.9923
510033 | 1.7281 | 0.8259 | 23.0305 | 22.6189 | 24.0796 | 23.2701
510038 | 1.0543 | 0.7568 | 17.2832 | 20.6565 | 20.9180 | 19.6284
510039 | 1.2501 | 0.7568 | 19.5468 | 19.8751 | 20.4719 | 19.9555
510046 | 1.3467 | 0.7733 | 21.2540 | 22.1712 | 22.2935 | 21.8981
510047 | 1.1486 | 0.8391 | 24.0954 | 27.1214 | 27.6859 | 26.2421
510048 | 1.1751 | 0.7568 | 17.5096 | 18.8576 | 22.7930 | 19.5221
510050 | 1.6035 | 0.7568 | 19.9766 | 21.0772 | 21.9009 | 20.9839
510053 | 1.1071 | 0.7568 | 20.8608 | 22.3318 | 21.5338 | 21.5798
510055 | 1.5346 | 0.8879 | 30.7868 | 28.4615 | 29.4111 | 29.5182
510058 | 1.3452 | 0.8259 | 22.6976 | 23.9015 | 25.3248 | 23.9858
510059 | 0.7138 | 0.8394 | 21.9551 | 22.1435 | 20.8847 | 21.6752
510062 | 1.1628 | 0.8394 | 23.3216 | 26.2296 | 26.7066 | 25.4037
510067 | 1.1068 | 0.7568 | 21.2099 | 25.0437 | 25.2130 | 23.8479
510068 | 1.1378 | * | 23.1011 | * | * | 23.1011
510070 | 1.2272 | 0.8394 | 23.2382 | 23.5639 | 23.9742 | 23.5991
510071 | 1.3165 | 0.7733 | 23.1685 | 23.4508 | 23.2954 | 23.3056
510072 | 1.1600 | 0.7568 | 20.1997 | 20.5146 | 19.4370 | 20.0241
510077 | 1.0539 | 0.8725 | 23.6584 | 24.5010 | 25.9515 | 24.6973
510082 | 1.1084 | 0.7568 | 19.1878 | 19.9081 | 20.3279 | 19.7905
510085 | 1.2934 | 0.8394 | 23.7174 | 26.3877 | 26.2617 | 25.5462
510086 | 1.1745 | 0.7568 | 17.5933 | 19.8735 | 19.2606 | 18.9127
510089 | *** | * | 27.7061 | * | * | 27.7061
510090 | 1.8498 | 0.8879 | * | * | * | *
520002 | 1.3394 | 1.0005 | 24.9950 | 27.7705 | 29.0501 | 27.3208
520004 | 1.3931 | 0.9699 | 25.4639 | 27.6530 | 28.9857 | 27.3816
520008 | 1.5349 | 1.0296 | 29.8353 | 30.7553 | 33.8057 | 31.4985
520009 | 1.7224 | 0.9684 | 26.1503 | 27.4044 | 28.8591 | 27.4837
520011 | 1.3035 | 0.9684 | 25.2747 | 26.6268 | 28.0224 | 26.6546
520013 | 1.4584 | 0.9684 | 26.6225 | 29.0018 | 30.1834 | 28.6561
520017 | 1.1205 | 0.9684 | 24.6677 | 28.4699 | 29.3278 | 27.4748
520019 | 1.3604 | 0.9684 | 26.7433 | 28.6971 | 29.8640 | 28.5157
520021 | 1.3020 | 1.0472 | 26.6935 | 28.4182 | 29.1129 | 28.1504
520027 | 1.3702 | 1.0296 | 27.6771 | 31.4284 | 32.4137 | 30.5716
520028 | 1.3503 | 1.0997 | 25.4164 | 26.7260 | 28.0813 | 26.7500
520030 | 1.7226 | 1.0005 | 27.0184 | 29.4678 | 30.5724 | 29.0613
520033 | 1.2658 | 0.9684 | 25.0853 | 28.0662 | 29.0236 | 27.5164
520034 | 1.2321 | 0.9684 | 23.9850 | 26.1094 | 26.8886 | 25.6368
520035 | 1.3581 | 0.9760 | 24.7767 | 27.3276 | 28.1048 | 26.7464
520037 | 1.8188 | 1.0005 | 29.7234 | 30.1799 | 32.2144 | 30.7303
520038 | 1.2391 | 1.0296 | 26.6470 | 29.3134 | 29.6339 | 28.5933
520040 | 1.2143 | 1.0296 | 27.2325 | 29.1262 | 31.2038 | 29.0319
520041 | 1.0701 | 1.1176 | 22.7595 | 23.5495 | 25.3764 | 23.9562
520044 | 1.3515 | 0.9760 | 26.0191 | 27.3685 | 28.2382 | 27.2573
520045 | 1.6629 | 0.9684 | 26.0030 | 27.3336 | 29.2556 | 27.5277
520048 | 1.5668 | 0.9684 | 25.1724 | 26.8080 | 29.1870 | 26.9823
520049 | 2.1335 | 0.9684 | 25.9256 | 26.9851 | 28.0936 | 26.9958
520051 | 1.5562 | 1.0296 | 28.4880 | 31.9949 | 31.5974 | 30.7556
520057 | 1.1727 | 0.9877 | 25.3745 | 27.7528 | 29.1158 | 27.4376
520059 | 1.3044 | 1.0583 | 28.0907 | 29.5801 | 30.4491 | 29.3858
520060 | 1.3697 | * | 23.8817 | 24.8638 | * | 24.3767
520062 | 1.2465 | 1.0296 | 28.2215 | 28.8510 | 32.8584 | 30.1184
520063 | 1.1373 | 1.0296 | 27.4100 | 29.0993 | 30.3391 | 28.9452
520064 | 1.5987 | 1.0296 | 28.6101 | 30.3225 | 31.5723 | 30.0470
520066 | 1.4379 | 0.9853 | 27.1657 | 29.2088 | 31.0644 | 29.1283
520068 | *** | * | 24.8184 | * | * | 24.8184
520070 | 1.7752 | 0.9684 | 24.8935 | 27.6771 | 28.2059 | 26.9824
520071 | 1.1683 | 1.0296 | 27.6202 | 30.0262 | 30.6930 | 29.4715
520075 | 1.5645 | 0.9684 | 27.1699 | 29.2920 | 30.1582 | 28.8342
520076 | 1.2406 | 1.0997 | 26.1697 | 27.3335 | 27.4423 | 26.9220
520078 | 1.5171 | 1.0296 | 27.5989 | 29.9837 | 31.6606 | 29.7283
520083 | 1.7370 | 1.1176 | 28.8407 | 30.8826 | 32.7728 | 30.8985
520087 | 1.7712 | 0.9699 | 27.3374 | 28.5810 | 30.5659 | 28.8732
520088 | 1.4096 | 0.9888 | 26.9936 | 30.7450 | 30.6657 | 29.5653
520089 | 1.5712 | 1.1176 | 30.0448 | 33.8793 | 33.4098 | 32.4835
520091 | 1.2971 | 0.9684 | 24.6320 | 25.4593 | 27.3442 | 25.8210
520094 | *** | * | 25.7567 | * | * | 25.7567
520095 | 1.2937 | 1.0997 | 26.7863 | 30.4216 | 32.0381 | 29.8120
520096 | 1.3783 | 0.9879 | 24.5758 | 27.8896 | 29.5985 | 27.4540
520097 | 1.3976 | 0.9684 | 26.3321 | 29.1479 | 29.9998 | 28.4877
520098 | 2.0355 | 1.1176 | 30.6150 | 32.5785 | 36.5776 | 33.3175
520100 | 1.2798 | 0.9853 | 26.2161 | 29.3243 | 29.9458 | 28.5050
520102 | 1.1728 | 1.0296 | 26.8234 | 29.1680 | 30.7990 | 28.9928
520103 | 1.5495 | 1.0296 | 27.9147 | 30.3165 | 32.6269 | 30.3612
520107 | 1.2792 | 0.9716 | 28.3431 | 28.9878 | 29.4178 | 28.9355
520109 | 1.0392 | 0.9684 | 23.3271 | 24.7228 | 25.0697 | 24.3762
520113 | 1.3272 | 0.9684 | 27.4135 | 31.4708 | 33.3475 | 30.7254
520116 | 1.2669 | 1.0296 | 26.9902 | 27.9688 | 30.2156 | 28.3945
520132 | *** | * | 23.1941 | 25.0006 | 27.3431 | 25.0308
520136 | 1.7249 | 1.0296 | 27.7703 | 30.6522 | 32.1479 | 30.1365
520138 | 1.8879 | 1.0296 | 28.4394 | 30.8016 | 31.6581 | 30.2963
520139 | 1.2893 | 1.0296 | 26.5110 | 28.8870 | 30.4903 | 28.6153
520140 | 0.3793 | * | 28.4433 | 31.0043 | 31.1315 | 30.2285
520152 | 1.0907 | * | 24.9392 | 29.7308 | * | 27.4042
520160 | 1.8662 | 0.9684 | 25.7588 | 27.9548 | 29.5582 | 27.7551
520170 | 1.4782 | 1.0296 | 27.2221 | 30.4309 | 31.4710 | 29.7190
520173 | 1.0829 | 0.9684 | 28.0995 | 29.2429 | 31.0599 | 29.4647
520177 | 1.6194 | 1.0296 | 30.7317 | 31.4555 | 32.5714 | 31.6050
520178 | 1.0240 | * | 20.2666 | * | * | 20.2666
520189 | 1.2042 | 1.0472 | 28.4720 | 28.0014 | 29.0295 | 28.4999
520193 | 1.7002 | 0.9684 | 26.0885 | 27.8113 | 29.2007 | 27.7865
520194 | 1.7148 | 1.0296 | 24.9408 | 30.1668 | 31.4379 | 28.8968
520195 | 0.3556 | 1.0296 | 36.6973 | 36.3116 | 36.2900 | 36.4369
520196 | 1.6798 | 0.9684 | 35.1043 | 36.9266 | 31.1175 | 34.0254
520197 | *** | * | * | * | 30.1917 | 30.1917
520198 | 1.4193 | 0.9684 | * | * | 28.5975 | 28.5975
520199 | 2.2776 | 1.0296 | * | * | 36.5699 | 36.5699
520200 | 0.9180 | * | * | * | * | *
520201 | 0.6866 | * | * | * | * | *
520202 | 1.4495 | 1.0005 | * | * | * | *
530002 | 1.1272 | 0.9164 | 26.8356 | 28.3063 | 29.2069 | 28.1167
530006 | 1.1827 | 0.9164 | 24.9318 | 27.2421 | 29.2104 | 27.0638
530007 | *** | * | 20.4391 | * | * | 20.4391
530008 | 1.1673 | 0.9164 | 23.8589 | 24.0090 | 26.5180 | 24.7926
530009 | 0.9202 | 0.9164 | 26.8316 | 24.6719 | 26.0490 | 25.8222
530010 | 1.3058 | 0.9164 | 25.8482 | 25.9852 | 27.4121 | 26.4402
530011 | 1.1124 | 0.9164 | 24.8245 | 27.8772 | 27.8613 | 26.9109
530012 | 1.7060 | 0.9271 | 25.2526 | 26.9582 | 28.7524 | 26.9862
530014 | 1.5520 | 0.9205 | 24.5947 | 26.7156 | 28.5469 | 26.6902
530015 | 1.1541 | 0.9273 | 27.6876 | 29.8310 | 29.8306 | 29.0860
530017 | 1.1052 | 0.9164 | 25.3362 | 29.8503 | 31.1105 | 28.7232
530023 | *** | * | 21.3813 | * | * | 21.3813
530025 | 1.2402 | 0.9164 | 28.6938 | 24.4392 | 29.4346 | 27.4317
530032 | 1.0159 | 0.9164 | 25.7728 | 23.9004 | 24.6580 | 24.7334
¹ Based on salaries adjusted occupational mix, according to the calculation in section II.D.6 of the preamble to this final rule.
² The case-mix index is based on the billed DRGs in the FY 2006 MedPAR file. It is not transfer adjusted.
* Denotes wage data not available for the provider for that year.
** Based on the sum of the salaries and hours computed for Federal FYs 2006, 2007, and 2008.
*** Denotes MedPAR data not available for the provider for FY 2006.
³ This provider, 140B10, is part of a multi-campus provider, 140010, that is comprised of campuses that are located in two different CBSAs. For the FY 2008 wage index, a new provider record was created, designated with a “B” in the 4th position of the provider number, to distinguish between the portion of the wages and hours of the multi-campus facility that is being allocated between the two different CBSAs. Please refer to the FY 2008 final rule, section III.H.I.7 “Geographic Reclassification for Multi-campus Hospitals,” for more details on this provision.
⁴ This provider, 220B74, is part of a multi-campus provider, 220074, that is comprised of campuses that are located in two different CBSAs. For the FY 2008 wage index, a new provider record was created, designated with a “B” in the 4th position of the provider number, to distinguish between the portion of the wages and hours of the multi-campus facility that is being allocated between the two different CBSAs. Please refer to the FY 2008 final rule, section III.H.I.7 “Geographic Reclassification for Multi-campus Hospitals,” for more details on this provision.

14. On pages 47503 through 47526, in Table 4A.—Wage Index and Capital Geographic Adjustment Factor (GAF) for Urban Areas by CBSA—FY 2008, the table is corrected to read as follows:

Table 4A.—Wage Index and Capital Geographic Adjustment Factor (GAF) for Urban Areas by CBSA—FY 2008
CBSA code | Urban area (constituent counties) | Wage index | GAF
10180 | Abilene, TX | 0.8241 | 0.8759
| Callahan County, TX
| Jones County, TX
| Taylor County, TX
10380 | Aguadilla-Isabela-San Sebastián, PR | 0.3345 | 0.4724
| Aguada Municipio, PR
| Aguadilla Municipio, PR
| Añasco Municipio, PR
| Isabela Municipio, PR
| Lares Municipio, PR
| Moca Municipio, PR
| Rincón Municipio, PR
| San Sebastián Municipio, PR
10420 | Akron, OH | 0.8700 | 0.9090
| Portage County, OH
| Summit County, OH
10500 | Albany, GA | 0.8667 | 0.9067
| Baker County, GA
| Dougherty County, GA
| Lee County, GA
| Terrell County, GA
| Worth County, GA
10580 | Albany-Schenectady-Troy, NY | 0.8668 | 0.9067
| Albany County, NY
| Rensselaer County, NY
| Saratoga County, NY
| Schenectady County, NY
| Schoharie County, NY
10740 | Albuquerque, NM | 0.9726 | 0.9812
| Bernalillo County, NM
| Sandoval County, NM
| Torrance County, NM
| Valencia County, NM
10780 | Alexandria, LA | 0.7978 | 0.8567
| Grant Parish, LA
| Rapides Parish, LA
10900 | Allentown-Bethlehem-Easton, PA-NJ (PA Hospitals) | 1.0004 | 1.0003
| Warren County, NJ
| Carbon County, PA
| Lehigh County, PA
| Northampton County, PA
10900 | ² Allentown-Bethlehem-Easton, PA-NJ (NJ Hospitals) | 1.1617 | 1.1081
| Warren County, NJ
| Carbon County, PA
| Lehigh County, PA
| Northampton County, PA
11020 | ² Altoona, PA | 0.8350 | 0.8838
| Blair County, PA
11100 | Amarillo, TX | 0.9152 | 0.9411
| Armstrong County, TX
| Carson County, TX
| Potter County, TX
| Randall County, TX
11180 | Ames, IA | 0.9976 | 0.9984
| Story County, IA
11260 | ² Anchorage, AK | 1.2084 | 1.1384
| Anchorage Municipality, AK
| Matanuska-Susitna Borough, AK
11300 | Anderson, IN | 0.8965 | 0.9279
| Madison County, IN
11340 | Anderson, SC | 0.9209 | 0.9451
| Anderson County, SC
11460 | Ann Arbor, MI | 1.0499 | 1.0339
| Washtenaw County, MI
11500 | Anniston-Oxford, AL | 0.7976 | 0.8565
| Calhoun County, AL
11540 | ² Appleton, WI | 0.9684 | 0.9783
| Calumet County, WI
| Outagamie County, WI
11700 | Asheville, NC | 0.9202 | 0.9446
| Buncombe County, NC
| Haywood County, NC
| Henderson County, NC
| Madison County, NC
12020 | Athens-Clarke County, GA | 0.9997 | 0.9998
| Clarke County, GA
| Madison County, GA
| Oconee County, GA
| Oglethorpe County, GA
12060 | ¹ Atlanta-Sandy Springs-Marietta, GA | 0.9813 | 0.9872
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ | 1.2064 | 1.1371
| Atlantic County, NJ
12220 | Auburn-Opelika, AL | 0.8076 | 0.8639
| Lee County, AL
12260 | Augusta-Richmond County, GA-SC | 0.9599 | 0.9724
| Burke County, GA
| Columbia County, GA
| McDuffie County, GA
| Richmond County, GA
| Aiken County, SC
| Edgefield County, SC
12420 | ¹ Austin-Round Rock, TX | 0.9502 | 0.9656
| Bastrop County, TX
| Caldwell County, TX
| Hays County, TX
| Travis County, TX
| Williamson County, TX
12540 | ² Bakersfield, CA | 1.1736 | 1.1159
| Kern County, CA
12580 | ¹ Baltimore-Towson, MD | 1.0031 | 1.0021
| Anne Arundel County, MD
| Baltimore County, MD
| Carroll County, MD
| Harford County, MD
| Howard County, MD
| Queen Anne's County, MD
| Baltimore City, MD
12620 | Bangor, ME | 0.9882 | 0.9919
| Penobscot County, ME
12700 | Barnstable Town, MA | 1.2612 | 1.1722
| Barnstable County, MA
12940 | Baton Rouge, LA | 0.8010 | 0.8590
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 1.0053 | 1.0036
| Calhoun County, MI
13020 | Bay City, MI | 0.9394 | 0.9581
| Bay County, MI
13140 | Beaumont-Port Arthur, TX | 0.8616 | 0.9030
| Hardin County, TX
| Jefferson County, TX
| Orange County, TX
13380 | Bellingham, WA | 1.1258 | 1.0845
| Whatcom County, WA
13460 | Bend, OR | 1.0586 | 1.0398
| Deschutes County, OR
13644 | ¹ Bethesda-Gaithersburg-Frederick, MD | 1.1017 | 1.0686
| Frederick County, MD
| Montgomery County, MD
13740 | Billings, MT | 0.8871 | 0.9212
| Carbon County, MT
| Yellowstone County, MT
13780 | Binghamton, NY | 0.9068 | 0.9352
| Broome County, NY
| Tioga County, NY
13820 | ¹ Birmingham-Hoover, AL | 0.8856 | 0.9202
| Bibb County, AL
| Blount County, AL
| Chilton County, AL
| Jefferson County, AL
| St. Clair County, AL
| Shelby County, AL
| Walker County, AL
13900 | Bismarck, ND | 0.7311 | 0.8070
| Burleigh County, ND
| Morton County, ND
13980 | Blacksburg-Christiansburg-Radford, VA | 0.8129 | 0.8677
| Giles County, VA
| Montgomery County, VA
| Pulaski County, VA
| Radford City, VA
14020 | Bloomington, IN | 0.9324 | 0.9532
| Greene County, IN
| Monroe County, IN
| Owen County, IN
14060 | Bloomington-Normal, IL | 0.9484 | 0.9644
| McLean County, IL
14260 | Boise City-Nampa, ID | 0.9497 | 0.9653
| Ada County, ID
| Boise County, ID
| Canyon County, ID
| Gem County, ID
| Owyhee County, ID
14484 | ¹ Boston-Quincy, MA | 1.1844 | 1.1229
| Norfolk County, MA
| Plymouth County, MA
| Suffolk County, MA
14500 | Boulder, CO | 1.0110 | 1.0075
| Boulder County, CO
14540 | Bowling Green, KY | 0.8086 | 0.8646
| Edmonson County, KY
| Warren County, KY
14740 | Bremerton-Silverdale, WA | 1.0821 | 1.0555
| Kitsap County, WA
14860 | Bridgeport-Stamford-Norwalk, CT | 1.2779 | 1.1828
| Fairfield County, CT
15180 | Brownsville-Harlingen, TX | 0.9193 | 0.9440
| Cameron County, TX
15260 | Brunswick, GA | 0.9765 | 0.9838
| Brantley County, GA
| Glynn County, GA
| McIntosh County, GA
15380 | ¹ Buffalo-Niagara Falls, NY | 0.9589 | 0.9717
| Erie County, NY
| Niagara County, NY
15500 | ² Burlington, NC | 0.8604 | 0.9022
| Alamance County, NC
15540 | ² Burlington-South Burlington, VT | 1.0388 | 1.0264
| Chittenden County, VT
| Franklin County, VT
| Grand Isle County, VT
15764 | ¹ Cambridge-Newton-Framingham, MA | 1.1217 | 1.0818
| Middlesex County, MA
15804 | ¹ ² Camden, NJ | 1.1617 | 1.1081
| Burlington County, NJ
| Camden County, NJ
| Gloucester County, NJ
15940 | Canton-Massillon, OH | 0.8918 | 0.9246
| Carroll County, OH
| Stark County, OH
15980 | Cape Coral-Fort Myers, FL | 0.9486 | 0.9645
| Lee County, FL
16180 | ² Carson City, NV | 0.9702 | 0.9795
| Carson City, NV
16220 | Casper, WY | 0.9271 | 0.9495
| Natrona County, WY
16300 | Cedar Rapids, IA | 0.8685 | 0.9080
| Benton County, IA
| Jones County, IA
| Linn County, IA
16580 | Champaign-Urbana, IL | 0.9316 | 0.9526
| Champaign County, IL
| Ford County, IL
| Piatt County, IL
16620 | Charleston, WV | 0.8394 | 0.8870
| Boone County, WV
| Clay County, WV
| Kanawha County, WV
| Lincoln County, WV
| Putnam County, WV
16700 | Charleston-North Charleston, SC | 0.9102 | 0.9376
| Berkeley County, SC
| Charleston County, SC
| Dorchester County, SC
16740 | ¹ Charlotte-Gastonia-Concord, NC-SC | 0.9506 | 0.9659
| Anson County, NC
| Cabarrus County, NC
| Gaston County, NC
| Mecklenburg County, NC
| Union County, NC
| York County, SC
16820 | Charlottesville, VA | 0.9161 | 0.9418
| Albemarle County, VA
| Fluvanna County, VA
| Greene County, VA
| Nelson County, VA
| Charlottesville City, VA
16860 | Chattanooga, TN-GA | 0.8963 | 0.9278
| Catoosa County, GA
| Dade County, GA
| Walker County, GA
| Hamilton County, TN
| Marion County, TN
| Sequatchie County, TN
16940 | Cheyenne, WY | 0.9205 | 0.9449
| Laramie County, WY
16974 | ¹ Chicago-Naperville-Joliet, IL | 1.0588 | 1.0399
| Cook County, IL
| DeKalb County, IL
| DuPage County, IL
| Grundy County, IL
| Kane County, IL
| Kendall County, IL
| McHenry County, IL
| Will County, IL
17020 | ² Chico, CA | 1.1736 | 1.1159
| Butte County, CA
17140 | ¹ Cincinnati-Middletown, OH-KY-IN | 0.9661 | 0.9767
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY | 0.8219 | 0.8743
| Christian County, KY
| Trigg County, KY
| Montgomery County, TN
| Stewart County, TN
17420 | Cleveland, TN | 0.8171 | 0.8708
| Bradley County, TN
| Polk County, TN
17460 | ¹ Cleveland-Elyria-Mentor, OH | 0.9345 | 0.9547
| Cuyahoga County, OH
| Geauga County, OH
| Lake County, OH
| Lorain County, OH
| Medina County, OH
17660 | Coeur d'Alene, ID | 0.9355 | 0.9554
| Kootenai County, ID
17780 | College Station-Bryan, TX | 0.9172 | 0.9425
| Brazos County, TX
| Burleson County, TX
| Robertson County, TX
17820 | Colorado Springs, CO | 0.9467 | 0.9632
| El Paso County, CO
| Teller County, CO
17860 | Columbia, MO | 0.8538 | 0.8974
| Boone County, MO
| Howard County, MO
17900 | Columbia, SC | 0.8830 | 0.9183
| Calhoun County, SC
| Fairfield County, SC
| Kershaw County, SC
| Lexington County, SC
| Richland County, SC
| Saluda County, SC
17980 | Columbus, GA-AL | 0.9020 | 0.9318
| Russell County, AL
| Chattahoochee County, GA
| Harris County, GA
| Marion County, GA
| Muscogee County, GA
18020 | Columbus, IN | 0.9626 | 0.9742
| Bartholomew County, IN
18140 | ¹ Columbus, OH | 1.0025 | 1.0017
| Delaware County, OH
| Fairfield County, OH
| Franklin County, OH
| Licking County, OH
| Madison County, OH
| Morrow County, OH
| Pickaway County, OH
| Union County, OH
18580 | Corpus Christi, TX | 0.8456 | 0.8915
| Aransas County, TX
| Nueces County, TX
| San Patricio County, TX
18700 | Corvallis, OR | 1.0702 | 1.0476
| Benton County, OR
19060 | ² Cumberland, MD-WV (MD Hospitals) | 0.8912 | 0.9242
| Allegany County, MD
| Mineral County, WV
19060 | Cumberland, MD-WV (WV Hospitals) | 0.7963 | 0.8556
| Allegany County, MD
| Mineral County, WV
19124 | ¹ Dallas-Plano-Irving, TX | 0.9786 | 0.9853
| Collin County, TX
| Dallas County, TX
| Delta County, TX
| Denton County, TX
| Ellis County, TX
| Hunt County, TX
| Kaufman County, TX
| Rockwall County, TX
19140 | Dalton, GA | 0.8583 | 0.9007
| Murray County, GA
| Whitfield County, GA
19180 | Danville, IL | 0.9245 | 0.9477
| Vermilion County, IL
19260 | Danville, VA | 0.8297 | 0.8800
| Pittsylvania County, VA
| Danville City, VA
19340 | Davenport-Moline-Rock Island, IA-IL | 0.8894 | 0.9229
| Henry County, IL
| Mercer County, IL
| Rock Island County, IL
| Scott County, IA
19380 | Dayton, OH | 0.9279 | 0.9500
| Greene County, OH
| Miami County, OH
| Montgomery County, OH
| Preble County, OH
19460 | Decatur, AL | 0.7832 | 0.8459
| Lawrence County, AL
| Morgan County, AL
19500 | ² Decatur, IL | 0.8346 | 0.8835
| Macon County, IL
19660 | Deltona-Daytona Beach-Ormond Beach, FL | 0.8944 | 0.9264
| Volusia County, FL
19740 | ¹ Denver-Aurora, CO | 1.0455 | 1.0309
| Adams County, CO
| Arapahoe County, CO
| Broomfield County, CO
| Clear Creek County, CO
| Denver County, CO
| Douglas County, CO
| Elbert County, CO
| Gilpin County, CO
| Jefferson County, CO
| Park County, CO
19780 | Des Moines-West Des Moines, IA | 0.9158 | 0.9415
| Dallas County, IA
| Guthrie County, IA
| Madison County, IA
| Polk County, IA
| Warren County, IA
19804 | ¹ Detroit-Livonia-Dearborn, MI | 1.0096 | 1.0066
| Wayne County, MI
20020 | ² Dothan, AL | 0.7567 | 0.8262
| Geneva County, AL
| Henry County, AL
| Houston County, AL
20100 | Dover, DE | 1.0397 | 1.0270
| Kent County, DE
20220 | Dubuque, IA | 0.8876 | 0.9216
| Dubuque County, IA
20260 | Duluth, MN-WI | 1.0082 | 1.0056
| Carlton County, MN
| St. Louis County, MN
| Douglas County, WI
20500 | Durham, NC | 0.9739 | 0.9821
| Chatham County, NC
| Durham County, NC
| Orange County, NC
| Person County, NC
20740 | ² Eau Claire, WI | 0.9684 | 0.9783
| Chippewa County, WI
| Eau Claire County, WI
20764 | ¹,² Edison, NJ | 1.1617 | 1.1081
| Middlesex County, NJ
| Monmouth County, NJ
| Ocean County, NJ
| Somerset County, NJ
20940 | ² El Centro, CA | 1.1736 | 1.1159
| Imperial County, CA
21060 | Elizabethtown, KY | 0.8618 | 0.9032
| Hardin County, KY
| Larue County, KY
21140 | Elkhart-Goshen, IN | 0.9541 | 0.9683
| Elkhart County, IN
21300 | ² Elmira, NY | 0.8352 | 0.8840
| Chemung County, NY
21340 | El Paso, TX | 0.9141 | 0.9403
| El Paso County, TX
21500 | Erie, PA | 0.8503 | 0.8949
| Erie County, PA
21660 | Eugene-Springfield, OR | 1.1003 | 1.0676
| Lane County, OR
21780 | ² Evansville, IN-KY (IN Hospitals) | 0.8569 | 0.8996
| Gibson County, IN
| Posey County, IN
| Vanderburgh County, IN
| Warrick County, IN
| Henderson County, KY
| Webster County, KY
21780 | Evansville, IN-KY (KY Hospitals) | 0.8465 | 0.8922
| Gibson County, IN
| Posey County, IN
| Vanderburgh County, IN
| Warrick County, IN
| Henderson County, KY
| Webster County, KY
21820 | ² Fairbanks, AK | 1.2084 | 1.1384
| Fairbanks North Star Borough, AK
21940 | Fajardo, PR | 0.4366 | 0.5669
| Ceiba Municipio, PR
| Fajardo Municipio, PR
| Luquillo Municipio, PR
22020 | ² Fargo, ND-MN (MN Hospitals) | 0.9114 | 0.9384
| Clay County, MN
| Cass County, ND
22020 | Fargo, ND-MN (ND Hospitals) | 0.7944 | 0.8542
| Clay County, MN
| Cass County, ND
22140 | Farmington, NM | 0.9283 | 0.9503
| San Juan County, NM
22180 | Fayetteville, NC | 0.9918 | 0.9944
| Cumberland County, NC
| Hoke County, NC
22220 | Fayetteville-Springdale-Rogers, AR-MO | 0.8872 | 0.9213
| Benton County, AR
| Madison County, AR
| Washington County, AR
| McDonald County, MO
22380 | Flagstaff, AZ | 1.1552 | 1.1038
| Coconino County, AZ
22420 | Flint, MI | 1.1013 | 1.0683
| Genesee County, MI
22500 | ² Florence, SC | 0.8708 | 0.9096
| Darlington County, SC
| Florence County, SC
22520 | Florence-Muscle Shoals, AL | 0.7693 | 0.8356
| Colbert County, AL
| Lauderdale County, AL
22540 | Fond du Lac, WI | 0.9888 | 0.9923
| Fond du Lac County, WI
22660 | Fort Collins-Loveland, CO | 0.9580 | 0.9710
| Larimer County, CO
22744 | ¹ Fort Lauderdale-Pompano Beach-Deerfield Beach, FL | 1.0248 | 1.0169
| Broward County, FL
22900 | Fort Smith, AR-OK | 0.8053 | 0.8622
| Crawford County, AR
| Franklin County, AR
| Sebastian County, AR
| Le Flore County, OK
| Sequoyah County, OK
23020 | ² Fort Walton Beach-Crestview-Destin, FL | 0.8733 | 0.9114
| Okaloosa County, FL
23060 | Fort Wayne, IN | 0.9041 | 0.9333
| Allen County, IN
| Wells County, IN
| Whitley County, IN
23104 | ¹ Fort Worth-Arlington, TX | 0.9637 | 0.9750
| Johnson County, TX
| Parker County, TX
| Tarrant County, TX
| Wise County, TX
23420 | ² Fresno, CA | 1.1736 | 1.1159
| Fresno County, CA
23460 | Gadsden, AL | 0.8144 | 0.8688
| Etowah County, AL
23540 | Gainesville, FL | 0.9302 | 0.9517
| Alachua County, FL
| Gilchrist County, FL
23580 | Gainesville, GA | 0.9419 | 0.9598
| Hall County, GA
23844 | Gary, IN | 0.9242 | 0.9475
| Jasper County, IN
| Lake County, IN
| Newton County, IN
| Porter County, IN
24020 | Glens Falls, NY | 0.8523 | 0.8963
| Warren County, NY
| Washington County, NY
24140 | Goldsboro, NC | 0.9272 | 0.9496
| Wayne County, NC
24220 | ² Grand Forks, ND-MN (MN Hospitals) | 0.9114 | 0.9384
| Polk County, MN
| Grand Forks County, ND
24220 | Grand Forks, ND-MN (ND Hospitals) | 0.8049 | 0.8619
| Polk County, MN
| Grand Forks County, ND
24300 | Grand Junction, CO | 1.0136 | 1.0093
| Mesa County, CO
24340 | Grand Rapids-Wyoming, MI | 0.9374 | 0.9567
| Barry County, MI
| Ionia County, MI
| Kent County, MI
| Newaygo County, MI
24500 | Great Falls, MT | 0.8761 | 0.9134
| Cascade County, MT
24540 | Greeley, CO | 0.9996 | 0.9997
| Weld County, CO
24580 | ² Green Bay, WI | 0.9684 | 0.9783
| Brown County, WI
| Kewaunee County, WI
| Oconto County, WI
24660 | Greensboro-High Point, NC | 0.9107 | 0.9380
| Guilford County, NC
| Randolph County, NC
| Rockingham County, NC
24780 | Greenville, NC | 0.9268 | 0.9493
| Greene County, NC
| Pitt County, NC
24860 | Greenville-Mauldin-Easley, SC | 0.9637 | 0.9750
| Greenville County, SC
| Laurens County, SC
| Pickens County, SC
25020 | Guayama, PR | 0.2944 | 0.4328
| Arroyo Municipio, PR
| Guayama Municipio, PR
| Patillas Municipio, PR
25060 | Gulfport-Biloxi, MS | 0.8608 | 0.9024
| Hancock County, MS
| Harrison County, MS
| Stone County, MS
25180 | Hagerstown-Martinsburg, MD-WV | 0.9256 | 0.9484
| Washington County, MD
| Berkeley County, WV
| Morgan County, WV
25260 | ² Hanford-Corcoran, CA | 1.1736 | 1.1159
| Kings County, CA
25420 | Harrisburg-Carlisle, PA | 0.9231 | 0.9467
| Cumberland County, PA
| Dauphin County, PA
| Perry County, PA
25500 | Harrisonburg, VA | 0.8896 | 0.9230
| Rockingham County, VA
| Harrisonburg City, VA
25540 | ¹ ² Hartford-West Hartford-East Hartford, CT | 1.2433 | 1.1608
| Hartford County, CT
| Middlesex County, CT
| Tolland County, CT
25620 | ² Hattiesburg, MS | 0.7752 | 0.8400
| Forrest County, MS
| Lamar County, MS
| Perry County, MS
25860 | Hickory-Lenoir-Morganton, NC | 0.8973 | 0.9285
| Alexander County, NC
| Burke County, NC
| Caldwell County, NC
| Catawba County, NC
25980 | Hinesville-Fort Stewart, GA | 0.7861 | 0.8481
| Liberty County, GA
| Long County, GA
26100 | Holland-Grand Haven, MI | 0.9063 | 0.9348
| Ottawa County, MI
26180 | Honolulu, HI | 1.1306 | 1.0877
| Honolulu County, HI
26300 | Hot Springs, AR | 0.9106 | 0.9379
| Garland County, AR
26380 | Houma-Bayou Cane-Thibodaux, LA | 0.7976 | 0.8565
| Lafourche Parish, LA
| Terrebonne Parish, LA
26420 | ¹ Houston-Sugar Land-Baytown, TX | 0.9997 | 0.9998
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 0.8879 | 0.9218
| Boyd County, KY
| Greenup County, KY
| Lawrence County, OH
| Cabell County, WV
| Wayne County, WV
26620 | Huntsville, AL | 0.9018 | 0.9317
| Limestone County, AL
| Madison County, AL
26820 | Idaho Falls, ID | 0.9273 | 0.9496
| Bonneville County, ID
| Jefferson County, ID
26900 | ¹ Indianapolis-Carmel, IN | 0.9718 | 0.9806
| Boone County, IN
| Brown County, IN
| Hamilton County, IN
| Hancock County, IN
| Hendricks County, IN
| Johnson County, IN
| Marion County, IN
| Morgan County, IN
| Putnam County, IN
| Shelby County, IN
26980 | Iowa City, IA | 0.9424 | 0.9602
| Johnson County, IA
| Washington County, IA
27060 | Ithaca, NY | 0.9710 | 0.9800
| Tompkins County, NY
27100 | Jackson, MI | 0.9461 | 0.9628
| Jackson County, MI
27140 | Jackson, MS | 0.7951 | 0.8547
| Copiah County, MS
| Hinds County, MS
| Madison County, MS
| Rankin County, MS
| Simpson County, MS
27180 | Jackson, TN | 0.8592 | 0.9013
| Chester County, TN
| Madison County, TN
27260 | ¹ Jacksonville, FL | 0.9089 | 0.9367
| Baker County, FL
| Clay County, FL
| Duval County, FL
| Nassau County, FL
| St. Johns County, FL
27340 | ² Jacksonville, NC | 0.8604 | 0.9022
| Onslow County, NC
27500 | Janesville, WI | 0.9853 | 0.9899
| Rock County, WI
27620 | Jefferson City, MO | 0.8703 | 0.9093
| Callaway County, MO
| Cole County, MO
| Moniteau County, MO
| Osage County, MO
27740 | ² Johnson City, TN | 0.7918 | 0.8523
| Carter County, TN
| Unicoi County, TN
| Washington County, TN
27780 | ² Johnstown, PA | 0.8339 | 0.8830
| Cambria County, PA
27860 | Jonesboro, AR | 0.8503 | 0.8949
| Craighead County, AR
| Poinsett County, AR
27900 | Joplin, MO | 0.9212 | 0.9453
| Jasper County, MO
| Newton County, MO
28020 | Kalamazoo-Portage, MI | 1.0501 | 1.0340
| Kalamazoo County, MI
| Van Buren County, MI
28100 | Kankakee-Bradley, IL | 1.0145 | 1.0099
| Kankakee County, IL
28140 | ¹ Kansas City, MO-KS | 0.9319 | 0.9528
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | ² Kennewick-Richland-Pasco, WA | 1.0559 | 1.0380
| Benton County, WA
| Franklin County, WA
28660 | Killeen-Temple-Fort Hood, TX | 0.8304 | 0.8805
| Bell County, TX
| Coryell County, TX
| Lampasas County, TX
28700 | ² Kingsport-Bristol-Bristol, TN-VA (VA Hospitals) | 0.8074 | 0.8637
| Hawkins County, TN
| Sullivan County, TN
| Bristol City, VA
| Scott County, VA
| Washington County, VA
28700 | ² Kingsport-Bristol-Bristol, TN-VA (TN Hospitals) | 0.7918 | 0.8523
| Hawkins County, TN
| Sullivan County, TN
| Bristol City, VA
| Scott County, VA
| Washington County, VA
28740 | Kingston, NY | 0.9579 | 0.9710
| Ulster County, NY
28940 | Knoxville, TN | 0.8013 | 0.8592
| Anderson County, TN
| Blount County, TN
| Knox County, TN
| Loudon County, TN
| Union County, TN
29020 | Kokomo, IN | 0.9464 | 0.9630
| Howard County, IN
| Tipton County, IN
29100 | La Crosse, WI-MN | 0.9699 | 0.9793
| Houston County, MN
| La Crosse County, WI
29140 | Lafayette, IN | 0.8677 | 0.9074
| Benton County, IN
| Carroll County, IN
| Tippecanoe County, IN
29180 | Lafayette, LA | 0.8323 | 0.8819
| Lafayette Parish, LA
| St. Martin Parish, LA
29340 | Lake Charles, LA | 0.7784 | 0.8424
| Calcasieu Parish, LA
| Cameron Parish, LA
29404 | Lake County-Kenosha County, IL-WI | 1.0583 | 1.0396
| Lake County, IL
| Kenosha County, WI
29420 | Lake Havasu City-Kingman, AZ | 0.9334 | 0.9539
| Mohave County, AZ
29460 | Lakeland, FL | 0.8835 | 0.9187
| Polk County, FL
29540 | Lancaster, PA | 0.9650 | 0.9759
| Lancaster County, PA
29620 | Lansing-East Lansing, MI | 1.0048 | 1.0033
| Clinton County, MI
| Eaton County, MI
| Ingham County, MI
29700 | Laredo, TX | 0.8501 | 0.8947
| Webb County, TX
29740 | ² Las Cruces, NM | 0.8966 | 0.9280
| Dona Ana County, NM
29820 | ¹ Las Vegas-Paradise, NV | 1.1453 | 1.0974
| Clark County, NV
29940 | Lawrence, KS | 0.8170 | 0.8707
| Douglas County, KS
30020 | Lawton, OK | 0.8406 | 0.8879
| Comanche County, OK
30140 | ² Lebanon, PA | 0.8339 | 0.8830
| Lebanon County, PA
30300 | ² Lewiston, ID-WA (WA Hospitals) | 1.0559 | 1.0380
| Nez Perce County, ID
| Asotin County, WA
30300 | Lewiston, ID-WA (ID Hospitals) | 0.9226 | 0.9463
| Nez Perce County, ID
| Asotin County, WA
30340 | Lewiston-Auburn, ME | 0.9290 | 0.9508
| Androscoggin County, ME
30460 | Lexington-Fayette, KY | 0.9003 | 0.9306
| Bourbon County, KY
| Clark County, KY
| Fayette County, KY
| Jessamine County, KY
| Scott County, KY
| Woodford County, KY
30620 | Lima, OH | 0.9308 | 0.9521
| Allen County, OH
30700 | Lincoln, NE | 0.9873 | 0.9913
| Lancaster County, NE
| Seward County, NE
30780 | Little Rock-North Little Rock-Conway, AR | 0.8961 | 0.9276
| Faulkner County, AR
| Grant County, AR
| Lonoke County, AR
| Perry County, AR
| Pulaski County, AR
| Saline County, AR
30860 | Logan, UT-ID | 0.9215 | 0.9456
| Franklin County, ID
| Cache County, UT
30980 | Longview, TX | 0.8872 | 0.9213
| Gregg County, TX
| Rusk County, TX
| Upshur County, TX
31020 | Longview, WA | 1.1028 | 1.0693
| Cowlitz County, WA
31084 | ¹ ² Los Angeles-Long Beach-Glendale, CA | 1.1736 | 1.1159
| Los Angeles County, CA
31140 | ¹ Louisville-Jefferson County, KY-IN | 0.9030 | 0.9325
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.8642 | 0.9049
| Crosby County, TX
| Lubbock County, TX
31340 | Lynchburg, VA | 0.8606 | 0.9023
| Amherst County, VA
| Appomattox County, VA
| Bedford County, VA
| Campbell County, VA
| Bedford City, VA
| Lynchburg City, VA
31420 | Macon, GA | 0.9749 | 0.9827
| Bibb County, GA
| Crawford County, GA
| Jones County, GA
| Monroe County, GA
| Twiggs County, GA
31460 | ² Madera, CA | 1.1736 | 1.1159
| Madera County, CA
31540 | Madison, WI | 1.1176 | 1.0791
| Columbia County, WI
| Dane County, WI
| Iowa County, WI
31700 | ² Manchester-Nashua, NH | 1.1260 | 1.0847
| Hillsborough County, NH
31900 | Mansfield, OH | 0.9210 | 0.9452
| Richland County, OH
32420 | Mayagüez, PR | 0.3657 | 0.5021
| Hormigueros Municipio, PR
| Mayagüez Municipio, PR
32580 | McAllen-Edinburg-Mission, TX | 0.9136 | 0.9400
| Hidalgo County, TX
32780 | Medford, OR | 1.0298 | 1.0203
| Jackson County, OR
32820 | ¹ Memphis, TN-MS-AR | 0.9314 | 0.9525
| Crittenden County, AR
| DeSoto County, MS
| Marshall County, MS
| Tate County, MS
| Tunica County, MS
| Fayette County, TN
| Shelby County, TN
| Tipton County, TN
32900 | Merced, CA | 1.1981 | 1.1318
| Merced County, CA
33124 | ¹ Miami-Miami Beach-Kendall, FL | 1.0009 | 1.0006
| Miami-Dade County, FL
33140 | Michigan City-La Porte, IN | 0.8786 | 0.9152
| LaPorte County, IN
33260 | Midland, TX | 0.9712 | 0.9802
| Midland County, TX
33340 | ¹ Milwaukee-Waukesha-West Allis, WI | 1.0296 | 1.0202
| Milwaukee County, WI
| Ozaukee County, WI
| Washington County, WI
| Waukesha County, WI
33460 | ¹ Minneapolis-St. Paul-Bloomington, MN-WI | 1.0897 | 1.0606
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 0.8738 | 0.9118
| Missoula County, MT
33660 | Mobile, AL | 0.7948 | 0.8545
| Mobile County, AL
33700 | Modesto, CA | 1.2020 | 1.1343
| Stanislaus County, CA
33740 | Monroe, LA | 0.7869 | 0.8486
| Ouachita Parish, LA
| Union Parish, LA
33780 | Monroe, MI | 0.9470 | 0.9634
| Monroe County, MI
33860 | Montgomery, AL | 0.8112 | 0.8665
| Autauga County, AL
| Elmore County, AL
| Lowndes County, AL
| Montgomery County, AL
34060 | Morgantown, WV | 0.8408 | 0.8880
| Monongalia County, WV
| Preston County, WV
34100 | ² Morristown, TN | 0.7918 | 0.8523
| Grainger County, TN
| Hamblen County, TN
| Jefferson County, TN
34580 | ² Mount Vernon-Anacortes, WA | 1.0559 | 1.0380
| Skagit County, WA
34620 | ² Muncie, IN | 0.8569 | 0.8996
| Delaware County, IN
34740 | Muskegon-Norton Shores, MI | 0.9968 | 0.9978
| Muskegon County, MI
34820 | ² Myrtle Beach-Conway-North Myrtle Beach, SC | 0.8708 | 0.9096
| Horry County, SC
34900 | Napa, CA | 1.3960 | 1.2567
| Napa County, CA
34940 | Naples-Marco Island, FL | 0.9619 | 0.9737
| Collier County, FL
34980 | ¹ Nashville-Davidson-Murfreesboro-Franklin, TN | 0.9619 | 0.9737
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35004 | ¹ Nassau-Suffolk, NY | 1.2878 | 1.1891
| Nassau County, NY
| Suffolk County, NY
35084 | ¹ Newark-Union, NJ-PA | 1.1674 | 1.1118
| Essex County, NJ
| Hunterdon County, NJ
| Morris County, NJ
| Sussex County, NJ
| Union County, NJ
| Pike County, PA
35300 | ² New Haven-Milford, CT | 1.2433 | 1.1608
| New Haven County, CT
35380 | ¹ New Orleans-Metairie-Kenner, LA | 0.8712 | 0.9099
| Jefferson Parish, LA
| Orleans Parish, LA
| Plaquemines Parish, LA
| St. Bernard Parish, LA
| St. Charles Parish, LA
| St. John the Baptist Parish, LA
| St. Tammany Parish, LA
35644 | ¹ New York-White Plains-Wayne, NY-NJ | 1.3230 | 1.2113
| Bergen County, NJ
| Hudson County, NJ
| Passaic County, NJ
| Bronx County, NY
| Kings County, NY
| New York County, NY
| Putnam County, NY
| Queens County, NY
| Richmond County, NY
| Rockland County, NY
| Westchester County, NY
35660 | Niles-Benton Harbor, MI | 0.9134 | 0.9399
| Berrien County, MI
35980 | ² Norwich-New London, CT | 1.2433 | 1.1608
| New London County, CT
36084 | ¹ Oakland-Fremont-Hayward, CA | 1.5344 | 1.3407
| Alameda County, CA
| Contra Costa County, CA
36100 | ² Ocala, FL | 0.8733 | 0.9114
| Marion County, FL
36140 | ² Ocean City, NJ | 1.1617 | 1.1081
| Cape May County, NJ
36220 | Odessa, TX | 0.9954 | 0.9968
| Ector County, TX
36260 | Ogden-Clearfield, UT | 0.9053 | 0.9341
| Davis County, UT
| Morgan County, UT
| Weber County, UT
36420 | ¹ Oklahoma City, OK | 0.8754 | 0.9129
| Canadian County, OK
| Cleveland County, OK
| Grady County, OK
| Lincoln County, OK
| Logan County, OK
| McClain County, OK
| Oklahoma County, OK
36500 | Olympia, WA | 1.1420 | 1.0952
| Thurston County, WA
36540 | Omaha-Council Bluffs, NE-IA | 0.9474 | 0.9637
| Harrison County, IA
| Mills County, IA
| Pottawattamie County, IA
| Cass County, NE
| Douglas County, NE
| Sarpy County, NE
| Saunders County, NE
| Washington County, NE
36740 | ¹ Orlando-Kissimmee, FL | 0.9285 | 0.9505
| Lake County, FL
| Orange County, FL
| Osceola County, FL
| Seminole County, FL
36780 | ² Oshkosh-Neenah, WI | 0.9684 | 0.9783
| Winnebago County, WI
36980 | Owensboro, KY | 0.8698 | 0.9089
| Daviess County, KY
| Hancock County, KY
| McLean County, KY
37100 | ² Oxnard-Thousand Oaks-Ventura, CA | 1.1736 | 1.1159
| Ventura County, CA
37340 | Palm Bay-Melbourne-Titusville, FL | 0.9380 | 0.9571
| Brevard County, FL
37380 | Palm Coast, FL | 0.8737 | 0.9117
| Flager County, FL
37460 | ² Panama City-Lynn Haven, FL | 0.8733 | 0.9114
| Bay County, FL
37620 | ² Parkersburg-Marietta-Vienna, WV-OH (OH Hospitals) | 0.8697 | 0.9088
| Washington County, OH
| Pleasants County, WV
| Wirt County, WV
| Wood County, WV
37620 | Parkersburg-Marietta-Vienna, WV-OH (WV Hospitals) | 0.8259 | 0.8772
| Washington County, OH
| Pleasants County, WV
| Wirt County, WV
| Wood County, WV
37700 | Pascagoula, MS | 0.8540 | 0.8976
| George County, MS
| Jackson County, MS
37764 | Peabody, MA | 1.0600 | 1.0407
| Essex County, MA
37860 | ² Pensacola-Ferry Pass-Brent, FL | 0.8733 | 0.9114
| Escambia County, FL
| Santa Rosa County, FL
37900 | Peoria, IL | 0.9385 | 0.9575
| Marshall County, IL
| Peoria County, IL
| Stark County, IL
| Tazewell County, IL
| Woodford County, IL
37964 | ¹ Philadelphia, PA | 1.0892 | 1.0603
| Bucks County, PA
| Chester County, PA
| Delaware County, PA
| Montgomery County, PA
| Philadelphia County, PA
38060 | ¹ Phoenix-Mesa-Scottsdale, AZ | 1.0111 | 1.0076
| Maricopa County, AZ
| Pinal County, AZ
38220 | Pine Bluff, AR | 0.8152 | 0.8694
| Cleveland County, AR
| Jefferson County, AR
| Lincoln County, AR
38300 | ¹ Pittsburgh, PA | 0.8391 | 0.8868
| Allegheny County, PA
| Armstrong County, PA
| Beaver County, PA
| Butler County, PA
| Fayette County, PA
| Washington County, PA
| Westmoreland County, PA
38340 | Pittsfield, MA | 1.0053 | 1.0036
| Berkshire County, MA
38540 | Pocatello, ID | 0.9187 | 0.9436
| Bannock County, ID
| Power County, ID
38660 | Ponce, PR | 0.4262 | 0.5576
| Juana Díaz Municipio, PR
| Ponce Municipio, PR
| Villalba Municipio, PR
38860 | Portland-South Portland-Biddeford, ME | 0.9991 | 0.9994
| Cumberland County, ME
| Sagadahoc County, ME
| p;York County, ME
38900 | ¹ Portland-Vancouver-Beaverton, OR-WA | 1.1227 | 1.0825
| Clackamas County, OR
| Columbia County, OR
| Multnomah County, OR
| Washington County, OR
| Yamhill County, OR
| Clark County, WA
| Skamania County, WA
38940 | Port St. Lucie, FL | 1.0036 | 1.0025
| Martin County, FL
| St. Lucie County, FL
39100 | Poughkeepsie-Newburgh-Middletown, NY | 1.0983 | 1.0663
| Dutchess County, NY
| Orange County, NY
39140 | Prescott, AZ | 0.9961 | 0.9973
| Yavapai County, AZ
39300 | ¹ Providence-New Bedford-Fall River, RI-MA | 1.0533 | 1.0362
| Bristol County, MA
| Bristol County, RI
| Kent County, RI
| Newport County, RI
| Providence County, RI
| Washington County, RI
39340 | Provo-Orem, UT | 0.9481 | 0.9642
| Juab County, UT
| Utah County, UT
39380 | ² Pueblo, CO | 0.9448 | 0.9619
| Pueblo County, CO
39460 | Punta Gorda, FL | 0.9559 | 0.9696
| Charlotte County, FL
39540 | ² Racine, WI | 0.9684 | 0.9783
| Racine County, WI
39580 | Raleigh-Cary, NC | 0.9663 | 0.9768
| Franklin County, NC
| Johnston County, NC
| Wake County, NC
39660 | Rapid City, SD | 0.8686 | 0.9080
| Meade County, SD
| Pennington County, SD
39740 | Reading, PA | 0.9414 | 0.9595
| Berks County, PA
39820 | Redding, CA | 1.2810 | 1.1848
| Shasta County, CA
39900 | Reno-Sparks, NV | 1.1063 | 1.0716
| Storey County, NV
| Washoe County, NV
40060 | ¹ Richmond, VA | 0.9233 | 0.9468
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | ¹ ² Riverside-San Bernardino-Ontario, CA | 1.1736 | 1.1159
| Riverside County, CA
| San Bernardino County, CA
40220 | Roanoke, VA | 0.8889 | 0.9225
| Botetourt County, VA
| Craig County, VA
| Franklin County, VA
| Roanoke County, VA
| Roanoke City, VA
| Salem City, VA
40340 | Rochester, MN | 1.0491 | 1.0334
| Dodge County, MN
| Olmsted County, MN
| Wabasha County, MN
40380 | ¹ Rochester, NY | 0.8919 | 0.9246
| Livingston County, NY
| Monroe County, NY
| Ontario County, NY
| Orleans County, NY
| Wayne County, NY
40420 | Rockford, IL | 0.9805 | 0.9866
| Boone County, IL
| Winnebago County, IL
40484 | ² Rockingham County-Strafford County, NH | 1.1260 | 1.0847
| Rockingham County, NH
| Strafford County, NH
40580 | Rocky Mount, NC | 0.9008 | 0.9310
| Edgecombe County, NC
| Nash County, NC
40660 | Rome, GA | 0.9548 | 0.9688
| Floyd County, GA
40900 | ¹ Sacramento--Arden-Arcade--Roseville, CA | 1.3068 | 1.2011
| El Dorado County, CA
| Placer County, CA
| Sacramento County, CA
| Yolo County, CA
40980 | Saginaw-Saginaw Township North, MI | 0.9123 | 0.9391
| Saginaw County, MI
41060 | St. Cloud, MN | 1.1059 | 1.0714
| Benton County, MN
| Stearns County, MN
41100 | St. George, UT | 0.9536 | 0.9680
| Washington County, UT
41140 | St. Joseph, MO-KS | 0.8827 | 0.9181
| Doniphan County, KS
| Andrew County, MO
| Buchanan County, MO
| DeKalb County, MO
41180 | ¹ St. Louis, MO-IL | 0.8983 | 0.9292
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR | 1.0398 | 1.0271
| Marion County, OR
| Polk County, OR
41500 | Salinas, CA | 1.4594 | 1.2955
| Monterey County, CA
41540 | ² Salisbury, MD | 0.8912 | 0.9242
| Somerset County, MD
| Wicomico County, MD
41620 | Salt Lake City, UT | 0.9474 | 0.9637
| Salt Lake County, UT
| Summit County, UT
| Tooele County, UT
41660 | San Angelo, TX | 0.8659 | 0.9061
| Irion County, TX
| Tom Green County, TX
41700 | ¹ San Antonio, TX | 0.8896 | 0.9230
| Atascosa County, TX
| Bandera County, TX
| Bexar County, TX
| Comal County, TX
| Guadalupe County, TX
| Kendall County, TX
| Medina County, TX
| Wilson County, TX
41740 | ¹ ² San Diego-Carlsbad-San Marcos, CA | 1.1736 | 1.1159
| San Diego County, CA
41780 | Sandusky, OH | 0.8755 | 0.9130
| Erie County, OH
41884 | ¹ San Francisco-San Mateo-Redwood City, CA | 1.4802 | 1.3081
| Marin County, CA
| San Francisco County, CA
| San Mateo County, CA
41900 | San Germán-Cabo Rojo, PR | 0.4603 | 0.5878
| Cabo Rojo Municipio, PR
| Lajas Municipio, PR
| Sabana Grande Municipio, PR
| San Germán Municipio, PR
41940 | ¹ San Jose-Sunnyvale-Santa Clara, CA | 1.5441 | 1.3465
| San Benito County, CA
| Santa Clara County, CA
41980 | ¹ San Juan-Caguas-Guaynabo, PR | 0.4526 | 0.5811
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataño Municipio, PR
| Cayey Municipio, PR
| Ciales Municipio, PR
| Cidra Municipio, PR
| Comerío Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loíza Municipio, PR
| Manatí Municipio, PR
| Maunabo Municipio, PR
| Morovis Municipio, PR
| Naguabo Municipio, PR
| Naranjito Municipio, PR
| Orocovis Municipio, PR
| Quebradillas Municipio, PR
| Río Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA | 1.1952 | 1.1299
| San Luis Obispo County, CA
42044 | ¹ ² Santa Ana-Anaheim-Irvine, CA | 1.1736 | 1.1159
| Orange County, CA
42060 | ² Santa Barbara-Santa Maria-Goleta, CA | 1.1736 | 1.1159
| Santa Barbara County, CA
42100 | Santa Cruz-Watsonville, CA | 1.5669 | 1.3601
| Santa Cruz County, CA
42140 | Santa Fe, NM | 1.0683 | 1.0463
| Santa Fe County, NM
42220 | Santa Rosa-Petaluma, CA | 1.4470 | 1.2879
| Sonoma County, CA
42260 | Sarasota-Bradenton-Venice, FL | 0.9771 | 0.9843
| Manatee County, FL
| Sarasota County, FL
42340 | Savannah, GA | 0.8891 | 0.9227
| Bryan County, GA
| Chatham County, GA
| Effingham County, GA
42540 | ² Scranton—Wilkes-Barre, PA | 0.8346 | 0.8835
| Lackawanna County, PA
| Luzerne County, PA
| Wyoming County, PA
42644 | ¹ Seattle-Bellevue-Everett, WA | 1.1363 | 1.0914
| King County, WA
| Snohomish County, WA
42680 | Sebastian-Vero Beach, FL | 0.9704 | 0.9796
| Indian River County, FL
43100 | ² Sheboygan, WI | 0.9684 | 0.9783
| Sheboygan County, WI
43300 | Sherman-Denison, TX | 0.8531 | 0.8969
| Grayson County, TX
43340 | Shreveport-Bossier City, LA | 0.8552 | 0.8984
| Bossier Parish, LA
| Caddo Parish, LA
| De Soto Parish, LA
43580 | Sioux City, IA-NE-SD | 0.9083 | 0.9363
| Woodbury County, IA
| Dakota County, NE
| Dixon County, NE
| Union County, SD
43620 | Sioux Falls, SD | 0.9554 | 0.9692
| Lincoln County, SD
| McCook County, SD
| Minnehaha County, SD
| Turner County, SD
43780 | South Bend-Mishawaka, IN-MI | 0.9643 | 0.9754
| St. Joseph County, IN
| Cass County, MI
43900 | Spartanburg, SC | 0.9395 | 0.9582
| Spartanburg County, SC
44060 | ² Spokane, WA | 1.0559 | 1.0380
| Spokane County, WA
44100 | Springfield, IL | 0.8943 | 0.9264
| Menard County, IL
| Sangamon County, IL
44140 | Springfield, MA | 1.0451 | 1.0307
| Franklin County, MA
| Hampden County, MA
| Hampshire County, MA
44180 | Springfield, MO | 0.8791 | 0.9155
| Christian County, MO
| Dallas County, MO
| Greene County, MO
| Polk County, MO
| Webster County, MO
44220 | ² Springfield, OH | 0.8697 | 0.9088
| Clark County, OH
44300 | State College, PA | 0.8620 | 0.9033
| Centre County, PA
44700 | Stockton, CA | 1.1810 | 1.1207
| San Joaquin County, CA
44940 | Sumter, SC | 0.8899 | 0.9232
| Sumter County, SC
45060 | Syracuse, NY | 0.9950 | 0.9966
| Madison County, NY
| Onondaga County, NY
| Oswego County, NY
45104 | Tacoma, WA | 1.0934 | 1.0631
| Pierce County, WA
45220 | Tallahassee, FL | 0.9028 | 0.9324
| Gadsden County, FL
| Jefferson County, FL
| Leon County, FL
| Wakulla County, FL
45300 | ¹ Tampa-St. Petersburg-Clearwater, FL | 0.9171 | 0.9425
| Hernando County, FL
| Hillsborough County, FL
| Pasco County, FL
| Pinellas County, FL
45460 | Terre Haute, IN | 0.8824 | 0.9179
| Clay County, IN
| Sullivan County, IN
| Vermillion County, IN
| Vigo County, IN
45500 | ² Texarkana, TX-Texarkana, AR (TX Hospitals) | 0.8198 | 0.8728
| Miller County, AR
| Bowie County, TX
45500 | Texarkana, TX-Texarkana, AR (AR Hospitals) | 0.7782 | 0.8422
| Miller County, AR
| Bowie County, TX
45780 | Toledo, OH | 0.9269 | 0.9493
| Fulton County, OH
| Lucas County, OH
| Ottawa County, OH
| Wood County, OH
45820 | Topeka, KS | 0.8557 | 0.8988
| Jackson County, KS
| Jefferson County, KS
| Osage County, KS
| Shawnee County, KS
| Wabaunsee County, KS
45940 | ² Trenton-Ewing, NJ | 1.1617 | 1.1081
| Mercer County, NJ
46060 | Tucson, AZ | 0.9417 | 0.9597
| Pima County, AZ
46140 | Tulsa, OK | 0.8498 | 0.8945
| Creek County, OK
| Okmulgee County, OK
| Osage County, OK
| Pawnee County, OK
| Rogers County, OK
| Tulsa County, OK
| Wagoner County, OK
46220 | Tuscaloosa, AL | 0.8531 | 0.8969
| Greene County, AL
| Hale County, AL
| Tuscaloosa County, AL
46340 | Tyler, TX | 0.9182 | 0.9432
| Smith County, TX
46540 | Utica-Rome, NY | 0.8774 | 0.9143
| Herkimer County, NY
| Oneida County, NY
46660 | Valdosta, GA | 0.8204 | 0.8732
| Brooks County, GA
| Echols County, GA
| Lanier County, GA
| Lowndes County, GA
46700 | Vallejo-Fairfield, CA | 1.4433 | 1.2857
| Solano County, CA
47020 | ² Victoria, TX | 0.8198 | 0.8728
| Calhoun County, TX
| Goliad County, TX
| Victoria County, TX
47220 | Vineland-Millville-Bridgeton, NJ | 1.1617 | 1.1081
| Cumberland County, NJ
47260 | ¹ Virginia Beach-Norfolk-Newport News, VA-NC | 0.8777 | 0.9145
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | ² Visalia-Porterville, CA | 1.1736 | 1.1159
| Tulare County, CA
47380 | Waco, TX | 0.8594 | 0.9014
| McLennan County, TX
47580 | Warner Robins, GA | 0.9614 | 0.9734
| Houston County, GA
47644 | ¹ Warren-Troy-Farmington Hills, MI | 1.0034 | 1.0023
| Lapeer County, MI
| Livingston County, MI
| Macomb County, MI
| Oakland County, MI
| St. Clair County, MI
47894 | ¹ Washington-Arlington-Alexandria, DC-VA-MD-WV | 1.0676 | 1.0458
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | Waterloo-Cedar Falls, IA | 0.8720 | 0.9105
| Black Hawk County, IA
| Bremer County, IA
| Grundy County, IA
48140 | Wausau, WI | 1.0005 | 1.0003
| Marathon County, WI
48260 | ² Weirton-Steubenville, WV-OH (OH Hospitals) | 0.8697 | 0.9088
| Jefferson County, OH
| Brooke County, WV
| Hancock County, WV
48260 | Weirton-Steubenville, WV-OH (WV Hospitals) | 0.7889 | 0.8501
| Jefferson County, OH
| Brooke County, WV
| Hancock County, WV
48300 | Wenatchee, WA | 1.1276 | 1.0857
| Chelan County, WA
| Douglas County, WA
48424 | ¹ West Palm Beach-Boca Raton-Boynton Beach, FL | 0.9577 | 0.9708
| Palm Beach County, FL
48540 | ² Wheeling, WV-OH (OH Hospitals) | 0.8697 | 0.9088
| Belmont County, OH
| Marshall County, WV
| Ohio County, WV
48540 | ² Wheeling, WV-OH (WV Hospitals) | 0.7568 | 0.8263
| Belmont County, OH
| Marshall County, WV
| Ohio County, WV
48620 | Wichita, KS | 0.8939 | 0.9261
| Butler County, KS
| Harvey County, KS
| Sedgwick County, KS
| Sumner County, KS
48660 | Wichita Falls, TX | 0.8203 | 0.8731
| Archer County, TX
| Clay County, TX
| Wichita County, TX
48700 | ² Williamsport, PA | 0.8339 | 0.8830
| Lycoming County, PA
48864 | Wilmington, DE-MD-NJ (DE, MD Hospitals) | 1.0667 | 1.0452
| New Castle County, DE
| Cecil County, MD
| Salem County, NJ
48864 | ² Wilmington, DE-MD-NJ (NJ Hospitals) | 1.1617 | 1.1081
| New Castle County, DE
| Cecil County, MD
| Salem County, NJ
48900 | Wilmington, NC | 0.9326 | 0.9533
| Brunswick County, NC
| New Hanover County, NC
| Pender County, NC
49020 | Winchester, VA-WV | 0.9846 | 0.9894
| Frederick County, VA
| Winchester City, VA
| Hampshire County, WV
49180 | Winston-Salem, NC | 0.9078 | 0.9359
| Davie County, NC
| Forsyth County, NC
| Stokes County, NC
| Yadkin County, NC
49340 | Worcester, MA | 1.1355 | 1.0909
| Worcester County, MA
49420 | ² Yakima, WA | 1.0559 | 1.0380
| Yakima County, WA
49500 | Yauco, PR | 0.3201 | 0.4584
| Guánica Municipio, PR
| Guayanilla Municipio, PR
| Peñuelas Municipio, PR
| Yauco Municipio, PR
49620 | York-Hanover, PA | 0.9426 | 0.9603
| York County, PA
49660 | Youngstown-Warren-Boardman, OH-PA | 0.8992 | 0.9298
| Mahoning County, OH
| Trumbull County, OH
| Mercer County, PA
49700 | ² Yuba City, CA | 1.1736 | 1.1159
| Sutter County, CA
| Yuba County, CA
49740 | Yuma, AZ | 1.0086 | 1.0059
| Yuma County, AZ

15. On pages 47526 through 47527, in Table 4B.—Wage Index and Capital Geographic Adjustment (GAF) for Rural Areas By CBSA, the table is corrected to read as follows:

Table 4B.—Wage Index and Capital Geographic Adjustment (GAF) for Rural Areas by CBSA—FY 2008
CBSA code | Nonurban area | Wage index | GAF
01 | Alabama | 0.7567 | 0.8262
02 | Alaska | 1.2084 | 1.1384
03 | Arizona | 0.8855 | 0.9201
04 | Arkansas | 0.7516 | 0.8224
05 | California | 1.1736 | 1.1159
06 | Colorado | 0.9448 | 0.9619
07 | Connecticut | 1.2433 | 1.1608
08 | Delaware | 1.0105 | 1.0072
10 | Florida | 0.8733 | 0.9114
11 | Georgia | 0.7861 | 0.8481
12 | Hawaii | 1.0741 | 1.0502
13 | Idaho | 0.7818 | 0.8449
14 | Illinois | 0.8346 | 0.8835
15 | Indiana | 0.8569 | 0.8996
16 | Iowa | 0.8476 | 0.8929
17 | Kansas | 0.7980 | 0.8568
18 | Kentucky | 0.7810 | 0.8443
19 | Louisiana | 0.7586 | 0.8276
20 | Maine | 0.8409 | 0.8881
21 | Maryland | 0.8912 | 0.9242
22 | Massachusetts | 0.9706 | 0.9798
23 | Michigan | 0.8909 | 0.9239
24 | Minnesota | 0.9114 | 0.9384
25 | Mississippi | 0.7752 | 0.8400
26 | Missouri | 0.8153 | 0.8695
27 | Montana | 0.8336 | 0.8828
28 | Nebraska | 0.8847 | 0.9195
29 | Nevada | 0.9702 | 0.9795
30 | New Hampshire | 1.1260 | 1.0847
31 | New Jersey¹ | 1.1617 | 1.1081
32 | New Mexico | 0.8966 | 0.9280
33 | New York | 0.8352 | 0.8840
34 | North Carolina | 0.8604 | 0.9022
35 | North Dakota | 0.7309 | 0.8068
36 | Ohio | 0.8697 | 0.9088
37 | Oklahoma | 0.7702 | 0.8363
38 | Oregon | 0.9957 | 0.9971
39 | Pennsylvania | 0.8339 | 0.8830
40 | Puerto Rico¹ |  |
41 | Rhode Island¹ |  |
42 | South Carolina | 0.8708 | 0.9096
43 | South Dakota | 0.8344 | 0.8834
44 | Tennessee | 0.7918 | 0.8523
45 | Texas | 0.8198 | 0.8728
46 | Utah | 0.8215 | 0.8740
47 | Vermont | 1.0388 | 1.0264
49 | Virginia | 0.8074 | 0.8637
50 | Washington | 1.0559 | 1.0380
51 | West Virginia | 0.7568 | 0.8263
52 | Wisconsin | 0.9684 | 0.9783
53 | Wyoming | 0.9164 | 0.9420

15a. On pages 47527 through 47530, in Table 4C.—Wage Index and Capital Geographic Adjustment (GAF) for Hospitals That are Reclassified by CBSA, the table is corrected to read as follows:

Table 4C.—Wage Index and Capital Geographic Adjustment Factor (GAF) for Hospitals That Are Reclassified By CBSA—FY 2008
CBSA code | Area | Wage index | GAF
10500 | Albany, GA | 0.8667 | 0.9067
10580 | Albany-Schenectady-Troy, NY | 0.8668 | 0.9067
10740 | Albuquerque, NM | 0.9726 | 0.9812
10780 | Alexandria, LA | 0.7978 | 0.8567
10900 | Allentown-Bethlehem-Easton, PA-NJ | 1.0004 | 1.0003
11100 | Amarillo, TX | 0.9152 | 0.9411
11180 | Ames, IA | 0.9223 | 0.9461
11260 | Anchorage, AK | 1.2084 | 1.1384
11460 | Ann Arbor, MI | 1.0144 | 1.0098
11500 | Anniston-Oxford, AL | 0.7976 | 0.8565
12060 | Atlanta-Sandy Springs-Marietta, GA | 0.9813 | 0.9872
12260 | Augusta-Richmond County, GA-SC | 0.9599 | 0.9724
12420 | Austin-Round Rock, TX | 0.9502 | 0.9656
12580 | Baltimore-Towson, MD | 1.0031 | 1.0021
12620 | Bangor, ME | 0.9882 | 0.9919
12940 | Baton Rouge, LA | 0.8010 | 0.8590
13020 | Bay City, MI | 0.9394 | 0.9581
13644 | Bethesda-Gaithersburg-Frederick, MD | 1.1017 | 1.0686
13780 | Binghamton, NY | 0.8775 | 0.9144
13820 | Birmingham-Hoover, AL | 0.8690 | 0.9108
13900 | Bismarck, ND | 0.7311 | 0.8070
13980 | Blacksburg-Christiansburg-Radford, VA | 0.7733 | 0.8386
14020 | Bloomington, IN | 0.8824 | 0.9179
14484 | Boston-Quincy, MA | 1.1304 | 1.0876
14740 | Bremerton-Silverdale, WA | 1.0821 | 1.0555
14860 | Bridgeport-Stamford-Norwalk, CT | 1.2342 | 1.1550
15380 | Buffalo-Niagara Falls, NY | 0.9589 | 0.9717
15540 | Burlington-South Burlington, VT | 0.9585 | 0.9714
15940 | Canton-Massillon, OH | 0.8807 | 0.9167
16180 | Carson City, NV | 0.9702 | 0.9795
16620 | Charleston, WV | 0.8394 | 0.8870
16700 | Charleston-North Charleston, SC | 0.9102 | 0.9376
16740 | Charlotte-Gastonia-Concord, NC-SC | 0.9342 | 0.9545
16820 | Charlottesville, VA | 0.9161 | 0.9418
16860 | Chattanooga, TN-GA | 0.8963 | 0.9278
16974 | Chicago-Naperville-Joliet, IL | 1.0472 | 1.0321
17140 | Cincinnati-Middletown, OH-KY-IN | 0.9661 | 0.9767
17300 | Clarksville, TN-KY | 0.8096 | 0.8653
17460 | Cleveland-Elyria-Mentor, OH | 0.9216 | 0.9456
17820 | Colorado Springs, CO | 0.9467 | 0.9632
17860 | Columbia, MO | 0.8538 | 0.8974
17980 | Columbus, GA-AL | 0.8588 | 0.9010
18140 | Columbus, OH | 0.9821 | 0.9877
18700 | Corvallis, OR | 1.0316 | 1.0215
19124 | Dallas-Plano-Irving, TX | 0.9681 | 0.9780
19340 | Davenport-Moline-Rock Island, IA-IL | 0.8894 | 0.9229
19380 | Dayton, OH | 0.9279 | 0.9500
19460 | Decatur, AL | 0.7832 | 0.8459
19740 | Denver-Aurora, CO | 1.0455 | 1.0309
19804 | Detroit-Livonia-Dearborn, MI | 1.0096 | 1.0066
20100 | Dover, DE | 1.0105 | 1.0072
20260 | Duluth, MN-WI | 0.9956 | 0.9970
20500 | Durham, NC | 0.9739 | 0.9821
20764 | Edison, NJ | 1.1617 | 1.1081
21060 | Elizabethtown, KY | 0.7979 | 0.8568
21500 | Erie, PA | 0.8352 | 0.8840
21660 | Eugene-Springfield, OR | 1.0708 | 1.0480
21780 | Evansville, IN-KY (KY Hospitals) | 0.8123 | 0.8673
21780 | Evansville, IN-KY (IN Hospitals) | 0.8569 | 0.8996
22020 | Fargo, ND-MN | 0.7944 | 0.8542
22180 | Fayetteville, NC | 0.9594 | 0.9720
22220 | Fayetteville-Springdale-Rogers, AR-MO | 0.8715 | 0.9101
22380 | Flagstaff, AZ | 1.1187 | 1.0798
22420 | Flint, MI | 1.0244 | 1.0166
22520 | Florence-Muscle Shoals, AL | 0.7752 | 0.8400
22540 | Fond du Lac, WI | 0.9716 | 0.9805
22660 | Fort Collins-Loveland, CO | 0.9580 | 0.9710
22744 | Fort Lauderdale-Pompano Beach-Deerfield Beach, FL | 1.0248 | 1.0169
23020 | Fort Walton Beach-Crestview-Destin, FL | 0.8733 | 0.9114
23060 | Fort Wayne, IN | 0.9041 | 0.9333
23104 | Fort Worth-Arlington, TX | 0.9637 | 0.9750
23540 | Gainesville, FL | 0.9302 | 0.9517
23844 | Gary, IN | 0.9242 | 0.9475
24300 | Grand Junction, CO | 1.0136 | 1.0093
24340 | Grand Rapids-Wyoming, MI | 0.9374 | 0.9567
24500 | Great Falls, MT | 0.8761 | 0.9134
24540 | Greeley, CO | 0.9745 | 0.9825
24580 | Green Bay, WI (MI Hospitals) | 0.9357 | 0.9555
24580 | Green Bay, WI (WI Hospitals) | 0.9684 | 0.9783
24660 | Greensboro-High Point, NC | 0.9107 | 0.9380
24780 | Greenville, NC | 0.9268 | 0.9493
24860 | Greenville-Mauldin-Easley, SC | 0.9404 | 0.9588
25060 | Gulfport-Biloxi, MS | 0.8217 | 0.8742
25420 | Harrisburg-Carlisle, PA | 0.9116 | 0.9386
25540 | Hartford-West Hartford-East Hartford, CT (CT Hospitals) | 1.2433 | 1.1608
25540 | Hartford-West Hartford-East Hartford, CT (MA Hospitals) | 1.1026 | 1.0692
25860 | Hickory-Lenoir-Morganton, NC | 0.8815 | 0.9173
26180 | Honolulu, HI | 1.1306 | 1.0877
26420 | Houston-Sugar Land-Baytown, TX | 0.9997 | 0.9998
26580 | Huntington-Ashland, WV-KY-OH | 0.8725 | 0.9108
26620 | Huntsville, AL | 0.8725 | 0.9040
26820 | Idaho Falls, ID | 0.9273 | 0.9496
26900 | Indianapolis-Carmel, IN | 0.9590 | 0.9717
26980 | Iowa City, IA | 0.9138 | 0.9401
27060 | Ithaca, NY | 0.9710 | 0.9800
27140 | Jackson, MS | 0.7951 | 0.8547
27180 | Jackson, TN | 0.8435 | 0.8900
27260 | Jacksonville, FL | 0.9089 | 0.9367
27620 | Jefferson City, MO | 0.8703 | 0.9093
27780 | Johnstown, PA | 0.8339 | 0.8830
27860 | Jonesboro, AR | 0.8503 | 0.8949
27900 | Joplin, MO | 0.8967 | 0.9281
28020 | Kalamazoo-Portage, MI | 1.0147 | 1.0100
28140 | Kansas City, MO-KS | 0.9319 | 0.9528
28420 | Kennewick-Richland-Pasco, WA (ID Hospitals) | 0.9615 | 0.9735
28420 | Kennewick-Richland-Pasco, WA (WA Hospitals) | 1.0559 | 1.0380
28700 | Kingsport-Bristol-Bristol, TN-VA | 0.7810 | 0.8443
28740 | Kingston, NY | 0.9271 | 0.9495
28940 | Knoxville, TN | 0.8013 | 0.8592
29180 | Lafayette, LA | 0.8323 | 0.8819
29404 | Lake County-Kenosha County, IL-WI | 1.0583 | 1.0396
29460 | Lakeland, FL | 0.8835 | 0.9187
29540 | Lancaster, PA | 0.9650 | 0.9759
29620 | Lansing-East Lansing, MI | 0.9907 | 0.9936
29740 | Las Cruces, NM | 0.8966 | 0.9280
29820 | Las Vegas-Paradise, NV | 1.1223 | 1.0822
30020 | Lawton, OK | 0.8071 | 0.8635
30460 | Lexington-Fayette, KY | 0.8797 | 0.9160
30620 | Lima, OH | 0.9308 | 0.9521
30700 | Lincoln, NE | 0.9627 | 0.9743
30780 | Little Rock-North Little Rock-Conway, AR | 0.8725 | 0.9108
30860 | Logan, UT-ID | 0.9215 | 0.9456
30980 | Longview, TX | 0.8872 | 0.9213
31084 | Los Angeles-Long Beach-Santa Ana, CA | 1.1736 | 1.1159
31140 | Louisville-Jefferson County, KY-IN | 0.9030 | 0.9325
31340 | Lynchburg, VA | 0.8606 | 0.9023
31420 | Macon, GA | 0.9568 | 0.9702
31540 | Madison, WI | 1.0997 | 1.0672
31700 | Manchester-Nashua, NH | 1.1260 | 1.0847
32780 | Medford, OR | 1.0147 | 1.0100
32820 | Memphis, TN-MS-AR | 0.8964 | 0.9278
33124 | Miami-Miami Beach-Kendall, FL | 1.0009 | 1.0006
33340 | Milwaukee-Waukesha-West Allis, WI | 1.0296 | 1.0202
33460 | Minneapolis-St. Paul-Bloomington, MN-WI | 1.0897 | 1.0606
33540 | Missoula, MT | 0.8738 | 0.9118
33700 | Modesto, CA | 1.2020 | 1.1343
33740 | Monroe, LA | 0.7765 | 0.8409
33860 | Montgomery, AL | 0.8112 | 0.8665
34060 | Morgantown, WV | 0.8256 | 0.8770
34740 | Muskegon-Norton Shores, MI | 0.9475 | 0.9637
34820 | Myrtle Beach-Conway-North Myrtle Beach, SC | 0.8708 | 0.9096
34980 | Nashville-Davidson-Murfreesboro-Franklin, TN | 0.9364 | 0.9560
35004 | Nassau-Suffolk, NY | 1.2626 | 1.1731
35084 | Newark-Union, NJ-PA (NJ Hospitals) | 1.1617 | 1.1081
35084 | Newark-Union, NJ-PA (PA, NY Hospitals) | 1.1571 | 1.1051
35300 | New Haven-Milford, CT | 1.2433 | 1.1608
35380 | New Orleans-Metairie-Kenner, LA | 0.8712 | 0.9099
35644 | New York-White Plains-Wayne, NY-NJ | 1.3003 | 1.1970
35980 | Norwich-New London, CT | 1.1733 | 1.1157
36084 | Oakland-Fremont-Hayward, CA | 1.5344 | 1.3407
36140 | Ocean City, NJ | 1.0499 | 1.0339
36220 | Odessa, TX | 0.9523 | 0.9671
36420 | Oklahoma City, OK | 0.8754 | 0.9129
36500 | Olympia, WA | 1.1288 | 1.0865
36740 | Orlando-Kissimmee, FL | 0.9171 | 0.9425
37700 | Pascagoula, MS | 0.8540 | 0.8976
37860 | Pensacola-Ferry Pass-Brent, FL | 0.8123 | 0.8673
37900 | Peoria, IL | 0.9226 | 0.9463
37964 | Philadelphia, PA (DE, PA Hospitals) | 1.0766 | 1.0518
37964 | Philadelphia, PA (NJ Hospitals) | 1.1617 | 1.1081
38220 | Pine Bluff, AR | 0.7956 | 0.8551
38300 | Pittsburgh, PA (PA, WV Hospitals) | 0.8391 | 0.8868
38300 | Pittsburgh, PA (OH Hospitals) | 0.8697 | 0.9088
38340 | Pittsfield, MA | 1.0388 | 1.0264
38860 | Portland-South Portland-Biddeford, ME | 0.9590 | 0.9717
38900 | Portland-Vancouver-Beaverton, OR-WA | 1.1227 | 1.0825
38940 | Port St. Lucie, FL | 0.9852 | 0.9898
39100 | Poughkeepsie-Newburgh-Middletown, NY | 1.0763 | 1.0516
39140 | Prescott, AZ | 0.9577 | 0.9708
39340 | Provo-Orem, UT | 0.9380 | 0.9571
39580 | Raleigh-Cary, NC | 0.9475 | 0.9637
39740 | Reading, PA | 0.9414 | 0.9595
39820 | Redding, CA | 1.2652 | 1.1748
39900 | Reno-Sparks, NV | 1.0852 | 1.0576
40060 | Richmond, VA | 0.9233 | 0.9468
40220 | Roanoke, VA | 0.8746 | 0.9123
40340 | Rochester, MN | 1.0491 | 1.0334
40380 | Rochester, NY | 0.8919 | 0.9246
40420 | Rockford, IL | 0.9704 | 0.9796
40484 | Rockingham County, NH | 1.0174 | 1.0119
40660 | Rome, GA | 0.9388 | 0.9577
40900 | Sacramento—Arden-Arcade—Roseville, CA | 1.2919 | 1.1917
40980 | Saginaw-Saginaw Township North, MI | 0.8975 | 0.9286
41060 | St. Cloud, MN | 1.0323 | 1.0220
41100 | St. George, UT | 0.9536 | 0.9680
41140 | St. Joseph, MO-KS | 0.8827 | 0.9181
41180 | St. Louis, MO-IL | 0.8983 | 0.9292
41620 | Salt Lake City, UT | 0.9474 | 0.9637
41700 | San Antonio, TX | 0.8896 | 0.9230
41884 | San Francisco-San Mateo-Redwood City, CA | 1.4802 | 1.3081
41980 | San Juan-Caguas-Guaynabo, PR | 0.4526 | 0.5811
42044 | Santa Ana-Anaheim-Irvine, CA | 1.1736 | 1.1159
42140 | Santa Fe, NM | 1.0380 | 1.0259
42220 | Santa Rosa-Petaluma, CA | 1.4147 | 1.2682
42260 | Sarasota-Bradenton-Venice, FL | 0.9771 | 0.9843
42340 | Savannah, GA | 0.8891 | 0.9227
42644 | Seattle-Bellevue-Everett, WA | 1.1209 | 1.0813
43300 | Sherman-Denison, TX | 0.8531 | 0.8969
43340 | Shreveport-Bossier City, LA | 0.8552 | 0.8984
43580 | Sioux City, IA-NE-SD | 0.8847 | 0.9195
43620 | Sioux Falls, SD | 0.9373 | 0.9566
43780 | South Bend-Mishawaka, IN-MI | 0.9504 | 0.9658
43900 | Spartanburg, SC | 0.9395 | 0.9582
44060 | Spokane, WA | 1.0227 | 1.0155
44180 | Springfield, MO | 0.8620 | 0.9033
44940 | Sumter, SC | 0.8708 | 0.9096
45060 | Syracuse, NY | 0.9603 | 0.9726
45220 | Tallahassee, FL | 0.8454 | 0.8914
45300 | Tampa-St. Petersburg-Clearwater, FL | 0.9171 | 0.9425
45500 | Texarkana, TX-Texarkana, AR | 0.7782 | 0.8422
45780 | Toledo, OH | 0.9269 | 0.9493
45820 | Topeka, KS | 0.8452 | 0.8912
46140 | Tulsa, OK | 0.8498 | 0.8945
46220 | Tuscaloosa, AL | 0.8162 | 0.8702
46340 | Tyler, TX | 0.9182 | 0.9432
46700 | Vallejo-Fairfield, CA | 1.4268 | 1.2756
47260 | Virginia Beach-Norfolk-Newport News, VA | 0.8777 | 0.9145
47894 | Washington-Arlington-Alexandria, DC-VA | 1.0676 | 1.0458
48140 | Wausau, WI | 1.0005 | 1.0003
48620 | Wichita, KS | 0.8718 | 0.9103
48700 | Williamsport, PA | 0.8339 | 0.8830
48864 | Wilmington, DE-MD-NJ (NJ Hospitals) | 1.1617 | 1.1081
48864 | Wilmington, DE-MD-NJ (DE Hospitals) | 1.0667 | 1.0452
48900 | Wilmington, NC | 0.9157 | 0.9415
49180 | Winston-Salem, NC | 0.9078 | 0.9359
49340 | Worcester, MA | 1.1260 | 1.0847
49660 | Youngstown-Warren-Boardman, OH-PA | 0.8698 | 0.9089
04 | Rural Arkansas | 0.7586 | 0.8276
05 | Rural California | 1.1736 | 1.1159
07 | Rural Connecticut | 1.2433 | 1.1608
10 | Rural Florida | 0.8733 | 0.9114
14 | Rural Illinois | 0.8346 | 0.8835
16 | Rural Iowa | 0.8476 | 0.8929
17 | Rural Kansas | 0.7980 | 0.8568
22 | Rural Massachusetts | 0.9706 | 0.9798
23 | Rural Michigan | 0.8909 | 0.9239
24 | Rural Minnesota | 0.9114 | 0.9384
25 | Rural Mississippi | 0.7752 | 0.8400
26 | Rural Missouri | 0.8153 | 0.8695
29 | Rural Nevada | 0.8707 | 0.9095
30 | Rural New Hampshire | 1.0533 | 1.0362
33 | Rural New York | 0.8352 | 0.8840
34 | Rural North Carolina | 0.8604 | 0.9022
36 | Rural Ohio | 0.8697 | 0.9088
37 | Rural Oklahoma | 0.7702 | 0.8363
38 | Rural Oregon | 0.9957 | 0.9971
39 | Rural Pennsylvania (PA Hospitals) | 0.8339 | 0.8830
39 | Rural Pennsylvania (NY Hospitals) | 0.8352 | 0.8840
44 | Rural Tennessee | 0.7918 | 0.8523
45 | Rural Texas | 0.8198 | 0.8728
47 | Rural Vermont | 0.9428 | 0.9605
49 | Rural Virginia | 0.8074 | 0.8637
50 | Rural Washington | 1.0559 | 1.0380
53 | Rural Wyoming | 0.9010 | 0.9311

16. On pages 47531 through 47539, Table 4J.—Out-Migration Adjustment—FY 2008 is corrected by—

a. Adding the following entries (in numerical order):

Table 4J.—Out-Migration Adjustment—FY 2008
Provider No. | Reclassified for FY 2008 | Out-migration adjustment | Qualifying county name | County code
390056 |  | 0.0036 | HUNTINGDON | 39380
390110 | * | 0.0003 | CAMBRIA | 39160
390117 |  | 0.0002 | BEDFORD | 39100
390125 |  | 0.0022 | WAYNE | 39760
390130 | * | 0.0003 | CAMBRIA | 39160

b. Correcting the following entries:

Provider No. | Reclassified for FY 2008 | Out-migration adjustment | Qualifying county name | County code
010022 | * | 0.1128 | CHEROKEE | 01090
010061 |  | 0.0542 | JACKSON | 01350
010110 |  | 0.0215 | BULLOCK | 01050
010158 | * | 0.0023 | FRANKLIN | 01290
040014 | * | 0.0199 | WHITE | 04720
040071 | * | 0.0149 | JEFFERSON | 04340
040100 | * | 0.0199 | WHITE | 04720
180070 |  | 0.0240 | GRAYSON | 18420
190044 |  | 0.0261 | ACADIA | 19000
190106 | * | 0.0102 | ALLEN | 19010
190133 |  | 0.0102 | ALLEN | 19010
230021 | * | 0.0101 | BERRIEN | 23100
230078 | * | 0.0101 | BERRIEN | 23100
330008 | * | 0.0126 | WYOMING | 33900
330010 |  | 0.0067 | MONTGOMERY | 33380
330033 |  | 0.0223 | CHENANGO | 33080
330047 |  | 0.0067 | MONTGOMERY | 33380
330073 | * | 0.0151 | GENESEE | 33290
330094 | * | 0.0503 | COLUMBIA | 33200
330103 | * | 0.0131 | CATTARAUGUS | 33040
330132 |  | 0.0131 | CATTARAUGUS | 33040
330175 |  | 0.0260 | CORTLAND | 33210
330235 | * | 0.0306 | CAYUGA | 33050
330276 |  | 0.0036 | FULTON | 33280
330386 | * | 0.0745 | SULLIVAN | 33710
360002 |  | 0.0141 | ASHLAND | 36020
360125 | * | 0.0133 | ASHTABULA | 36030
360245 | * | 0.0133 | ASHTABULA | 36030
370015 | * | 0.0366 | MAYES | 37480
370169 |  | 0.0163 | MCINTOSH | 37450
370172 |  | 0.0258 | LATIMER | 37380
370214 |  | 0.0121 | GARVIN | 37240
380022 | * | 0.0067 | LINN | 38210
380029 |  | 0.0075 | MARION | 38230
380051 |  | 0.0075 | MARION | 38230
380056 |  | 0.0075 | MARION | 38230
390008 |  | 0.0060 | LAWRENCE | 39450
390016 | * | 0.0060 | LAWRENCE | 39450
390052 |  | 0.0047 | CLEARFIELD | 39230
390065 | * | 0.0532 | ADAMS | 39000
390113 | * | 0.0053 | CRAWFORD | 39260
390122 |  | 0.0053 | CRAWFORD | 39260
390138 | * | 0.0218 | FRANKLIN | 39350
390146 |  | 0.0022 | WARREN | 39740
390150 |  | 0.0031 | GREENE | 39370
390151 | * | 0.0218 | FRANKLIN | 39350
390201 |  | 0.1170 | MONROE | 39550
390236 |  | 0.0003 | BRADFORD | 39130
450090 |  | 0.0650 | COOKE | 45340
450210 |  | 0.0151 | PANOLA | 45842
450236 |  | 0.0389 | HOPKINS | 45654
450395 | * | 0.0441 | POLK | 45850
450451 |  | 0.0536 | SOMERVELL | 45893
450573 |  | 0.0126 | JASPER | 45690
450596 | * | 0.0743 | HOOD | 45653
450770 | * | 0.0182 | MILAM | 45795
450838 |  | 0.0126 | JASPER | 45690
460017 |  | 0.0383 | BOX ELDER | 46010
460039 | * | 0.0383 | BOX ELDER | 46010
490110 |  | 0.0185 | MONTGOMERY | 49600
510018 | * | 0.0188 | JACKSON | 51170

17. On page 47543, in Table 5.—List of Proposed Medicare Severity-Diagnosis Related Groups (MS-DRGs), Relative Weighting Factors, and Geometric and Arithmetic Mean Length of Stay, 9th through 10th lines from the bottom (MS-DRG 237), the MS-DRG title “Major cardiovasc procedures w MCC or thoracic aortic anuerysm repair” is corrected to read “Major cardiovasc procedures w MCC or thoracic aortic aneurysm repair”.

18. On pages 48127 through 48138, Table 9A.—Hospital Reclassifications and Redesignations—FY 2008, is corrected by—

a. Adding the following entries (in numerical order):

Table 9A.—Hospital Reclassifications And Redesignations—FY 2008
Provider No. | Geographic CBSA | Reclassified CBSA | LUGAR
340085 | 34 | 24660 | LUGAR
340096 | 34 | 24660 | LUGAR

b. Correcting the following entries:

Provider No. | Geographic CBSA | Reclassified CBSA | LUGAR
010005 | 01 | 13820
010083 | 01 | 37860
100252 | 10 | 38940
160064 | 16 | 24
180116 | 18 | 14
230069 | 47644 | 22420
230279 | 47644 | 22420
300019 | 30 | 49340
390016 | 39 | 49660
420068 | 42 | 12260

c. Deleting the following entries:

Provider No. | Geographic CBSA | Reclassified CBSA | LUGAR
070004 | 07 | 25540

19. On page 48138, in Table 9C—Hospitals Redesignated as Rural Under Section 1886(D)(8)(E) of the Act—FY 2008,

a. Adding the following entry:

Table 9C.—Hospitals Redesignated as Rural Under Section 1886(d)(8)(E) of the Act—FY 2008
Provider No. | Geographic CBSA | Redesignated rural area
070004 | 07 | 07

b. Deleting the following entries:

Provider No. | Geographic CBSA | Redesignated rural area
250126 | 32820 | 25
330044 | 46540 | 33
390201 | 39 | 39

20. On pages 48139 through 48143, in Table 10—Geometric Mean Plus the Lesser of .75 of the National Adjusted Operating Standardized Payment Amount (Increased to Reflect the Difference Between Costs and Charges) or .75 of One Standard Deviation of Mean Charges By Medicare Severity-Diagnosis-Related Group (MS-DRG) September 2007, the table is corrected to read as follows:

Table 10.—Geometric Mean Plus the Lesser of .75 of the National Adjusted Operating Standardized Payment Amount (Increased To Reflect the Difference Between Costs and Charges) or .75 of One Standard Deviation of Mean Charges by Medicare Severity—Diagnosis-Related Group (MS-DRG) September 2007 ¹
MS-DRG | Number of cases | Threshold
1 | 652 | $344,965
2 | 335 | 178,077
3 | 24,400 | 248,253
4 | 21,825 | 149,223
5 | 634 | 167,698
6 | 296 | 92,300
7 | 378 | 134,541
8 | 583 | 92,291
9 | 1,388 | 97,033
10 | 182 | 73,439
11 | 1,297 | 71,629
12 | 1,956 | 51,548
13 | 1,476 | 36,934
20 | 910 | 138,395
21 | 566 | 108,059
22 | 249 | 74,798
23 | 3,564 | 81,017
24 | 2,168 | 57,349
25 | 8,493 | 77,708
26 | 12,059 | 52,345
27 | 14,191 | 41,279
28 | 1,623 | 74,162
29 | 3,089 | 45,892
30 | 3,592 | 29,994
31 | 1,061 | 60,319
32 | 3,064 | 35,473
33 | 4,237 | 28,788
34 | 821 | 58,366
35 | 2,911 | 41,559
36 | 7,454 | 36,536
37 | 4,803 | 51,760
38 | 16,531 | 32,783
39 | 53,619 | 23,940
40 | 4,585 | 57,534
41 | 8,005 | 39,475
42 | 5,216 | 34,225
52 | 1,188 | 29,314
53 | 590 | 21,941
54 | 4,750 | 30,207
55 | 16,945 | 24,914
56 | 7,800 | 28,293
57 | 48,665 | 18,154
58 | 796 | 28,685
59 | 2,676 | 21,475
60 | 4,240 | 16,415
61 | 1,368 | 53,021
62 | 2,320 | 41,994
63 | 1,150 | 36,278
64 | 56,448 | 33,838
65 | 115,423 | 26,274
66 | 91,644 | 19,975
67 | 1,403 | 30,784
68 | 12,512 | 21,801
69 | 104,325 | 17,613
70 | 7,165 | 33,363
71 | 10,283 | 26,043
72 | 5,811 | 19,097
73 | 8,728 | 27,006
74 | 32,760 | 19,857
75 | 1,229 | 33,940
76 | 861 | 22,530
77 | 1,112 | 33,089
78 | 1,386 | 23,660
79 | 896 | 18,688
80 | 2,095 | 24,178
81 | 8,250 | 15,979
82 | 1,664 | 34,222
83 | 2,070 | 28,410
84 | 2,527 | 21,042
85 | 5,383 | 34,770
86 | 10,921 | 26,131
87 | 11,827 | 18,483
88 | 730 | 30,524
89 | 2,836 | 22,350
90 | 3,285 | 16,402
91 | 6,763 | 29,348
92 | 15,467 | 20,636
93 | 15,043 | 15,988
94 | 1,533 | 55,249
95 | 1,101 | 41,885
96 | 749 | 35,508
97 | 1,266 | 50,367
98 | 1,065 | 35,770
99 | 637 | 29,993
100 | 16,012 | 28,452
101 | 57,312 | 17,754
102 | 1,373 | 24,462
103 | 15,199 | 15,977
113 | 592 | 31,352
114 | 593 | 19,667
115 | 1,110 | 25,665
116 | 715 | 23,533
117 | 1,406 | 15,540
121 | 609 | 21,777
122 | 666 | 12,422
123 | 2,865 | 17,881
124 | 684 | 24,196
125 | 4,742 | 15,308
129 | 1,401 | 38,048
130 | 1,063 | 27,826
131 | 895 | 36,601
132 | 910 | 26,200
133 | 2,057 | 31,609
134 | 3,781 | 19,478
135 | 430 | 34,407
136 | 503 | 21,916
137 | 847 | 26,988
138 | 926 | 17,071
139 | 1,710 | 19,625
146 | 696 | 35,189
147 | 1,457 | 25,199
148 | 924 | 17,390
149 | 39,487 | 14,828
150 | 945 | 25,221
151 | 6,840 | 12,717
152 | 2,363 | 22,142
153 | 16,167 | 14,126
154 | 1,857 | 28,005
155 | 4,431 | 20,298
156 | 4,969 | 14,819
157 | 1,164 | 28,366
158 | 3,158 | 19,955
159 | 2,365 | 14,144
163 | 13,502 | 78,295
164 | 18,484 | 47,951
165 | 14,267 | 37,896
166 | 20,398 | 57,263
167 | 21,074 | 39,812
168 | 5,555 | 30,190
175 | 12,032 | 33,115
176 | 40,330 | 25,127
177 | 57,526 | 35,853
178 | 72,497 | 29,843
179 | 26,495 | 23,293
180 | 22,628 | 33,006
181 | 32,425 | 26,930
182 | 6,085 | 21,762
183 | 1,679 | 29,882
184 | 4,279 | 21,041
185 | 2,607 | 14,730
186 | 8,586 | 31,506
187 | 10,362 | 25,623
188 | 4,840 | 19,425
189 | 105,009 | 28,871
190 | 57,361 | 27,668
191 | 126,608 | 22,656
192 | 193,798 | 17,011
193 | 88,637 | 29,440
194 | 274,002 | 23,196
195 | 142,476 | 16,909
196 | 5,173 | 30,804
197 | 7,087 | 25,433
198 | 4,822 | 19,617
199 | 3,279 | 33,336
200 | 8,321 | 23,384
201 | 3,470 | 16,338
202 | 32,849 | 19,060
203 | 40,990 | 13,891
204 | 26,244 | 16,200
205 | 5,816 | 26,183
206 | 22,615 | 17,512
207 | 46,394 | 81,116
208 | 79,797 | 41,198
215 | 154 | 151,759
216 | 8,437 | 161,665
217 | 7,940 | 116,686
218 | 2,963 | 97,861
219 | 10,112 | 131,295
220 | 14,302 | 93,766
221 | 7,644 | 81,206
222 | 2,862 | 150,230
223 | 5,774 | 116,590
224 | 1,930 | 138,296
225 | 5,882 | 109,282
226 | 7,078 | 112,846
227 | 50,687 | 88,685
228 | 3,099 | 124,478
229 | 4,351 | 88,302
230 | 1,797 | 72,656
231 | 1,484 | 138,732
232 | 1,799 | 107,834
233 | 16,996 | 118,259
234 | 39,349 | 86,701
235 | 9,680 | 95,702
236 | 33,005 | 68,278
237 | 22,981 | 84,121
238 | 43,967 | 53,451
239 | 13,900 | 59,228
240 | 13,862 | 40,593
241 | 2,927 | 30,258
242 | 17,243 | 63,731
243 | 40,609 | 50,001
244 | 65,831 | 42,215
245 | 6,081 | 54,178
246 | 41,300 | 65,050
247 | 272,543 | 46,578
248 | 5,558 | 58,095
249 | 29,332 | 41,926
250 | 5,768 | 53,597
251 | 39,992 | 38,457
252 | 44,846 | 48,379
253 | 52,457 | 42,799
254 | 53,894 | 34,643
255 | 2,624 | 38,475
256 | 3,944 | 29,782
257 | 694 | 21,430
258 | 599 | 49,935
259 | 7,342 | 35,268
260 | 872 | 47,344
261 | 2,921 | 28,434
262 | 3,284 | 21,635
263 | 792 | 29,050
264 | 30,336 | 39,267
280 | 61,020 | 35,556
281 | 62,050 | 27,916
282 | 57,249 | 21,202
283 | 16,022 | 31,160
284 | 5,089 | 23,429
285 | 3,008 | 16,066
286 | 23,379 | 40,310
287 | 173,151 | 27,701
288 | 3,262 | 48,397
289 | 1,471 | 35,157
290 | 447 | 27,554
291 | 184,689 | 28,978
292 | 245,075 | 22,187
293 | 200,858 | 16,283
294 | 1,756 | 20,506
295 | 1,631 | 12,987
296 | 1,844 | 26,646
297 | 893 | 18,216
298 | 518 | 11,608
299 | 17,570 | 27,652
300 | 49,533 | 20,057
301 | 37,733 | 14,452
302 | 7,919 | 23,176
303 | 81,896 | 14,065
304 | 2,116 | 24,249
305 | 36,019 | 13,919
306 | 1,385 | 27,621
307 | 6,479 | 17,568
308 | 33,741 | 27,325
309 | 85,320 | 19,164
310 | 156,223 | 13,820
311 | 25,143 | 12,408
312 | 170,267 | 16,986
313 | 222,163 | 13,782
314 | 60,587 | 30,464
315 | 33,354 | 22,371
316 | 18,077 | 15,239
326 | 11,616 | 86,235
327 | 11,348 | 49,558
328 | 8,994 | 31,776
329 | 48,381 | 78,380
330 | 68,497 | 46,859
331 | 29,611 | 34,874
332 | 1,897 | 72,500
333 | 6,490 | 45,769
334 | 3,751 | 33,986
335 | 7,194 | 67,329
336 | 12,815 | 43,028
337 | 8,636 | 32,645
338 | 1,513 | 58,111
339 | 3,289 | 39,784
340 | 3,551 | 29,763
341 | 878 | 43,009
342 | 2,662 | 32,030
343 | 6,796 | 22,560
344 | 897 | 51,692
345 | 3,090 | 33,743
346 | 2,758 | 25,650
347 | 1,577 | 36,658
348 | 4,295 | 27,837
349 | 5,539 | 17,498
350 | 1,802 | 41,241
351 | 4,663 | 28,395
352 | 8,835 | 18,578
353 | 3,076 | 44,775
354 | 9,041 | 30,871
355 | 16,621 | 21,562
356 | 8,411 | 57,523
357 | 8,336 | 39,727
358 | 2,477 | 30,901
368 | 3,069 | 31,642
369 | 4,850 | 24,300
370 | 3,104 | 18,383
371 | 16,940 | 31,940
372 | 23,722 | 26,565
373 | 14,227 | 19,299
374 | 9,505 | 34,329
375 | 20,165 | 26,487
376 | 4,486 | 20,960
377 | 50,797 | 30,740
378 | 118,928 | 22,456
379 | 95,521 | 17,322
380 | 2,934 | 32,394
381 | 5,702 | 25,732
382 | 4,681 | 18,936
383 | 1,307 | 28,319
384 | 8,723 | 19,941
385 | 2,119 | 33,547
386 | 7,449 | 24,853
387 | 5,105 | 19,162
388 | 18,375 | 29,402
389 | 47,827 | 21,609
390 | 47,010 | 15,176
391 | 47,836 | 24,945
392 | 308,502 | 16,603
393 | 24,053 | 29,051
394 | 48,058 | 22,377
395 | 24,695 | 16,159
405 | 3,949 | 82,201
406 | 5,420 | 49,150
407 | 2,195 | 36,259
408 | 1,682 | 68,546
409 | 1,771 | 46,881
410 | 693 | 35,861
411 | 985 | 65,604
412 | 1,098 | 47,829
413 | 850 | 37,464
414 | 5,643 | 59,249
415 | 7,154 | 40,651
416 | 6,018 | 30,401
417 | 16,735 | 46,504
418 | 28,654 | 36,528
419 | 37,427 | 27,109
420 | 738 | 62,571
421 | 1,118 | 37,066
422 | 359 | 28,797
423 | 1,528 | 64,728
424 | 934 | 44,735
425 | 148 | 35,267
432 | 16,397 | 30,662
433 | 9,146 | 21,794
434 | 931 | 15,756
435 | 12,004 | 32,768
436 | 14,157 | 26,543
437 | 4,304 | 23,744
438 | 14,497 | 31,770
439 | 25,932 | 25,153
440 | 26,506 | 17,450
441 | 14,036 | 28,994
442 | 13,192 | 22,508
443 | 6,445 | 16,775
444 | 12,529 | 31,098
445 | 17,390 | 25,361
446 | 16,434 | 18,758
453 | 852 | 162,880
454 | 1,700 | 108,929
455 | 1,715 | 83,971
456 | 770 | 132,654
457 | 2,084 | 93,326
458 | 1,282 | 76,734
459 | 3,212 | 91,537
460 | 51,227 | 61,558
461 | 1,071 | 78,539
462 | 14,292 | 59,070
463 | 5,317 | 58,653
464 | 6,589 | 40,810
465 | 2,748 | 30,419
466 | 3,914 | 70,267
467 | 14,340 | 53,210
468 | 21,479 | 45,754
469 | 29,879 | 56,061
470 | 412,628 | 41,640
471 | 2,241 | 71,677
472 | 6,629 | 48,431
473 | 22,659 | 39,703
474 | 2,857 | 47,792
475 | 3,709 | 34,424
476 | 1,560 | 23,529
477 | 2,262 | 56,466
478 | 7,379 | 41,529
479 | 10,118 | 33,437
480 | 25,993 | 50,038
481 | 74,669 | 37,400
482 | 49,780 | 31,682
483 | 6,572 | 44,224
484 | 17,287 | 37,116
485 | 1,152 | 55,598
486 | 2,066 | 41,446
487 | 1,345 | 33,438
488 | 2,541 | 33,291
489 | 6,198 | 25,879
490 | 21,668 | 34,188
491 | 57,424 | 22,157
492 | 4,761 | 47,689
493 | 16,833 | 36,093
494 | 29,419 | 27,047
495 | 1,888 | 49,241
496 | 5,499 | 34,230
497 | 7,196 | 26,140
498 | 1,258 | 36,484
499 | 1,173 | 20,709
500 | 1,359 | 47,246
501 | 3,956 | 30,660
502 | 6,635 | 21,338
503 | 743 | 38,507
504 | 2,274 | 30,836
505 | 3,142 | 22,627
506 | 921 | 23,455
507 | 840 | 33,134
508 | 2,717 | 24,377
509 | 674 | 24,413
510 | 994 | 38,902
511 | 4,183 | 30,425
512 | 12,088 | 21,576
513 | 1,104 | 28,445
514 | 1,175 | 18,054
515 | 3,601 | 50,784
516 | 11,512 | 37,218
517 | 17,926 | 30,512
533 | 835 | 26,641
534 | 3,647 | 14,482
535 | 6,888 | 26,445
536 | 34,492 | 14,330
537 | 694 | 19,017
538 | 1,139 | 12,077
539 | 3,397 | 33,210
540 | 4,317 | 26,844
541 | 1,787 | 20,216
542 | 6,196 | 32,537
543 | 18,834 | 24,660
544 | 12,389 | 16,758
545 | 4,061 | 33,829
546 | 6,159 | 23,684
547 | 4,717 | 16,961
548 | 592 | 32,765
549 | 1,139 | 25,050
550 | 855 | 16,440
551 | 9,580 | 29,101
552 | 88,568 | 17,262
553 | 2,820 | 24,394
554 | 20,429 | 13,865
555 | 2,006 | 21,701
556 | 19,316 | 13,456
557 | 3,196 | 28,862
558 | 14,252 | 17,984
559 | 1,646 | 27,879
560 | 4,208 | 19,203
561 | 7,439 | 12,631
562 | 5,051 | 26,435
563 | 36,361 | 14,373
564 | 1,622 | 27,207
565 | 3,385 | 19,726
566 | 2,673 | 14,394
573 | 5,721 | 44,174
574 | 12,468 | 32,291
575 | 6,221 | 24,293
576 | 563 | 44,956
577 | 2,305 | 31,194
578 | 3,228 | 21,726
579 | 3,359 | 42,777
580 | 11,019 | 28,957
581 | 12,249 | 19,890
582 | 5,787 | 22,538
583 | 9,356 | 17,024
584 | 801 | 29,761
585 | 1,687 | 19,824
592 | 4,026 | 29,336
593 | 13,080 | 21,992
594 | 2,828 | 15,050
595 | 1,092 | 29,669
596 | 5,792 | 18,108
597 | 555 | 29,879
598 | 1,502 | 23,600
599 | 342 | 14,643
600 | 611 | 21,165
601 | 841 | 13,706
602 | 21,456 | 26,689
603 | 132,037 | 16,799
604 | 2,652 | 25,273
605 | 22,943 | 15,043
606 | 1,371 | 23,068
607 | 7,242 | 13,623
614 | 1,429 | 44,368
615 | 1,594 | 32,675
616 | 1,145 | 57,759
617 | 6,944 | 36,246
618 | 268 | 26,622
619 | 675 | 60,353
620 | 2,007 | 41,181
621 | 6,560 | 35,401
622 | 1,241 | 43,098
623 | 3,392 | 32,373
624 | 392 | 23,639
625 | 1,107 | 40,316
626 | 2,751 | 27,124
627 | 14,146 | 17,672
628 | 3,297 | 50,934
629 | 4,125 | 39,855
630 | 551 | 30,353
637 | 16,431 | 26,705
638 | 46,657 | 17,852
639 | 36,178 | 12,405
640 | 56,149 | 23,941
641 | 189,293 | 15,306
642 | 1,570 | 23,214
643 | 5,072 | 30,682
644 | 12,220 | 23,221
645 | 8,140 | 17,134
652 | 10,695 | 57,592
653 | 1,591 | 83,566
654 | 3,387 | 53,551
655 | 1,514 | 40,254
656 | 3,739 | 56,724
657 | 7,946 | 38,715
658 | 7,957 | 31,512
659 | 4,484 | 50,338
660 | 7,985 | 36,151
661 | 4,264 | 28,963
662 | 998 | 41,812
663 | 2,288 | 29,503
664 | 4,543 | 21,878
665 | 693 | 47,196
666 | 2,405 | 30,723
667 | 3,765 | 17,825
668 | 3,768 | 39,711
669 | 13,307 | 27,864
670 | 12,685 | 17,652
671 | 917 | 28,723
672 | 940 | 17,260
673 | 12,678 | 43,299
674 | 13,848 | 38,497
675 | 8,371 | 31,040
682 | 76,428 | 30,004
683 | 128,229 | 25,089
684 | 28,358 | 16,191
685 | 2,520 | 18,480
686 | 1,596 | 31,201
687 | 3,467 | 24,317
688 | 1,098 | 16,621
689 | 55,794 | 25,628
690 | 201,347 | 16,948
691 | 908 | 32,075
692 | 653 | 23,510
693 | 2,256 | 27,726
694 | 19,345 | 16,454
695 | 982 | 24,038
696 | 10,646 | 13,740
697 | 585 | 16,016
698 | 21,255 | 27,668
699 | 27,064 | 21,858
700 | 11,141 | 15,265
707 | 6,053 | 34,718
708 | 15,996 | 27,483
709 | 796 | 33,764
710 | 2,015 | 28,014
711 | 953 | 33,995
712 | 793 | 18,806
713 | 12,009 | 24,773
714 | 32,647 | 14,452
715 | 662 | 34,056
716 | 1,367 | 26,199
717 | 666 | 31,477
718 | 601 | 17,543
722 | 881 | 29,137
723 | 2,078 | 23,821
724 | 648 | 14,696
725 | 808 | 23,669
726 | 3,956 | 15,110
727 | 1,106 | 26,372
728 | 6,224 | 15,600
729 | 603 | 22,510
730 | 533 | 13,176
734 | 1,528 | 39,509
735 | 1,278 | 24,152
736 | 842 | 68,884
737 | 3,487 | 39,490
738 | 912 | 26,791
739 | 980 | 48,231
740 | 4,638 | 31,701
741 | 6,330 | 22,182
742 | 11,685 | 29,876
743 | 34,686 | 19,452
744 | 1,634 | 28,622
745 | 2,080 | 18,005
746 | 2,664 | 27,832
747 | 11,073 | 19,176
748 | 21,289 | 18,499
749 | 1,048 | 42,913
750 | 477 | 22,403
754 | 1,097 | 31,820
755 | 3,219 | 24,284
756 | 783 | 15,311
757 | 1,326 | 31,141
758 | 1,659 | 24,086
759 | 1,141 | 17,474
760 | 1,815 | 17,766
761 | 1,844 | 12,285
765 | 2,606 | 19,738
766 | 2,664 | 13,500
767 | 123 | 14,158
768 | 10 | 28,478
769 | 87 | 29,998
770 | 188 | 15,884
774 | 1,476 | 11,268
775 | 5,343 | 8,224
776 | 495 | 14,028
777 | 180 | 17,674
778 | 494 | 7,925
779 | 107 | 12,859
780 | 50 | 5,097
781 | 3,062 | 11,922
782 | 129 | 7,495
790 | 1 | 10,827
793 | 1 | 7,090
799 | 631 | 76,342
800 | 730 | 45,469
801 | 581 | 35,340
802 | 693 | 51,857
803 | 1,030 | 33,782
804 | 978 | 23,443
808 | 8,276 | 33,952
809 | 15,783 | 24,977
810 | 3,694 | 19,852
811 | 18,481 | 24,756
812 | 83,743 | 16,735
813 | 15,112 | 25,347
814 | 1,649 | 29,803
815 | 3,483 | 23,384
816 | 2,274 | 16,506
820 | 1,490 | 83,859
821 | 2,593 | 40,850
822 | 2,108 | 28,928
823 | 2,452 | 64,899
824 | 3,130 | 40,654
825 | 1,940 | 29,661
826 | 566 | 77,470
827 | 1,354 | 40,255
828 | 851 | 29,066
829 | 1,386 | 44,420
830 | 520 | 24,753
834 | 5,293 | 50,471
835 | 1,458 | 30,782
836 | 1,554 | 23,571
837 | 1,638 | 85,975
838 | 942 | 41,585
839 | 1,368 | 27,109
840 | 15,248 | 37,643
841 | 11,355 | 28,752
842 | 7,431 | 22,897
843 | 1,498 | 32,661
844 | 2,893 | 25,174
845 | 988 | 19,989
846 | 2,498 | 37,572
847 | 23,816 | 25,371
848 | 1,695 | 18,894
849 | 1,507 | 26,987
853 | 31,591 | 74,755
854 | 6,945 | 48,940
855 | 429 | 35,391
856 | 6,215 | 64,089
857 | 10,284 | 35,977
858 | 3,362 | 28,305
862 | 7,481 | 32,136
863 | 21,957 | 20,215
864 | 19,959 | 19,205
865 | 2,032 | 28,087
866 | 9,474 | 15,750
867 | 5,387 | 37,561
868 | 2,507 | 24,361
869 | 1,129 | 18,549
870 | 13,815 | 88,041
871 | 204,810 | 33,436
872 | 92,533 | 25,285
876 | 971 | 40,644
880 | 10,578 | 14,303
881 | 4,636 | 10,640
882 | 1,673 | 11,353
883 | 799 | 16,323
884 | 21,747 | 17,521
885 | 78,937 | 14,233
886 | 377 | 13,044
887 | 427 | 17,908
894 | 4,627 | 7,335
895 | 6,777 | 14,018
896 | 5,447 | 25,161
897 | 36,860 | 12,339
901 | 924 | 48,917
902 | 2,217 | 31,729
903 | 1,687 | 22,773
904 | 980 | 39,726
905 | 779 | 24,032
906 | 751 | 22,406
907 | 8,164 | 52,964
908 | 8,553 | 34,748
909 | 5,427 | 25,547
913 | 828 | 26,516
914 | 7,082 | 15,123
915 | 928 | 24,223
916 | 5,418 | 9,886
917 | 14,498 | 28,124
918 | 35,052 | 13,329
919 | 10,672 | 27,989
920 | 14,259 | 20,512
921 | 9,672 | 13,742
922 | 1,027 | 26,629
923 | 4,264 | 14,600
927 | 187 | 176,294
928 | 819 | 59,742
929 | 448 | 32,840
933 | 158 | 31,755
934 | 701 | 23,838
935 | 2,209 | 21,582
939 | 428 | 42,826
940 | 732 | 32,880
941 | 1,058 | 25,659
945 | 5,485 | 19,140
946 | 2,759 | 16,452
947 | 6,597 | 22,649
948 | 34,624 | 14,331
949 | 767 | 17,139
950 | 463 | 11,233
951 | 1,008 | 13,228
955 | 456 | 82,503
956 | 3,769 | 54,259
957 | 1,324 | 98,333
958 | 1,221 | 65,665
959 | 295 | 44,668
963 | 1,509 | 46,361
964 | 2,538 | 32,371
965 | 1,105 | 23,186
969 | 676 | 74,006
970 | 159 | 41,731
974 | 6,358 | 38,799
975 | 4,516 | 27,832
976 | 2,770 | 20,952
977 | 5,016 | 23,311
981 | 26,444 | 75,131
982 | 19,320 | 52,343
983 | 6,143 | 37,852
984 | 671 | 55,995
985 | 1,108 | 38,751
986 | 833 | 27,917
987 | 8,040 | 53,125
988 | 12,302 | 35,632
989 | 6,162 | 25,762
999 | 30 | 11,270

21. On pages 48143 in Table 11—FY 2008 MS-LTC-DRGs, Relative Weights, Geometric Average Length of Stay, Short-Stay Outlier Threshold, and IPPS Comparable Threshold, line 13 (MS-LTC-DRG 010) is corrected as follows:

MS-LTC-DRG | MS-DRG title | FY 2006 LTCH cases | Relative weight¹ | Geometric average length of stay | Short stay outlier threshold ² | IPPS comparable threshold ³
010 | Pancreas transplant | 0 | 0.0000 | 0.0 | 0.0 | 0.0

22. On page 48157, 2nd column, 1st partial paragraph, line 6, the figure “$3.8” is corrected to read “$4.0”.

23. On page 48159, 1st column, 5th full paragraph, line 5, the figure “3.5” is corrected to read “3.7”.

24. On page 48161, in Table I—Impact Analysis of Changes for FY 2008, column 12 and listed footnotes are corrected to read as follows:

Table I.—Impact Analysis of Changes for FY 2008
| Corrected all FY 2008 changes w/CMI adjustment and estimated growth¹² (12)
All Hospitals | 3.7
By Geographic Location:
Urban hospitals | 3.9
Large urban areas | 4.3
Other urban areas | 3.3
Rural hospitals | 2.4
Bed Size (Urban):
0-99 beds | 2.2
100-199 beds | 3.6
200-299 beds | 3.8
300-499 beds | 4.2
500 or more beds | 4.1
Bed Size (Rural):
0-49 beds | 1.3
50-99 beds | 2.4
100-149 beds | 2.5
150-199 beds | 2.5
200 or more beds | 3.1
Urban by Region:
New England | 3.7
Middle Atlantic | 3.5
South Atlantic | 4
East North Central | 3.7
East South Central | 3.3
West North Central | 3.6
West South Central | 3.8
Mountain | 3.8
Pacific | 5.2
Puerto Rico | 4.1
Rural by Region:
New England | 2.4
Middle Atlantic | 2.6
South Atlantic | 2.8
East North Central | 2.7
East South Central | 2.1
West North Central | 2.6
West South Central | 0.9
Mountain | 3.2
Pacific | 4.2
By Payment Classification:
Urban hospitals | 3.9
Large urban areas | 4.3
Other urban areas | 3.3
Rural areas | 2.5
Teaching Status:
Nonteaching | 3.3
Fewer than 100 residents | 3.8
100 or more residents | 4.4
Urban DSH:
Non-DSH | 3
100 or more beds | 4.1
Less than 100 beds | 3.1
Rural DSH:
SCH | 2.9
RRC | 2.5
100 or more beds | 2.6
Less than 100 beds | 1.4
Urban teaching and DSH:
Both teaching and DSH | 4.2
Teaching and no DSH | 3.2
No teaching and DSH | 3.8
No teaching and no DSH | 2.9
Special Hospital Types:
RRC | 2.7
SCH | 2.5
MDH | 3.2
SCH and RRC | 2.9
MDH and RRC | 2.6
Type of Ownership:
Voluntary | 3.6
Proprietary | 4
Government | 3.9
Medicare Utilization as a Percent of Inpatient Days:
0-25 | 5.5
25-50 | 4.3
50-65 | 3.1
Over 65 | 2.5
FY 2008 Reclassifications by the Medicare Geographic Classification Review Board:
All Reclassified Hospitals | 3.4
Non-Reclassified Hospitals | 3.8
Urban Hospitals Reclassified | 3.7
Urban Nonreclassified, FY 2008 | 3.9
All Rural Hospitals Reclassified Full Year FY 2008 | 2.8
Rural Nonreclassified Hospitals Full Year FY 2008 | 1.7
All Section 401 Reclassified Hospitals | 2.6
Other Reclassified Hospitals (Section 1886(d)(8)(B)) | 2.8
Former 508 Hospitals | 0.6
Specialty Hospitals:
Cardiac specialty Hospitals | 0.8
⁶ Shown here are the effects of geographic reclassifications by the Medicare Geographic Classification Review Board (MGCRB). The effects demonstrate the FY 2008 payment impact of going from no reclassifications to the reclassifications scheduled to be in effect for FY 2008. Reclassification for prior years has no bearing on the payment impacts shown here. This column reflects the geographic budget neutrality factor of 0.991290.
⁷ This column displays the effects of the changes in the rural floor budget neutrality adjustment applied on the wage index instead of on the standardized amount. The column reflects a rural floor budget neutrality factor of 0.996744.

25. On page 48164,

a. First column, 2nd full paragraph, line 40, the figure “0.996563” is corrected to read “0.996383”.

b. Second column,

(1) First partial paragraph,

(a) Line 3, the figure “0.9” is corrected to read “0.8”.

(b) Line 7, the figure“0.9” is corrected to read “0.8”.

(c) Line 11, the figure “−0.9” is corrected to read “−0.8”.

(2) Third full paragraph,

(a) Line 13, the figure “0.8” is corrected to read “1.0”.

(b) Line 17, the figure “1.2” is corrected to read “1.3”.

26. On page 48165,

a. First column, 2nd full paragraph, line 3, the figure “0.996563.” is corrected to read “0.996383”.

b. Second column, 3rd full paragraph, line 13, the figure “1.8” is corrected to read “2.2”.

c. Third column, 1st partial paragraph, line 5, the figure “0.996660 (−0.33 percent)” is corrected to read “0.996744 (−0.33 percent).”

27. On page 48166,

a. Second column, 2nd full paragraph, line 5, the figure “3.5” is corrected to read “3.7”.

b. Third column,

(1) 1st partial paragraph,

(a) Line 1 through 3, the phrase “increase by 3.5 percent. Hospitals in urban areas will experience an estimated 3.8 percent increase” is corrected to read “increase by 3.7 percent. Hospitals in urban areas will experience an estimated 3.9 percent increase.”

(b) Line 7, the figure “3.2” is corrected to read “3.3”.

(c) Line 10, the figure “1.2” is corrected to read “2.4”.

(2) 1st full paragraph, line 5, the figure “4.2” is corrected to read “4.1”.

(3) Second full paragraph,

(a) Lines 3 and 4, the phrase “an estimated decrease in payments by 0.1 percent” is corrected to read “an estimated increase in payments by 0.9 percent.”

(b) Line 7, the phrase “among rural regions with 2.5 and 2.0 percent” is corrected to read, “among rural regions with 4.2 and 2.6 percent.”

(4) Third full paragraph, line 3, the figure “0.2” is corrected to read “2.9”.

(5) Fourth full paragraph,

(a) Line 2, the figure “3.6” is corrected to read “3.7”.

(b) Line 7, the figure “1.8” is corrected to read “2.8”.

28. On pages 48167 and 48168, in Table II—Impact Analysis of Changes for FY 2008 Operating Prospective Payment System, the table is corrected to read as follows:

Table II.—Impact Analysis of Changes for FY 2008 Operating Prospective Payment System
[Payments per case]
| Number of hospitals | Average FY 2007 payment per case ¹ | Average FY 2008 payment per case ¹ | All FY 2008 changes
| (1) | (2) | (3) | (4)
All hospitals | 3534 | $8,875 | $9,205 | 3.7
By Geographic Location:
Urban hospitals | 2539 | 9,283 | 9,642 | 3.9
Large urban areas (populations over 1 million) | 1406 | 9,697 | 10,117 | 4.3
Other urban areas (populations of 1 million or fewer) | 1133 | 8,784 | 9,072 | 3.3
Rural hospitals | 995 | 6,550 | 6,709 | 2.4
Bed Size (Urban):
0-99 beds | 630 | 7,093 | 7,250 | 2.2
100-199 beds | 851 | 7,858 | 8,138 | 3.6
200-299 beds | 480 | 8,723 | 9,051 | 3.8
300-499 beds | 411 | 9,722 | 10,131 | 4.2
500 or more beds | 167 | 11,695 | 12,178 | 4.1
Bed Size (Rural):
0-49 beds | 337 | 5,499 | 5,569 | 1.3
50-99 beds | 372 | 5,948 | 6,091 | 2.4
100-149 beds | 173 | 6,477 | 6,637 | 2.5
150-199 beds | 68 | 7,258 | 7,438 | 2.5
200 or more beds | 45 | 8,243 | 8,496 | 3.1
Urban by Region:
New England | 122 | 9,704 | 10,059 | 3.7
Middle Atlantic | 350 | 10,177 | 10,531 | 3.5
South Atlantic | 390 | 8,781 | 9,130 | 4
East North Central | 395 | 8,866 | 9,189 | 3.7
East South Central | 166 | 8,426 | 8,703 | 3.3
West North Central | 157 | 8,943 | 9,265 | 3.6
West South Central | 355 | 8,788 | 9,124 | 3.8
Mountain | 153 | 9,208 | 9,559 | 3.8
Pacific | 398 | 11,065 | 11,642 | 5.2
Puerto Rico | 53 | 4,364 | 4,544 | 4.1
Rural by Region:
New England | 23 | 8,924 | 9,137 | 2.4
Middle Atlantic | 72 | 6,709 | 6,882 | 2.6
South Atlantic | 173 | 6,302 | 6,481 | 2.8
East North Central | 122 | 6,742 | 6,922 | 2.7
East South Central | 177 | 6,222 | 6,356 | 2.1
West North Central | 115 | 6,847 | 7,024 | 2.6
West South Central | 199 | 6,009 | 6,065 | 0.9
Mountain | 77 | 6,639 | 6,852 | 3.2
Pacific | 37 | 7,899 | 8,227 | 4.2
By Payment Classification:
Urban hospitals | 2578 | 9,265 | 9,623 | 3.9
Large urban areas (populations over 1 million) | 1425 | 9,683 | 10,101 | 4.3
Other urban areas (populations of 1 million or fewer) | 1153 | 8,762 | 9,048 | 3.3
Rural areas | 956 | 6,583 | 6,748 | 2.5
Teaching Status:
Non-teaching | 2480 | 7,474 | 7,722 | 3.3
Fewer than 100 Residents | 815 | 8,982 | 9,321 | 3.8
100 or more Residents | 239 | 12,934 | 13,498 | 4.4
Urban DSH:
Non-DSH | 859 | 8,015 | 8,253 | 3
100 or more beds | 1512 | 9,762 | 10,163 | 4.1
Less than 100 beds | 355 | 6,562 | 6,766 | 3.1
Rural DSH:
SCH | 384 | 6,046 | 6,219 | 2.9
RRC | 203 | 7,296 | 7,482 | 2.5
100 or more beds | 46 | 6,013 | 6,172 | 2.6
Less than 100 beds | 175 | 5,344 | 5,421 | 1.4
Urban teaching and DSH:
Both teaching and DSH | 807 | 10,688 | 11,139 | 4.2
Teaching and no DSH | 186 | 8,801 | 9,079 | 3.2
No teaching and DSH | 1060 | 7,979 | 8,283 | 3.8
No teaching and no DSH | 525 | 7,620 | 7,843 | 2.9
Rural Hospital Types:
RRC | 194 | 7,606 | 7,811 | 2.7
SCH | 367 | 6,484 | 6,645 | 2.5
MDH | 150 | 5,707 | 5,891 | 3.2
SCH and RRC | 99 | 7,689 | 7,913 | 2.9
MDH and RRC | 8 | 7,155 | 7,339 | 2.6
Type of Ownership:
Voluntary | 2064 | 9,011 | 9,338 | 3.6
Proprietary | 823 | 8,088 | 8,409 | 4
Government | 597 | 9,077 | 9,430 | 3.9
Medicare Utilization as a Percent of Inpatient Days:
0-25 | 230 | 12,612 | 13,300 | 5.5
25-50 | 1289 | 10,085 | 10,519 | 4.3
50-65 | 1451 | 7,766 | 8,006 | 3.1
Over 65 | 440 | 6,932 | 7,103 | 2.5
Hospitals Reclassified by the Medicare Geographic Classification Review Board: FY 2008 Reclassifications:
All Reclassified Hospitals FY 2008 | 757 | 8,486 | 8,776 | 3.4
All Non-Reclassified Hospitals FY 2008 | 2777 | 8,995 | 9,337 | 3.8
Urban Reclassified Hospitals FY 2008 | 391 | 9,261 | 9,601 | 3.7
Urban Non-reclassified Hospitals FY 2008 | 2147 | 9,288 | 9,652 | 3.9
Rural Reclassified Hospitals FY 2008 | 366 | 7,085 | 7,284 | 2.8
Rural Nonreclassified Hospitals FY 2008 | 567 | 5,809 | 5,905 | 1.7
All Section 401 Reclassified Hospitals | 26 | 6,977 | 7,155 | 2.6
Other Reclassified Hospitals (Section 1886(d)(8)(B)) | 63 | 6,300 | 6,476 | 2.8
Former Section 508 Hospitals | 107 | 9,628 | 9,689 | 0.6
Specialty Hospitals
Cardiac Specialty Hospitals | 22 | 10,707 | 10,796 | 0.8
¹ These payment amounts per case do not reflect any estimates of annual case-mix increase.

29. On page 48171,

a. First column, 2nd full paragraph, lines 5 and 6, the phrase “of 0.9997, an outlier adjustment factor of 0.9517, and an exceptions adjustment factor.” is corrected to read, “of 0.9996, an outlier adjustment factor of 0.9513, and an exceptions adjustment factor.”

b. Third column,

(1) First partial paragraph,

(a) Lines 4 and 5, the phrase “East North Central urban region, the Middle Atlantic rural region, and Puerto Rico.” is corrected to read “East North Carolina urban region (and 0.1 percent increase in Puerto Rico).”

(b) Lines 16 and 17, the phrase “Central rural region to a 0.1 percent decrease in the East North Central rural region.” is corrected to read “Central rural region to 0.2 percent decrease in both the East North Central rural and East South Central rural regions.”

(2) First full paragraph, lines 3 through 6, the phrase “while both proprietary and government hospitals are estimated to experience a 1.2 percent increases in payment.” is corrected to read “while proprietary and government hospitals are estimated to experience a 1.3 percent and 1.2 percent increases in payments, respectively.”

(3) Third full paragraph, lines 6 and 7, the phrase “payments of 0.4 percent, as compared to the 0.1 percent decrease” is corrected to read “payments of 0.5 percent, as compared to the 0.3 percent decrease.”

30. On page 48172 and 48173, in Table III—Comparison of Total Payments Per Case (FY 2007 Payments Compared to FY 2008 Payments), the table is corrected as follows:

Table III.—Comparison of Total Payments Per Case
[FY 2007 payments compared to FY 2008 payments]
| Number of hospitals | Average FY 2007 payments/case | Average FY 2008 payments/case | Change
By Geographic Location:
All hospitals | 3,534 | 748 | 752 | 0.6
Large urban areas (populations over 1 million) | 1,406 | 830 | 829 | 0.0
Other urban areas (populations of 1 million of fewer) | 1,133 | 737 | 748 | 1.5
Rural areas | 995 | 520 | 521 | 0.3
Urban hospitals | 2,539 | 788 | 793 | 0.6
0-99 beds | 630 | 619 | 621 | 0.4
100-199 beds | 851 | 674 | 678 | 0.6
200-299 beds | 480 | 744 | 748 | 0.5
300-499 beds | 411 | 818 | 824 | 0.8
500 or more beds | 167 | 983 | 990 | 0.7
Rural hospitals | 995 | 520 | 521 | 0.3
0-49 beds | 337 | 425 | 423 | −0.5
50-99 beds | 372 | 477 | 477 | 0.1
100-149 beds | 173 | 517 | 519 | 0.5
150-199 beds | 68 | 575 | 576 | 03
200 or more beds | 45 | 649 | 654 | 0.7
By Region:
Urban by Region | 2,539 | 788 | 793 | 0.6
New England | 122 | 838 | 836 | −0.2
Middle Atlantic | 350 | 862 | 857 | −0.6
South Atlantic | 390 | 747 | 756 | 1.1
East North Central | 395 | 773 | 775 | 0.3
East South Central | 166 | 711 | 714 | 0.4
West North Central | 157 | 771 | 774 | 0.5
West South Central | 355 | 737 | 744 | 1.0
Mountain | 153 | 788 | 800 | 1.6
Pacific | 398 | 899 | 916 | 1.9
Puerto Rico | 53 | 345 | 345 | 0.1
Rural by Region | 995 | 520 | 521 | 0.3
New England | 23 | 711 | 709 | −0.3
Middle Atlantic | 72 | 529 | 532 | 0.5
South Atlantic | 173 | 502 | 507 | 0.9
East North Central | 122 | 550 | 549 | −0.2
East South Central | 177 | 481 | 480 | −0.2
West North Central | 115 | 549 | 552 | 0.5
West South Central | 199 | 473 | 469 | −0.8
Mountain | 77 | 520 | 528 | 1.7
Pacific | 37 | 627 | 642 | 2.4
By Payment Classification:
All hospitals | 3,534 | 748 | 752 | 0.6
Large urban areas (populations over 1 million) | 1,425 | 828 | 828 | 0.0
Other urban areas (populations of 1 million of fewer) | 1,153 | 736 | 747 | 1.5
Rural areas | 956 | 520 | 522 | 0.2
Teaching Status:
Non-teaching | 2,480 | 632 | 636 | 0.7
Fewer than 100 Residents | 815 | 761 | 764 | 0.4
100 or more Residents | 239 | 1,076 | 1,083 | 0.6
Urban DSH:
100 or more beds | 1,512 | 812 | 820 | 0.9
Less than 100 beds | 355 | 552 | 554 | 0.4
Rural DSH:
Sole Community (SCH/EACH) | 384 | 465 | 467 | 0.3
Referral Center (RRC/EACH) | 203 | 573 | 576 | 0.5
Other Rural:
100 or more beds | 46 | 485 | 488 | 0.6
Less than 100 beds | 175 | 431 | 429 | −0.4
Urban teaching and DSH:
Both teaching and DSH | 807 | 888 | 895 | 0.7
Teaching and no DSH | 186 | 798 | 792 | −0.7
No teaching and DSH | 1,060 | 667 | 675 | 1.1
No teaching and no DSH | 525 | 697 | 699 | 0.3
Rural Hospital Types:
Non special status hospitals | 2,452 | 791 | 796 | 0.6
RRC/EACH | 53 | 698 | 707 | 1.3
SCH/EACH | 42 | 641 | 643 | 0.3
Medicare-dependent hospitals (MDH) | 16 | 446 | 440 | −1.3
SCH, RRC and EACH | 15 | 746 | 764 | 2.3
Hospitals Reclassified by the Medicare Geographic Classification Review Board:
FY2008 Reclassifications:
All Urban Reclassified | 393 | 786 | 790 | 0.5
All Urban Non-Reclassified | 2,145 | 788 | 793 | 0.7
All Rural Reclassified | 364 | 564 | 568 | 0.7
All Rural Non-Reclassified | 569 | 455 | 453 | −0.5
Other Reclassified Hospitals (Section 1886(d)(8)(B)) | 63 | 516 | 517 | 0.3
Type of Ownership:
Voluntary | 2,064 | 765 | 768 | 0.3
Proprietary | 823 | 681 | 689 | 1.3
Government | 597 | 732 | 741 | 1.2
Medicare Utilization as a Percent of Inpatient Days:
0-25 | 230 | 979 | 991 | 1.3
25-50 | 1,289 | 845 | 851 | 0.8
50-65 | 1,451 | 664 | 667 | 0.4
Over 65 | 440 | 597 | 595 | −0.3

31. On page 48173,

a. First column,

(1) Second full paragraph,

(a) Line 14, the figure “3.5” is corrected to read “3.7”.

(b) Line 16, the figure “3.56” is corrected to read “3.69”.

(c) Line 27, the figure “3.837” is corrected to read “3.97”.

b. Second column, in Table IV-Accounting Statement: Classification of Estimated Expenditures from FY 2007 to FY 2008, the table is corrected to read as follows:

Table IV.—Accounting Statement: Classification of Estimated Expenditures From FY 2007 to FY 2008
Category | Transfers
Annualized Monetized Transfers | $3.970 Billion.
From Whom to Whom | Federal Government to IPPS Medicare Providers.
Total | 3.970 Billion.

IV. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

Therefore, for reasons noted below, we find good cause to waive proposed rulemaking and the 30 day delayed effective date for the technical corrections in this notice. This notice merely corrects typographical and technical errors in the preamble, regulations text, and addendum of the FY 2008 IPPS final rule with comment period and does not make substantive changes to the policies or payment methodologies that were adopted in the final rule. As a result, this notice is intended to ensure that the FY 2008 IPPS final rule with comment period accurately reflects the policies adopted in the final rule. Therefore, we find that undertaking further notice and comment procedures to incorporate these corrections into the final rule or delaying the effective date of these changes is unnecessary and contrary to the public interest.

(Catalog of Federal Domestic Assistance Program No. 93.773, Medicare—Hospital Insurance; and Program No. 93.774, Medicare—Supplementary Medical Insurance Program)

Dated: September 27, 2007.
Ann C. Agnew,
Executive Secretary to the Department.

[FR Doc. 07-4875 Filed 9-28-07; 1:26 pm]

BILLING CODE 4120-01-P